DEPARTMENT OF COMMERCE

National Oceanic and Atmospheric Administration

50 CFR Part 660

[Docket No. 040830250-4250-01; I.D. 081304C]

RIN 0648-AS27

Magnuson-Stevens Act Provisions; Fisheries off West Coast States and in the Western Pacific; Pacific Coast Groundfish Fishery; Biennial Specifications and Management Measures

AGENCY: National Marine Fisheries Service (NMFS), National Oceanic and Atmospheric Administration (NOAA), Commerce.

ACTION: Proposed rule; request for comments.

SUMMARY: NMFS proposes a rule to implement the 2005-2006 fishery specifications and management measures for groundfish taken in the U.S. exclusive economic zone (EEZ) off the coasts of Washington, Oregon, and California. The proposed rule includes the levels of the acceptable biological catch (ABC) and optimum yields (OYs). The commercial OYs (the total catch OYs reduced by tribal allocations and by amounts expected to be taken in recreational and resource survey compensation fisheries) proposed in this rule would be allocated between the limited entry and open access fisheries and between different sectors of the limited entry fleet. Proposed management measures for 2005-2006 are intended to: achieve but not exceed OYs; prevent overfishing; rebuild overfished species; reduce and minimize the bycatch and discard of overfished and depleted stocks; provide equitable harvest opportunity for the recreational and commercial fishing sectors; and, within the commercial fisheries, achieve harvest guidelines and limited entry and open access allocations to the extent practicable.

DATES: Comments on all issues except on the 2006 Oregon commercial/recreational black rockfish harvest guidelines must be received no later than 5 p.m., local time (l.t.,) on October 21, 2004. Comments on the 2006 Oregon commercial/recreational black rockfish harvest guidelines must be received no later than 5 p.m., l.t. on December 30, 2004.

ADDRESSES: You may submit comments, identified by I.D. 081304C, by any of the following methods:

• E-mail: Groundfish0506.nwr@noaa.gov Include 081304C in the subject line of the message.

• Federal eRulemaking Portal: http://www.regulations.gov. Follow the instructions for submitting comments.

• Fax: 206-526-6736, Attn: Yvonne deReynier

• Mail: D. Robert Lohn, Administrator, Northwest Region, NMFS, 7600 Sand Point Way NE, Seattle, WA 98115-0070, Attn: Yvonne deReynier.

Information relevant to this proposed rule, which includes a draft environmental impact statement, a regulatory impact review, and an initial regulatory flexibility analysis (IRFA) are available for public review during business hours at the office of the Pacific Fishery Management Council (Council), at 7700 NE Ambassador Place, Portland, OR 97220, phone: 503-820-2280. Copies of additional reports referred to in this document may also be obtained from the Council.

FOR FURTHER INFORMATION CONTACT: Yvonne deReynier (Northwest Region, NMFS), phone: 206-526-6129; fax: 206-526-6736 and; e-mail: yvonne.dereynier@noaa.gov.

SUPPLEMENTARY INFORMATION:

Electronic Access

The proposed rule also is accessible via the Internet at the Office of the Federal Register's website at http://www.gpoaccess.gov/fr/index.html. Background information and documents are available at the NMFS Northwest Region website at http://www.nwr.noaa.gov/1sustfsh/gdfsh01.htm. and at the Council's website at http://www.pcouncil.org.

Background

The Pacific Coast Groundfish Fishery Management Plan (FMP) requires the Council to set harvest specifications and management measures for groundfish at least biennially. In some cases, the Council may choose to set harvest specifications and management measures for some species, such as Pacific whiting, on an annual basis. For most of the 80+ species managed under the FMP, however, fishery specifications will be set biennially. The Council moved to this biennial management process via Amendment 17 to the FMP, which NMFS approved on August 19, 2003. The first biennial fishing period to which this process applies is January 1, 2005, through December 31, 2006.

In 2004 and prior years, the groundfish harvest specifications and management measures were implemented via publication in the Federal Register. Similar to 2004, the 2005-2006 harvest specifications and management measures will be implemented through a final rule published in the Federal Register. However, that final rule will codify the harvest specifications and management measures in Federal regulations at 50 CFR part 660, subpart G for Pacific Coast groundfish, not simply via publication in the Federal Register itself. In order to ensure that the agency would have space in the codified regulations for the groundfish harvest specifications and management measures, NMFS published a correcting amendment at 69 FR 42345 (July 15, 2004) to reorganize those regulations. As a result of this reorganization, more broadly applicable management measures are found in 50 CFR 660.370, followed by season frameworks and regulations for black rockfish, 660.373. Groundfish harvest specifications for 2005 and beyond will be found in § 660.380, followed by fishery-specific management measures in §§ 660.381 through 660.385. Coordinates delineating the Groundfish Conservation Areas (GCAs) are found in §§ 660.390 through 660.394. Commercial fisheries allocations, which were formerly codified in § 660.323(b)(4) and § 660.332, are now found in §§ 660.320 through 660.323. As in 2004 and prior years, the Council's ABC and OY policies, new stock assessments since the setting of the 2004 specifications, bycatch reduction measures, fishery-specific management measures, and other issues related to this 2005-2006 management package are discussed later in the preamble to this proposed rule.

The Magnuson-Stevens Fishery Conservation and Management Act (Magnuson-Stevens Act) and the FMP require that NMFS implement actions to prevent overfishing and to rebuild overfished stocks. Specifications and management measures proposed for 2005-2006 are designed to rebuild overfished stocks consistent with statutory requirements through constraining direct and incidental mortality, and to achieve as much of the OYs as practicable for healthier groundfish stocks managed under the FMP. In order to protect overfished species, allowable harvest levels of healthy species will only be achieved where such harvest will not deter rebuilding of overfished and depleted stocks. Commercial management measures for 2005-2006 include landings limits, size limits, gear restrictions, and time/area closures. Recreational management measures include bag limits, size limits, gear restrictions, and time/area closures. NMFS is proposing to continue the coastwide depth-based management program that it introduced in 2003, which closes portions of the continental shelf to fishing for groundfish and to fishing for many non-groundfish species in fisheries that take groundfish incidentally. These closures are intended to protect and rebuild overfished groundfish species.

ABC Policy and Overfished Species Rebuilding

The Council assesses the biological condition of the Pacific Coast groundfish fishery and develops annual estimates of the acceptable biological catch (ABC) for major groundfish stocks and identifies the annual harvest levels or OYs for the species or species groups that it manages. When setting the 2005 and 2006 ABCs, the Council maintained a policy of using a default harvest rate as a proxy for the fishing mortality rate that is expected to achieve the maximum sustainable yield (FMSY). The OYs were set at levels that are expected to prevent overfishing; they are equal to or less than the ABCs. For overfished species, the OYs were set to allow each stock to rebuild within a period of time specific to that stock.

The ABC for a species or species group is generally derived by multiplying the harvest rate proxy by the current estimated biomass. In 2005 and 2006, the following default harvest rate proxies, based on the Council's Scientific and Statistical Committee (SSC) recommendations, were used: F40% for flatfish and Pacific Whiting, F50% for rockfish (including thornyheads), and F45% for other groundfish such as sablefish and lingcod. A rate of F40% may be explained as that which reduces spawning potential per female to 40 percent of what it would have been under natural conditions (if there were no mortality due to fishing), and is therefore a more aggressive rate than F45% or F50%. The FMP allows default harvest rate proxies to be modified as scientific knowledge improves for a particular species.

A fishing mortality or harvest rate will mean different things for different stocks, depending on the productivity of a particular species. For fast growing species (those with individuals that mature quickly and produce many young that survive to an age where they are caught in the fishery) a higher fishing mortality rate may be used, such as F40%. Fishing mortality rate policies must account for several complicating factors, including the capacity of mature individuals to produce young over time and the optimal stock size necessary for the highest level of productivity within that stock.

For some groundfish species, there was little or no detailed biological data available on which to base ABCs, and therefore only rudimentary stock assessments were prepared. For other species, the ABC levels were established on the basis of historical landings. As described below, a precautionary approach has been taken in setting ABCs and OYs for species with no, or only rudimentary, stock assessments.

For stocks with less rigorous or rudimentary stock assessments, the Council's policy had been to assume that fishing mortality was equal to natural mortality (F=M); however, further analysis by the SSC in 2000 established that assuming fishing mortality to be 75 percent of natural mortality (F=0.75M) was a more appropriate risk-neutral proxy for fishing mortality. This proxy was therefore adopted by the Council to establish ABCs for stocks with less rigorous assessments. As described below, a precautionary approach has been taken in setting ABCs and OYs for species with no, or only rudimentary, stock assessments.

The 2005 and 2006 ABCs are based on the best scientific information available to the Council at its April and June 2004 meetings. The ABCs in Tables 1 and 2 represent total fishing mortality (landed catch plus discards). Where the stock assessments included Canadian waters, the ABCs are appropriately reduced from the coastwide ABC, and apply only to U.S. waters. Stock assessment information considered in determining the ABCs may be obtained from the Council. Stock assessment documents and related reports were made available to the public prior to the Council's April 2004 meeting. Additional information on the groundfish stocks may be found in the EIS prepared for this action and in documents that were available at the April and June 2004 Council meetings (see ADDRESSES).

OY Policy

The Council uses a precautionary policy, which was adopted in 1999, for setting OYs. The precautionary policy, referred to as the 40-10 policy, is intended to prevent species or stocks from becoming overfished. If the stock biomass is larger than the biomass needed to produce MSY (BMSY), the OY may be set equal to or less than ABC. The Council uses 40 percent of the unfished biomass as a default proxy for BMSY, also referred to as B40%%. A stock with a current biomass between 25 percent of the unfished level and B MSY (the precautionary threshold) is said to be in the “precautionary zone.” The Council's 40-10 policy reduces the fishing mortality rate when a stock is at or below its precautionary threshold. The further the stock is below the precautionary threshold, the greater the reduction in OY relative to the ABC, until, at B10%, the OY would be set at zero. This is, in effect, a default rebuilding policy that will foster a more rapid return to the BMSY level than would fishing at the ABC level. The Council generally uses this default policy for species in the precautionary zone. For overfished species, those that have been assessed as below B25%%, the Council has developed species-specific rebuilding plans. For further information on the 40-10 policy see the preamble of the final rule to implement Amendment 16-1 to the FMP (February 26, 2004, 69 FR 8861) or the FMP at Section 4.5.

The Council may recommend setting the OY higher than what the default OY harvest policy specifies, if justified, and as long as the OY does not exceed the ABC (which is set at FMSY), complies with the requirements of the Magnuson-Stevens Act, and is consistent with the National Standard Guidelines. On a case-by-case basis, additional precaution may be warranted if there is uncertainty in the data or a higher risk of a species being overfished. If a stock falls below 25 percent of its unfished biomass (B25%%) and is declared overfished, the Magnuson-Stevens Act requires the Council to develop a rebuilding plan within one year from the declaration date. Rebuilding plans for overfished species generally have stock-specific allowable harvest rates based on a rebuilding analysis.

Based on its SSC's recommendations, the Council has used a precautionary adjustment policy that requires the OYs for those stocks with rudimentary stock assessments to be set at 75 percent of their ABCs. For further information on precautionary adjustments for rudimentarily assessed stocks, see the preamble discussion of the Annual Specification and Management Measures published on January 11, 2001 (66 FR 2338).

When determining numerical OYs for individual species and species groups for which the ABC is based on a non-quantitative assessment, the Council may apply precautionary adjustments. Since 2000, the Council has adjusted the OYs for several unassessed stocks to 50 percent of the historical average catch levels.

ABCs and OYs under Multi-year Management

A biennial management cycle adopted under Amendment 17 to the FMP, is being used to establish the 2005 and 2006 harvest specifications and management measures. At the beginning of the two year management cycle, two one-year ABCs and OYs will be adopted for each species or species group the Council proposes to manage. The annual OYs will be applied in the same manner as has been done in previous years. If an OY is not achieved or is exceeded in the first year, the underage or overage will not be transferred to the following year, as this could result in severe fishing and management problems in the second year. However, when appropriate, management measures will be adjusted in order to achieve, but not exceed, OYs the following year.

New stock assessments will be prepared during the first year of the biennial cycle. In the second year, the new assessments will be reviewed and adopted for use in the next biennial management cycle. During the fall of 2004, the Council plans to develop a process for reviewing current harvest levels in the middle of a biennial cycle based on new stock assessments information.

2005 and 2006 ABCs and OYs

The species that had ABCs and OYs in 2004 continue to have ABCs and OYs in 2005 and 2006. Changes that have been made since 2004 that affect the ABCs and OYs for 2005 and 2006 include: (1) the completion of full stock assessments for cabezon and lingcod; (2) the Council's approval of FMP Amendment 16-3, which includes rebuilding plans for widow rockfish, bocaccio, cowcod and yelloweye rockfish; (3) the signing of the U.S.-Canada catch sharing agreement for whiting and a 2004 assessment that estimates the whiting stock biomass to be above the rebuilding threshold; (4) changes in the catch distribution of canary rockfish between commercial and recreational fisheries; (5) the application of precautionary adjustments to Pacific Cod, “other flatfish” and “other fish” OYs; and (6) the adoption of state specific harvest guidelines for black rockfish.

Cabezon

The first stock assessment for cabezon was prepared in 2003 and used an age structured model fitted to data on harvest levels, abundance, and catch length. Due to differences in catch history, trends in fishing effort, and biological parameters (mainly growth rates), the coastwide stock assessment was divided into northern and southern portions with the division being made at the Oregon-California border (42° N. lat.). This division allowed state-specific data, where available, to be incorporated into the assessment. Because few data were available to assess the stock in waters north of the Oregon-California border, the Stock Assessment Team (STAT) recommended that only the southern portion of the assessment be used for 2005 and 2006 harvest specifications. North of 42° N. Lat., cabezon will continue to be managed as part of the “other fish” complex for 2005 and 2006.

Although considerable effort was taken to compile relevant data and information on cabezon, the lack of a dedicated fishery-dependent biomass index resulted in a cabezon specific assessment that differs from assessments for most other West Coast groundfish stocks. The cabezon assessment relies on fishery dependent abundance indices based on recreational CPUE, and limited information on larval abundance. Although no dedicated biomass indices exist for cabezon, the alternate data sources used in the assessment were considered sufficient for use in a stock assessment model. Various types of uncertainty resulting from limited data were recognized and dealt with through the use of sensitivity analyses.

Because of uncertainty in deriving assessment parameters for natural mortality and stock productivity, three different model scenarios in which these parameters varied were brought forward for consideration. The model variation recommended by the SSC (referred to as the “posterior distribution nine” analysis in the original assessment) was considered to be a reasonable way to incorporate uncertainty. However, the SSC indicated that a full Bayesian analysis would be preferred in the future.

At its November 2003 meeting, the Council and the SSC reviewed the results of the new stock assessment. The SSC expressed concern that the time series of recreational logbook data used in the model may have been incorrectly truncated to 1960 rather than extending back to 1947, excluding the 1947-1959 time period when cabezon harvests were highest. The SSC believed that inclusion of these data could change the model output relevant to stock depletion. Following consideration of the model, the Council recommended that the recreational logbook data be re-evaluated for the March 2004 meeting.

On February 25, 2004, the SSC held a public teleconference to review revisions to the cabezon stock assessment. The new assessment results presented by the STAT indicated that inclusion of the earlier years' data (1947-1959) did not have a major impact on the conclusions of the assessment, particularly in regard to stock depletion. For example: the 2003 spawning biomass was estimated to be 34.7 percent of the unfished biomass with the inclusion of the earlier years of logbook data and 33.4 percent with the data truncated to 1960. Because the application of the 40-10 harvest policy is linked to the percent of unfished biomass, the OY would increase from 60.5 mt to 74.5 mt with the inclusion of the earlier data (a 23-percent increase).

The STAT recommended not including the pre-1960 data, because they believed that the pre-1960 data were self-reported by the fishermen and had not been verified by independent sampling. However, the recreational logbook data from 1947-1951 for the areas between San Francisco and San Diego have been reviewed by (CDFG) and the data were found to have been very accurate (within 4 percent for all species and 10 percent for cabezon). After reviewing the available information, the SSC indicated that there was adequate evidence to believe that the pre-1960s data should be included in the assessment model. The SSC recommended, and the Council adopted for 2005 and 2006, the model runs that included the new catch data and CPUE index dating back to 1947.

For 2005 and 2006, the Council considered cabezon ABC alternatives based on the newly adopted stock assessment with the application of different harvest rate proxies. These included: a low ABC alternative of 88 mt for 2005 and a 94 mt ABC for 2006, based on a harvest rate proxy of F50%%; and a high ABC alternative of 103 mt for 2005 and 108 mt for 2006, based on a harvest rate proxy of F45%%.

Three alternative OYs were considered for each year. The low OY alternatives of 44 mt for 2005 and 63 mt for 2006 were based on a harvest rate proxy of F50%% with the application of the 60-20 harvest policy. The 60-20 harvest policy is used by the state of California for nearshore species in which the biomass is estimated to be within their precautionary zone, below 60 percent of their unfished biomass. The 60-20 harvest policy is similar to the 40-10 harvest policy described above, in that it reduces the fishing mortality rate when a stock is at or below its precautionary threshold. The difference is that the precautionary threshold is set at 60 percent of a stocks' unfished biomass rather than at 40 percent. The OY is reduced in relation to the ABC, until, at B20%%, the OY would be set at zero. The mid-range OY alternatives of 69 mt for both 2005 and for 2006 were based on a constant harvest level recommended by the California Department of Fish and Game (CDFG). The high OY alternatives of 91 mt for 2005 and 107 mt for 2006 were based on the harvest rate proxy of F45%% with the application of the 40-10 harvest policy.

The Council considered these cabezon alternatives at its April 2004 meeting and recommended an ABC of 103 mt for 2005 and 108 mt for 2006, with a constant harvest OY of 69 mt for each year. Using a constant harvest level over the 2 year period is expected to help stabilize the fishery, which primarily occurs in state waters off California, and management measures.

Lingcod

A new coastwide stock assessment, based on a Coleraine statistical catch-at-age model, was prepared for lingcod in 2003. Although there appears to be no genetic difference between fish in the north and south, separate northern and southern assessment models were used to describe the population trends. The northern assessment applied to the stock in the Vancouver and Columbia areas (U.S. waters north of 43° N. lat.), and the southern assessment applied to the stock in the Eureka, Monterey, and Conception areas (U.S. waters south of 43° N. lat.). The coastwide biomass was calculated by summing the outputs of the two models. Because historical data are more sparse for the southern areas than for the northern areas, model uncertainty was higher in the south than in the north.

At the Council's November meeting, the SSC discovered that recruitment variability, a key parameter specified in the model, was mis-specified (too low) in both the northern and southern models. As a result, the recruitment values used in the rebuilding analysis were too small and suggested that the stock was rebuilding at a slower rate. Because the error in recruitment variability could have affected the STAR panel recommendation, the SSC recommended that the model be re-evaluated by the STAR panel. The SSC specifically requested that the recruitment variability parameter and the improvement in fit that accompanied the shift to dome shaped selectivity curves be evaluated. The SSC also recommended that the rebuilding analysis be recalculated using the output of the revised model. The Council adopted the SSC recommendations that the revisions be completed and reviewed by the STAR panel in time for the Council's March 2004 meeting.

On February 25, 2004, the SSC held a public tele-conference to review revisions to the lingcod stock assessment. The STAT reviewed the increase in the recruitment variable at increments of 0.1. The model fit improved as the recruitment variable increased, but deteriorated above 0.5. Overall, larger recruitment variables better accounted for the observed data, with 0.5 indicating a strong 1999 year class, consistent with catch at age data from the shelf survey and commercial fisheries. As a result of the revised assessment, the spawning stock biomass was estimated to be at 31 percent of its unfished biomass in the north and 19 percent of its unfished biomass in the south.

The STAT ran the rebuilding analysis with the new recruitment variable of 0.5, and computed coastwide rebuilding values based on the sum of the output of the two models. Rebuilding projections for the northern areas, if considered in isolation, indicate that the stock is above the rebuilt threshold of B40%. However, the southern portion of the stock has not yet rebuilt. When the total biomass is viewed coastwide, the stock is less than 1 percent below the rebuilt target of B40%%.

Due to the different biological characteristics between the areas, the SSC continues to support summing the results of the two assessments to derive the coastwide value. The coastwide ABCs based on the newly adopted stock assessment are 2,922 mt (1,874 north and 1,048 south) in 2005 and 2,716 mt, (1,694 north and 1,021 south) in 2006.

The SSC recommended using different harvest rates for the two areas. When specific data are available, region-specific regulations could be beneficial to the biology of the stock. If regional differences are not recognized, overfishing could occur in the south.

The coastwide OY alternatives considered by the Council included: a low OY of 918 mt (574 mt for the north and 344 mt for the south) for 2005 and 940 mt (574 mt for the north and 366 mt for the south) for 2006; a mid-range OY of 2,588 mt (1,874 mt for the north and 714 mt for the south) for 2005 and 2,414 mt (1,694 mt for the north and 719 mt for the south)for 2006; and a high OY of 2,626 mt (1,874 mt for the north and 762 mt for the south) for 2005 and 2,459 mt (1,694 mt for the north and 764 mt for the south) for 2006. The low OY alternative, which was consistent with the lingcod rebuilding plan adopted under Amendment 16-2, was based on the harvest control rules of F=0.0531 in the north and F=0.0610 in the south and a >70 percent probability of rebuilding within the maximum allowable time (TMAX). The mid-range OY alternative was based on a harvest control rule of F=0.17 in the north and F=0.15 in the south and a 70 percent probability of rebuilding within TMAX. The high OY was based on a harvest control rule of F=0.18 in the north and F=0.16 in the south, and a 60 percent probability of rebuilding within TMAX.

The Council considered the alternative OYs and recommended the mid-range OY, with the modification that the OY be fixed at 2,414 mt (the 2006 value which was the lower of the two values) for both years. A constant harvest level over the two year period is expected to better stabilize the fishery and the management measures. The Council indicated that the lingcod harvest guidelines needed to be conservative because: the 1999 year class is moving through the fishery and recruitment is uncertain, there is uncertainty in catch projections and assessment, and they do not want an increase in effort in the fishery. Although lingcod is considered to be a coastwide stock, the Council indicated that the OY should be set to avoid the disproportionate catch of lingcod coming from the northern or southern areas.

The OY of 2,414 mt for both 2005 and 2006 results in the same target rebuilding year as is currently in regulation at 50 CFR 660.365(c) (69 FR 19347, April 13, 2004). However taking into account the new stock assessment, this action proposes to revise the harvest control rule from F=0.0531 to F=0.17 in the north and from F=0.061 to F=0.15 in the south. Further discussion on rebuilding measures can be found in the “Overfished Species” section of this document.

The Council recommended establishing separate northern and southern lingcod OYs, with the north-south division occurring at 42° N. lat, the Oregon-California border. Because this north-south division is different from the north-south division used in the stock assessment (43° N. lat), a formula based on the catch-per-unit-of-effort data from the Alaska Fishery Science Center's 1995-2001 shelf survey was used to estimate the proportion of lingcod in the southern assessment that is found in the area between 42° N. lat and 43° N. lat. As a result, 107 mt was deducted from the OY based on the southern stock assessment and was added to the OY based on the northern stock assessment. The resulting OYs are: 612 mt for southern area in waters off California, and 1,801 mt for northern area waters off Washington and Oregon.

For the states to better manage their recreational fisheries to stay within their respective OYs, the Council also recommended setting recreational harvest guidelines for the same areas. With state specific harvest guidelines, each state can monitor their recreational catches and adjust state management measures to keep the harvests within the harvest guideline. For the recreational fisheries in the northern area the harvest guideline will be 206 mt in 2005 and 239 mt in 2006. For the recreational fisheries in the southern area, the harvest guideline will be 422 mt in both 2005 and 2006. For further detail see Tables 1 and 2 and the associated footnotes.

For the commercial fishery harvest guideline, the amount of lingcod remaining in the northern and southern OY after the deductions for the recreational harvest guideline, will be combined into a single coastwide harvest guideline. The commercial fisheries will then be managed on a coastwide basis.

Widow Rockfish

Widow rockfish was declared an overfished species in 2001. In 2003, a coastwide stock assessment and rebuilding analysis were prepared and the widow rockfish biomass was estimated to be at 24.7 percent of its unfished biomass coastwide in 2002.

Three different model scenarios, which used different power coefficients to estimate juvenile mortality in survey data, were the basis for the 2005 and 2006 ABC and OY alternatives. A juvenile mortality power coefficient is a measure for estimating the amount of juvenile fish that could mature and enter the fishery in the future. The three model scenarios chosen by the SSC were called models 7, 8 (the base model), and 9. The use of power coefficients for estimating juvenile mortality using the midwater juvenile trawl survey data was discussed by the SSC. The SSC concluded that the different values were equally likely, leaving no statistical basis for choosing among the three different models. However, the SSC determined that there was a biological basis for recommending a power coefficient range between the values of 2.0 and 4.0.

The ABC alternatives were based on the different model scenarios discussed above with the application of an F50%% FMSY proxy. The ABCs for 2005 were: 2,833 mt from model 7 with a power coefficient of 2.0, 3,218 mt from model 8 with a power coefficient of 3.0, and 3,668 mt from model 9 with a power coefficient of 4.0. The ABCs for 2006 were: 2,670 mt from model 7 with a power coefficient of 2.0, 3,059 mt from model 8 with a power coefficient of 3.0, and 3,510 mt from model 9 with a power coefficient of 4.0.

The OYs considered by the Council were consistent with the rebuilding plan parameters adopted for widow rockfish under Amendment 16-3. Amendment 16-3 considered rebuilding plan alternatives that included each of the three model scenarios (7, 8, & 9) and an array of PMAX probabilities, between 60 and 90 percent.

The OY alternatives considered by the Council for 2005 and 2006 were as follows: a low OY of 0 mt for both years based on model 7 with a 90 percent probability of rebuilding by TMAX, a target rebuilding year of 2030, and with a harvest rate of F=0; the mid-range OYs of 285 mt for 2005 and 289 mt for 2006 based on model 8 with a 60 percent probability of rebuilding by TMAX, a target rebuilding year of 2038, and with a harvest rate of F=0.0093; and the high OYs of 505 mt for 2005 and 513 mt for 2006 based on model 9 with a 60 percent probability of rebuilding by TMAX, a target rebuilding year of 2034, and with a harvest rate of F=0.0146. After consideration of the widow rockfish rebuilding plan under Amendment 16-3, the Council recommended adopting the ABC and OYs resulting from the application of model 8 and a TMAX of 60 percent. The recommended ABCs were 3,218 mt for 2005 and 3,059 mt for 2006 and the recommended OYs were 285 mt for 2005 and 289 mt for 2006.

Amendment 16-3 to the FMP was adopted by the Council in April 2004. NMFS is in the process of developing final regulations to implement widow rockfish rebuilding parameters in Federal regulations. The rebuilding plan establishes a target rebuilding year of 2038 and a harvest control rule of F=0.0093. A proposed rule was published on July 7, 2004 (69 FR 40851) and will be followed by a final rule in autumn 2004. The 2005 OY of 285 mt and the 2006 OY of 289 mt results in the same target rebuilding year and harvest control rule as proposed in the widow rockfish rebuilding plan. Further discussion on rebuilding measures may be found in the “Overfished Species” section of this document.

Bocaccio

The ABC and OY alternatives considered for 2005 and 2006 were based on the most recent bocaccio assessment, which was prepared in 2003 for the Conception and Monterey areas. The bocaccio rockfish spawning stock biomass was estimated to be at 7.4 percent of its unfished biomass in the Monterey and Conception areas in 2002.

In 2003, two different base-run assessment models were developed to address contradictions between the recreational data, which showed a substantial increase in abundance of bocaccio, and the triennial survey data, which has remained relatively flat and showed little change in abundance in the last three years of assessment data. The first model (STARb1) omitted data from the triennial survey and held the estimated recruitment constant to 1959, whereas the second model (STARb2) omitted the recreational CPUE data and held the recruitment constant to 1969. In addition, a third model (STATc), was recommended by the assessment author after the STAR panel review had been completed and reviewed by Statistical Assessment Team. The STATc model combined the attributes of both models and both data sources, the estimated recruitment held constant to 1959, and placing a lower emphasis on the stock-recruitment relationship. For 2004, after an in-depth discussion that considered the trade offs among the alternative model approaches and other factors, the SSC concluded that an intermediate alternative warranted consideration, and that the STATc model was a reasonable approach.

The Council considered three ABCs for each year based on the different stock assessment models with the application of an FMSY proxy of F50%%. First, the low ABC alternatives of 447 mt for 2005 and 443 mt for 2006, which were based on the STARb2 model. Second, the mid-range ABC alternatives of 566 mt for 2005 and 549 mt for 2006 which were based on the STATc model. Third, the high ABC alternatives value of 745 mt for 2005 and 733 mt for 2006 which were from the STARb1 model. The Council recommended the mid-range ABC of 566 mt for 2005 and 549 mt for 2006.

NMFS prepared a bocaccio rebuilding analysis for the Council in 2004. The OYs considered by the Council were based on the results of the 2003 assessment and the rebuilding plans proposed under Amendment 16-3. The Council considered a range of OYs for 2005 and 2006 that was consistent with the range of alternatives being considered for the bocaccio rebuilding plan under Amendment 16-3. The rebuilding plan alternatives were based on different base-run assessment models and a range of probabilities, between 60 and 90 percent, of rebuilding within the maximum allowable time (TMAX). The following OY alternatives were considered by the Council: the low OYs of 134 mt for 2005 and 140 mt for 2006, based on the STARb2 model with an 90 percent probability of rebuilding by TMAX; the mid-range OYs of 307 mt for 2005 and 308 mt for 2006, based on the STATc model with an 70 percent probability of rebuilding by TMAX; and the high OYs of 713 mt for 2005 and 704 mt for 2006, based on the STARb1 model with an 60 percent probability of rebuilding by TMAX.

After consideration of the bocaccio rebuilding plan under Amendment 16-3 to the FMP, the Council recommended a rebuilding plan, based on the STATc model, with a 70 percent probability of rebuilding the stock to its spawning stock biomass by 2032 (TMAX) with a targetrebuilding year of 2032, and a harvest control rule of F=0.0498. The resulting ABCs, which are equivalent to the mid-range alternative above, are 566 mt for 2005 and 549 mt for 2006. The resulting OYs are 307 mt for 2005 and 289 mt for 2006. The final rule to implement Amendment 16-3 will implement in Federal regulations rebuilding parameters for bocaccio that establish a target rebuilding year (2023) and a harvest control rule (F=0.0093).

Cowcod

The 2005 and 2006 ABC and OY alternatives for cowcod were based on the most recent stock assessment which was prepared in 1999, for the Conception area. In 1999, the cowcod spawning stock biomass was estimated to be at less than 10 percent of its unfished biomass and was therefore declared as overfished on January 4, 2000 (65 FR 221).

In 2003, a rebuilding review was conducted for cowcod. This review thoroughly examined the recreational and commercial fishery removals in relation to the ABC and OY levels that were established for rebuilding. The review concluded that the total removals of cowcod have declined in accordance with the rebuilding-based harvest specifications that were first established in 2000. In addition, fishery closures in the Cowcod Conservation Areas (CCAs) were expected to add further protection to the stock. However, data were not available from the CCA areas to estimate the benefit of these closures to the cowcod stock. For further information on the 2003 rebuilding review for cowcod, see the preamble discussion of the proposed Annual Specifications and Management Measures published on January 8, 2004 (69 FR 1380).

The cowcod ABC in the Conception area (5 mt) is based on the 1999 assessment, while the ABC for the Monterey (19 mt) is based on average landings from 1993-1997. The OYs considered by the Council were based the 2000 rebuilding analysis and the rebuilding plans proposed under Amendment 16-3. At the Council's April 2004 meeting, the 2005 and 2006 harvest specifications for cowcod were considered at the same time as the cowcod rebuilding plan under Amendment 16-3. The range of OYs for 2005 and 2006 were consistent with the parameters adopted for the cowcod rebuilding plan under Amendment 16-3. The low OY alternative was 4.2 mt (2.1 mt in the Monterey area and 2.1 mt in the Conception area) for both 2005 and 2006 and was based on a 60 percent probability of rebuilding by TMAX. The high OY was 4.8 mt (2.4 mt in the Monterey area and 2.4 mt in the Conception area) for both 2005 and 2006 and was based on a 55 percent probability of rebuilding by TMAX. Due to limited data and the limitations of the stock assessment model, alternatives with rebuilding probabilities greater than 60 percent could not be derived. The final rule to implement Amendment 16-3 will implement in Federal regulations rebuilding parameters for cowcod that establish a target rebuilding year as 2090, which is consistent with a 60 percent probability of rebuilding the stock to Bmsy by TMAX (2099), and a harvest control rule of F=0.009. Further discussion on rebuilding measures can be found in the “Overfished Species” section of this document.

Yelloweye Rockfish

A full stock assessment was last prepared for yelloweye rockfish in 2001 and was updated for 2002. In 2002 following the assessment update, yelloweye rockfish was believed to be at 24.1 percent of its unfished biomass coastwide. On January 11, 2002 yelloweye rockfish was declared overfished (67 FR 1555), after which NMFS prepared a yelloweye rockfish rebuilding analysis.

The 2005 yelloweye rockfish ABC of 54 mt and the 2006 ABC of 55 mt were projected from the 2002 stock assessment update with the application of a harvest rate proxy of F50%. The OYs considered by the Council were based on the 2002 revised rebuilding analysis (August 2002) and the rebuilding plan proposed under Amendment 16-3. The Council considered the following range of OYs for 2005 and 2006 that encompassed the range of rebuilding parameters being considered for the yelloweye rockfish rebuilding plan under Amendment 16-3: the low OYs of 24 mt for 2005 and 25 mt for 2006, which were based on a 90 percent probability of rebuilding by TMAX (2071); the mid-range OYs of 27 mt for 2005 and 28 mt for 2006, which were based on a 70 percent probability of rebuilding by TMAX; and the high OYs of 28 mt for 2005 and 29 mt for 2006, which were based on a 60 percent probability of rebuilding by TMAX.

At the Council's April 2004 meeting, the 2005 and 2006 harvest specifications for yelloweye rockfish were considered at the same time as the yelloweye rockfish rebuilding plan under Amendment 16-3. The rebuilding plan recommended by the Council would specify that the target rebuilding year (2058) be consistent with a 80 percent probability of rebuilding the stock to Bmsy by TMAX (2071), and a harvest control rule of F=0.0153 be applied to determine the annual OYs. When the rebuilding parameters recommended under Amendment 16-3 were applied, the resulting OYs were 26 mt for 2005 and 27 mt for 2006 (the mid range OY), which falls between the low and mid-range OYs initially considered by the Council. Further discussion on rebuilding measures may be found in the “Overfished Species” section of this document.

Pacific Whiting

In general, whiting is a very productive species with highly variable recruitment (the biomass of fish that mature and enter the fishery each year) patterns and a relatively short life span when compared to other overfished groundfish species. In 1987, the whiting biomass was at a historical high level due to an exceptionally large number of fish that spawned in 1980 and 1984 (fish spawned during a particular year are referred to as a year class). As these large year classes of fish passed through the population and were replaced by moderate sized year classes, the stock declined. The whiting stock stabilized between 1995 and 1997, but then declined to its lowest level in 2001.

In 2002, a whiting stock assessment was prepared. It estimated the female spawning biomass to be less than 20 percent of the unfished biomass. As a result of the 2002 assessment, the whiting stock was believed to be below the overfished threshold in 2001 and was, therefore, declared overfished on April 15, 2002 (67 FR 18117). Since 2001, while the whiting stock was managed under the 40-10 default harvest policy discussed earlier, the biomass increased substantially as a strong 1999 year class had matured and entered the spawning population.

An age-structured assessment model was used to prepare a new coastwide stock assessment in 2004. The stock assessment was examined by a joint U.S./Canada Pacific Hake (Whiting) Stock Assessment Review (STAR) panel in early February of 2004 and considered to be complete and suitable for use by the Council and its advisory bodies for ABC projections. However, the amount of whiting that the hydroacoustic survey was able to measure relative to the total whiting in the surveyed area (survey catchability coefficient or “q”) was identified as a major source of uncertainty in the stock assessment.

At the Council's March 2004 meeting, two sets of ABC/OY projections, with different assumptions about the survey catchability, were brought forward for decision making. This range of projections was intended to represent a plausible range of the stock's status. The more optimistic or less risk averse model run assumed that q equaled 0.6, while the less optimistic or more risk averse model run assumed that q equaled 1.0. A catchability coefficient of 1.0 is the value that had been used in the previous assessments.

As a result of the new whiting stock assessment, the estimated abundance of whiting has increased substantially since the last assessment. The stock was estimated to be 47 percent of its unfished biomass in 2003 (2.7 million mt of age 3+ fish) when a survey catchability coefficient of 1.0 was applied and at 51 percent (4.2 million mt of age 3+ fish) of its unfished biomass in 2003 when a survey catchability coefficient of 0.6 was applied. Under both scenarios, the whiting biomass in 2003 was estimated to be above the target rebuilding biomass. However, in the absence of a large year class after 1999, the stock is projected to decline. With the publication of the 2004 harvest specifications for whiting (April 30, 2004; 69 FR 23667), NMFS announced that the whiting stock was estimated to above the target rebuilding biomass in 2003 and is no longer considered to be an overfished stock. Consequently, the adoption of a whiting rebuilding plan as an FMP amendment is no longer necessary.

During 2003, while whiting was under NMFS's overfished designation, the Court entered an order in the case of Natural Resources Defense Council v. Evans, 290 F. Supp. 2d 1051, 1057 (N.D. Calif. 2003), requiring NMFS to approve or adopt a rebuilding plan for whiting by November 30, 2004 pursuant to 16 U.S.C. 1854(c) of the Magnuson-Stevens Act. After concluding that whiting was rebuilt, NMFS asked the Court to amend its order. The Court granted the request by lifting the requirement that NMFS prepare a rebuilding plan for whiting on June 30, 2004.

In November 2003, the U.S. and Canada signed an agreement regarding the conservation, research, and catch sharing of whiting. The whiting catch sharing arrangement that was agreed upon provides 73.88 percent of the total catch OY to the U.S. fisheries and 26.12 percent to the Canadian fisheries. At this time, both countries are taking steps to bring this agreement into force. Until the agreement is ratified and implementing legislation effective, the negotiators recommended that each country informally implement the agreed upon provisions.

In anticipation of the ratification of the U.S.-Canada agreement and a new stock assessment, and given the small amount of whiting that is typically landed under trip limits prior to the April 1 start of the primary season, the Council is delaying adoption of a final ABC and OY until its March 2005 meeting. If the international agreement is ratified and implementing legislation is effective, ABC and OY values that are consistent with the agreement will be adopted. If the international agreement is not in force by March 2005, the Council will adopt final ABC and OY values for 2005 that are based on the new stock assessment and within the range that was considered in the EIS for the 2005 and 2006 management measures. The final ABC and OY values for 2005 and 2006 would be implemented through two final rules that are separate from the final rule for the rest of the groundfish specifications.

The range of ABCs and OYs considered by the Council and analyzed in the EIS for both 2005 and 2006 included: a low ABC/OY of 181,287 mt, which represents 50 percent of the medium ABC/OY; a medium ABC/OY of 362,573 mt, based on the results of the 2004 assessment with the OY being set equal to the ABC because the stock biomass is greater than 40 percent of the unfished biomass; and a high OY of 725,146 mt, which is twice the amount of the medium ABC/OY. The availability of overfished species as incidental catch, particularly Pacific ocean perch (POP), canary, darkblotched, and widow rockfish, will likely constrain the whiting OY during 2005 and 2006. In recent years, the most constraining overfished species for the whiting fishery have been canary and widow rockfish. Under this proposed rule, the amount of canary rockfish that would be available to the whiting fishery was estimated to be 7.3 mt and the amount of widow rockfish was estimated to be 231.8 mt in 2005 and 243.2 mt in 2006.

Canary Rockfish

A coastwide canary rockfish stock assessment and rebuilding analysis were prepared in 2002. The ABC of 270 mt for 2005 and 279 mt for 2006 were forecast from the 2002 assessment with the application a F50% harvest rate proxy.

On April 13, 2004, a canary rockfish rebuilding plan was adopted under Amendment 16-2 to the FMP (69 FR 19347). Regulations implementing this rebuilding plan established a target rebuilding year of 2074 with a harvest control rule of F=0.0220. There is a 60 percent probability that canary rockfish will rebuild to BMSY by TMAX. To allow the stock to rebuild, the OY must be set very low. Because canary rockfish are distributed coastwide and are incidentally caught with a wide variety of fishing gears, the low OYs will be constraining the groundfish fisheries for several years.

The Council considered alternative OYs based on different arrangements for dividing catch between the commercial and recreational fisheries. How the catch is divided between the commercial and recreational sectors results in different OYs. This difference is because the recreational fisheries take smaller-sized canary rockfish than the commercial fisheries, resulting in a greater per ton impact on the canary stock over the rebuilding period. The alternative OYs are based on the newly adopted canary rockfish rebuilding plan and have the same rebuilding impacts on canary rockfish as anticipated by the plan. The catch sharing arrangements initially considered by the Council for 2005 and 2006 included: a 50 percent recreational/50 percent commercial division that results in a 43 mt OY, and a 39 percent recreational/61 percent commercial division that results in a 48 mt OY. At its June 2004 meeting, the Council developed management measures that were expected to result in a 39 percent recreational/61 percent commercial division of the canary rockfish OY. The total catch of canary rockfish was then projected for the directed commercial and recreational groundfish fisheries under the new management measures. The amount estimated to be taken in non-groundfish and tribal fisheries, and the amount estimated to be taken during research activities that are scheduled to occur in 2005 and 2006 were also projected. When the total catch projections were summed for each year, they were less than the 48 mt OY. The OYs for 2005 and 2006 were calculated using the projected catch estimates under the proposed management measures, the resulting OYs were 46.8 mt for 2005 and 47.1 mt for 2006.

A residual amount remained in each year and was divided, with 50 percent going to the recreational fisheries and 50 percent going to the commercial fisheries. The 2005 residual amount of 2.5 mt will be held in reserve, with 1.25 mt being available as needed for the recreational and 1.25 mt being available as needed for the commercial fisheries. Similarly, the 2006 residual amount of 1.8 mt will be held in reserve, with 0.9 mt being available as needed for the recreational and 0.9 mt being available as needed for the commercial fisheries.

For the recreational fishery, two regional harvest guidelines will be established for canary rockfish in both 2005 and 2006. These recreational harvest guidelines are needed to give the states more ability and direct responsibility for managing the recreational fisheries that occur off their coasts to prevent overfishing. For the area north of 42° N. lat., the recreational harvest guideline will be 8.5 mt and for the area south of 42° N. lat, the recreational harvest guideline will be 9.3 mt.

Pacific Cod, “other flatfish” and “other fish”

Of the 80 plus groundfish species managed under the groundfish FMP, ABC values have been established for only about 25 species. Many of the remaining species are managed within complexes and are not usually not listed by species on fish landing receipts. Information from fishery independent surveys is generally lacking for these stocks, because of their low abundance or because they are not vulnerable to survey sampling gear. Detailed biological information is generally lacking for these stocks (typically, the spawning biomass, level of recruitment, or the current fishing mortality rate are unknown and not routinely available), and ABC levels have typically been established on the basis of average historical landings.

The ABC levels for Pacific cod, “other flatfish” and “other fish” have been based on historical landings. When determining numerical OYs for individual species and species groups for which the ABC is based on non-quantitative assessment, the Council may apply precautionary adjustments. Since 2000, the Council has adjusted the OYs for several unassessed stocks to 50 percent of the historical average catch levels. Although the ABCs for Pacific cod, “other flatfish” and “other fish” have been based on historical landings, precautionary adjustments have not been used in the past to establish OYs.

For 2005 and 2006, the Council considered alternative OYs for Pacific cod, “other flatfish” and “other fish” that were based on a 50 percent precautionary adjustment. The range of OYs considered by the Council and analyzed in the EIS for Pacific cod in both 2005 and 2006 included: a low OY of 1,600 mt, which represents the ABC with a 50 percent precautionary adjustment and a high OY of 3,200 mt, in which the OY is set equal to the ABC. In most years since the mid-1990s, less than 500 mt of Pacific cod have been landed. Recent harvest levels for the Canadian fishery have been set as low as 240 mt to allow for the stock to rebuild and have been combined with closed areas during the spawning season. The Council considered recent harvest levels as well as harvest specifications established for what is believed to be the same Pacific cod stock in Canadian waters and recommended that an OY of 1,600 mt be adopted for Pacific cod. An OY of 1,600 mt would be adequate to accommodate recent landings, while not being so high as to encourage targeting.

The range of OYs considered by the Council and analyzed in the EIS for “other fish” in both 2005 and 2006 included: a low OY of 7,350 mt, which represents the ABC with a 50 percent precautionary adjustment and a high OY of 14,700 mt, in which the OY is set equal to the ABC. The Council considered the recent landings, which ranged between approximately 2,500 mt in 1999 and 1,300 mt in 2002, prior to recommending that an OY of 7,350 mt be adopted for “other fish”.

“Other flatfish” is an aggregate species group of unassessed flatfish species that includes pacific sanddab, rex sole, curlfin sole, starry flounder, butter sole, rock sole, sand sole and flathead sole. Since implementation of the FMP in 1982, an ABC of 7,700 mt has been used. This is a landed catch value based on historical landings that are believed to have occurred during the 1970s. Landings of “other flatfish” species have varied considerably since 1981, with declines observed for most species. The reasons for the reductions are unknown, but could reflect lower abundance, a shift in the availability of the “other flatfish” species, fishing fleet changes, reduced market demand or a combination of these factors.

For 2005 and 2006, the Council considered total catch ABCs that were also based on historical landings. The total catch ABC is based on historical landed catch values but also incorporates estimated discard mortality for species in the complex. The range of ABCs and OYs considered by the Council and analyzed in the EIS for “other flatfish” in both 2005 and 2006 are: a low ABC/OY of 4,400 mt/2,200 mt, in which the OY has a 50 percent precautionary adjustment; a mid-range ABC of 6,781, based on the highest 1981-2003 landings of sanddabs and rex sole and on the 1994-1998 average landings for the remaining species in the group with an OY of 4,909 mt, which has a 25 percent precautionary adjustment for 0sanddabs and rex sole and a 50 percent precautionary adjustment to the remaining species; and a high ABC/OY of 12,000 mt in which the OY is set equal to the ABC.

The Council recommended adopting the mid-range ABC of 6,781 mt with the OY value of 4,909 mt. Landings of “other flatfish” between 1981 and 2003 have ranged between 3,917 in 1982 to 1,600 in 2000 and 2003. Therefore the proposed OY is not expected to have a substantial impact on the fishery participants. With reduced opportunities in other fisheries, this more conservative OY is less likely to encourage new interest in targeting these species.

Black Rockfish

In 2005 and 2006 state harvest guidelines will be specified for black rockfish. Because black rockfish is primarily taken in state waters, state specific harvest guidelines are expected to allow the states to better manage their respective recreational and commercial fisheries. For the area north of 46°16′ N. lat. (Washington/Oregon boarder), the OY is 540 mt. For the area south of 46°16′ N. lat (waters off Oregon and California) the OY is 753 mt. The black rockfish OY for the waters off Oregon and California is being subdivided with 437 mt (58 percent) being applied to the waters off Oregon (between 46°16′ N. lat and 42° N. lat). and 316 mt (42 percent) being applied to the waters off California (south of 42° N. lat.)

For the waters off Oregon, 332 mt is estimated to be taken in the recreational fishery in 2005 and 290-360 mt in 2006, resulting in a commercial harvest guideline of 105 mt in 2005 and a range of 67-137 mt for 2006. The 2006 Oregon values are being presented as a range because the Oregon State rulemaking process did not coincide with the Council's 2004 management measures development process. The Oregon Fish and Wildlife Commission will make recommendations on in-state allocation issues in December 2004. Therefore, the division of Oregon black rockfish harvest guideline between commercial and recreational fisheries is presented as a range at this time and the proposed rule comment period for this issue only will be held until December 30, 2004. The Oregon Fish and Wildlife Commission will meet on December 10 at the Oregon Department of Fish and Wildlife (ODFW) office in Salem. The schedule of meetings, the process for providing written or oral testimony, as well as the agenda and meeting materials for the upcoming meeting, are available online at the following ODFW website address: Information on the Oregon recommendation can be obtained from the following web site in early December: www.dfw.state.or.us/Comm.schedule.htm.

For the waters off California, the 316 mt harvest guideline of black rockfish will be divided with 190 mt (60 percent) being applied to the area north of 40°10 min N. lat. and 126 mt (40 percent) being applied to the area south of 40°10 min N. lat. For the area between 42° N. lat. and 40°10′ N. lat., 74 mt is estimated to be taken in the recreational fishery, resulting in a commercial harvest guideline 116 mt. For the area south of 40°10 min N. lat., 101 mt is estimated to be taken in the recreational fishery, resulting in a commercial harvest guideline of 25 mt. For the waters off Washington, 30,000 lb (13.6 mt) is being set as a harvest guideline for the tribal fisheries.

Landed Catch OYs

Landed catch values are not presented in this document. In the revised 2004 bycatch accounting model, target and overfished species estimates are based on landed catch amounts. Bycatch rates are no longer applied to the total catch OY to obtain the landed catch values. [Note: Discussion of the revised model can be found later in this document, the bycatch and discard accounting section.]

Overfished Species

The status of the groundfish stocks are evaluated against the requirements of the Magnuson-Stevens Act, NMFS's national standard guidelines, and the FMP. A species or stock is considered to be overfished if its current biomass is less than 25 percent of the unfished biomass. The Magnuson-Stevens Act requires that a rebuilding plan be prepared within one year after the Council is notified by NMFS that a particular species is overfished.

Eight Pacific coast groundfish stocks continue to be designated as “overfished”: POP, bocaccio, lingcod, canary rockfish, cowcod, darkblotched rockfish, widow rockfish, and yelloweye rockfish. Pacific whiting is no longer designated as overfished.

Amendment 16-1 to the FMP was prepared in part to respond to a Court order in Natural Resources Defense Council, Inc. v. Evans (N.D. Cal. 2001). Amendment 16 1 established a process for and standards by which the Council will specify rebuilding plans for groundfish stocks that are declared overfished. Amendment 16-1 also amended the FMP to require that Pacific Coast groundfish overfished species rebuilding plans be added into the FMP via FMP amendment, and implemented through Federal regulations. Amendment 16 1 was intended to ensure that overfished species rebuilding plans meet the requirements of the Magnuson-Stevens Act, in particular national standard 1 on overfishing and section 304(e), which addresses rebuilding of overfished fisheries. NMFS approved Amendment 16-1 on November 17, 2003.

For each approved overfished species rebuilding plan, the following parameters will be specified in the FMP: estimates of unfished biomass (B0) and target biomass (BMSY), the year the stock would be rebuilt in the absence of fishing (TMIN), the year the stock would be rebuilt if the maximum time period permissible under the national standard guidelines were applied (TMAX) and the year in which the stock would be rebuilt under the adopted rebuilding plan (TTarget). These estimated rebuilding parameters serve as management benchmarks in the FMP and the FMP will not be amended if the values for these parameters change after new stock assessments are completed, as is likely to happen.

NMFS approved Amendment 16-2 on January 30, 2004, and published a final rule for Amendment 16-2 on April 13, 2004 (69 FR 19347). Amendment 16-2 added the rebuilding parameters for lingcod, canary rockfish, darkblotched rockfish, and POP to section 4.5.4. of the FMP, along with other relevant information on each of these overfished stocks, such as stock distribution, fishery interaction, and rebuilding strategy.

Amendment 16-1 specified two rebuilding parameters (of those that are listed above in the FMP) that are to be codified in Federal regulations for individual species rebuilding plans, the target year for rebuilding and the harvest control rule that is to be used during the rebuilding period. Amendment 16-2 added these rebuilding parameters to the Code of Federal Regulations (CFR) at 50 CFR 660.370. The target rebuilding year is the year in which there is a 50 percent likelihood that the stock will have been rebuilt with a given mortality rate. The harvest control rule expresses a given fishing mortality rate that is to be used over the course of rebuilding. These parameters are to be used to establish the annual OYs. Conservation and management goals defined in the FMP require the Council and NMFS to manage to the appropriate harvest levels for a species or species groups, including those harvest levels established for rebuilding overfished species.

The FMP provides that after a new stock assessment, the Council and NMFS may conclude that either or both of the parameters defined in regulation should be revised. Revisions will be implemented through the Federal rulemaking process, and the updated values codified in the Federal regulation. Generally, the target year should only be changed in unusual circumstances. Two such unusual circumstances include (1) if, it is determined, based on new information, that the existing target year is later that the maximum rebuilding time (TMAX), (2) or if the harvest control rule calculated from the new information is estimated to result in such a low OY as to cause substantial socio-economic impacts. Any change to a harvest control rule must be fully supported by a corresponding analysis and updated through the Federal rulemaking process which would include opportunity for public notice and comment.

An approved rebuilding plan will be implemented through setting OYs and establishing management measures necessary to maintain the fishing mortality within the OYs to achieve objectives related to rebuilding requirements.

Amendment 16-2 has been followed by Amendment 16-3. At the Council's April 2004 meeting, rebuilding plans under Amendment 16-3 for bocaccio, cowcod, widow rockfish and yelloweye rockfish were adopted and include the parameters listed below.

A notice of availability for the EIS for Amendment 16-3 was published on June 18, 2004 (69 FR 34116). A proposed rule to codify provisions of Amendment 16-3 was published in the Federal Register on July 7, 2004 (69 FR 40851), and will be followed by a final rule in autumn 2004.

2005-2006 Management of Overfished Species

Rebuilding plans adopted under Amendments 16 2 and 16-3 are implemented through Federal regulations. The new stock assessments for lingcod (discussed above in the “2005 and 2006 ABCs and OYs” section) have resulted in revisions to some of the rebuilding parameters specified by Amendment 16 2.

Preliminary rebuilding measures for the overfished species are summarized below. Management measures designed to rebuild overfished species, or to prevent species from becoming overfished, may restrict the harvest of relatively healthy stocks that are harvested with overfished species. As a result of the constraining management measures imposed to protect and rebuild overfished species, a number of the OYs may not be achieved in 2005 or 2006.

OY Management for Overfished Species

Management measures adopted for 2005 and 2006 are expected to keep the incidental catch of overfished species within the adopted OYs. Managing a fishery inseason is dependent on the availability and accuracy of catch data. As new data become available and are used to track catch levels throughout the year, management strategies may need to be adjusted to keep the harvest of healthy stocks and the incidental catch of overfished species at or below their specified OYs.

Managing the fishery to stay within the OYs of overfished species is difficult because the OYs of many overfished species are low. After reviewing the estimated mortality from all directed and incidental groundfish fisheries and research activities, the Council recommended adopting management measures that are predicted to result in total fishing mortality levels that are lower than the annual OYs for some overfished species. Designing management measures for certain overfished species that result in total mortality levels that are lower than that species' OY leaves a residual amount of fish from the OY. Leaving this residual amount at the beginning of the fishing year can reduce the risk that the fisheries will exceed the OY, particularly when there are difficulties in catch accounting or when new information becomes available that changes NMFS' understanding of total catch. The residual amounts below OYs for each overfished species are provided in the footnotes to Tables 1a and 2a.

POP

Date declared overfished: March 3, 1999

Areas affected: Vancouver and Columbia

Status of stock: Following the 2003 assessment, the stock was believed to be at 25 percent of unfished biomass level.

B0: 37,230 units of spawning output

BMSY: 14,892 units of spawning output

TMIN: 2011

TMAX: 2042

PMAX: >70 percent

TTARGET: 2027

Harvest control rule: F=0.0257

ABC: 966 mt in 2005, 934 mt in 2006

OY: 447 mt in 2005, 447 mt in 2006

Management measures for 2005 and 2006: POP is a slope species that occurs in similar depths as darkblotched rockfish, although POP has a more northern geographic distribution than darkblotched rockfish. The 2005 and 2006 management measures that are intended to limit the bycatch of POP include the continued use of RCAs, cumulative trip limits, and routine management authority to close the primary whiting fisheries if there are overfished species bycatch concerns.

POP are primarily taken with trawl gear north of 40°10′ N. lat. The seaward boundary of the trawl RCA was set at a depth that was likely to keep fishing effort in deeper waters and away from areas where the bycatch of POP was historically highest. However, the boundaries of the RCAs vary by season and fishing sector and may be modified in response to new information about geographical and seasonal distribution of bycatch.

Minor slope rockfish and POP limits are set at levels that are expected to allow vessels targeting DTS species (Dover sole, thornyheads, sablefish) to retain their incidentally caught slope rockfish while being low enough to discourage targeting. Measures that constrain the DTS trawl fishery to stay within the shortspine thornyhead OY are also expected to keep the catch of POP in both 2005 and 2006 well below its OYs. As needed, trip limits for co-occurring species may be adjusted to reduce POP rockfish bycatch.

With this action, NMFS is establishing routine management measure authority to close a whiting primary season fishery, before the sector's whiting allocation is reached, to address concerns about the impacts on overfished species, including POP.

POP are not an important component of the tribal or recreational fisheries.

Darkblotched Rockfish

Date declared overfished: January 11, 2001 (66 FR 2338)

Areas affected: Coastwide

Status of the stock: Following a 2003 stock assessment, the coastwide stock was believed to be at 11 percent of its unfished biomass level.

B0: 30,775 mt

BMSY: 12,310 mt

TMIN: 2011

TMAX: 2047

PMAX: >80 percent

TTARGET: 2030

Harvest control rule: F=0.032

ABC: 269 mt in 2005, 294 mt in 2006

OY: 269 mt in 2005, 294 mt in 2006

Management measures in 2005 and 2006: Darkblotched rockfish occur on the outer continental shelf (shelf) and continental slope (slope), mainly north of Point Reyes, CA (38° N. lat). Because of their deeper distribution, they are caught exclusively by commercial vessels. Most landings have been made by bottom trawl vessels targeting flatfish on the shelf and minor rockfish and DTS species on the continental slope. Management measures intended to limit bycatch of darkblotched rockfish and keep fishing mortality within the OYs specified for 2005 and 2006 include the continued use of RCAs, cumulative trip limits, and routine management authority to close the primary whiting fisheries when there are overfished species bycatch concerns.

The seaward boundary of the trawl RCA was set at a depth that was likely to keep fishing effort in deeper waters and away from areas where the bycatch of darkblotched rockfish was highest. The boundaries of the RCAs vary by season and fishing sector and may be modified in response to new information about geographical and seasonal distribution of bycatch.

Minor slope rockfish cumulative trip limits are set at levels that are expected to allow vessels targeting DTS species to retain their incidentally caught slope rockfish while being low enough to discourage targeting. Measures that constrain the DTS trawl fishery to stay within the shortspine thornyhead OY are also expected to keep the catch of darkblotched rockfish in both 2005 and 2006 well below its OYs. As needed, trip limits for co-occurring species may be adjusted to reduce the catch of darkblotched rockfish.

With this action, NMFS is establishing routine management measure authority to close a whiting primary season fishery, before the sector's whiting allocation is reached, to address concerns about the impacts on overfished species, including darkblotched rockfish.

Canary Rockfish

Date declared overfished: January 4, 2000 (65 FR 221)

Affected area: Coastwide

Status of the stock: 8 percent of its unfished biomass level in 2002.

B0: 31,550 mt

BMSY: 12,620 mt

TMIN: 2057

TMAX: 2076

PMAX: 60 percent

TTARGET: 2074

Harvest control rule: F=0.0220

ABC: 270 mt in 2005, 279 mt in 2006

OY: 46.8 mt in 2005, 47.1 mt in 2006

Management measures in 2005 and 2006: Canary rockfish prefer rocky areas on the shelf and are encountered in a wide variety of commercial and recreational fisheries. Management measures intended to limit bycatch of canary rockfish include the use of RCAs, cumulative trip limits, gear restrictions, reduced seasons, and routine management authority to close the primary whiting fisheries when there are overfished species bycatch concerns.

Bottom trawling is prohibited in the trawl RCA, which covers much of the shelf and depths where canary rockfish have been most frequently caught. The nontrawl RCA boundaries are intended to move the nontrawl fleets off of the continental shelf, where overfished species susceptible to nontrawl gear are found.

Cumulative limits are structured to discourage targeting while allowing very low levels of incidental take to be landed. For the area south of 40°10′ N. lat., limited entry fixed gear trip limits are set so that they draw vessels away from continental shelf species, placing emphasis on available slope species. The limited entry fixed gear fleet north of 40°10′ N. lat. will be prohibited from retaining canary rockfish. Differential trip limits have been used for large and small footrope trawl gear throughout the year. Trawl flatfish trip limits are lower inshore of the trawl RCA, where canary rockfish are most commonly distributed, than offshore of the RCA. By allowing greater limits for large footrope gear and prohibiting its use in nearshore areas, there is an incentive for vessels to fish in deeper waters, beyond the range of canary rockfish. To reduce incidental take of canary rockfish inshore of the RCA, flatfish vessels operating in that area are required to use selective flatfish trawl gear and are allowed to access lower trip limits than those fishing offshore of the RCA. Because NMFS is proposing to require trawlers to use selective flatfish trawl gear in the nearshore areas, flatfish trawl trip limits for vessels using small footrope trawl gear north of 40°10′ N. lat are higher than in recent years. This new trawl net design, which was tested in 2003 through an exempted fishing permit, features a headrope set back from a flattened net body to capture low-swimming flatfish while allowing rockfish, including canary rockfish, to escape over the upper edge of the trawl net.

Trawling with open access non-groundfish gear for pink shrimp will be allowed within the RCA because they use state required finfish excluder devices to reduce their groundfish bycatch, particularly bycatch of canary and other rockfishes. Off California, trawling for California halibut, and sea cucumber will be prohibited within the trawl RCA. Ridgeback prawn trawling will south of 34°27′ N. lat. will be constrained by an RCA between boundary lines approximating the 100 fm (183 m) and 150 fm (274 m) depth contours throughout the year.

Recreational fisheries are managed through bag limits, size limits and seasons. As necessary, seasons can be shortened and bag limits reduced to stay within the OYs. The retention of canary rockfish, in Washington waters, will be prohibited. Off Oregon, recreational fishing for groundfish will be depth-restricted June through September, when the fishery will be closed offshore of a boundary line approximating the 40 fm (73 m) depth contour. Recreational fisheries participation is heaviest during these months and this closure is intended to move the groundfish fisheries inshore to protect canary rockfish. The California Department of Fish and Game (CDFG) proposed for 2005 and 2006 a package of management measures to strongly constrain their recreational fisheries (see recreational section below). Season and area closures differ between California regions to better protect overfished species according to where those species occur and where fishing effort is strongest. Retention of canary rockfish in the California and Oregon recreational fisheries will not be permitted.

With this action, NMFS is establishing routine management measure authority to close a whiting primary season fishery, before the sector's whiting allocation is reached, to address concerns about the impacts on overfished species.

Lingcod

Date declared overfished: March 3, 1999.

Areas affected: Coastwide

Status of the stock: A coastwide assessment was conducted in 2003 and estimated that the stock was at 25 percent of its unfished biomass coastwide in 2002, 31 percent in the north and 19 percent in the south.

B0: 41,071 mt coastwide, 20,801 mt north and 20,270 mt south

BMSY: 16,428 mt coastwide, 8,321 mt north and 8,108 mt south

TMIN: 2004 north and 2006 south

TMAX: 2009

PMAX: 70 percent

TTARGET: 2009

Harvest control rule: F=0.17 north and F=0.15 south

ABC: 2,922 mt in 2005, 2,716 mt in 2006

OY: 2,414 mt in 2005 and in 2006

Management measures in 2005 and 2006: Lingcod are irregularly distributed coastwide in hard bottom areas and around rocky reefs and are encountered in a variety of commercial and recreational fisheries. While lingcod is not yet rebuilt, it is abundant enough that it does not seriously constrains fisheries for co-occurring species.

Management measures intended to limit bycatch of lingcod for 2005 and 2006 include the continued use of RCAs, cumulative trip limits, reduced seasons, and gear restrictions. Measures to reduce the catch of canary rockfish are also expected to provide protection to co-occurring overfished species such as lingcod. Similarly, the trip limit structures intended to constrain the incidental catch of canary rockfish is expected to benefit lingcod.

Trawl limits for lingcod are still at incidental take levels to discourage vessels from targeting lingcod while accommodating true incidental catch. As in past years, in the northern area limited entry fixed gear and open access fisheries will be prohibited from landing lingcod in January-April and in November-December to protect lingcod during their spawning and nest-guarding season. Similar to the northern area, lingcod retention is only permitted during May-October in the south. Lingcod are vulnerable to these gears during the winter nesting period, but have a high rate of survival when released alive. RCA restrictions described above for canary rockfish also protect lingcod.

Lingcod is also an important recreational species coastwide. Recreational bag limits, size limits and season restrictions will continue to be used. Regional management of the California recreational fisheries is expected to better protect overfished species by allowing the most restrictive management actions to be taken in the areas where typical fishing effort and overfished species impacts are strongest. Recreational fishing for lingcod will be closed in the winter months throughout to protect lingcod during its spawning and nesting season.

Bocaccio

Date declared overfished: March 3, 1999

Areas affected: Monterey and Conception

Status of stock: 7.4 percent of its unfished biomass in 2003

BMY: 13,387 Billion eggs in 2003

BMSY: 5,355 Billion eggs in 2003

TMIN: 2018

TMAX: 2032

PMAX: 70 percent

TTARGET: 2023

Harvest control rule: 0.0498

ABC: 566 mt in 2005, 549 mt in 2006

OY: 307 mt in 2005, 309 mt in 2005

Management measures for 2005 and 2006: Bocaccio is a shelf species that is most commonly found from 54 fm (99 m) to 82 fm (150 m) of water over the shelf. Bocaccio have historically been taken in the commercial trawl and fixed gear and recreational fisheries. To reduce bocaccio bycatch, fishing opportunities in the depths where bocaccio are most commonly encountered have been reduced though the use of RCAs, cumulative trip limits, and gear restrictions.

RCAs will continue to be used in 2005 and 2006 to restrict fishing on the shelf. Because bocaccio are more frequently caught by fixed gears in waters off the central California coast, proposed closures for the non-trawl fleet are more broad in this area. Off California, trawling for California halibut, and sea cucumber is prohibited within the trawl RCA. Pink shrimp trawling will be allowed within the RCA providing the vessels use state required finfish excluder devices. Ridgeback prawn trawling will south of 34° 27′ N. lat. will be constrained by an RCA between boundary lines approximating the 100 fm (183 m) and 150 fm (274 m) depth contours throughout the year.

NMFS expects that management measures to protect canary rockfish will restrict the incidental catch of bocaccio and keep it well below the OY. Because of this, the Council is allowing some targeting of the co-occurring chilipepper rockfish stock. Vessels that target chilipepper with large footrope gear offshore of the RCA or with midwater trawl gear will be allowed higher chilipepper landings limits in May-August. Only minimal levels of bocaccio retention, to accommodate incidental catch, will be permitted.

For the recreational fisheries, CDFG proposes to strongly constrain their recreational fisheries through the use of season and area closures that differ between California regions. Regional management of the California recreational fisheries is expected to better protect overfished species by allowing restrictive management actions to be taken in the areas where fishing effort and overfished species impacts are greatest.

Cowcod

Date declared overfished: January 4, 2000

Areas affected: Point Conception to the U.S.-Mexico boundary.

Status of stock: 4-11 percent of unfished biomass in 1999

B0: 3.367 mt

BMSY: 1,350 mt

TMIN: 2062

TMAX: 2099

PMAX: 60 percent

TTARGET: 2090

Harvest control rule: F=0.009

ABC: 24 mt in 2005 and 2006

OY: 4.2 mt in 2005 and 2006

Management measures in 2005 and 2006: All directed cowcod fishing opportunities have been eliminated since 2001. Retention of cowcod is prohibited for all commercial and recreational fisheries. In addition, management measures to reduce canary and bocaccio rockfish catch are also expected to benefit cowcod.

To protect cowcod from incidental harvest, two Cowcod Conservation Areas (CCAs) (the Eastern CCA and the Western CCA) in the Southern California Bight have been delineated to encompass key cowcod habitat areas and known areas of high catches. Fishing for groundfish is prohibited within the CCAs, except that minor nearshore rockfish, cabezon, and greenling may be taken from waters where the bottom depth is less than 20 fathoms (36.9 m).

In 2003, a rebuilding review was conducted for cowcod. This was a thorough examination of the recreational and commercial fishery related removals in relation to the ABC and OY levels that were established for rebuilding. The review concluded that the total removals of cowcod have declined in accordance with the rebuilding based harvest specifications.

Widow Rockfish

Date declared overfished: January 11, 2001

Areas affected: Coastwide

Status of stock: 22.4 percent of the unfished biomass in 2002

B0: 43,530 million eggs

BMSY: 17,432 million eggs

TMIN: 2026

TMAX: 2042

PMAX: 60 percent

TTARGET: 2038

Harvest control rule: F=0.0093

ABC: 3,218 mt in 2005, 3,059 mt in 2006

OY: 285 mt in 2005, 289 mt in 2006

Management measures in 2005 and 2006: Management measures intended to limit bycatch of widow rockfish and keep fishing mortality within the OYs specified for 2005 and 2006 included the continued use of RCAs, cumulative trip limits, and routine management authority to close the primary whiting fisheries when there are bycatch concerns.

Because bottom trawl opportunities for shelf rockfish continue to be extremely limited outside the RCAs, the use of RCAs are expected to be beneficial to the recovery of widow rockfish. Cumulative trip limits for commercial limits for widow rockfish are intended to accommodate incidental catch and do not provide an incentive for directed fishing. Similarly, cumulative limits for yellowtail rockfish, a species that co-occurs with widow rockfish, have been severely constrained.

An incidental catch allowance of widow rockfish will continue to be provided for the primary whiting season. Final whiting ABCs and OYs are expected to be adopted at the Council's March 2005 and 2006 meetings. NMFS anticipates setting the 2005 and 2006 Pacific whiting OYs so that they are constrained by the amount of widow rockfish available for incidental retention, as the agency did in 2004 (April 30, 2004, 69 FR 23667).

With this action, NMFS is establishing routine management measure authority to close a whiting primary season fishery, before the sector's whiting allocation is reached, to address concerns about the impacts on overfished species.

Yelloweye Rockfish

Date declared overfished: January 11, 2002

Areas affected: Coastwide

Status of stock: 24.1 percent of its unfished biomass in 2002

B0: 3,875 mt

BMSY: 1,550 mt

TMIN: 2027

TMAX: 2071

PMAX: 80 percent

TTARGET: 2058

Harvest control rule: F=0.0153

ABC: 54 mt in 2005, 55 mt in 2006

OY: 26 mt in 2005, 27 mt in 2006

Management measures in 2005 and 2006: Yelloweye rockfish are more available to the fixed gears and recreational fisheries than to the trawl fishery. Management measures intended to limit bycatch of yelloweye rockfish and to keep fishing mortality within the OY specified for 2005 and 2006 include the continued use of RCAs and cumulative trip limits in the commercial fisheries and bag limits in the recreational fisheries.

The retention of yelloweye rockfish in the commercial nontrawl fisheries will continue to be prohibited throughout the year. In addition, sublimits for yelloweye rockfish will be applied to the minor nearshore shelf rockfish trip limit for the limited entry trawl fisheries to discourage any interest in targeting yelloweye rockfish.

The yelloweye rockfish conservation area (YRCA) will continue to be used for 2004 in waters off the coast of Washington. Off Washington, recreational fishing for groundfish and halibut will continue to be prohibited inside the YRCA, a C-shaped closed area off the northern Washington coast. Off Oregon, recreational fishing for groundfish will be depth-restricted June through September, when the fishery will be closed offshore of a boundary line approximating the 40 fm (73 m) depth contour. Recreational fisheries participation is heaviest during these months and this closure is intended to move the groundfish fisheries inshore to protect canary and yelloweye rockfish. Regional management of the California recreational fisheries is expected to better protect overfished species by allowing the restrictive management actions to be taken in the areas where fishing effort and overfished species impacts are greatest. Retention of yelloweye rockfish in the California and Oregon recreational fisheries will not be permitted.

Overfishing

None of the 2005-2006 ABCs are set higher than FMSY or its proxy, none of the OYs are set higher than the corresponding ABCs, and the management measures in this proposed rule are designed to keep harvest levels within specified OYs. Overfishing is difficult to detect inseason for many groundfish, particularly for minor rockfish species, because most species are not individually identified on landing. Species compositions, based on proportions encountered in samples of landings and extrapolated observer data, are applied during the year. However, final results are not available until after the end of the year. Thus, this proposed rule discusses overfishing that occurred in 2003, not 2004. If overfishing occurred on any groundfish species in 2004, it will be listed in NMFS's annual report to Congress on the status of U.S. Fisheries.

During the 2003 fishing season, overfishing occurred on lingcod and black rockfish. There are no formal allocations for lingcod between the commercial and recreational fisheries; however the 2003 total catch OY of 651 mt for lingcod was separated into: 355 mt expected catch for the recreational fisheries, 3 mt for the amount estimated to be taken in research, 4.3 mt for the amount estimated to be taken in commercial non-groundfish fisheries, 5.2 mt expected catch in the tribal fisheries, resulting in a 284 mt non-tribal commercial OY. Catch of lingcod in 2003 research fisheries is estimated to have been 4.5 mt. Non-tribal and tribal commercial catch for 2003 is estimated to have been 165.7 mt, which is well beneath the combined 289.2 mt expected for those fisheries. Recreational lingcod landings for 2003 are estimated to have been 1,012 mt, exceeding the expected recreational fisheries take by 657 mt. With this large overharvest in the recreational fisheries, total lingcod landings are estimated to have been 1,182.2 mt, exceeding the 841 mt coastwide lingcod ABC by 341.2 mt. Under the FMP, ABCs are set at FMSY and the lingcod ABC is set with an FMSY proxy of F45%. Fishing at a level that exceeds the MSY harvest rate is considered overfishing under the Magnuson-Stevens Act.

Because the black rockfish stock is above the FMP's precautionary level indicator of B40%%, the black rockfish OY is set equal to its ABC. In 2003, the black rockfish coastwide ABC/OY was 1,115 mt. The available 2003 black rockfish harvest was not as tightly delineated as the 2003 lingcod harvest. Of the 1,115 mt available coastwide, 615 mt was estimated to be available from the Vancouver and Columbia management areas (north of 43° N. lat.) and 500 mt from the Eureka area (40° 10′—43° N. lat.) Black rockfish is a northern stock occurring primarily north of 40° 10′ N. lat. The 2003 non-tribal and tribal commercial fisheries took 174.4 mt of black rockfish, 128.9 mt of which was landed in the Eureka area. Data for the recreational fisheries are separated by state, rather than by fishery management area. The 2003 recreational fisheries took 516 mt off Oregon and Washington (waters north of 42° N. lat.) and 497 mt off California. Cumulatively, the fisheries landed 1,187.4 mt of black rockfish in 2003, exceeding that species' ABC by 72.4 mt.

For both the lingcod and black rockfish ABCs, the California recreational fisheries had the greatest effect in exceeding those ABCs. The 2003 California recreational fisheries landed 840 mt of the 1,012 mt of coastwide lingcod landings. Of the 1,016 mt of black rockfish available to the recreational fisheries coastwide, the California recreational fisheries took 497 mt.

Before finalizing the 2004 fishery specifications and management measures, NMFS reviewed preliminary data on the 2003 fisheries. The 2003 landings data available at that time, February 2004, were not considered complete for either the recreational or commercial fisheries. There was enough information on the California recreational fisheries, however, to give NMFS concern that those fisheries could again overharvest lingcod, black rockfish, and perhaps other species in 2004. NMFS discussed the California recreational fisheries data with CDFG in February 2004, and implemented restrictive lingcod management measures for those fisheries with its 2004 specifications and management measures final rule (69 FR 11064, March 9, 2004.) Effective April 1, 2004, NMFS and California reduced the lingcod bag limit off California from two fish to one fish and increased the size limit from 24 inches (61.4 cm) to 30 inches (76.8 cm).

Both the Council and the California Fish and Game Commission (Commission) discussed the need to further restrict California's recreational fisheries to protect lingcod, black rockfish, and other nearshore rockfish species at their meetings in March and April 2004. CDFG conveyed the Commission's recommendations to the Council at the Council's April meeting. The Council concurred with the Commission that both state and Federal regulations for California's recreational fishery needed to be more constraining to prevent overharvest of these species and other overfished stocks. Based on the Council's recommendations, NMFS made a series of bag limit reductions, area closures and season closures that were effective May 1, 2004, and which are detailed in two NMFS inseason action documents that were published on April 29, 2004 (69 FR 23440) and May 5, 2004 (69 FR 25013). The revised 2004 California recreational fisheries management measures provided the basis for the more restrictive and area-specific management measures proposed for 2005-2006 California fisheries. NMFS, the Council, and CDFG will monitor 2004 recreational fisheries data as they become available to assess whether 2005-2006 recreational fisheries management measures are sufficiently constraining to prevent the California fishery from excessive harvests in those years. In both 2005 and 2006, the commercial and recreational fisheries have been constrained to protect canary rockfish. NMFS and the Council expect that canary rockfish protections will constrain lingcod harvest. In both 2005 and 2006, a residual amount of lingcod remains in the lingcod OY beyond those amounts expected to be taken in commercial, recreational, tribal and scientific fishing. In 2005, that residual amount is 1,504.5 mt and in 2006, it is 1,528.3 mt. These residual amounts of available lingcod harvest may provide a buffer against overharvest in the California recreational fisheries.

Bycatch and Discard Management

The Magnuson-Stevens Act defines bycatch as “fish which are harvested in a fishery, which are not sold or kept for personal use, and include economic discards and regulatory discards.” By contrast, Pacific Coast groundfish fishery management and many other fishery management regimes commonly use the term bycatch to describe non-targeted species that are caught in common with (co-occur with) target species, some of which are landed and sold or otherwise used and some of which are discarded. The term “discard” is used to describe those fish harvested that are neither landed nor used.

NMFS's bycatch reduction program for West Coast groundfish is primarily intended to address the two major Magnuson-Stevens Act goals on bycatch:

(1) “Conservation and management measures shall, to the extent practicable, (A) minimize bycatch and (B) to the extent bycatch cannot be avoided, minimize the mortality of such bycatch” (§ 301(a)(9)).

(2) [FMP's shall] “establish a standardized reporting methodology to assess the amount and type of bycatch occurring in the fishery, and include conservation and management measures that, to the extent practicable and in the following priority (A) minimize bycatch; and (B) minimize the mortality of bycatch which cannot be avoided” (§ 303(a)(11)).

NMFS uses a three-part strategy to meet these Magnuson-Stevens Act mandates: (1) gather data through a standardized reporting methodology on the amount and type of bycatch occurring in the fishery; (2) assess this data through bycatch models to estimate when, where, and with which gear types bycatch of varying species occurs; and (3) implement management measures through Federal fisheries regulations that minimize bycatch and bycatch mortality to the extent practicable, and that keep the total mortality of groundfish within the OYs of the various groundfish species and species groups. This section of the preamble to this proposed rule describes recent NMFS activities in each of the three parts of this strategy.

Gathering Bycatch and Discard Data

NMFS uses the West Coast groundfish observer program (WCGOP,) established in August 2001 and required in the FMP in Section 6.5.1.2, as its primary standardized reporting methodology for bycatch in the groundfish fisheries. The WCGOP focuses on vessels participating in the shore-delivery cumulative limit fisheries for non-whiting groundfish. Although WCGOP deploys observers on vessels of all major gear types, the program initially focused on observing trawl vessel fishing activity. Over 90 percent of commercial West Coast groundfish landings, by weight, are taken by the limited entry trawl fleet. As WCGOP has developed, it has expanded into more observations in the limited entry nontrawl fleet. About 75 percent of WCGOP's observer hours tend to be spent on trawl vessels, with the remaining 25 percent primarily focused on limited entry longline and pot vessels. Through 2003, NMFS's observer coverage of the limited entry fixed gear fleet focused on vessels participating in the primary sablefish fishery. Participants in this fishery landed approximately 44 percent of the commercial groundfish taken by vessels other than groundfish trawlers in 2003. In 2004 and beyond, the agency will be adding observer coverage to the remainder of limited entry fixed gear fishing strategies and to the open access directed groundfish fisheries. These two sectors, the open access directed fishery and the limited entry fishery outside of the primary sablefish season, have similar fishing strategies. WCGOP is experimenting with ways to deploy observers on the small (<18 ft length overall) boats of the open access groundfish fisheries. More information on WCGOP is available online at: www.nwfsc.noaa.gov/research/divisions/fram/Observer/.

Vessels participating in the at-sea whiting fisheries (catcher-processors and motherships) have been voluntarily carrying observers since 1991. NMFS made observer coverage mandatory for at-sea processors on July 7, 2004 (69 FR 31751, June 27, 2004). For the shore-based whiting fisheries, NMFS experimented in 2004 with electronic monitoring in combination with dockside monitors. The Council will make its final recommendation on a full retention and monitoring program for the shore-based whiting fisheries at its October 31-November 5, 2004, meeting in Portland, OR. (A draft Environmental Assessment for this program is available online at: ww.nwr.noaa.gov/1sustfsh/groundfish/gfNEPA.htm). NMFS expects to implement regulations for this program in time for the 2005 whiting season. The WCGOP and the whiting observer programs, in combination with state fish ticket and logbook programs and fisheries-independent data, are used to support groundfish bycatch assessment models. Together, these programs comprise the first part of NMFS' bycatch management strategy, gathering scientific data on bycatch in the groundfish fisheries. In addition to these Federal programs, the Council relies on state recreational fisheries sampling programs, which use a combination of at-sea and at-dock samplers to gather catch and discard data on the recreational fisheries. These state-run programs are described in the DEIS for this action.

Modeling Bycatch and Discard Data

The second part of NMFS's bycatch management strategy is to use data on bycatch and discard in models intended to estimate the amount and type of bycatch occurring in the groundfish fisheries. NMFS first introduced a groundfish fisheries total catch assessment model (known as “the bycatch model”) in late 2001 for the 2002 fishing season. NMFS has annually described the development and evolution of this model in its proposed rules to implement fishery specifications and management measures. [See 67 FR 1555, January 11, 2002, 68 FR 936, January 7, 2003, and 69 FR 1380, January 8, 2004 for historical information on the bycatch model.] As the WCGOP has evolved, so has the bycatch model. During its first year, the bycatch model focused on overfished species taken incidentally in the trawl fisheries, and was populated with data from observation experiments from the mid-1990s and prior years. By January 2003, NMFS had analyzed data from the first year of the WCGOP and the bycatch models for fishing years 2003 and 2004 were updated with WCGOP-generated data. Prior to 2004, the bycatch model had focused on co-occurrence ratios for overfished species taken in target species fisheries without also looking at potential discard of target species. For the 2004 fishing year, NMFS expanded the bycatch model to set discard rates for target species by depth. Like initial WCGOP efforts, the models for the 2002-2003 fishing years also focused on the trawl fisheries. For 2005-2006, NMFS has again updated the trawl bycatch model with trawl fisheries data from WCGOP. NMFS has also revised the new fixed gear bycatch model, initially used in 2004, for the 2005-2006 fisheries that analyzes observer data from the limited entry fixed gear fisheries.

Data in the trawl bycatch model comes from WCGOP and state fish ticket and logbook programs. The trawl bycatch model for the 2005-2006 fishing years includes updated data from these sources, with data from more recent years weighted more heavily in the model. In addition to updating the data supporting the model, NMFS made three minor revisions to the model's methods used to calculate and apply bycatch ratios.

NMFS's first revision to the trawl model was to calculate bycatch ratios with reference to the total catch of target species, rather than with reference to the landed catch of target species. This refinement has been made possible by observer data, which has given the agency better estimates of total catch. This revision does not change the amounts by which the ratios indicate managers should deduct discards from total catch. However, because the ratios are applied to the larger target (as opposed to landed) catch amounts of target species, there will not be a straightforward comparison between bycatch ratios for the fisheries in 2005 and beyond with those for 2004 and prior.

NMFS's second revision is based on improved data on overfished species distribution. For fisheries in 2005 and beyond, bycatch rates for the northern and southern areas will be divided at 40° 10′ N. lat. for all species except darkblotched rockfish. Northern and southern area bycatch rates for darkblotched rockfish, a slope species, will be divided at 38° N. lat. for depths greater than 150 fm (274 m), where darkblotched commonly occurs. Bycatch rates for trawlers operating north of 40° 10′ N. lat. have also been adjusted to account for new 2005-2006 gear requirements for vessels operating in the northern area and shoreward of the trawl RCA. Vessels operating in this northern area will be required to use “selective flatfish trawl gear,” which the ODFW developed in cooperative experiments with the fishing industry.

NMFS's third revision is to reinstate seasonal distributions of bycatch rates. When NMFS had relied on pre-WCGOP observer data to populate its bycatch model, that data had been abundant enough to seasonally stratify co-occurrence ratios for overfished species taken in target species' fisheries. The model for the 2004 fishing year eliminated observer data from programs other than WCGOP in order to use the most recent data on the fishery. Because there was not enough WCGOP data for that model to show seasonal trends in co-occurrence ratios, the model was initially applied to the fisheries in 2004 without seasonal stratification of those ratios. Now that NMFS has sufficient WCGOP data to detect seasonal trends in co-occurrence ratios, the model revised inseason for 2004 fisheries and used to develop 2005-2006 management measures allows NMFS to reintroduce seasonally-stratified management. By seasonally-stratifying fishing effort, NMFS is better able to develop landings limits for target species that emphasize fishing in times and areas where those species may be taken with lower bycatch of overfished species.

NMFS expects to continue to review and evaluate its trawl bycatch model, and to update that model with new WCGOP data. For 2004 and beyond, NMFS also developed an independent bycatch model for the limited entry, primary fixed gear sablefish fishery. The trawl bycatch model is based in part on the two-month cumulative limit period structure of the trawl fishery. For these two-month periods, the Council and NMFS set landings limits for a range of species with the expectation that not all trawl participants will attain the limits for all species during each period. Conversely, the limited entry primary sablefish season is a 7-month cumulative limit period with limits set for one species. Few participants in this fishery fail to attain their tier limits within the 7 month season. Additionally, most participants are able to take their tier limits within several weeks' time, which allows each participant to choose when during the season he or she will directly target sablefish. The trawl bycatch model is essentially a model of the expected behavior of fishery participants how much of each species will be retained or discarded given varying cumulative limits for target species. The limited entry fixed gear primary sablefish season has a structure that allows different and more flexible behavior than the trawl cumulative limit fishery. As a result, NMFS needed to modify its approach to bycatch modeling to better reflect fishermen's behavior in the primary sablefish fishery.

NMFS faced several challenges in developing a bycatch model for the primary sablefish fishery. Unlike the trawl cumulative limit periods, the 7 month season is a new development. Prior to 2001, this fishery was an open competition derby of 5-10 days in duration. In 2001, NMFS approved Amendment 14 to the FMP, which allowed vessels with limited entry permits and sablefish endorsements to participate in a lengthened season during which they would have ample opportunity to take their tier limits. The 2001 season was 2.5 months long, but the seasons in 2002 and 2003 were 7 months long. The flexibility of these longer seasons, coupled with the relative lack of historical data on how vessels might behave during the longer season has made modeling vessel behavior more challenging than for the trawl fishery. And, unlike participants in the trawl fishery, primary sablefish season participants are not required to carry state logbooks. State trawl logbook data is used in the trawl bycatch model to assess basic fishing behavior across the fleet, such as where and when vessels are fishing.

To address the longer fixed gear sablefish season, the fixed gear bycatch model uses fleetwide, season-long estimates of discard and bycatch, applying those estimated rates to the total catch of sablefish allocated to the fishery. NMFS accounted for the newness of the longer sablefish season by weighting the observer data within the model such that data from 2003 observations was more heavily weighted than data from 2002 and 2001. At the April 2004 Council meeting, NMFS reported to the Council on its new fixed gear bycatch model and the results of its WCGOP observations of the primary sablefish season. The Council recommended that NMFS use observer program data in a model specific to the fixed gear fisheries to re-calculate 2004 sablefish tier limits based on revised estimates of sablefish discard. NMFS initially made the revised sablefish tier limits effective May 1 (69 FR 25013, May 5, 2004) and later had to revise those limits to correct a calculation error (69 FR 38857, June 29, 2004).

Proposed tier limits for the 2005-2006 primary sablefish season were based on the results of WCGOP observations of this fishery and on the fixed gear bycatch model. The tier limits were set to account for the sablefish discard in the primary fishery, with nontrawl RCA boundaries set to reduce bycatch of overfished species. For fishing in depths greater than 100 fm (183 m), the offshore boundary of the nontrawl RCA, the bycatch model showed bycatch of canary, darkblotched and yelloweye rockfish to be less than 0.2 percent of the catch of sablefish in weight, regardless of gear type or time of year fished. The bycatch of widow rockfish and POP was less than 0.1 percent of the catch of sablefish in weight, regardless of gear type or time of year fished. The bycatch of lingcod was higher, up to 1.6 percent of the weight of the sablefish catch, for vessels using pot gear. Observer data showed no catch of bocaccio or cowcod, but observations of this fleet were taken north of Fort Bragg, CA. Bocaccio and cowcod are southern species and NMFS is expanding its observer coverage southward to better determine whether they are taken incidentally in the primary sablefish fishery south of Fort Bragg, CA. Fishing observed in waters deeper than 150 fm (274 m) showed somewhat lower than expected bycatch ratios for shelf species and modestly higher than expected bycatch ratios for slope species, darkblotched rockfish and POP, regardless of gear type or time of year fished. Even at 150 fm (274 m), POP bycatch was under 0.07 percent of sablefish catch by weight, and darkblotched rockfish bycatch was under 0.4 percent of sablefish catch by weight.

For the 2005-2006 non-trawl fisheries, cumulative trip limits for species other than sablefish were not changed as a result of the primary sablefish season bycatch model. NMFS does not believe that observer data from the primary sablefish season accurately reflects limited entry fixed gear fleet activities outside of the primary sablefish season, and is still gathering data to better characterize bycatch in that fishery. When observer data from the third year of WCGOP (September 2003 through August 2004) becomes available in early 2005, NMFS will analyze that data to determine whether it can develop a model for bycatch in the nontrawl limited entry and open access fisheries outside of the primary sablefish fishery. This nontrawl bycatch model could then be used to assess 2005-2006 landings limits and RCA boundaries to determine whether inseason changes were needed to adequately protect overfished species. Proposed 2005-2006 nontrawl landings limits for species other than sablefish are connected to trawl landings limits established by the trawl bycatch model. Nontrawl gear vessels are prohibited from retaining overfished species that are routinely caught by nontrawl gear and which cannot sustain incidental landings limits allowances, such as canary rockfish, yelloweye rockfish and cowcod.

Management Measures to Reduce Bycatch

As mentioned earlier in this section, the third part of NMFS's bycatch reduction strategy is a series of management programs intended to either directly control fishing activities or to create incentives for bycatch reduction. NMFS has implemented a wide array of fishery management measures intended to minimize bycatch and bycatch mortality over the past several years. The agency has supported full retention and/or full utilization exempted fishing permit (EFP) programs for the Washington arrowtooth flounder trawl, yellowtail rockfish trawl and longline dogfish fisheries, and for the California flatfish trawl fishery. NMFS has also supported an Oregon EFP to experiment with modifying trawl net design to reduce bycatch. A lower-bycatch trawl net requirement based on the results of that EFP would be introduced for 2005-2006 through the final rule for this action. This gear features a headrope set back from a flattened net body to capture low-swimming flatfish while allowing rockfish to escape over the upper edge of the trawl net. Because the net tends to be most effective at reducing rockfish bycatch in nearshore waters, it will be required only shoreward of the trawl RCA. CDFG will be experimenting with a similar flatfish-targeting net in 2004 and/or 2005. If the selective flatfish net proves equally effective at reducing rockfish bycatch south of 40°10' N. lat., NMFS expects to implement future requirements for this gear in the southern area as well.

In addition to EFP-based experiments with gear types and fishing areas, NMFS has implemented shorter-than-year-round fishing seasons for various species and sectors of the groundfish fleet to protect overfished groundfish species. NMFS and the Council have also reduced overcapacity in the fleets, ultimately reducing the number of vessels on the water. Amendment 14 to the FMP implemented a permit stacking program for the limited entry fixed gear fleet that reduced the number of vessels participating in the primary sablefish fishery by about 40 percent. In late 2003, NMFS implemented a buyback of limited entry trawl vessels and their permits, reducing the groundfish trawl fleet by about 35 percent.

Since 2000, NMFS has required gear modifications that restrict the use of trawl gear in rockier habitat coastwide, and that constrain the catching capacity of recreational fishing gear off California. Higher groundfish landings limits have been made available for trawl vessels using gear or operating in areas where overfished species are less likely to be taken. Species-to-species landings limit ratios have been thoroughly examined in the bycatch model mentioned earlier, and are re-examined each year as new observer program data become available. And, NMFS has implemented a suite of coastwide marine protected areas known collectively as the GCAs, in which different types of groundfish fishing activities are prohibited.

Some of NMFS's bycatch minimization measures are provided in the FMP and others have been implemented through regulatory action. NMFS has been exploring whether to include more of these measures, as well as new bycatch reduction measures, into the FMP through a draft programmatic EIS on its bycatch reduction program (69 FR 9313, February, 27, 2004). In winter 2004-2005, NMFS will work with the Council to develop amendatory language for the FMP that comports with the Council's preferred alternative from the FEIS. NMFS anticipates that this FMP amendment, which will likely be numbered Amendment 18, will be made available to the public in the Council process this fall and through the Magnuson-Stevens Act public notice-and-comment process in 2005.

2005-2006 Fishery Management Measures

As in past years, the Council's overriding goal in developing the fishery management measures for 2005-2006 was to meet overfished species rebuilding plan objectives for those years. On April 30, 2004 (69 FR 23667), NMFS declared the Pacific whiting biomass to be above BMSY, which leaves eight West Coast groundfish species characterized as overfished. Overfished species rebuilding plans for each species are discussed earlier in this document. Within the constraints of protecting overfished species, the Council's management measures recommendations are also intended to allow fishery participants as much access to healthy stocks as possible.

Of the management measures intended to protect overfished species, protective measures for canary rockfish coastwide, yelloweye rockfish north of 40° 10′ N. lat., and bocaccio south of 40° 10′ N. lat. are the most constraining. Canary rockfish and bocaccio in particular are caught in a wide array of fisheries and are distributed broadly on the continental shelf. For 2005-2006, the Council has recommended continuing the use of RCAs that are gear specific and which close groundfish fishing over much of the continental shelf. As in 2004, there will be separate RCA closures for commercial trawl fisheries, commercial nontrawl fisheries, and recreational fisheries. These gear- and sector-specific closures are intended to reflect the varied effects that each sector has on particular overfished species. For example, yelloweye rockfish is a northern species that is taken almost exclusively with hook-and-line gear. As a result, the Washington recreational fisheries are still prohibited within the YRCA and nontrawl commercial fisheries are prohibited over northern continental shelf areas where yelloweye rockfish are commonly found. Limited entry vessels will continue to be monitored for compliance with RCA requirements by the West Coast vessel monitoring system (VMS). The Council plans to discuss expanding VMS requirements to the open access fisheries at its September and November 2004 meetings.

In addition to RCAs for the commercial and recreational fisheries, routine management measures for commercial groundfish fisheries will continue to include trip limits, size limits, differential trip limits by gear type, and closed seasons. The recreational fisheries will use these same management measures, with bag limits in lieu of trip limits, plus boat limits, hook limits, and dressing requirements. On August 3, 2004 (69 FR 46448), NMFS published an emergency rule to establish routine management measures authority to close the whiting primary season fisheries by sector before the sector's whiting allocation is reached, to minimize impacts on overfished species. The action established a mechanism that can be used to quickly close the commercial whiting primary season fisheries if NMFS estimates that the incidental catch of an overfished species is too high. With this rule, NMFS is proposing to provide that same routine authority in 2005 and beyond. Also new for 2005 and beyond is a bycatch-reducing gear requirement for trawlers operating north of 40° 10′ N. lat., which is explained below in the section on Limited Entry Trawl Fishery Management Measures.

In addition to the management measures recommended by the Council, NMFS is proposing with this rule to prohibit the transfer of fish at sea, except for vessels participating in either the catcher-processor or mothership sectors of the whiting fisheries. At-sea transfers of groundfish are not traditional in West Coast fisheries and the fisheries data-gathering systems are not designed to accommodate the transfer and purchase of groundfish at-sea. West Coast groundfish landings, except for in the at-sea whiting fishery, are monitored as they are landed on shore. NMFS is proposing this measure to improve enforcement of landings limits and to better ensure that groundfish entering the market are tracked and accounted for.

The management measures proposed in this rule are only one piece of the overall management strategy for West Coast groundfish. NMFS will continue to require vessels to carry and operate VMS units to monitor fishing locations, and to carry observers when requested by NMFS. NMFS and the states will be conducting up to 23 stock assessments over the next two years, which will inform the 2007-2008 specifications and management measures process and provide a gauge for rebuilding progress. In December 2003, NMFS implemented a trawl vessel and permit buyback program that reduced fleet participation by about 35 percent. The agency will continue to work with the Council to craft capacity reduction measures for the different sectors of the fleet. Also in 2005, NMFS plans to complete an environmental impact statement EIS (EIS) on West Coast groundfish essential fish habitat. Information in this EIS should be useful to the Council in evaluating and improving its overfished species rebuilding measures and in setting its 2007-2008 management measures.

As discussed in the introductory Background text for this notice, NMFS has reorganized its regulations at 50 CFR 660 subpart G to accommodate codifying the fishery specifications and management measures into the Code of Federal Regulations. Routine management measures, as identified at § 660.370 and implemented in §§ 660.381 through 660.385 and in Tables 3-5 of subpart G, will continue to be available for revision through the inseason management process. Overfished species rebuilding parameters, which were formerly at § 660.370, are now at § 660.365. Overall fishery management measures are found at § 660.370. In addition to the fishery-specific management measures provided in §§ 660.381 through 660.385 and Tables 3-5 of subpart G, NMFS plans to continue its past practice of implementing separate management measures for black rockfish, sablefish, and Pacific whiting fisheries. Management measures specific to the black rockfish fisheries are found at § 660.371. Management measures for the nontrawl sablefish fisheries are found at § 660.372, although daily/weekly sablefish limits are found in Tables 4 and 5 (North) and Tables 4 and 5 (South) of subpart G. Management measures for the primary Pacific whiting season are found at § 660.373, although trip limits for vessels operating outside of the primary season are found in Tables 3 (North) and (South) of Subpart G. Coordinates bounding the Groundfish Conservation Areas are found at §§ 660.390 through 660.394.

Limited Entry Trawl Fishery Management Measures

Limited entry trawl fishery management measures for 2005-2006 reflect recent changes in the composition of the trawl fleet and information about its activities. As discussed earlier in this notice, NMFS has incorporated a second year's worth of observer data into the trawl bycatch model. Using this second year of data allows the model to better characterize the fishery by seasons by comparing data between years. This model stability allows NMFS to develop trawl trip limits that reflect co-occurrence ratios between healthy target species and overfished species, and which vary based on the size of the trawl RCA. Trawl trip limits are moderately higher than in recent years, largely because the trawl vessel/permit buyback program reduced the number of vessels participating in the fishery by about 35 percent. With fewer vessels participating in the fishery, each individual vessel may be allowed to access higher trip limits. Flatfish trawl trip limits for vessels using small footrope trawl gear shoreward of the trawl RCA and north of 40° 10′ N. lat. are higher than in recent years in part because NMFS is proposing to require trawlers to use gear that reduces rockfish bycatch in this area. The CDFG is conducting an experiment in 2004 with this same gear to determine whether it could be effective in reducing rockfish bycatch in flatfish trawl fisheries that occur south of 40° 10′ N. lat.

Of the overfished species found north of 40°10′ N. lat., the trawl RCA is designed primarily to protect canary rockfish, although its location also provides protection for other, northern overfished species such as widow, yelloweye and darkblotched rockfishes and lingcod. The trawl RCA has an eastern boundary of coordinates approximating 75 fm (137 m) in the winter months of January-February and November-December, and eastern boundary of coordinates approximating 100 fm (183 m) in March-October, and a western boundary of coordinates approximating 150 fm (274 m) throughout the year. Flatfish tend to aggregate for spawning in the winter and may be harvested during winter months with lower bycatch of non-target species. Trawl trip limits for flatfish are set higher during the winter months to allow vessels to target flatfish species OYs during times when bycatch of overfished species is lower.

Throughout the year, flatfish trip limits are lower shoreward of the trawl RCA than offshore of the RCA. Canary rockfish are most commonly distributed in 50-100 fm (91-183 m) depths, which means that vessels operating inshore of the RCA are more likely to encounter canary rockfish than those operating seaward of the RCA. To reduce incidental take of canary rockfish shoreward of the RCA, vessels operating in the area north of 40° 10′ N. lat. are required to use selective flatfish trawl gear. Selective flatfish trawl gear catches flatfish with lower rockfish bycatch rates; therefore, the flatfish limits north of 40°10' N. lat. are higher than they would have been without this gear requirement. Because canary rockfish is more likely to be taken in the flatfish fisheries than in the deepwater complex fisheries, the trawl RCA is larger during the winter months, when trawl vessels are provided more flatfish fishing opportunities.

Seaward of their RCA, trawlers north of 40° 1′' N. lat. target continental slope species in addition to flatfish species. Continental slope species include DTS complex species, minor slope rockfish, and POP. Of these, darkblotched rockfish (a minor slope rockfish species) and POP are considered overfished. DTS complex species 2005-2006 limits are most constrained by the need to keep the fisheries within the shortspine thornyhead OY. Minor slope rockfish and POP limits are set at levels that are expected to allow vessels targeting DTS species to retain their incidentally caught slope rockfish. Because the trawl RCA includes areas of slope rockfish abundance and because the shortspine thornyhead OY constrains DTS complex fishing, NMFS expects 2005-2006 darkblotched rockfish and POP catch to stay well below the OYs for those species. DTS limits for 2005-2006 will be higher during the summer months when vessels have less access to flatfish. As in past years, trawl vessels are only permitted to use large footrope gear seaward of their RCA, but prohibited from using large footrope gear shoreward of the RCA.

Canary rockfish rebuilding requirements and the shortspine thornyhead OY are also the most constraining factors for the trawl fishery south of 40° 10′ N. lat. Canary rockfish is a shelf rockfish species, like bocaccio, and NMFS expects that management measures to protect canary rockfish will constrain the fisheries such that the bocaccio OY is not achieved in 2005 or 2006. Off the mainland coast of California, the trawl RCA boundaries are similar to those north of 40° 10′ N. lat.: bounded by coordinates approximating 75 and 150 fm (137 and 274 m) in January-February and November December, and by coordinates approximating 100 and 150 fm (183 and 274 m) in March-October. Between 40° 10′ N. lat. and 34° 27′ N. lat., the State of California also prohibits trawling between the shoreline and the 10 fm (18 m) depth contour around the Farallon Islands. South of 34° 27′ N. lat., the trawl RCA around islands extends from the shoreline to a boundary approximating the 150 fm (274 m) depth contour. As in past years, groundfish trawling will be prohibited within the Cowcod Conservation Areas (CCAs), defined at §§ 660.390 through 660.394.

Trawl management measures for flatfish trawl fisheries south of 40° 10° N. lat. are similar to those set for the northern area. Landings limits are higher and the trawl RCA is more restrictive during winter months to allow vessels access to more abundant flatfish stocks during their aggregation period without increasing overfished species bycatch. Trawlers who operate south of 40° 10′ N. lat. requested that the Council develop continental slope species limits that were the same for each two-month cumulative period throughout the year, within the constraints of the shortspine thornyhead OY. Southern area trawlers have less dangerous winter weather than those operating north of 40° 10′ N. lat., thus are more able to choose a management strategy of unchanging landings limits within the constraints of overfished species rebuilding requirements. Because management measures that protect canary rockfish will also notably restrict the incidental catch of bocaccio, the Council is allowing some targeting of a healthy stock that co-occurs with bocaccio, chilipepper rockfish. Vessels that target chilipepper with large footrope gear seaward of the RCA or with midwater trawl gear will be allowed higher chilipepper landings limits in May-August.

Taken as a whole, trawl management measures to protect canary rockfish are also expected to provide protections to co-occurring overfished species coastwide. Continental shelf overfished species (lingcod, bocaccio, cowcod, widow rockfish, and yelloweye rockfish) will be protected by RCAs and trip limit structures intended to constrain the incidental catch of canary rockfish. Cowcod will continue to be protected by CCA closures off the Southern California Bight. While lingcod is not yet rebuilt, it is abundant enough that it no longer constrains fisheries for co-occurring species. Trawl limits for lingcod are still at incidental take levels to discourage vessels from targeting lingcod.

Widow rockfish will also benefit from some management measures to protect canary rockfish; however, widow rockfish is commonly taken in midwater trawl fisheries and requires additional protective management measures. Coastwide, landings limits for continental shelf rockfish are kept at incidental levels for bottom trawl gear, except for the chilipepper opportunity described earlier. North of 40° 10′ N. lat., where widow rockfish are more commonly found, NMFS proposes to provide incidental widow rockfish landings limits for the primary whiting midwater trawl fishery. In 2004, NMFS set the Pacific whiting OY much lower than the stock's abundance would have allowed in order to protect co-occurring widow rockfish (69 FR 23367, April 30, 2004). NMFS anticipates setting the 2005 and 2006 Pacific whiting OYs such that the whiting harvest levels continue to be constrained by the amount of widow rockfish available for incidental retention.

Management measures for the limited entry trawl fishery, including gear requirements, are found at § 660.381, with management measures specific to the primary Pacific whiting season found at § 660.373. Trawl trip limits are found in Table 3 (North) and Table 3 (South) of Subpart G of Part 660.

Limited Entry Fixed Gear Fishery Management Measures

Like their trawler counterparts, participants in the limited entry fixed gear fishery have their fishing opportunities most constrained by the need to protect canary rockfish. Darkblotched rockfish and POP are not as much of a concern for nontrawl gear, as these species are almost exclusively taken with trawl gear. Yelloweye rockfish, however, tends to be more susceptible to hook-and-line gear than to trawl gear. Thus, the Council developed management measures for nontrawl fisheries primarily oriented at protecting canary rockfish coastwide, yelloweye rockfish north of 40° 10′ N. lat., and bocaccio and cowcod south of 40°10' N. lat.

The nontrawl RCA, which applies to both limited entry and open access nontrawl gear, would have the same boundaries in 2005-2006 as it had in 2004. Between the U.S. border with Canada and 46° 16′ N. lat. (Washington/Oregon border), the nontrawl RCA extends from the shoreline to a boundary approximating the 100 fm (183 m) depth contour. Between 46° 16′ N. lat. and 40° 10′ N. lat., the nontrawl RCA lies between boundaries approximating the 30 fm (55 m) and 100 fm (183 m) depth contours. Between 40° 10′ N. lat. and 34° 27′ N. lat., the shoreward boundary of the nontrawl RCA is a line approximating the 30 fm (55 m) depth contour in January-April and September-December) and the 20 fm (37 m) in May-August. Throughout the year, the western boundary of the nontrawl RCA for the area between 40° 10′ N. lat. and 34° 27′ N. lat. is a boundary approximating the 150 fm depth contour. South of 34° 27′ N. lat., the nontrawl RCA lies between boundaries approximating the 60 fm (110 m) and 150 fm (274 m) depth contours. These RCA boundaries are intended to encourage the nontrawl fleets to fish off of the continental shelf, to protect overfished shelf species susceptible to nontrawl gear. Bocaccio is more frequently caught between 40° 10′ N. lat. and 34° 27′ N. lat. than south of 34° 27′ N. lat., thus the Council proposed a more broad closed area for waters off the central California coast. The CCAs off the Southern California Bight will again be closed to commercial groundfish fishing to prevent vessels from fishing in areas of higher cowcod abundance.

Landings limits for the limited entry fixed gear fleet north of 40°10' N. lat. provide vessels with access to continental slope and nearshore species, while closing access to continental shelf species. Retention of canary and yelloweye rockfish is prohibited throughout the year. As in past years, landing lingcod will be prohibited in January-April and in November-December to protect lingcod during their spawning and nest-guarding season.

For waters south of 40° 10′ N. lat., the Council also developed landings limits intended to draw vessels away from continental shelf species. Retention of canary rockfish, yelloweye rockfish, and cowcod is prohibited throughout the year and only minimal levels of bocaccio retention are permitted. Also similar to the northern area, lingcod retention is only permitted during May-October. Unlike in 2004, closed seasons in the southern area would be aligned both north and south of 34°27' N. lat. Landings of minor nearshore, minor shelf, bocaccio, widow, and yellowtail rockfish, as well as of California scorpionfish will be prohibited in March-April from 40°10' N. lat to the U.S. border with Mexico.

As discussed earlier in the section on bycatch and discard management, NMFS has developed a new bycatch model for the limited entry primary sablefish season. This model indicates somewhat lower overfished species bycatch rates in the primary sablefish season than the agency had previously estimated. However, the sablefish stock assessment, which was prepared in 2001 and updated for 2002, indicates a declining ABC/OY for sablefish over 2005-2006. Thus the limited entry sablefish tier limits will be lower in 2005 than in 2004 and lower again in 2006. The proposed tier limits for 2005 are: Tier 1 at 64,100 lb (29,075 kg), Tier 2 at 29,100 lb (13,200 kg), and Tier 3 at 16,600 lb (7,530 kg). The proposed tier limits for 2006 are: Tier 1 at 62,700 lb (28,440 kg), Tier 2 at 28,500 lb (12,927 kg), and Tier 3 at 16,300 lb (7,394 kg). The primary sablefish season is open from April 1 through October 31, north of 36° N. lat. Both north and south of 36° N. lat., the daily and/or weekly sablefish trip limits are proposed to be the same in 2005 and 2006 as in 2004. The daily trip limit fishery often does not reach its full allocation, so NMFS does not expect that allowing the same landings limits as in 2004 will risk exceeding the sablefish OY. These and all other landings limits may be adjusted inseason to keep catch within allowable levels.

Management measures for the limited entry fixed gear fishery, including gear requirements, are found at § 660.382, with management measures specific to the primary sablefish season found at § 660.372. Trip limits are found in Table 4 (North) and Table 4 (South) of Subpart G of Part 660.

Open Access Nontrawl Gear (Hook-and-Line, Troll, Pot, Setnet, Trammel Net) Fisheries Management Measures

The open access nontrawl fishery is managed separately from the limited entry fixed gear fishery, but overfished species protection measures are similar for both sectors. The nontrawl RCA boundaries that apply to the limited entry fixed gear fleet also apply to the open access nontrawl fleet, as do the CCAs. Also similar to the limited entry fleet, greater landings limits are provided for continental slope and nearshore species, with closed seasons and lower limits for continental shelf species, including the same closed periods for lingcod as in the limited entry fixed gear fisheries. North of 40° 10′ N. lat., salmon trollers will be permitted to retain and land up to 1 lb (.45 kg) of yellowtail rockfish for every 2 lb (.9 kg) of salmon landed, up to 200 lb (91 kg) per month, both within and outside of the RCA. As in past years, thornyheads may not be taken or retained in the open access fisheries north of 34° 27′ N. lat.

Open access cumulative limits may sometimes be set higher than those for limited entry vessels. If a vessel with a limited entry permit uses open access gear (including nongroundfish trawl gear) and the open access cumulative limit is larger, the vessel will be constrained by the smaller limited entry cumulative limit for the entire cumulative limit period. Management measures for the open access fisheries, including gear requirements, are found at § 660.383. Trip limits are found in Table 5 (North) and Table 5 (South) of Subpart G of Part 660.

Open Access Non-Groundfish Trawl Gear Fisheries Management Measures

Open access non-groundfish trawl gear (used to harvest ridgeback prawns, California halibut, sea cucumbers, and pink shrimp) is managed with “per trip” limits, cumulative trip limits, and area closures. These trip limits are similar to those in 2004. The species-specific open access limits apply but vessels may not exceed overall groundfish limits. As in past years, the pink shrimp fishery is subject to species-specific limits that are different from other open access limits for lingcod and sablefish. As in past years, thornyheads may not be taken or retained in the open access fisheries north of 34° 27′ N. lat.

Trawling with open access non-groundfish gear for pink shrimp will be permitted within the trawl RCA; however, the states require pink shrimp trawlers to use finfish excluder devices to reduce their groundfish bycatch, particularly to protect canary and other rockfishes. Off California, trawling for ridgeback prawns, California halibut, and sea cucumber is prohibited within the trawl RCA. All open access trawlers, except for those trawling for pink shrimp coastwide and ridgeback prawns south of 34° 27′ N. lat. are subject to the same trawl RCA boundaries. South of 34°27′ N. lat., ridgeback prawn trawl vessels, which operate in flat bottom areas, are subject to an RCA closure between boundaries approximating the 100 fm (183 m) and 150 fm (274 m) depth contours. These finfish excluders and RCA restrictions off California are particularly intended to protect southern and coastwide overfished species such as bocaccio, cowcod, canary rockfish, and lingcod. Cowcod prohibitions and closures continue to apply to all open access vessels. Management measures for the open access fisheries, including gear requirements, are found at § 660.383. Trip limits are found in Table 5 (North) and Table 5 (South) of subpart G of part 660.

Recreational Fisheries Management Measures

Recreational fisheries management measures are designed to protect overfished and nearshore species while also allowing favorable fishing seasons. Overfished species that tend to be vulnerable to recreational fisheries are lingcod, bocaccio, cowcod, and canary and yelloweye rockfish. Because sport fisheries are more concentrated in nearshore waters, the 2005-2006 recreational fishery management measures are also intended to provide protections for nearshore species such as black rockfish and cabezon. These protections are particularly important for fisheries off California, where the bulk of West Coast recreational fishing tends to occur. Washington, Oregon, and California each proposed, and the Council recommended, different combinations of seasons, bag limits, and size limits to best fit the needs and constraints of their recreational fisheries.

Off Washington, recreational fishing for groundfish and halibut will continue to be prohibited inside the YRCA, a C-shaped closed area off the northern Washington coast. Coordinates for the YRCA are defined at 50 CFR 660.390. The groundfish bag limit off Washington will remain the same as in 2004: 15 aggregate bottomfish bag limit; 10 rockfish sub-limit with no retention of canary or yelloweye rockfish; 2 lingcod sub-limit, with a minimum size of 24 inches (61.4 cm). The lingcod seasons in 2005 and 2006 will be the same as in 2004, beginning on the Saturday in March closest to March 15th, and ending on the Saturday in October closest to October 15th. In 2005, recreational fishing for lingcod off Washington will be open from March 12 through October 15. In 2006, recreational fishing for lingcod will be open from March 18 through October 14. If the recreational harvest guideline for canary rockfish, yelloweye rockfish, or lingcod specified for the Washington/Oregon area is projected to be exceeded, the Washington Department of Fish and Wildlife (WDFW) will consult with ODFW on whether to take inseason action to adjust recreational fishery management measures or close all or parts of the recreational fisheries inseason.

Off Oregon, recreational fishing for groundfish will be depth-restricted June through September, when the fishery will be closed offshore of a boundary approximating the 40 fm (73 m) depth contour. Recreational fisheries participation is heaviest during these months and this closure is intended to move the groundfish fisheries inshore of the continental shelf to protect canary and yelloweye rockfish. Recreational fisheries off Oregon will retain their 10-marine fish bag limit, which includes all rockfish, greenling species, cabezons, and other marine species, but excludes salmon, lingcod, halibut, perches, sturgeon, sanddabs, striped bass, tuna, and baitfish. As in waters off Washington, retention of yelloweye and canary rockfish will be prohibited. The lingcod bag limit will remain at 2 fish per day, and the size limit will remain at 24 inches (61.4 cm). As discussed in the paragraph on Washington recreational fisheries, ODFW plans to consult with WDFW on inseason actions if canary rockfish, yelloweye rockfish, or lingcod harvest guidelines are projected to be exceeded.

The California Department of Fish and Game (CDFG) and its recreational fisheries constituents developed a series of management measures intended to constrain the recreational fisheries enough to keep total mortality within appropriate set asides and harvest guidelines. For 2005-2006, the Council adopted CDFG's recommendation to divide the recreational fisheries off California into four separate regions: the Oregon/California border to 40°10′ N. lat.; 40°10′ N. lat. to 36° N. lat.; 36° N. lat. to 34° 27′ N. lat., and; 34°27′ N. lat. to the U.S./Mexico border. Season and area closures differ between California regions to better protect overfished species according to where those species occur and where fishing effort is strongest. In addition to the region-specific management measures, the Council has proposed a California-wide combined bag limit for the Rockfish-Cabezon-Greenling complex of 10 fish per day. Bag limits are only available when seasons are open. Fishing for lingcod will be closed California-wide in January-March and in December to protect lingcod during its spawning and nesting season. As in Oregon and Washington, there will be a 2-fish lingcod bag limit and a size limit of 24 inches (61.4 cm) for sport fisheries off California. The season and area closures described below would apply only to ocean fishing vessels, not to divers or to shore-based anglers.

Between the Oregon/California border (42° N. lat.) and 40°10′ N. lat., the recreational fishery will be open July through October in waters shallower than a boundary approximating the 40 fm (73 m) depth contour. Between 40°10' N. lat. and 36° N. lat., the recreational fishery will be open July through November, in waters shallower than a boundary approximating the 20 fm (37 m) depth contour. These northern California waters seasons and area closures are intended to protect lingcod and canary rockfish, as well as to limit the catch of black rockfish. The more shallow closure between 40°10′ N. lat. and 36° N. lat. is also intended to move vessels inshore of areas of greater bocaccio concentration.

Between 36° N. lat. and 34°27′ N. lat., the fishery will be open May through September in waters between two boundaries approximating the 20 fm (37 m) and 40 fm (74 m) depth contours. South of 34°27′ N. lat. to the U.S. border with Mexico, the fishery will be open from March through June, in waters between two boundaries approximating the 30 fm (55 m) and 60 fm (110 m) depth contours. In this same region, the fishery will continue to be open from July through September in waters shallower than a boundary approximating the 40 fm (74 m) depth contour. These time and area closures are intended to protect canary rockfish in the southern edge of its range and to protect bocaccio. Cowcod continue to be protected in the area south of 34°27' N. lat. by the CCAs, which are closed throughout the year to recreational fishing for groundfish.

In the past few years, CDFG and NMFS have had to implement inseason management measures changes for the recreational fisheries to constrain fishing effort. Because there are over half a million anglers participating in California's recreational fisheries, it is often challenging for CDFG to ensure that all anglers are apprized of changes to management measures. CDFG proposed for 2005-2006 a package of management measures to strongly constrain their recreational fisheries in part to reduce the chance that it will later need to restrict the fishery and to ensure that participants know of the new restrictions. CDFG hopes that with their proposed package of restrictions there will be either no need for inseason actions, or only a need to liberalize management measures inseason. In March 2004, CDFG launched its new California Recreational Fisheries Survey (CRFS), which is intended to replace the Federal Marine Recreational Fisheries Statistical Survey (MRFSS). CDFG has been using new survey techniques to assess recreational fisheries catch and expects to begin releasing CRFS data in fall 2004. The MRFSS survey of recreational fisheries was designed to provide broad annual data on the recreational fisheries. CRFS, by contrast, is intended in part to support inseason tracking and management of recreational fisheries. CDFG anticipates reviewing its CRFS data and the 2005 and 2006 season structures as the seasons progress to ensure that management measures are adequately restrictive to protect overfished and other groundfish species.

Management measures for recreational fisheries off all three West Coast states are found at § 660.384.

Washington Coastal Tribal Fisheries Management Measures

In 1994, the United States formally recognized that the four Washington coastal treaty Indian tribes (Makah, Quileute, Hoh, and Quinault) have treaty rights to fish for groundfish in the Pacific Ocean, and concluded that, in general terms, the quantification of those rights is 50 percent of the harvestable surplus of groundfish that pass through the tribes' usual and accustomed fishing areas (described at 50 CFR 660.324).

For those species with tribal allocations, the tribal allocation is subtracted from the species OY before limited entry and open access allocations are derived. The tribal fisheries for sablefish, black rockfish, and whiting are separate fisheries and are not governed by the limited entry or open access regulations or allocations. The tribes regulate these fisheries so as to not exceed their allocations.

The tribal harvest guideline for black rockfish is the same in 2005 and 2006 as it was in 2004. Also similar to 2004, the tribal sablefish allocation is 10 percent of the total catch OY north of 36° N. lat., less 2.3 percent for estimated discard mortality. For 2005, the tribal sablefish allocation is 748.6 mt, less 17.2 mt for discard mortality, or 731.4 mt. For 2006, the tribal sablefish allocation is 736.3 mt, less 16.9 mt for discard mortality, or 719.4 mt.

From 1999 through 2004, the tribal whiting allocation has been based on a methodology originally proposed by the Makah Tribe in 1998. The methodology is an abundance-based sliding scale that determines the tribal allocation based on the overall U.S. OY, up to a maximum 17.5 percent tribal harvest ceiling at OY levels below 145,000 mt. The tribes have proposed using the same methodology in 2005 and 2006, and the allocation will be calculated based on that methodology once the final whiting OY is determined. No other tribes have proposed to harvest whiting in 2005 or 2006.

The sliding scale methodology used to determine the treaty Indian share of Pacific whiting is the subject of ongoing litigation. In United States v. Washington, Subproceeding 96-2, the Court held that the methodology is consistent with the Magnuson-Stevens Act, and is the best available scientific method to determine the appropriate allocation of whiting to the tribes. United States v. Washington, 143 F.Supp.2d 1218 (W.D. Wash. 2001). This ruling was reaffirmed in July 2002, Midwater Trawlers Cooperative v. Daley, C96-1808R (W.D. Wash.) (Order Granting Defendants' Motion to Supplement Record, July 17, 2002), and again in April 2003, id., Order Granting Federal Defendants' and Makah's Motions for Summary Judgment and Denying Plaintiffs' Motions for Summary Judgment, April 15, 2003. The latter ruling has been appealed to the Ninth Circuit, but no decision has been rendered as yet. At this time NMFS remains under a Court order in Subproceeding 96-2 to continue use of the sliding scale methodology unless the Secretary of Commerce finds just cause for its alteration or abandonment, the parties agree to a permissible alternative, or further order issues from the Court. Therefore, NMFS is obliged to continue to use the methodology unless one of the events identified by the Court occurs. Since NMFS finds no reason to change the methodology, it has been used to determine the 2005-2006 tribal allocations.

In addition, with respect to the 2005-2006 treaty Indian allocations of Pacific whiting, NMFS has reviewed the scientific information set forth in the Declaration of William L. Robinson dated April 26, 2002, and the Declaration of Dr. Richard D. Methot, Jr., dated April 18, 2002, which were submitted with the Federal Defendants' Statement Regarding Remand in Midwater Trawlers Cooperative v. Department of Commerce, No. C99-1415BJR and No. C99-1500BJR (Consolidated) (W.D. Wash.). NMFS has no additional information that would change the conclusions in these declarations on the distribution and migratory pattern of the stock. Therefore, NMFS is relying on the information in those declarations as the best scientific information currently available. Accordingly, NMFS finds that the 2005-2006 treaty Indian allocations of Pacific whiting, which are based on the sliding scale methodology that has been in use since 1999, are based on the best scientific information available, and are within the Indian treaty right as described in Midwater Trawlers Cooperative v. Department of Commerce, 282 F.3d 710, 718 (9th Cir. 2002). NMFS has rejected and continues to reject the so-called “biomass” method of calculating the treaty right. As stated in U.S. v. Washington, Subproceeding 96-2, 143 F. Supp.2d 1218, 1223-1224 (W.D. Wash. 2001), the biomass method is not required for conservation and underestimates the quantity of fish that pass through the tribal usual and accustomed fishing grounds, and hence it cannot serve as the basis for calculating the treaty share. Also, application of the biomass method to calculate the treaty Indian allocation of Pacific whiting would illegally discriminate against tribal fishing interests, since the biomass method is not used in management of the non-treaty fishery. Id.; also see Makah v. Brown, C85-1606R, Order on Five Motions Relating to Treaty Halibut Fishing at 6 (W.D.Wash. Dec. 29, 1993).

For some species, on which the tribes have a modest harvest, no specific allocation has been determined. Rather than try to reserve specific allocations for the tribes, NMFS is establishing trip limits recommended by the tribes and the Council to accommodate modest tribal fisheries. For lingcod, all tribal fisheries are restricted to 600 lb (272 kg) per day and 1,800 lb (816 kg) per week, except for in the treaty salmon troll fishery, which would be limited to 1,000 lb (454 kg) per day and 4,000 lb (1,814 kg) per week. Tribal fisheries will be managed to a 50 mt lingcod harvest guideline in 2005 and 2006, although tribal fisheries may take as much as 100 mt if they determine that they are able to fish in times and areas where additional lingcod harvest does not result in increased take of canary rockfish above the level the tribes have projected will be taken in 2005 and 2006 (i.e., 2.6 mt each year in tribal non-whiting fisheries).

For rockfish species, the 2005-2006 tribal longline and trawl fisheries will operate under trip and cumulative limits. Tribal fisheries will operate under a 300 lb (136 kg) per trip limit each for canary rockfish, thornyheads, and the minor rockfish species groups (nearshore, shelf, and slope), and under a 100 lb (45 kg) per trip limit for yelloweye rockfish. A 300 lb per trip (136 kg) limit for canary rockfish is expected to result in landings of 3.1 mt in both 2005 and 2006. A 300 lb (136 kg) per trip limit for thornyheads is expected to result in landings of 6.7 mt in 2005 and 6.6 mt in 2006. Other rockfish limits are expected to result in the following landings levels: widow rockfish, 40 mt in both years; yelloweye rockfish, 2.4 mt in both years; yellowtail rockfish, 506 mt in both years; minor shelf rockfish excluding yelloweye, 1.3 mt in both years; minor slope rockfish, 23.5 mt. Trace amounts (<1 mt) of minor nearshore rockfish, POP, and darkblotched rockfish may also be landed in tribal commercial fisheries. For 2005 and beyond, tribal fishing regulations as recommended by the tribes and the Council and adopted by NMFS will be found in Federal regulations at 50 CFR 660.385.

Fishing Communities and Impacts

The Magnuson-Stevens Act requires that actions taken to implement FMPs be consistent with the 10 national standards, one of which requires that conservation and management measures shall, consistent with the conservation requirements of the Act, “take into account the importance of fishery resources to fishing communities in order to (A) provide for the sustained participation of such communities and, (B) to the extent practicable, minimize adverse economic impacts on such communities.”

Fishing communities that rely on the groundfish resource and people who participate in the groundfish fisheries have weathered many regulatory changes in recent years. NMFS and the Council introduced the first overfished species rebuilding measures in 2000, which severely curtailed the fisheries from previous fishing levels. Since then, NMFS has implemented numerous management measures and regulatory programs intended to rebuild overfished stocks and to better monitor the catch and bycatch of all groundfish species. These programs are expected to improve the status of West Coast groundfish overfished stocks over time and, by extension, the economic health of the fishing communities that depend on those stocks. Initially, however, the broad suite of new regulatory programs that NMFS has introduced since 2000 have: reduced overall groundfish harvest levels, increased costs of participating in the fisheries, and caused confusion for fishery participants trying to track new regulatory regimes.

For participants in and communities that depend on the trawl fisheries, fishing opportunities will be improved in 2005-2006 over 2003-2004. In December 2003, NMFS bought 91 trawl vessels and their Federal groundfish permits out of the fishery. This buyback reduced the fleet by about 35 percent, allowing increased landings limits for the remaining vessels. The Council developed trawl landings limits for 2005 and 2006 based on the trawl bycatch model. In 2005, the trawl bycatch model will be in its fourth year of use in the fisheries. The model includes more observer data and more recent fisheries data than in past years, which has stabilized estimated bycatch rates from past years' model estimates. Additionally, the Council has recommended a bycatch-reducing gear requirement for the trawl fisheries. The selective flatfish trawl net will be required for use in waters shoreward of the RCA north of 40°10° N. lat. This net has lower rockfish bycatch rates than traditional trawl gear, allowing the Council to set higher landings limits for the more abundant flatfish species that tend to co-occur with some overfished rockfish species. Some trawlers required to use selective flatfish trawl gear will be able to modify their current nets to meet the gear requirements, while others may need to purchase new nets to comply with the regulations. Between a reduced trawl fleet, a stabilized bycatch model, and reduced bycatch rates with the new gear requirements, trawlers will have higher target species fishing opportunities in 2005-2006 than in recent past years. Communities with processing facilities where trawlers make landings, such as Westport, Washington; Astoria and Newport, Oregon; and San Francisco and Moss Landing/Monterey, California, may expect to benefit from higher trawl landings limits in 2005-2006.

Landings limits in the limited entry fixed gear and open access commercial fisheries are proposed to remain stable from 2004 levels. Although the sablefish OY in 2005 is lower than in 2004 and lower still in 2006, estimated bycatch rates based on observer data are lower than NMFS's previous bycatch assumptions for the primary sablefish fishery. Thus, tier limits are lower in accordance with the lower OYs, but higher than they would have been before NMFS incorporated observer data into a model specific to this fishery. Communities that tend to receive non-trawl commercial landings, such as Bellingham and Neah Bay, Washington; Newport and Port Orford, Oregon; and Moss Landing and Crescent City, California may expect to see stable non-trawl landings levels through 2006.

Similar to the non-trawl commercial fleet, the recreational fisheries off Washington and Oregon are proposed to have the same management measures in 2005 and 2006 as in 2004. Groundfish taken in the northern recreational fisheries is often caught by anglers who are primarily targeting more glamorous trophy species, such as salmon or halibut. Thus the economic benefits to charter operations and the social benefits to all anglers of a stabilized groundfish fishery may be affected by as-yet-undetermined 2005-2006 salmon and halibut harvest levels. Coastal communities like Neah Bay, Westport, and Ilwaco, Washington, and Garibaldi, Newport, and Charleston, Oregon support recreational fishing interests and should benefit from the stable groundfish management regime.

Groundfish are available to marine anglers along the length of California's coast, but species composition varies with changing temperature and ecological regimes. California recreational fisheries have differing effects on groundfish abundance, depending on locally-available groundfish species and on alternative target non-groundfish species. For 2005 and 2006, the Council recommended California recreational fisheries measures intended to better tailor management to the species composition and angler participation in the different sections of California's coast. Off the northern coast, black rockfish and lingcod recreational catches have contributed significantly to excessive harvest in recent years. California's recreational fisheries north of 40°10′ N. lat. are proposed to be just four months in duration in 2005 and 2006, which may negatively affect charter operations and private anglers operating from communities such as Crescent City and Eureka. Between 40°10′ N. lat. and 36° N. lat., recreational fishing is dominated by anglers from the San Francisco Bay area. Recreational fishing ports such as Fort Bragg, Noyo River, Sausalito, Bodega Bay, Half Moon Bay, Santa Cruz, and Monterey will be open to groundfish fishing for a five month season. Between 36° N. lat. and 34°27′ N. lat., the recreational fisheries tend to affect more southern species, such as bocaccio. The fisheries in this area will be open for five months, affecting ports such as Morro Bay and Avila Beach. California's large southern cities lie south of 34°27′ N. lat., but recreational fisheries in this area tend to concentrate on big game fish like tuna. These southern fisheries take fewer groundfish, and thus are proposed to be open for seven months per year in 2005 and 2006. Recreational fishing ports south of 34°27′ N. lat. include Santa Barbara and the Channel Islands, Long Beach and Los Angeles, Dana Point, and San Diego.

The treaty tribal fisheries occur off the northern coast of Washington State. Neah Bay and Westport, Washington tend to receive the bulk of the tribal commercial groundfish landings. In 2005 and 2006, the tribal fisheries are expected to benefit from increased lingcod harvest levels and stabilized rockfish harvest levels. Treaty fisheries for sablefish and halibut catch the same overfished species as northern non-tribal hook-and-line fisheries. Thus, canary rockfish will be the constraining species for tribal fixed gear and trawl fisheries, with yelloweye rockfish protection measures also affecting tribal longline fisheries.

As described earlier in this document, NMFS has rearranged Federal groundfish regulations to make them more user-friendly. Groundfish regulations are separated by sector, so that there are new regulations sections for these sectors: limited entry trawl, limited entry fixed gear, open access, recreational, and tribal. NMFS and the Council are making efforts to improve their communication with the public and NMFS hopes that this reorganization will make its fishery regulations more accessible and easier to understand.

The Council prepared an EIS for this action, which includes a discussion of the economic and social effects of these specifications and management measures on coastal communities (see ADDRESSES).

Federal and State Jurisdiction

The management measures herein, as well as Federal regulations at 50 CFR part 660, subpart G, govern groundfish fishing vessels of the United States in the U.S. EEZ from 3-200 nautical miles offshore of the coasts of Washington, Oregon, and California. The States of Washington, Oregon, and California retain jurisdiction in state waters from 0-3 nautical miles offshore. This is true even though boundaries of some fishing areas cross between Federal and state waters. Under their own legal authorities, the states generally conform their state regulations to the Federal management measures, so measures that apply to Federal and state waters are the same. This is not true in every case, however, and fishers are advised to consult both state and Federal regulations if they intend to fish in both state and Federal waters.

Groundfish stocks are distributed throughout Federal and State waters. Therefore, the Federal harvest limits (OYs) include fish taken in both Federal and State waters, as do vessel trip limits for individual groundfish species. Other Federal management measures related to federally-regulated groundfish fishing also apply to landings and other shoreside activities in Washington, Oregon and California.

Revisions to Paperwork Reduction Act References in 15 CFR 902.1(b)

Section 3507(c)(B)(i) of the PRA requires that agencies inventory and display a current control number assigned by the Director, Office of Management and Budget (OMB), for each agency information collection. Section 902.1(b) identifies the location of NOAA regulations for which OMB approval numbers have been issued. Because this rule proposes to move gear identification regulations from § 660.310 to § 660.382, 15 CFR 902.1(b) is proposed to be revised to reference correctly the new section resulting from this regulations reorganization.

Classification

These proposed specifications and management measures for 2005-2006 are issued under the authority of, and are in accordance with, the Magnuson-Stevens Act, the FMP, and 50 CFR part 660 subpart G (the regulations implementing the FMP).

The Council prepared a DEIS for this proposed action; a notice of availability was published on August 27, 2004 (69 FR 52668). A copy of the DEIS is available on the Internet at www.pcouncil.org/nepa/nepatrack.html.

This proposed rule has been determined to be not significant for purposes of Executive Order 12866.

Pursuant to Executive Order 13175, this proposed rule was developed after meaningful consultation and collaboration with tribal officials from the area covered by the FMP. Under the Magnuson-Stevens Act at 16 U.S.C. 1852(b)(5), one of the voting members of the Pacific Council must be a representative of an Indian tribe with federally recognized fishing rights from the area of the Council's jurisdiction. In addition, regulations implementing the FMP establish a procedure by which the tribes with treaty fishing rights in the area covered by the FMP request new allocations or regulations specific to the tribes, in writing, before the first of the two meetings at which the Council considers groundfish management measures. The regulations at 50 CFR 660.324(d) further state “the Secretary will develop tribal allocations and regulations under this paragraph in consultation with the affected tribe(s) and, insofar as possible, with tribal consensus.” The tribal management measures in this proposed rule have been developed following these procedures. The tribal representative on the Council made a motion to adopt the tribal management measures, which was passed by the Council. Those management measures, which were developed and proposed by the tribes, are included in this proposed rule.

The Council prepared an IRFA that describes the impact this proposed rule, if adopted, would have on small entities. A description of the action, why it is being considered, and the legal basis for this action are contained in the preamble to this proposed rule. This proposed rule does not duplicate, overlap, or conflict with other Federal rules. A copy of this analysis is available from the Council (see ADDRESSES). A summary of the analysis follows.

NMFS is proposing the 2005-2006 specifications and management measures to allow West Coast commercial and recreational fisheries participants to fish the harvestable surplus of more abundant stocks, while also ensuring that those fisheries do not exceed the allowable catch levels intended to protect overfished and depleted stocks. The form of the specifications, in ABCs and OYs, follows the guidance of the Magnuson-Stevens Act, the national standard guidelines, and the FMP for protecting and conserving fish stocks. Fishery management measures include trip and bag limits, size limits, time/area closures, gear restrictions, and other measures intended to allow year-round West Coast groundfish landings without compromising overfished species rebuilding measures.

Approximately 1,700 vessels participated in the West Coast commercial groundfish fisheries in 2001. Of those, about 420 vessels were registered to limited entry permits issued for either trawl, longline, or pot gear. Of the remaining approximately 1,280 vessels, about 770 participated in the open access fisheries and derived more than 5 percent of their fisheries revenue from groundfish landings. All but 10-20 of the 1,700 vessels participating in the groundfish fisheries are considered small businesses by the Small Business Administration (SBA). Of the 732 fish buyers that purchased groundfish in 2000, all but 19 purchased less than $2 million worth of total harvest, the SBA indicator of a small processing business. In the 2001 recreational fisheries, there were 106 Washington charter vessels engaged in salt water fishing outside of Puget Sound, 232 charter vessels active on the Oregon coast, and 415 charter vessels active on the California coast. NMFS does not have data to determine whether these charter businesses may be characterized as “small businesses.” Although some charter businesses, particularly those in or near large California cities, may not be small businesses, all are assumed to be small businesses for purposes of this discussion.

The Council considered five alternative specifications and management measures regimes for 2005 and 2006: the no action alternative, which would have implemented the 2004 regime for 2005 and 2006; the low OY alternative, which set a series of conservative groundfish harvest levels that were either intended to achieve high probabilities of rebuilding within TMAX for overfished species or modest harvest levels for more abundant stocks; the high OY alternative, which set harvest levels that were either intended to achieve lower probabilities of rebuilding within TMAX for overfished species or higher harvest levels for more abundant stocks, within Council harvest parameters described earlier in this document; the medium OY alternative, which set harvest levels intermediate to those of the low and high alternatives, and; the Council OY alternative (preferred alternative,) which was the same as the medium OY alternative, but with more precautionary OY levels for lingcod, Pacific cod, cowcod, canary and yelloweye rockfish. Each of these alternatives included both harvest levels (specifications) and management measures needed to achieve those harvest levels, with the most restrictive management measures corresponding to the lowest OYs. The most notable difference between the Council's preferred alternative and the other alternatives is that alternative's requirement that trawl vessels operating north of 40°10′ N. lat. use selective flatfish trawl gear. Because selective flatfish trawl gear has lower rockfish bycatch rates than conventional trawl gear, the targeted flatfish amounts available to the trawl fisheries are higher under the Council's preferred alternative than under the other alternatives.

Each of the alternatives analyzed by the Council was expected to have different overall effects on the economy. Among other factors, the DEIS for this action reviewed alternatives for expected increases in revenue and income from 2003 levels. The low OY alternative was expected to decrease annual commercial income from the no action alternative by $1.99 million in 2005 and 2006, decrease commercial fishery-related annual employment from the no action alternative by 0.3 percent in 2005 and 2006, and result in no changes in recreational fishery income from the no action alternative. The high OY alternative was expected to increase annual commercial income from the no action alternative by $2.54 million in 2005 and 2006, increase commercial fishery-related annual employment from the no action alternative by 0.4 percent in 2005 and 2006, and result in no changes in recreational fishery income from the no action alternative. The medium OY alternative was expected to increase annual commercial income from the no action alternative by $1.51 million in 2005 and 2006, increase commercial fishery-related annual employment from the no action alternative by 0.3 percent in 2005 and 2006, and result in no changes in recreational fishery income from the no action alternative. The Council's OY alternative was expected to increase annual commercial income from the no action alternative by $3.02 million in 2005 and 2006, increase commercial fishery-related annual employment from the no action alternative by 0.5 percent in 2005 and 2006, and result in no changes in recreational fishery income from the no action alternative. The Council's preferred alternative would have had commercial fisheries effects that were similar to or less beneficial than the medium OY alternative had the Council preferred alternative not included the requirement that trawl vessels north of 40°10' N. lat. fish with selective flatfish trawl gear in nearshore waters. The Council's preferred alternative is intended to meet the conservation requirements of the Magnuson-Stevens Act while reducing to the extent practicable the adverse economic impacts of these conservation measures on the fishing industries and associated communities.

The following collection-of-information requirement has already been approved by OMB for U.S. fishing activities:

a. Approved under 0648-0305 Gear identification requirements, estimated at 15 minutes per response (§ 660.382).

List of Subjects in 50 CFR Part 660

Administrative practice and procedure, American Samoa, Fisheries, Fishing, Guam, Hawaiian Natives, Indians, Northern Mariana Islands, Reporting and recordkeeping requirements.

Dated: September 9, 2004.
William T. Hogarth,
Assistant Administrator for Fisheries, National Marine Fisheries Service.

For the reasons set out in the preamble, 50 CFR part 660 is proposed to be amended as follows:

PART 660—FISHERIES OFF WEST COAST STATES AND IN THE WESTERN PACIFIC

l. The authority citation for part 660 continues to read as follows:

Authority: 16 U.S.C. 1801 et seq.

2. In § 660.302, the definition for “ Trawl fishing line,” is removed, the definitions for “Fishing gear,” “Groundfish,” “Land or landings,” “North-South management area,” and paragraph (3) of “Trip limits,”, are revised to read as follows:

§ 660.302 Definitions.

Fishing gear includes the following types of gear and equipment used in the groundfish fishery:

(1) Bobbin trawl. The same as a roller trawl, a type of bottom trawl.

(2) Bottom trawl. A trawl in which the otter boards or the footrope of the net are in contact with the seabed. It includes roller (or bobbin) trawls, Danish and Scottish seine gear, and pair trawls fished on the bottom. Any trawl not meeting the requirements for a midwater trawl in § 660.322 is a bottom trawl.

(3) Breastline. A rope or cable that connects the end of the headrope and the end of the trawl fishing line along the edge of the trawl web closest to the towing point.

(4) Chafing gear. Webbing or other material attached to the codend of a trawl net to protect the codend from wear.

(5) Codend. (See § 600.10).

(6) Commercial vertical hook-and-line. Commercial fishing with hook-and-line gear that involves a single line anchored at the bottom and buoyed at the surface so as to fish vertically.

(7) Double-bar mesh. Two lengths of twine tied into a single knot.

(8) Double-walled codend. A codend constructed of two walls of webbing.

(9) Fixed gear (anchored nontrawl gear). Longline, trap or pot, set net, and stationary hook-and-line (including commercial vertical hook-and-line) gears.

(10) Gillnet. (See § 600.10).

(11) Headrope. A rope or wire attached to the trawl webbing forming the leading edge of the top panel of the trawl net.

(12) Hook-and-line. One or more hooks attached to one or more lines. It may be stationary (commercial vertical hook-and-line) or mobile (troll).

(13) Longline. A stationary, buoyed, and anchored groundline with hooks attached, so as to fish along the seabed. It does not include commercial vertical hook-and-line or troll gear.

(14) Mesh size. The opening between opposing knots. Minimum mesh size means the smallest distance allowed between the inside of one knot to the inside of the opposing knot, regardless of twine size.

(15) Midwater (pelagic or off-bottom) trawl. A trawl in which the otter boards may be in contact with the seabed but the footrope of the net remains above the seabed. It includes pair trawls if fished in midwater. A midwater trawl has no rollers or bobbins on the net.

(16) Non-groundfish trawl gear. Any trawl gear other than bottom or midwater trawl gear authorized for use in the limited entry groundfish trawl fishery. Non-groundfish trawl gear generally includes trawl gear used to target pink shrimp, ridgeback prawns, California halibut and sea cucumber.

(17) Nontrawl gear. All legal commercial groundfish gear other than trawl gear.

(18) Pot. A trap.

(19) Roller trawl (bobbin trawl). A trawl with footropes equipped with rollers or bobbins made of wood, steel, rubber, plastic, or other hard material that keep the footrope above the seabed, thereby protecting the net. A roller trawl is a type of bottom trawl.

(20) Set net. A stationary, buoyed, and anchored gillnet or trammel net.

(21) Single-walled codend. A codend constructed of a single wall of webbing knitted with single or double-bar mesh.

(22) Spear. A sharp, pointed, or barbed instrument on a shaft.

(23) Trammel net. A gillnet made with two or more walls joined to a common float line.

(24) Trap (or pot). A portable, enclosed device with one or more gates or entrances and one or more lines attached to surface floats.

(25) Trawl fishing line. A length of chain or wire rope in the bottom front end of a trawl net to which the webbing or lead ropes are attached.

(26) Trawl riblines. Heavy rope or line that runs down the sides, top, or underside of a trawl net from the mouth of the net to the terminal end of the codend to strengthen the net during fishing.

Groundfish means species managed by the PCGFMP, specifically:

(1) Sharks: leopard shark, Triakis semifasciata; soupfin shark, Galeorhinus zyopterus; spiny dogfish, Squalus acanthias.

(2) Skates: big skate, Raja binoculata; California skate, R. inornata; longnose skate, R. rhina.

(3) Ratfish: ratfish, Hydrolagus colliei.

(4) Morids: finescale codling, Antimora microlepis.

(5) Grenadiers: Pacific rattail, Coryphaenoides acrolepis.

(6) Roundfish: cabezon, Scorpaenichthys marmoratus; kelp greenling, Hexagrammos decagrammus; lingcod, Ophiodon elongatus; Pacific cod, Gadus macrocephalus; Pacific whiting, Merluccius productus; sablefish, Anoplopoma fimbria.

(7) Rockfish: In addition to the species below, longspine thornyhead, S. altivelis, and shortspine thornyhead, S. alascanus, “rockfish” managed under the PCGFMP include all genera and species of the family Scorpaenidae that occur off Washington, Oregon, and California, even if not listed below. The Scorpaenidae genera are Sebastes, Scorpaena, Scorpaenodes, and Sebastolobus. Where species below are listed both in a major category (nearshore, shelf, slope) and as an area-specific listing (north or south of 40°10′ N. lat.) those species are considered “minor” in the geographic area listed.

(i) Nearshore rockfish includes black rockfish, Sebastes melanops and the following minor shelf rockfish species:

(A) North of 40°10′ N. lat.:black and yellow rockfish, S. chrysomelas; blue rockfish, S. mystinus; brown rockfish, S. auriculatus; calico rockfish, S. dalli; China rockfish, S. nebulosus; copper rockfish, S. caurinus; gopher rockfish, S. carnatus; grass rockfish, S. rastrelliger; kelp rockfish, S. atrovirens; olive rockfish, S. serranoides; quillback rockfish, S. maliger; treefish, S. serriceps.

(B) South of 40°10′ N. lat., nearshore rockfish are divided into three management categories:

(1) Shallow nearshore rockfish consists of black and yellow rockfish, S. chrysomelas; China rockfish, S. nebulosus; gopher rockfish, S. carnatus; grass rockfish, S. rastrelliger; kelp rockfish, S. atrovirens.

(2) Deeper nearshore rockfish consists of black rockfish, S. melanops, blue rockfish, S. mystinus; brown rockfish, S. auriculatus; calico rockfish, S. dalli; copper rockfish, S. caurinus; olive rockfish, S. serranoides; quillback rockfish, S. maliger; treefish, S. serriceps.

(3) California scorpionfish, Scorpaena guttata.

(ii) Shelf rockfish includes bocaccio, Sebastes paucispinis; canary rockfish, S. pinniger; chilipepper, S. goodei; cowcod, S. levis; shortbelly rockfish, S. jordani; widow rockfish, S. entomelas; yelloweye rockfish, S. ruberrimus; yellowtail rockfish, S. flavidus and the following minor shelf rockfish species:

(A) North of 40°10′ N. lat.: bronzespotted rockfish, S. gilli; bocaccio, Sebastes paucispinis; chameleon rockfish, S. phillipsi; chilipepper, S. goodei; cowcod, S. levis; dusky rockfish, S. ciliatus; dwarf-red, S. rufianus; flag rockfish, S. rubrivinctus; freckled, S. lentiginosus; greenblotched rockfish, S. rosenblatti; greenspotted rockfish, S. chlorostictus; greenstriped rockfish, S. elongatus; halfbanded rockfish, S. semicinctus; harlequin rockfish, S. variegatus; honeycomb rockfish, S. umbrosus; Mexican rockfish, S. macdonaldi; pink rockfish, S. eos; pinkrose rockfish, S. simulator; pygmy rockfish, S. wilsoni; redstripe rockfish, S. proriger; rosethorn rockfish, S. helvomaculatus; rosy rockfish, S. rosaceus; silvergray rockfish, S. brevispinis; speckled rockfish, S. ovalis; squarespot rockfish, S. hopkinsi; starry rockfish, S. constellatus; stripetail rockfish, S. saxicola; swordspine rockfish, S. ensifer; tiger rockfish, S. nigrocinctus; vermilion rockfish, S. miniatus.

(B) South of 40°10′ N. lat.: bronzespotted rockfish, S. gilli; chameleon rockfish, S. phillipsi; dusky rockfish, S. ciliatus; dwarf-red rockfish, S. rufianus; flag rockfish, S. rubrivinctus; freckled, S. lentiginosus; greenblotched rockfish, S. rosenblatti; greenspotted rockfish, S. chlorostictus; greenstriped rockfish, S. elongatus; halfbanded rockfish, S. semicinctus; harlequin rockfish, S. variegatus; honeycomb rockfish, S. umbrosus; Mexican rockfish, S. macdonaldi; pink rockfish, S. eos; pinkrose rockfish, S. simulator; pygmy rockfish, S. wilsoni; redstripe rockfish, S. proriger; rosethorn rockfish, S. helvomaculatus; rosy rockfish, S. rosaceus; silvergray rockfish, S. brevispinis; speckled rockfish, S. ovalis; squarespot rockfish, S. hopkinsi; starry rockfish, S. constellatus; stripetail rockfish, S. saxicola; swordspine rockfish, S. ensifer; tiger rockfish, S. nigrocinctus; vermilion rockfish, S. miniatus; yellowtail rockfish, S. flavidus.

(iii) Slope rockfish includes darkblotched rockfish, S. crameri; Pacific ocean perch, S. alutus; splitnose rockfish, S. diploproa and the following minor slope rockfish species:

(A) North of 40°10' N. lat.: aurora rockfish, Sebastes aurora; bank rockfish, S. rufus; blackgill rockfish, S. melanostomus; redbanded rockfish, S. babcocki; rougheye rockfish, S. aleutianus; sharpchin rockfish, S. zacentrus; shortraker rockfish, S. borealis; splitnose rockfish, S. diploproa; yellowmouth rockfish, S. reedi.

(B) South of 40°10′ N. lat.: aurora rockfish, Sebastes aurora; bank rockfish, S. rufus; blackgill rockfish, S. melanostomus; Pacific ocean perch, S. alutus; redbanded rockfish, S. babcocki; rougheye rockfish, S. aleutianus; sharpchin rockfish, S. zacentrus; shortraker rockfish, S. borealis; yellowmouth rockfish, S. reedi.

(8) Flatfish: arrowtooth flounder (arrowtooth turbot), Atheresthes stomias; butter sole, Isopsetta isolepis; curlfin sole, Pleuronichthys decurrens; Dover sole, Microstomus pacificus; English sole, Parophrys vetulus; flathead sole, Hippoglossoides elassodon; Pacific sanddab, Citharichthys sordidus; petrale sole, Eopsetta jordani; rex sole, Glyptocephalus zachirus; rock sole, Lepidopsetta bilineata; sand sole, Psettichthys melanostictus; starry flounder, Platichthys stellatus. Where Tables 3-5 of this subpart refer to landings limits for “other flatfish,” those limits apply to all flatfish cumulatively taken except for those flatfish species specifically listed in Tables 1-2 of this subpart. (i.e., “other flatfish” includes butter sole, curlfin sole, flathead sole, Pacific sanddab, rex sole, rock sole, sand sole, and starry flounder.)

(9) “Other fish”: Where Tables 3-5 of this subpart refer to landings limits for “other fish,” those limits apply to all groundfish listed here in paragraphs (1)-(8) except for those groundfish species specifically listed in Tables 1-2 of this subpart with an ABC for that area (generally north and/or south of 40°10' N. lat.). (i.e., “other fish” may include all sharks, skates, ratfish, morids, grenadiers, and kelp greenling listed in this section, as well as cabezon in the north and Pacific cod in the south.)

* * * * *

Land or landing means to begin transfer of fish, offloading fish, or to offload fish from any vessel. Once transfer of fish begins, all fish aboard the vessel are counted as part of the landing.

* * * * *

North-South management area means the management areas defined in paragraphs (1)(i) through (v) of this definition (Vancouver, Columbia, Eureka, Monterey Conception) or defined and bounded by one or more of the commonly used geographic coordinates set out in paragraphs (2)(i) through (xi) of this definition for the purposes of implementing different management measures in separate sections of the U.S. West Coast.

(1) Management areas—(i) Vancouver. (A) The northeastern boundary is that part of a line connecting the light on Tatoosh Island, WA, with the light on Bonilla Point on Vancouver Island, British Columbia (at 48°35.73′ N. lat., 124°43.00′ W. long.) south of the International Boundary between the U.S. and Canada (at 48°29.62′ N. lat., 124°43.55′ W. long.), and north of the point where that line intersects with the boundary of the U.S. territorial sea.

(B) The northern and northwestern boundary is a line connecting the following coordinates in the order listed, which is the provisional international boundary of the EEZ as shown on NOAA/NOS Charts #18480 and #18007:

Point | N. Lat. | W. Long.
1 | 48°29.62′ | 124°43.55′
2 | 48°30.18′ | 124°47.22′
3 | 48°30.37′ | 124°50.35′
4 | 48°30.23′ | 124°54.87′
5 | 48°29.95′ | 124°59.23′
6 | 48°29.73′ | 125°00.10′
7 | 48°28.15′ | 125°05.78′
8 | 48°27.17′ | 125°08.42′
9 | 48°26.78′ | 125°09.20′
10 | 48°20.27′ | 125°22.80′
| 48°18.37′ | 125°29.97′
12 | 48°11.08′ | 125°53.80′
13 | 47°49.25′ | 126°40.95′
14 | 47°36.78′ | 127°11.97′
15 | 47°22.00′ | 127°41.38′
16 | 46°42.08′ | 128°51.93′
17 | 46°31.78′ | 129°07.65′

(C) The southern limit is 47°30′ N. lat.

(i) Columbia. (A) The northern limit is 47°30′ N. lat.

(B) The southern limit is 43°00′ N. lat.

(ii) Eureka. (A) The northern limit is 43°00′ N. lat.

(B) The southern limit is 40°30′ N. lat.

(iii) Monterey. (A) The northern limit is 40°30′ N. lat.

(B) The southern limit is 36°00′ N. lat.

(iv) Conception. (A) The northern limit is 36°00′ N. lat.

(B) The southern limit is the U.S.-Mexico International Boundary, which is a line connecting the following coordinates in the order listed:

Point | N. Lat. | W. Long.
1 | 32°35.37′ | 117°27.82′
2 | 32°37.62′ | 117°49.52′
3 | 31°07.97′ | 118°36.30′
4 | 30°32.52′ | 121°51.97′

(2) Commonly used geographic coordinates. (i) Cape Alava, WA—48°10.00′ N. lat.

(ii) Queets River, WA—47°31.70′ N. lat.

(iii) Leadbetter Point, WA—46°38.17′ N. lat.

(iv) Washington/Oregon border—46°16.00′ N. lat.

(v) Cape Falcon, OR—45°46.00′ N. lat.

(vi) Cape Lookout, OR—45°20.25′ N. lat.

(vii) Cascade Head, OR—45°03.83′ N. lat.

(viii) Heceta Head, OR—44°08.30′ N. lat.

(ix) Cape Argo, OR—43°20.83′ N. lat.

(x) Cape Blanco, OR—42°50.00′ N. lat.

(xi) Humbug Mountain—42°40.50′ N. lat.

(xii) Marck Arch, OR—42°13.67′ N. lat.

(xii) Oregon/California border—42°00.00' N. lat.

(xiii) Cape Mendocino, CA—40°30.00′ N. lat.

(xiv) North/South management line—40°10.00′ N. lat.

(xv) Point Arena, CA—38°57.50′ N. lat.

(xvi) Point San Pedro, CA—37°35.67′ N. lat.

(xvii) Pigeon Point, CA—37°11.00′ N. lat.

(xviii) Ano Nuevo, CA—37°07.00′ N. lat.

(xix) Point Lopez, CA—36°00.00′ N. lat.

(xx) Point Conception, CA—34°27.00′ N. lat. [Note: Regulations that apply to waters north of 34°27.00′ N. lat. are applicable only west of 120°28.00′ W. long.; regulations that apply to waters south of 34°27.00′ N. lat. also apply to all waters both east of 120°28.00′ W. long. and north of 34°27.00′ N. lat.]

Trip limits. * * *

(3) A weekly trip limit is the maximum amount of a groundfish species or species group that may be taken and retained, possessed, or landed per vessel in 7 consecutive days, starting at 0001 hours l.t. on Sunday and ending at 2400 hours l.t. on Saturday. Weekly trip limits may not be accumulated during multiple week trips. If a calendar week falls within two different months or two different cumulative limit periods, a vessel is not entitled to two separate weekly limits during that week.

3. In § 660.306, paragraphs (a)(6) and (a)(7) are revised and (a)(12) is added to read as follows:

§ 660.306 Prohibitions.

* * * * *

(a) * * *

(6) Take and retain, possess, or land more groundfish than specified under §§ 660.370 through 660.373 or §§ 660.381 through 660.385, or under an EFP issued under § 660.350 or part 600 of this chapter.

(7) Fail to sort, prior to the first weighing after offloading, those groundfish species or species groups for which there is a trip limit, size limit, quota, harvest guideline, or OY, if the vessel fished or landed in an area during a time when such trip limit, size limit, quota, harvest guideline, or OY applied.

* * * * *

(12) Transfer fish to another vessel at sea unless a vessel is participating in the primary whiting fishery as part of the mothership or catcher-processor sectors, as described at § 660.373(a).

* * * * *

§ 660.310 [Removed]

4. Remove § 660.310.

* * * * *

5. Section 660.321 is revised to read as follows:

§ 660.321 Black rockfish harvest guideline.

From the commercial harvest of black rockfish off Washington State, a treaty Indian tribes' harvest guideline is set of 20,000 lb (9,072 kg) for the area north of Cape Alava, WA (48°09.50' N. lat) and 10,000 lb (4,536 kg) for the area between Destruction Island, WA (47°40' N. lat.) and Leadbetter Point, WA (46°38.17' N. lat.). This harvest guideline applies and is available to the treaty Indian tribes identified in § 660.324(b).

6. Section § 660.322 is added to read as follows:

§ 660.322 Sablefish allocations.

(a) Tribal-nontribal allocation. The sablefish allocation to Pacific coast treaty Indian tribes identified at § 660.324(b) is 10 percent of the sablefish total catch OY for the area north of 36° N. lat. This allocation represents the total amount available to the treaty Indian fisheries before deductions for discard mortality. The annual tribal sablefish allocations are provided in § 660.385(a).

(b) Between the limited entry and open access sectors. Sablefish is allocated between the limited entry and open access fisheries according to the procedure described in § 660.320(a).

(c) Between the limited entry trawl and limited entry nontrawl sectors. The limited entry sablefish allocation is further allocated 58 percent to the trawl sector and 42 percent to the nontrawl (longline and pot/trap) sector.

(d) Between the limited entry fixed gear primary season and daily trip limit fisheries. Within the limited entry nontrawl sector allocation, 85 percent is reserved for the primary season described in § 660.372(b), leaving 15 percent for the limited entry daily trip limit fishery described in § 660.372(c).

(e) Ratios between tiers for sablefish endorsed limited entry permit holders. The Regional Administrator will biennially or annually calculate the size of the cumulative trip limit for each of the three tiers associated with the sablefish endorsement such that the ratio of limits between the tiers is approximately 1:1.75:3.85 for Tier 3:Tier 2:Tier 1, respectively. The size of the cumulative trip limits will vary depending on the amount of sablefish available for the primary fishery and on estimated discard mortality rates within the fishery. The size of the cumulative trip limits for the three tiers in the primary fishery will be announced in § 660.372.

7. In § 660.323, paragraph (a) is revised to read as follows:

§ 660.323 Pacific whiting allocations, allocation attainment, and inseason allocation reapportionment.

(a) Allocations. (1) Annual treaty tribal whiting allocations are provided in § 660.385(e).

(2) The non-tribal commercial harvest guideline for whiting is allocated among three sectors, as follows: 34 percent for the catcher/processor sector; 24 percent for the mothership sector; and 42 percent for the shoreside sector. No more than 5 percent of the shoreside allocation may be taken and retained south of 42° N. lat. before the start of the primary whiting season north of 42° N. lat. These allocations are harvest guidelines unless otherwise announced in the Federal Register. The non-tribal Pacific whiting allocations in 2005 are as follows:

(i) Catcher/processor sector-TBA(24 percent);

(ii) Mothership sector-TBA (34 percent);

(iii) Shore-based sector-TBA (42 percent). No more than 5 percent (TBA) of the shore-based whiting allocation may be taken before the shore-based fishery begins north of 42° N. lat. on June 15, 2005.

8. In § 660.365, paragraph (c) is revised to read as follows:

§ 660.365 Overfished species rebuilding plans.

(c) Lingcod. The target date for rebuilding the lingcod stock to BMSY is 2009. The harvest control rule to be used to rebuild the lingcod stock is an annual harvest rate of F=0.17 in the north and F=0.15 in the south.

9. In § 660.370, paragraphs (a), (c) introductory text, (c)(1), (d) and (f) are revised and (g) and (h) are added to read as follows:

§ 660.370 Specifications and management measures.

(a) General. NMFS will establish and adjust specifications and management measures biennially or annually and during the fishing year. Management of the Pacific Coast groundfish fishery will be conducted consistent with the standards and procedures in the PCGFMP and other applicable law. The PCGFMP is available from the Regional Administrator or the Council. Regulations under this subpart may be promulgated, removed, or revised during the fishing year. Any such action will be made according to the framework standards and procedures in the PCGFMP and other applicable law, and will be published in the Federal Register.

* * * * *

(c) Routine management measures. In addition to the catch restrictions in §§ 660.371 through 660.373, other catch restrictions that are likely to be adjusted on a biennial or more frequent basis may be imposed and announced by a single notification in the Federal Register if good cause exists under the APA to waive notice and comment, and if they have been designated as routine through the two-meeting process described in the PCGFMP. Routine management measures that may be revised during the fishing year via this process are implemented in paragraph (h) of this section and in §§ 660.371 through 660.373, §§ 660.381 through 660.385 and Tables 3-5 of this subpart. Most trip, bag, and size limits, and area closures in the groundfish fishery have been designated “routine,” which means they may be changed rapidly after a single Council meeting. Council meetings are held in the months of March, April, June, September, and November. Inseason changes to routine management measures are announced in the Federal Register pursuant to the requirements of the Administrative Procedure Act (APA). Changes to trip limits are effective at the times stated in the Federal Register. Once a change is effective, it is illegal to take and retain, possess, or land more fish than allowed under the new trip limit. This means that, unless otherwise announced in the Federal Register, offloading must begin before the time a fishery closes or a more restrictive trip limit takes effect. The following catch restrictions have been designated as routine:

(1) Commercial limited entry and open access fisheries—(i) Trip landing and frequency limits, size limits, all gear. Trip landing and frequency limits have been designated as routine for the following species or species groups: widow rockfish, canary rockfish, yellowtail rockfish, Pacific ocean perch, yelloweye rockfish, black rockfish, blue rockfish, splitnose rockfish, chilipepper rockfish, bocaccio, cowcod, minor nearshore rockfish or shallow and deeper minor nearshore rockfish, shelf or minor shelf rockfish, and minor slope rockfish; DTS complex which is composed of Dover sole, sablefish, shortspine thornyheads, and longspine thornyheads; petrale sole, rex sole, arrowtooth flounder, Pacific sanddabs, and the flatfish complex, which is composed of those species plus any other flatfish species listed at § 660.302; Pacific whiting; lingcod; and “other fish” as a complex consisting of all groundfish species listed at § 660.302 and not otherwise listed as a distinct species or species group. Size limits have been designated as routine for sablefish and lingcod. Trip landing and frequency limits and size limits for species with those limits designated as routine may be imposed or adjusted on a biennial or more frequent basis for the purpose of keeping landings within the harvest levels announced by NMFS, and for the other purposes given in paragraph (c)(1)(i)(A) and (B) of this section.

(ii) Differential trip landing limits and frequency limits based on gear type, closed seasons. Trip landing and frequency limits that differ by gear type and closed seasons may be imposed or adjusted on a biennial or more frequent basis for the purpose of rebuilding and protecting overfished or depleted stocks. To achieve the rebuilding of an overfished or depleted stock, the Pacific whiting primary seasons described at § 660.373(b), may be closed for any or all of the fishery sectors identified at § 660.373(a) before the sector allocation is reached.

(d) Automatic actions. Automatic management actions may be initiated by the NMFS Regional Administrator without prior public notice, opportunity to comment, or a Council meeting. These actions are nondiscretionary, and the impacts must have been taken into account prior to the action. Unless otherwise stated, a single notice will be published in the Federal Register making the action effective if good cause exists under the APA to waive notice and comment. Automatic actions are used in the Pacific whiting fishery to close the fishery or reinstate trip limits when a whiting harvest guideline, commercial harvest guideline, or a sector's allocation is reached, or is projected to be reached; or to reapportion unused allocation to other sectors of the fishery.

(f) Exempted fisheries. U.S. vessels operating under an exempted fishing permit (EFP) issued under 50 CFR part 600 are also subject to restrictions in §§ 660.301 through 660.394, unless otherwise provided in the permit. EFPs may include the collecting of scientific samples of groundfish species that would otherwise be prohibited for retention.

(g) Applicability. Groundfish species harvested in the territorial sea (0-3 nm) will be counted toward the catch limitations in §§ 660.370 through 660.385 and in Tables 1-5 of this subpart.

(h) Fishery restrictions. (1) Commercial trip limits and recreational bag and boat limits. Commercial trip limits and recreational bag and boat limits defined in § 660.302 and set in §§ 660.371 through 660.373, §§ 660.381 through 660.385 and Tables 3-5 of this subpart must not be exceeded.

(2) Landing. As stated at 50 CFR 660.302 (in the definition of “Landing”), once the offloading of any species begins, all fish aboard the vessel are counted as part of the landing and must be reported as such. Transfer of fish at sea is prohibited under § 660.306(a)(12) unless a vessel is participating in the primary whiting fishery as part of the mothership or catcher-processor sectors, as described at § 660.373(a).

(3) Fishing ahead. Unless the fishery is closed, a vessel that has landed its cumulative or daily limit may continue to fish on the limit for the next legal period, so long as no fish (including, but not limited to, groundfish with no trip limits, shrimp, prawns, or other nongroundfish species or shellfish) are landed (offloaded) until the next legal period. Fishing ahead is not allowed during or before a closed period.

(4) Weights and percentages. All weights are round weights or round-weight equivalents unless otherwise specified. Percentages are based on round weights, and, unless otherwise specified, apply only to legal fish on board.

(5) Size limits, length measurement, and weight limits—(i) Size limits and length measurement. Unless otherwise specified, size limits in the commercial and recreational groundfish fisheries apply to the “total length,” which is the longest measurement of the fish without mutilation of the fish or the use of force to extend the length of the fish. No fish with a size limit may be retained if it is in such condition that its length has been extended or cannot be determined by these methods. For conversions not listed here, contact the state where the fish will be landed.

(A) Whole fish. For a whole fish, total length is measured from the tip of the snout (mouth closed) to the tip of the tail in a natural, relaxed position.

(B) Headed fish. For a fish with the head removed (“headed”), the length is measured from the origin of the first dorsal fin (where the front dorsal fin meets the dorsal surface of the body closest to the head) to the tip of the upper lobe of the tail; the dorsal fin and tail must be left intact.

(C) Filets. A filet is the flesh from one side of a fish extending from the head to the tail, which has been removed from the body (head, tail, and backbone) in a single continuous piece. Filet lengths may be subject to size limits for some groundfish taken in the recreational fishery off California (see § 660.384). A filet is measured along the length of the longest part of the filet in a relaxed position; stretching or otherwise manipulating the filet to increase its length is not permitted.

(ii) Weight limits and conversions. The weight limit conversion factor established by the state where the fish is or will be landed will be used to convert the processed weight to round weight for purposes of applying the trip limit. Weight conversions provided herein are those conversions currently in use by the States of Washington, Oregon and California and may be subject to change by those states. Fishery participants should contact fishery enforcement officials in the state where the fish will be landed to determine that state's official conversion factor. To determine the round weight, multiply the processed weight times the conversion factor.

(iii) Sablefish. The following conversion applies to both the limited entry and open access fisheries when trip limits are in effect for those fisheries. For headed and gutted (eviscerated) sablefish the weight conversion factor is 1.6 (multiply the headed and gutted weight by 1.6 to determine the round weight).

(iv) Lingcod. The following conversions apply in both limited entry and open access fisheries.

(A) For lingcod with the head removed, the minimum size limit is 19.5 inches (49.5 cm), which corresponds to 24 inches (61 cm) total length for whole fish.

(B) The weight conversion factor for headed and gutted lingcod is 1.5. The conversion factor for lingcod that has only been gutted with the head on is 1.1.

(6) Sorting. Under § 660.306(a)(7), it is unlawful for any person to “fail to sort, prior to the first weighing after offloading, those groundfish species or species groups for which there is a trip limit, size limit, quota, harvest guideline, or OY, if the vessel fished or landed in an area during a time when such trip limit, size limit, OY, or quota applied.” The States of Washington, Oregon, and California may also require that vessels record their landings as sorted on their state fish tickets. This provision applies to both the limited entry and open access fisheries. The following species must be sorted in 2005 and 2006:

(i) For vessels with a limited entry permit:

(A) Coastwide-widow rockfish, canary rockfish, darkblotched rockfish, yelloweye rockfish, shortbelly rockfish, black rockfish, minor nearshore rockfish, minor shelf rockfish, minor slope rockfish, shortspine and longspine thornyhead, Dover sole, arrowtooth flounder, rex sole, petrale sole, arrowtooth flounder, other flatfish, lingcod, sablefish, and Pacific whiting

(B) North of 40°10′ N. lat.—POP, yellowtail rockfish, and, for fixed gear, blue rockfish;

(C) South of 40°10′ N. lat.—minor shallow nearshore rockfish, minor deeper nearshore rockfish, California scorpionfish, chilipepper rockfish, bocaccio rockfish, splitnose rockfish, Pacific sanddabs, and cabezon.

(ii) For open access vessels (vessels without a limited entry permit):

(A) Coastwide-widow rockfish, canary rockfish, darkblotched rockfish, yelloweye rockfish, black rockfish, minor nearshore rockfish, minor shelf rockfish, minor slope rockfish, Dover sole, arrowtooth flounder, petrale sole, rex sole, other flatfish, lingcod, sablefish, Pacific whiting, and Pacific sanddabs;

(B) North of 40°10′ N. lat.—blue rockfish, POP, yellowtail rockfish;

(C) South of 40°10′ N. lat.—minor shallow nearshore rockfish, minor deeper nearshore rockfish, chilipepper rockfish, bocaccio rockfish, splitnose rockfish, and cabezon;

(D) South of Point Conception, CA—thornyheads.

(7) Operating in both limited entry and open access fisheries. Open access trip limits apply to any fishing conducted with open access gear, even if the vessel has a valid limited entry permit with an endorsement for another type of gear. A vessel that operates in both the open access and limited entry fisheries is not entitled to two separate trip limits for the same species. If a vessel has a limited entry permit and uses open access gear, but the open access limit is smaller than the limited entry limit, the open access limit may not be exceeded and counts toward the limited entry limit. If a vessel has a limited entry permit and uses open access gear, but the open access limit is larger than the limited entry limit, the smaller limited entry limit applies, even if taken entirely with open access gear.

(8) “Crossover provisions,” operating in north-south management areas with different trip limits. NMFS uses different types of management areas for West Coast groundfish management. One type of management area is the north-south management area, a large ocean area with northern and southern boundary lines wherein trip limits, seasons, and conservation areas follow a single theme. Within each north-south management area, there may be one or more conservation areas, detailed in §§ 660.302 and 660.390 through 660.394. The provisions within this paragraph apply to vessels operating in different north-south management areas. Trip limits for a species or a species group may differ in different north-south management areas along the coast. The following “crossover” provisions apply to vessels operating in different geographical areas that have different cumulative or “per trip” trip limits for the same species or species group. Such crossover provisions do not apply to species that are subject only to daily trip limits, or to the trip limits for black rockfish off Washington (see § 660.371).

(i) Going from a more restrictive to a more liberal area. If a vessel takes and retains any groundfish species or species group of groundfish in an area where a more restrictive trip limit applies before fishing in an area where a more liberal trip limit (or no trip limit) applies, then that vessel is subject to the more restrictive trip limit for the entire period to which that trip limit applies, no matter where the fish are taken and retained, possessed, or landed.

(ii) Going from a more liberal to a more restrictive area. If a vessel takes and retains a groundfish species or species group in an area where a higher trip limit or no trip limit applies, and takes and retains, possesses or lands the same species or species group in an area where a more restrictive trip limit applies, that vessel is subject to the more restrictive trip limit for the entire period to which that trip limit applies, no matter where the fish are taken and retained, possessed, or landed.

(iii) Operating in two different areas where a species or species group is managed with different types of trip limits. During the fishing year, NMFS may implement management measures for a species or species group that set different types of trip limits (for example, per trip limits versus cumulative trip limits) for different areas. If a vessel fishes for a species or species group that is managed with different types of trip limits in two different areas within the same cumulative limit period, then that vessel is subject to the most restrictive overall cumulative limit for that species, regardless of where fishing occurs.

(iv) Minor rockfish. Several rockfish species are designated with species-specific limits on one side of the 40°10′ N. lat. management line, and are included as part of a minor rockfish complex on the other side of the line. A vessel that takes and retains fish from a minor rockfish complex (nearshore, shelf, or slope) on both sides of a management line during a single cumulative limit period is subject to the more restrictive cumulative limit for that minor rockfish complex during that period.

(A) If a vessel takes and retains minor slope rockfish north of 40°10.00′ N. lat., that vessel is also permitted to take and retain, possess or land splitnose rockfish up to its cumulative limit south of 38° N. lat., even if splitnose rockfish were a part of the landings from minor slope rockfish taken and retained north of 40°10.00′ N. lat.

(B) If a vessel takes and retains minor slope rockfish south of 40°10.00′ N. lat., that vessel is also permitted to take and retain, possess or land POP up to its cumulative limit north of 40°10.00′ N. lat., even if POP were a part of the landings from minor slope rockfish taken and retained south of 38° N. lat.

(C) If a trawl vessel takes and retains minor shelf rockfish south of 40°10′ N. lat., that vessel is also permitted to take and retain, possess, or land yellowtail rockfish up to its cumulative limits north of 40°10′ N. lat., even if yellowtail rockfish is part of the landings from minor shelf rockfish taken and retained south of 40°10′ N. lat. Yellowtail rockfish is included in overall shelf rockfish limits for limited entry fixed gear and open access gear groups. Widow rockfish is included in overall shelf rockfish limits for all gear groups.

(D) If a trawl vessel takes and retains minor shelf rockfish north of 40°10′ N. lat., that vessel is also permitted to take and retain, possess, or land chilipepper rockfish up to its cumulative limits south of 40°10′ N. lat., even if chilipepper rockfish is part of the landings from minor shelf rockfish taken and retained north of 40°10′ N. lat.

(v) “DTS complex.” There are differential trawl trip limits for the “DTS complex” north and south of the management line at 40°10' N. lat. Vessels operating in the limited entry trawl fishery are subject to the crossover provisions in this paragraph when making landings that include any one of the four species in the “DTS complex.”

(vi) Flatfish complex. There are differential trip limits for the flatfish complex (butter, curlfin, English, flathead, petrale, rex, rock, and sand soles, Pacific sanddab, and starry flounder) north and south of the management line at 40°10' N. lat. Vessels operating in the limited entry trawl fishery are subject to the crossover provisions in this paragraph when making landings that include any one of the species in the flatfish complex.

10. Section 660.371 is revised to read as follows:

§ 660.371 Black rockfish fishery management.

The trip limit for black rockfish (Sebastes melanops) for commercial fishing vessels using hook-and-line gear between the U.S.-Canada border and Cape Alava (48°09.50′ N. lat.), and between Destruction Island (47°40′ N. lat.) and Leadbetter Point (46°38.17′ N. lat.), is 100 lbs (45 kg) or 30 percent, by weight of all fish on board, whichever is greater, per vessel per fishing trip. These per trip limits apply to limited entry and open access fisheries, in conjunction with the cumulative trip limits and other management measures in §§ 660.382 and 660.383. The crossover provisions in § 660.370(h)(8) do not apply to the black rockfish per-trip limits.

11. In § 660.372, the introductory paragraph, paragraphs (b)(1), and (b)(3)(i) are revised, (b)(3)(ii) is removed and paragraphs (b)(3)(iii) and (b)(3)(iv) are redesignated as paragraphs (b)(3)(ii) and (b)(3)(iii), respectively, and paragraph (c) is revised to read as follows:

§ 660.372 Fixed gear sablefish fishery management.

This section applies to the primary season for the fixed gear limited entry sablefish fishery north of 36° N. lat., except for paragraph (c), of this section, which also applies to the open access fishery north of 36° N. lat. and to both the limited entry and open access fisheries south of 36° N. lat. Limited entry and open access fixed gear sablefish fishing outside of the primary sablefish season north of 36° N. lat. is governed by routine management measures imposed under § 660.370.

(b) Primary season limited entry, fixed gear sablefish fishery—(1) Season dates. North of 36° N. lat., the primary sablefish season for limited entry, fixed gear vessels begins at 12 noon l.t. on April 1 and ends at 12 noon l.t. on October 31, unless otherwise announced by the Regional Administrator. If a vessel is registered for use with a sablefish-endorsed limited entry permit, all sablefish taken after April 1 count against the cumulative limits associated with the permit(s) registered for use with that vessel.

(3) * * *

(i) A vessel participating in the primary season will be constrained by the sablefish cumulative limit associated with each of the permits registered for use with that vessel. During the primary season, each vessel authorized to participate in that season under paragraph (a) of this section may take, retain, possess, and land sablefish, up to the cumulative limits for each of the permits registered for use with that vessel. If multiple limited entry permits with sablefish endorsements are registered for use with a single vessel, that vessel may land up to the total of all cumulative limits announced in the Federal Register for the tiers for those permits, except as limited by paragraph (b)(3)(iii) of this section. Up to 3 permits may be registered for use with a single vessel during the primary season; thus, a single vessel may not take and retain, possess or land more than 3 primary season sablefish cumulative limits in any one year. A vessel registered for use with multiple limited entry permits is subject to per vessel limits for species other than sablefish, and to per vessel limits when participating in the daily trip limit fishery for sablefish under paragraph (c) of this section. For 2005, the following limits are in effect: Tier 1 at 64,100 lb (29,075 kg), Tier 2 at 29,100 lb (13,200 kg), and Tier 3 at 16,600 lb (7,530 kg). For 2006, the following limits are in effect: Tier 1 at 62,700 lb (28,440 kg), Tier 2 at 28,500 lb (12,927 kg), and Tier 3 at 16,300 lb (7,394 kg).

(c) Limited entry and open access daily trip limit fisheries both north and south of 36° N. lat. (1) Before the start of the primary season, all sablefish landings made by a vessel authorized under paragraph (a) of this section to participate in the primary season will be subject to the restrictions and limits of the limited entry daily and/or weekly trip limit fishery for sablefish, which is governed by routine management measures imposed under § 660.370(c).

(2) Following the start of the primary season, all landings made by a vessel authorized under paragraph (a) of this section to participate in the primary season will count against the primary season cumulative limit(s) associated with the permit(s) registered for use with that vessel. A vessel that is eligible to participate in the primary sablefish season may participate in the daily trip limit fishery for sablefish once that vessels' primary season sablefish limit(s) have been taken, or after the end of the primary season, whichever occurs earlier. Any subsequent sablefish landings by that vessel will be subject to the restrictions and limits of the limited entry daily and/or trip limit fishery for sablefish for the remainder of the calendar year.

(3) No vessel may land sablefish against both its primary season cumulative sablefish limits and against the daily and/or weekly trip limit fishery limits within the same 24 hour period of 0001 hours l.t. to 2400 hours l.t. If a vessel has taken all of its tier limit except for an amount that is smaller than the daily trip limit amount, that vessel's subsequent sablefish landings are automatically subject to daily and/or weekly trip limits.

(4) Vessels registered for use with a limited entry, fixed gear permit that does not have a sablefish endorsement may participate in the limited entry, daily and/or weekly trip limit fishery for as long as that fishery is open during the year, subject to routine management measures imposed under § 660.370(c). Daily and/or weekly trip limits for the limited entry fishery north and south of 36° N. lat. are provided in Tables 4 (North) and 4 (South) of this subpart.

(5) Open access vessels may participate in the open access, daily trip limit fishery for as long as that fishery is open during the year, subject to the routine management measures imposed under § 660.370(c). Daily and/or weekly trip limits for the open access fishery north and south of 36° N. lat. are provided in Tables 5 (North) and 5 (South) of this subpart.

12. In § 660.373, paragraphs (b)(1)(iii), (b)(3), and (d)(1) are added and paragraph (d)(2) is reserved to read as follows:

§ 660.373 Pacific whiting (whiting) fishery management.

(b) * * *

(1) * * *

(iii) 2005 and 2006 primary whiting seasons. After the start of a primary season for a sector of the whiting fishery, the season remains open for that sector until the quota is taken and the fishery season for that sector is closed by NMFS. In both 2005 and 2006, the primary seasons for the whiting fishery start on the same dates as follows:

(A) Catcher/processor sector - May 15;

(B) Mothership sector May 15;

(C) Shore-based sector June 15 north of 42° N. lat.; April 1 between 42° - 40°30′ N. lat.

(3) 2005-2006 trip limits in the whiting fishery. The “per trip” limit for whiting before and after the regular (primary) season for the shore-based sector is announced in Table 4 of this subpart, and is a routine management measure under § 660.370(c). This trip limit includes any whiting caught shoreward of 100 fathoms (183 m) in the Eureka, CA area. The “per trip” limit for other groundfish species before, during and after the regular (primary) season are announced in Table 3 (North) and Table 3 (South) of this subpart and apply as follows:

(i) During the groundfish cumulative limit periods both before and after the primary whiting season, vessels may use either small and/or large footrope gear, but are subject to the more restrictive trip limits for those entire cumulative periods.

(ii) During the primary whiting season for a sector of the fishery, then the midwater trip limits apply and are additive to the trip limits for other groundfish species for that fishing period (i.e., vessels are not constrained by the lower midwater limits and can harvest up to a footrope-specific trawl limit plus the midwater trawl limit per species or species group for that cumulative limit period).

(d) * * *

(1) 2005-2006 whiting trip limits. No more than 10,000 lb (4,536 kg) of whiting may be taken and retained, possessed, or landed by a vessel that, at any time during a fishing trip, fished in the fishery management area shoreward of the 100 fm (183 m) contour (as shown on NOAA Charts 18580, 18600, and 18620) in the Eureka management area (defined at § 660.302).

(2) [Reserved]

13. A new § 660.380 is added to read as follows:

§ 660.380 Groundfish harvest specifications.

Fishery specifications include ABCs, the designation of OYs (which may be represented by harvest guidelines (HGs) or quotas for species that need individual management,) and the allocation of commercial OYs between the open access and limited entry segments of the fishery. These specifications include fish caught in state ocean waters (0-3 nm offshore) as well as fish caught in the EEZ (3-200 nm offshore). Specifications and management measures are provided as Tables 1a and 1b, and 2a and 2b of this subpart.

14. A new § 660.381 is added to read as follows:

§ 660.381 Limited entry trawl fishery management measures.

(a) General. Limited entry trawl vessels include those vessels registered to a limited entry permit with a trawl endorsement. Most species taken in limited entry trawl fisheries will be managed with cumulative trip limits (see trip limits in Tables 3 (North) and 3 (South) of this subpart), size limits (see § 660.370 (h)(5)), seasons (see Pacific whiting at § 660.373), gear restrictions (see paragraph (b) of this section) and closed areas (see paragraph (d) of this section and §§ 660.390 through 660.394). The trawl fishery has gear requirements and trip limits that differ by the type of trawl gear on board and the area fished. Federal commercial groundfish regulations are not intended to supersede any more restrictive state commercial groundfish regulations relating to federally-managed groundfish. Cowcod retention is prohibited in all fisheries and groundfish vessels operating south of Point Conception must adhere to CCA restrictions (see paragraph (d)(1) of this section and § 660.390). The trip limits in Table 3 (North) and Table 3 (South) of this subpart apply to vessels participating in the limited entry groundfish trawl fishery and may not be exceeded. Federal commercial groundfish regulations are not intended to supersede any more restrictive state commercial groundfish regulations relating to federally-managed groundfish.

(b) Trawl gear requirements and restrictions. Trawl nets may be fished with or without otter boards, and may use warps or cables to herd fish.

(1) Codends. Only single-walled codends may be used in any trawl. Double-walled codends are prohibited.

(2) Mesh size. Groundfish trawl gear must meet the minimum mesh size requirements in this paragraph. Mesh size requirements apply throughout the net. Minimum trawl mesh sizes are: bottom trawl, 4.5 inches (11.4 cm); midwater trawl, 3.0 inches (7.6 cm). Minimum trawl mesh size requirements are met if a 20-gauge stainless steel wedge, less one thickness of the metal wedge, can be passed with only thumb pressure through at least 16 of 20 sets of two meshes each of wet mesh.

(3) Chafing gear. Chafing gear may encircle no more than 50 percent of the net's circumference, except as provided in paragraph (b)(5) of this section. No section of chafing gear may be longer than 50 meshes of the net to which it is attached. Except at the corners, the terminal end of each section of chafing gear must not be connected to the net. (The terminal end is the end farthest from the mouth of the net.) Chafing gear must be attached outside any riblines and restraining straps. There is no limit on the number of sections of chafing gear on a net.

(4) Large footrope trawl gear. Large footrope gear is bottom trawl gear with a footrope diameter larger than 8 inches (20 cm) (including rollers, bobbins or other material encircling or tied along the length of the footrope).

(5) Small footrope trawl gear. Small footrope gear is bottom trawl gear with a footrope diameter of 8 inches (20 cm) or smaller (including rollers, bobbins or other material encircling or tied along the length of the footrope). Chafing gear may be used only on the last 50 meshes of a small footrope trawl, measured from the terminal (closed) end of the codend. Other lines or ropes that run parallel to the footrope may not be augmented such that they have a diameter larger than 8 inches (20 cm). For enforcement purposes, the footrope will be measured in a straight line from the outside edge to the opposite outside edge at the widest part on any individual part, including any individual disk, roller, bobbin, or any other device.

(i) Selective flatfish trawl gear is a type of small footrope trawl gear. The selective flatfish trawl net must be a two-seamed net and its breastline may not be longer than 3 ft (0.92 m) in length. There may be no floats along the center third of the selective flatfish trawl net's headrope and the headrope must be at least 30 percent longer in length than the footrope. Selective flatfish trawl gear may not have a footrope that is longer than 105 ft (32.26 m) in length. An explanatory diagram of a selective flatfish trawl net is provided as Figure 1 of Part 660, Subpart G.

(ii) [Reserved]

(6) Midwater (or pelagic) trawl gear. Midwater trawl gear must have unprotected footropes at the trawl mouth, and must not have rollers, bobbins, tires, wheels, rubber discs, or any similar device anywhere on any part of the net. The footrope of midwater gear may not be enlarged by encircling it with chains or by any other means. Ropes or lines running parallel to the footrope of midwater trawl gear must be bare and may not be suspended with chains or any other materials. Sweep lines, including the bottom leg of the bridle, must be bare. For at least 20 ft (6.15 m) immediately behind the footrope or headrope, bare ropes or mesh of 16-inch (40.6-cm) minimum mesh size must completely encircle the net. A band of mesh (a “skirt”) may encircle the net under transfer cables, lifting or splitting straps (chokers), but must be: over riblines and restraining straps; the same mesh size and coincide knot-to-knot with the net to which it is attached; and no wider than 16 meshes.

(c) Cumulative trip limits and prohibitions by limited entry trawl gear type. Management measures may vary depending on the type of trawl gear (i.e., large footrope, small footrope, selective flatfish, or midwater trawl gear) used and/or on board a vessel during a fishing trip and the area fished. Trawl nets may be used on and off the seabed. For some species or species groups, Table 3 (North) and Table 3 (South) provide cumulative and/or trip limits that are specific to different types of trawl gear: large footrope, small footrope (including selective flatfish), selective flatfish, and midwater. If Table 3 (North) and Table 3 (South) provide gear specific limits for a particular species or species group, it is unlawful to take and retain, possess or land that species or species group with limited entry trawl gears other than those listed.

(1) Large footrope trawl gear. It is unlawful for any vessel using large footrope gear to fish for groundfish shoreward of the RCAs defined at paragraph (d) of this section and at §§ 660.390 through 660.394. The use of large footrope gear is permitted seaward of the RCAs coastwide.

(2) Small footrope trawl gear. North of 40°10′ N. lat., it is unlawful for any vessel using small footrope gear (except selective flatfish gear) to fish for groundfish or have small footrope trawl gear (except selective flatfish gear) onboard while fishing shoreward of the RCA defined at paragraph (d) of this section and at §§ 660.390 through 660.394. South of 40°10′ N. lat., small footrope gear is required shoreward of the RCA. Small footrope gear is permitted seaward of the RCA coastwide.

(i) North of 40°10′ N. lat., selective flatfish gear is required shoreward of the RCA defined at paragraph (d) of this section and at §§ 660.390 through 660.394. South of 40°10′ N. lat., selective flatfish gear is permitted, but not required, shoreward of the RCA. The use of selective flatfish trawl gear is permitted seaward of the RCA coastwide.

(ii)Reserved.

(3) Midwater trawl gear. North of 40°10′ N. lat., midwater trawl gear is permitted only for vessels participating in the primary Pacific whiting fishery (for details on the Pacific whiting fishery see § 660.373). South of 40°10′ N. lat., the use of midwater trawl gear is prohibited shoreward of the RCA and permitted seaward of the RCA.

(4) More than one type of trawl gear on board. The cumulative trip limits in Table 3 (North) or Table 3 (South) of this subpart must not be exceeded. A vessel that is trawling within a Groundfish Conservation Area (GCA) with trawl gear authorized for use within a GCA may not have any other type of trawl gear on board.

(i) North of 40°10′ N. lat., a vessel may have more than one type of limited entry trawl gear on board, but the most restrictive trip limit associated with the gear on board applies for that trip and will count toward the cumulative trip limit for that gear. If selective flatfish trawl gear is used by or is on board a vessel at any time north of 40°10' N. lat. (either shoreward or seaward of RCA) and those trip limits are the most restrictive for a species or species group during the entire cumulative limit period, then selective flatfish trawl limits apply to that vessel for that species or species group for that entire cumulative limit period, regardless of whether other gear types are also used during that period. Midwater trawl gear is allowed only for vessels participating in the primary whiting season. On non-whiting trips (defined as any fishing trip that takes, retains, possess, or lands less than 10,000 lb (4,536 kg) of whiting), vessels with both large footrope and midwater trawl gear on board during a trip may access the large footrope limits while fishing with large footrope gear seaward of the RCA.

(ii) South of 40°10′ N. lat., a vessel may have more than one type of limited entry trawl gear on board, but the most restrictive trip limit associated with the gear on board applies for that trip and will count toward the cumulative limit for that gear. If a vessel has small footrope trawl gear on board, then it may not have any other trawl gear on board. For vessels using more than one type of trawl gear during a cumulative limit period, limits are additive up to the largest limit for the type of gear used during that period. (Example: If a vessel harvests 300 lb (136 kg) of chilipepper rockfish with small footrope gear, it may harvest up to 11,700 lb (5,209 kg) of chilipepper rockfish with large footrope gear during July and August.) If a vessel fishes north of 40°10′ N. lat. with either selective flatfish or small footrope gear onboard the vessel at any time during the cumulative limit period, the most restrictive trip limit associated with the gear on board applies for that trip and will count toward the cumulative trip limit for that gear.

(d) Trawl Groundfish Conservation Areas (GCAs). A Groundfish Conservation Area (GCA), a type of closed area, is a geographic area defined by coordinates expressed in degrees of latitude and longitude. The following GCAs apply to vessels participating in the limited entry trawl fishery.

(1) Cowcod Conservation Areas (CCAs). Vessels using limited entry trawl gear are prohibited from fishing within the CCAs. See § 660.390 for the coordinates that define the CCAs. Limited entry trawl vessels may transit through the Western CCA with their gear stowed and groundfish on board only in a corridor through the Western CCA bounded on the north by the latitude line at 33°00.50' N. lat., and bounded on the south by the latitude line at 32°59.50' N. lat. It is unlawful to take and retain, possess, or land groundfish within the CCAs, except as authorized in this paragraph, when those waters are open to fishing.

(2) Farallon Islands. Under California law, commercial fishing for all groundfish is prohibited between the shoreline and the 10 fm (18 m) depth contour around the Farallon Islands. (See § 660.390)

(3) Cordell Banks. Commercial fishing for groundfish is prohibited in waters less than 100 fm (183 m) around Cordell Banks as defined by specific latitude and longitude coordinates at § 660.390. [Note: California state regulations also prohibit fishing for all greenlings of the genus Hexagrammos, California sheephead and ocean whitefish in this area.]

(4) Trawl rockfish conservation areas. The trawl RCAs are closed areas, defined by specific latitude and longitude coordinates designed to approximate specific depth contours, where fishing with limited entry trawl gear is prohibited.

(i) Coastwide, it is unlawful to take and retain, possess, or land any species of fish taken with trawl gear within the trawl RCA, except as permitted for vessels participating in the primary whiting season. Throughout the year, boundaries for the trawl RCA are provided in Table 3 (North) and Table 3 (South) of this subpart, and may be modified by NMFS inseason pursuant to § 660.370(c). Trawl RCA boundaries are defined by specific latitude and longitude coordinates which are provided at §§ 660.390 through 660.394.

(ii) Trawl vessels may transit through the trawl RCA, with or without groundfish on board, provided all groundfish trawl gear is stowed either: below deck; or if the gear cannot readily be moved, in a secured and covered manner, detached from all towing lines, so that it is rendered unusable for fishing; or remaining on deck uncovered if the trawl doors are hung from their stanchions and the net is disconnected from the doors. These restrictions do not apply to vessels fishing with mid-water trawl gear for Pacific whiting or taking and retaining yellowtail rockfish or widow rockfish in association with Pacific whiting caught with mid-water trawl gear or to taking and retaining yellowtail or widow rockfish with mid-water trawl gear when trip limits are authorized for those species.

(iii) If a vessel fishes in the trawl RCA, it may not participate in any fishing on that trip that is prohibited by the restrictions that apply within the trawl RCA. [For example, if a vessel participates in the pink shrimp fishery within the RCA, the vessel cannot on the same trip participate in the DTS fishery seaward of the RCA.] Nothing in these Federal regulations supercede any state regulations that may prohibit trawling shoreward of the 3-nm state waters boundary line.

15. A new § 660.382 is added to read as follows:

§ 660.382 Limited entry fixed gear fishery management measures.

(a) General. Most species taken in limited entry fixed gear (longline and pot/trap) fisheries will be managed with cumulative trip limits (see trip limits in Tables 4 (North) and 4 (South) of this subpart), size limits (see § 660.370(h)(5)), seasons (see trip limits in Tables 4 (North) and 4 (South) of this subpart and primary sablefish season details in § 660.372(b)), gear restrictions (see paragraph (b) of this section), and closed areas (see paragraph (c) of this section and §§ 660.390 through 660.394). Cowcod retention is prohibited in all fisheries and groundfish vessels operating south of Point Conception must adhere to CCA restrictions (see paragraph (c)(2) of this section and § 660.390). Yelloweye rockfish and canary rockfish retention is prohibited in the limited entry fixed gear fisheries. Regulations governing and tier limits for the limited entry, fixed gear primary sablefish season north of 36° N. lat. are found in § 660.372. Vessels not participating in the primary sablefish season are subject to daily or weekly sablefish limits in addition to cumulative limits for each cumulative limit period. Only one sablefish landing per week may be made in excess of the daily trip limit and, if the vessel chooses to make a landing in excess of that daily trip limit, then that is the only sablefish landing permitted for that week. The trip limit for black rockfish caught with hook-and-line gear also applies, see § 660.371. The trip limits in Table 4 (North) and Table 4 (South) of this subpart apply to vessels participating in the limited entry groundfish fixed gear fishery and may not be exceeded. Federal commercial groundfish regulations are not intended to supersede any more restrictive state commercial groundfish regulations relating to federally-managed groundfish.

(b) Gear Restrictions—(1) General. The following types of fishing gear are authorized in the limited entry fixed gear fishery, with the restrictions set forth in this section: longline and pot or trap. Vessels participating in the limited entry fixed gear fishery may also fish with open access gear subject to the gear restrictions at § 660.383(b), but will be subject to the most restrictive trip limits for the gear used as specified at § 660.370(h)(7).

(2) Limited entry fixed gear. (i) Fixed gear (longline, trap or pot) must be:

(A) Marked at the surface, at each terminal end, with a pole, flag, light, radar reflector, and a buoy.

(B) Attended at least once every 7 days.

(ii) A buoy used to mark fixed gear under paragraph (b)(2)(i)(A) of this section must be marked with a number clearly identifying the owner or operator of the vessel. The number may be either:

(A) If required by applicable state law, the vessel's number, the commercial fishing license number, or buoy brand number; or

(B) The vessel documentation number issued by the USCG, or, for an undocumented vessel, the vessel registration number issued by the state.

(3) Traps or pots. Traps must have biodegradable escape panels constructed with # 21 or smaller untreated cotton twine in such a manner that an opening at least 8 inches (20.3 cm) in diameter results when the twine deteriorates.

(c) Groundfish Conservation Areas. A Groundfish Conservation Area (GCA), a type of closed area, is a geographic area defined by coordinates expressed in degrees latitude and longitude. The following GCAs apply to vessels participating in the limited entry fixed gear fishery.

(1) Yelloweye Rockfish Conservation Area. The latitude and longitude coordinates of the Yelloweye Rockfish Conservation Area (YRCA) boundaries are specified at § 660.390. The YRCA is designated as an area to be avoided (a voluntary closure) by commercial fixed gear fishermen.

(2) Cowcod Conservation Areas. The latitude and longitude coordinates of the Cowcod Conservation Areas (CCAs) boundaries are specified at § 660.390. Fishing with limited entry fixed gear is prohibited within the CCAs, except that fishing for “other flatfish” is permitted within the CCAs using no more than 12 hooks, “Number 2” or smaller, which measure no more than 11 mm (0.44 inches) point to shank, and up to 2 lb (0.91 kg) of weight per line. Fishing with limited entry fixed gear for rockfish and lingcod is permitted shoreward of the 20-fm (37-m) depth contour. It is unlawful to take and retain, possess, or land groundfish within the CCAs, except for species authorized in this paragraph caught according to gear requirements in this paragraph, when those waters are open to fishing. Commercial fishing vessels may transit through the Western CCA with their gear stowed and groundfish on board only in a corridor through the Western CCA bounded on the north by the latitude line at 33°00.50′ N. lat., and bounded on the south by the latitude line at 32°59.50′ N. lat.

(3) Non-trawl Rockfish Conservation Areas. Fishing for groundfish with non-trawl gear (limited entry or open access longline and pot or trap, open access hook-and-line, gillnet, set net, trammel net and spear) is prohibited within the non-trawl rockfish conservation area (RCA), except that commercial fishing for “other flatfish” is permitted within the non-trawl RCA off California (between 42° N. lat. south to the U.S./Mexico border) using no more than 12 hooks, “Number 2” or smaller, which measure no more than 11 mm (0.44 inches) point to shank, and up to 2 lb (0.91 kg) of weight per line. It is unlawful to take and retain, possess, or land groundfish taken with non-trawl gear within the non-trawl RCA, unless otherwise authorized in this section. Limited entry fixed gear vessels may transit through the non-trawl RCA, with or without groundfish on board. These restrictions do not apply to vessels fishing for species other than groundfish with non-trawl gear, although non-trawl vessels on a fishing trip for species other than groundfish that occurs within the non-trawl RCA may not retain any groundfish taken on that trip. If a vessel fishes in the non-trawl RCA, it may not participate in any fishing on that trip that is prohibited by the restrictions that apply within the non-trawl RCA. [For example, if a vessel participates in the salmon troll fishery within the RCA, the vessel cannot on the same trip participate in the sablefish fishery outside of the RCA.] Boundaries for the non-trawl RCA throughout the year are provided in the header to Table 4 (North) and Table 4 (South) of this subpart and may be modified by NMFS inseason pursuant to § 660.370(c). Non-trawl RCA boundaries are defined by specific latitude and longitude coordinates and are provided at §§ 660.390 through 660.394.

(4) Farallon Islands. Under California law, commercial fishing for all groundfish is prohibited between the shoreline and the 10-fm (18-m) depth contour around the Farallon Islands, except that commercial fishing for “other flatfish” is permitted around the Farallon Islands using no more than 12 hooks, “Number 2” or smaller, which measure no more than 11 mm (0.44 inches) point to shank, and up to 2 lb (0.91 kg) of weight per line. (See Table 4 (South) of this subpart.) For a definition of the Farallon Islands, see § 660.390.

(5) Cordell Banks. Commercial fishing for groundfish is prohibited in waters less than 100 fm (183 m) around Cordell Banks as defined by specific latitude and longitude coordinates at § 660.390, except that commercial fishing for “other flatfish” is permitted around Cordell Banks using no more than 12 hooks, “Number 2” or smaller, which measure no more than 11 mm (0.44 inches) point to shank, and up to 2 lb (0.91 kg) of weight per line. [Note: California state regulations also prohibit fishing for all greenlings of the genus Hexagrammos, California sheephead and ocean whitefish in this area.]

16. Section 660.383 is added to read as follows:

§ 660.383 Open access fishery management measures.

(a) General. Groundfish species taken in open access fisheries will be managed with cumulative trip limits (see trip limits in Tables 5 (North) and 5 (South) of this subpart), size limits (see § 660.370(h)(5)), seasons, gear restrictions (see paragraph (b) of this section), and closed areas (see paragraph (c) of this section and §§ 660.390 through 660.394). Unless otherwise specified, a vessel operating in the open access fishery is subject to, and must not exceed any trip limit, frequency limit, and/or size limit for the open access fishery. Cowcod retention is prohibited in all fisheries and groundfish vessels operating south of Point Conception must adhere to CCA restrictions (see paragraph (c)(2) of this section and § 660.390). Retention of yelloweye rockfish and canary rockfish is prohibited in all open access fisheries. For information on the open access daily/weekly trip limit fishery for sablefish, see § 660.372(c) and the trip limits in Tables 5 (North) and 5 (South) of this subpart. Open access vessels are subject to daily or weekly sablefish limits in addition to cumulative limits for each cumulative limit period. Only one sablefish landing per week may be made in excess of the daily trip limit and, if the vessel chooses to make a landing in excess of that daily trip limit, then that is the only sablefish landing permitted for that week. The trip limit for black rockfish caught with hook-and-line gear also applies, see § 660.371. The trip limits in Table 5 (North) and Table 5 (South) of this subpart apply to vessels participating in the open access fisheries and may not be exceeded. Federal commercial groundfish regulations are not intended to supersede any more restrictive state commercial groundfish regulations relating to federally managed groundfish.

(b) Gear restrictions. Open access gear is gear used to take and retain groundfish from a vessel that does not have a valid permit for the Pacific Coast groundfish fishery with an endorsement for the gear used to harvest the groundfish. This includes longline, trap, pot, hook-and-line (fixed or mobile), setnet (anchored gillnet or trammel net, which are permissible south of 38° N. lat. only), spear and non-groundfish trawl gear (trawls used to target non-groundfish species: pink shrimp or ridgeback prawns, and, south of Pt. Arena, CA (38°57.50′ N. lat.), California halibut or sea cucumbers). Restrictions for gears used in the open access fisheries are as follows:

(1) Non-groundfish trawl gear. Non-groundfish trawl gear is any trawl gear other than limited entry groundfish trawl gear as described at § 660.381(b) and as defined at § 660.302 for trawl vessels with limited entry groundfish permits. Non-groundfish trawl gear is generally trawl gear used to target pink shrimp, ridgeback prawn, California halibut and sea cucumber. Non-groundfish trawl gear is exempt from the limited entry trawl gear restrictions at § 660.381(b).

(2) Fixed gear. (i) Fixed gear (longline, trap or pot, set net and stationary hook-and-line gear, including commercial vertical hook-and-line gear) must be:

(A) Marked at the surface, at each terminal end, with a pole, flag, light, radar reflector, and a buoy.

(B) Attended at least once every 7 days.

(ii) Commercial vertical hook-and-line gear that is closely tended may be marked only with a single buoy of sufficient size to float the gear. “Closely tended” means that a vessel is within visual sighting distance or within 0.25 nm (463 m) as determined by electronic navigational equipment, of its commercial vertical hook-and-line gear.

(iii) A buoy used to mark fixed gear must be marked with a number clearly identifying the owner or operator of the vessel. The number may be either:

(A) If required by applicable state law, the vessel's number, the commercial fishing license number, or buoy brand number; or

(B) The vessel documentation number issued by the USCG, or, for an undocumented vessel, the vessel registration number issued by the state.

(3) Set nets. Fishing for groundfish with set nets is prohibited in the fishery management area north of 38°00.00′ N. lat.

(4) Traps or pots. Traps must have biodegradable escape panels constructed with # 21 or smaller untreated cotton twine in such a manner that an opening at least 8 inches (20.3 cm) in diameter results when the twine deteriorates.

(5) Spears. Spears may be propelled by hand or by mechanical means.

(c) Open Access Groundfish Conservation Areas. A Groundfish Conservation Area (GCA), a type of closed area, is a geographic area defined by coordinates expressed in degrees latitude and longitude. The following GCAs apply to participants in the open access fishery.

(1) Yelloweye Rockfish Conservation Area. The latitude and longitude coordinates of the Yelloweye Rockfish Conservation Area (YRCA) boundaries are specified at § 660.390. The YRCA is designated as an area to be avoided (a voluntary closure) by commercial fixed gear fishermen.

(2) Cowcod Conservation Areas. The latitude and longitude coordinates of the Cowcod Conservation Areas (CCAs) boundaries are specified at § 660.390. Fishing with open access gear is prohibited within the CCAs, except that fishing for “other flatfish” is permitted within the CCAs using no more than 12 hooks, “Number 2” or smaller, which measure no more than 11 mm (0.44 inches) point to shank, and up to 2 lb (0.91 kg) of weight per line. Fishing with open access gear, except trawl gear, for rockfish and lingcod is permitted shoreward of the 20-fm (37-m) depth contour. It is unlawful to take and retain, possess, or land groundfish within the CCAs, except for species authorized in this paragraph caught according to gear requirements in this paragraph, when those waters are open to fishing. Commercial fishing vessels may transit through the Western CCA with their gear stowed and groundfish on board only in a corridor through the Western CCA bounded on the north by the latitude line at 33°00.50′ N. lat., and bounded on the south by the latitude line at 32°59.50′ N. lat.

(3) Non-trawl Rockfish Conservation Areas for the open access fisheries. Fishing for groundfish with non-trawl gear (limited entry or open access longline and pot or trap, open access hook-and-line, gillnet, set net, trammel net and spear) is prohibited within the non-trawl rockfish conservation area (RCA), except that commercial fishing for “other flatfish” is permitted within the non-trawl RCA off California (between 42° N. lat. south to the U.S./Mexico border) using no more than 12 hooks, “Number 2” or smaller, which measure no more than 11 mm (0.44 inches) point to shank, and up to 2 lb (0.91 kg) of weight per line. It is unlawful to take and retain, possess, or land groundfish taken with non-trawl gear within the non-trawl RCA, unless otherwise authorized in this section. Open access non-trawl gear vessels may transit through the non-trawl RCA, with or without groundfish on board. These restrictions do not apply to vessels fishing for species other than groundfish with non-trawl gear, although non-trawl vessels on a fishing trip for species other than groundfish that occurs within the non-trawl RCA may not retain any groundfish taken on that trip. If a vessel fishes in the non-trawl RCA, it may not participate in any fishing on that trip that is prohibited by the restrictions that apply within the non-trawl RCA. Retention of groundfish caught by salmon troll gear is prohibited in the designated RCAs, except that salmon trollers may retain yellowtail rockfish caught both inside and outside the non-trawl RCA subject to the limits in Tables 5 (North) and 5 (South) of this subpart. Boundaries for the non-trawl RCA throughout the year are provided in the open access trip limit tables, Table 5 (North) and Table 5(South) of this subpart and may be modified by NMFS inseason pursuant to § 660.370(c). Non-trawl RCA boundaries are defined by specific latitude and longitude coordinates which are specified at §§ 660.390 through 660.394.

(4) Trawl Rockfish Conservation Areas for the open access non-groundfish trawl fisheries.

(i) Fishing with any open access trawl gear is prohibited within the trawl RCA coastwide, except as authorized in this paragraph. Coastwide, it is unlawful to take and retain, possess, or land any species of fish taken with trawl gear within the trawl RCA, except as permitted in this paragraph for vessels participating in the pink shrimp and ridgeback prawn trawl fisheries. Boundaries for the trawl RCA throughout the year in the open access fishery are provided in Table 5 (North) and Table 5 (South) of this subpart and may be modified by NMFS inseason pursuant to § 660.370(c). Trawl RCA boundaries are defined by specific latitude and longitude coordinates which are specified below at §§ 660.390 through 660.394. The trawl rockfish conservation area (RCA) is closed coastwide to open access non-groundfish trawl fishing, except as follows:

(A) Pink shrimp trawling is permitted in the trawl RCA, and

(B) When the shoreward line of the trawl RCA is shallower than 100 fm (183 m), the ridgeback prawn trawl fishery south of 34°27.00′ N. lat. may operate out to the 100 fm boundary line specified at § 660.393 (i.e., the shoreward boundary of the trawl RCA is at the 100 fm boundary line all year for the ridgeback prawn trawl fishery in this area).

(ii) For the non-groundfish trawl gear fisheries, non-groundfish trawl gear RCAs, if applicable, are generally described in the non-groundfish trawl gear sections at the bottom of Tables 5 (North) and 5 (South) of this subpart. Retention of groundfish caught by non-groundfish trawl gear is prohibited in the designated RCAs, except that:

(A) pink shrimp trawl may retain groundfish caught both within and shoreward and seaward of the non-groundfish trawl RCA subject to the limits in Tables 5 (North) and 5 (South) of this subpart, and

(B)South of 34°27′ N. lat., ridgeback prawn trawl may retain groundfish caught both within the non-groundfish trawl RCA out to 100 fm (183 m) when the shoreward boundary of the trawl RCA is shallower than 100 fm (183 m) (i.e., the shoreward boundary of the trawl RCA is at the 100 fm boundary line all year for the ridgeback prawn trawl fishery in this area) and shoreward and seaward of the non-groundfish trawl RCA subject to the limits in Tables 5 (North) and 5 (South) of this subpart.

(iii) If a vessel fishes in the trawl RCA, it may not participate in any fishing on that trip that is prohibited by the restrictions that apply within the trawl RCA. [For example, if a vessel participates in the pink shrimp fishery within the RCA, the vessel cannot on the same trip participate in the DTS fishery seaward of the RCA.] Nothing in these Federal regulations supercede any state regulations that may prohibit trawling shoreward of the 3-nm state waters boundary line.

(5) Farallon Islands. Under California law, commercial fishing for all groundfish is prohibited between the shoreline and the 10-fm (18-m) depth contour around the Farallon Islands, except that commercial fishing for “other flatfish” is permitted around the Farallon Islands using no more than 12 hooks, “Number 2” or smaller, which measure no more than 11 mm (0.44 inches) point to shank, and up to 2 lb (0.91 kg) of weight per line. (See Table 5 (South) of this subpart.) For a definition of the Farallon Islands, see § 660.390.

(6) Cordell Banks. Commercial fishing for groundfish is prohibited in waters less than 100 fm (183 m) around Cordell Banks as defined by specific latitude and longitude coordinates at § 660.390, except that commercial fishing for “other flatfish” is permitted around Cordell Banks using no more than 12 hooks, “Number 2” or smaller, which measure no more than 11 mm (0.44 inches) point to shank, and up to 2 lb (0.91 kg) of weight per line. [Note: California state regulations also prohibit fishing for all greenlings of the genus Hexagrammos, California sheephead and ocean whitefish in this area.]

(d) Groundfish taken with non-groundfish trawl gear by vessels engaged in fishing for ridgeback prawns, California halibut, or sea cucumbers. Trip limits for groundfish retained in the ridgeback prawn, California halibut, or sea cucumber fisheries are in the open access trip limit table, Table 5 (South) of this subpart. The table also generally describes the RCAs for vessels participating in these fisheries.

(1) Participation in the ridgeback prawn fishery. A trawl vessel will be considered participating in the ridgeback prawn fishery if:

(i) It is not fishing under a valid Federal limited entry groundfish permit issued under § 660.333 for trawl gear; and

(ii) The landing includes ridgeback prawns taken in accordance with California Fish and Game Code, section 8595, which states: “Prawns or shrimp may be taken for commercial purposes with a trawl net, subject to Article 10 (commencing with Section 8830) of Chapter 3.”

(2) Participation in the California halibut fishery. A trawl vessel will be considered participating in the California halibut fishery if:

(i) It is not fishing under a valid Federal limited entry groundfish permit issued under § 660.333 for trawl gear;

(ii) All fishing on the trip takes place south of Pt. Arena, CA (38°57.50′ N. lat.); and

(iii) The landing includes California halibut of a size required by California Fish and Game Code section 8392(a), which states: “No California halibut may be taken, possessed or sold which measures less than 22 in (56 cm) in total length, unless it weighs 4 lb (1.8144 kg) or more in the round, 3 and one-half lbs (1.587 kg) or more dressed with the head on, or 3 lbs (1.3608 kg) or more dressed with the head off. Total length means the shortest distance between the tip of the jaw or snout, whichever extends farthest while the mouth is closed, and the tip of the longest lobe of the tail, measured while the halibut is lying flat in natural repose, without resort to any force other than the swinging or fanning of the tail.”

(3) Participation in the sea cucumber fishery. A trawl vessel will be considered to be participating in the sea cucumber fishery if:

(i) It is not fishing under a valid Federal limited entry groundfish permit issued under § 660.333 for trawl gear;

(ii) All fishing on the trip takes place south of Pt. Arena, CA (38°57.50′ N. lat.); and

(iii) The landing includes sea cucumbers taken in accordance with California Fish and Game Code, section 8405, which requires a permit issued by the State of California.

(e) Groundfish taken with non-groundfish trawl gear by vessels engaged in fishing for pink shrimp. Trip limits for groundfish retained in the pink shrimp fishery are in Tables 5 (North) and 5 (South) of this subpart. Notwithstanding § 660.370(h)(7), a vessel that takes and retains pink shrimp and also takes and retains groundfish in either the limited entry or another open access fishery during the same applicable cumulative limit period that it takes and retains pink shrimp (which may be 1 month or 2 months, depending on the fishery and the time of year), may retain the larger of the two limits, but only if the limit(s) for each gear or fishery are not exceeded when operating in that fishery or with that gear. The limits are not additive; the vessel may not retain a separate trip limit for each fishery.

17. Section § 660.384 is added to read as follows:

§ 660.384 Recreational fishery management measures.

(a) General. Federal recreational groundfish regulations are not intended to supersede any more restrictive state recreational groundfish regulations relating to federally-managed groundfish. The bag limits include fish taken in both state and Federal waters.

(b) Gear restrictions. The only types of fishing gear authorized for recreational fishing are hook-and-line and spear. Spears may be propelled by hand or by mechanical means. More fishery-specific gear restrictions may be required by state as noted in paragraph (c) of this section (e.g. California's recreational “other flatfish” fishery).

(c) State-specific recreational fishery management measures. Federal recreational groundfish regulations are not intended to supersede any more restrictive State recreational groundfish regulations relating to federally-managed groundfish. Off the coast of Washington, Oregon, and California, boat limits apply, whereby each fisher aboard a vessel may continue to use angling gear until the combined daily limits of groundfish for all licensed and juvenile anglers aboard has been attained (additional state restrictions on boat limits may apply).

(1) Washington. For each person engaged in recreational fishing in the EEZ seaward of Washington, the groundfish bag limit is 15 groundfish per day, including rockfish and lingcod, and is open year-round (except for lingcod). The following sublimits and closed areas apply:

(i) Recreational Groundfish Conservation Areas off Washington.

(A) Yelloweye Rockfish Conservation Area. Recreational fishing for groundfish and halibut is prohibited within the YRCA. It is unlawful for recreational fishing vessels to take, retain, possess, or land groundfish within the YRCA. The YRCA is defined by latitude and longitude coordinates specified at § 660.390.

(B) Recreational Rockfish Conservation Area. Fishing for groundfish with recreational gear is prohibited within the recreational RCA. It is unlawful to take and retain, possess, or land groundfish taken with recreational gear within the recreational RCA. A vessel fishing in the recreational RCA may not be in possession of any groundfish. [For example, if a vessel participates in the recreational salmon fishery within the RCA, the vessel cannot be in possession of groundfish while in the RCA. The vessel may, however, on the same trip fish for and retain groundfish shoreward of the RCA on the return trip to port.] Off Washington, if recreational fishing for all groundfish is prohibited seaward of a boundary line approximating the 30-fm (55-m) depth contour, a document will be published in the Federal Register inseason pursuant to § 660.370(c). Coordinates for the boundary line approximating the 30-fm (55-m) depth contour are listed in § 660.391.

(ii) Rockfish. In areas of the EEZ seaward of Washington that are open to recreational groundfish fishing, there is a 10 rockfish per day bag limit. Taking and retaining canary rockfish and yelloweye rockfish is prohibited.

(iii) Lingcod. Recreational fishing for lingcod is open between the closest Saturday to March 15 through the closest Saturday to October 15. For 2005, the lingcod season will be open from March 12 through October 15. For 2006, the lingcod season will be open from March 18 through October 14. In areas of the EEZ seaward of Washington that are open to recreational groundfish fishing and when the recreational season for lingcod is open, there is a bag limit of 2 lingcod per day, which may be no smaller than 24 in (61 cm) total length.

(2) Oregon (i) Recreational Groundfish Conservation Areas off Oregon. Fishing for groundfish with recreational gear is prohibited within the recreational RCA, a type of closed area or GCA. It is unlawful to take and retain, possess, or land groundfish taken with recreational gear within the recreational RCA. A vessel fishing in the recreational RCA may not be in possession of any groundfish. [For example, if a vessel participates in the recreational salmon fishery within the RCA, the vessel cannot be in possession of groundfish while in the RCA. The vessel may, however, on the same trip fish for and retain groundfish shoreward of the RCA on the return trip to port.] Off Oregon, from June 1 through September 30, recreational fishing for groundfish is prohibited seaward of a recreational RCA boundary line approximating the 40 fm (73 m) depth contour. Coordinates for the boundary line approximating the 40 fm (73 m) depth contour are listed at § 660.391. Recreational fishing for all groundfish may be prohibited inseason seaward of the 20 fm (37 m) depth contour or a boundary line approximating the 30 fm (55 m) depth contour. If the closure seaward of the 20 fm (37 m) depth contour or a boundary line approximating the 30 fm (55 m) depth contour is implemented inseason, a document will be published in the Federal Register pursuant to § 660.370(c). Coordinates for the boundary line approximating the 30 fm (55 m) depth contour are listed at § 660.391.

(ii) Seasons. Recreational fishing for groundfish is open from January 1 through December 31, subject to the closed areas described in paragraph (c)(2) of this section.

(iii) Bag limits, size limits. The bag limits for each person engaged in recreational fishing in the EEZ seaward of Oregon are two lingcod per day, which may be no smaller than 24 in (61 cm) total length; and 10 marine fish per day, which excludes Pacific halibut, salmon, tuna, perch species, sturgeon, sanddabs, lingcod, striped bass and baitfish (herring, smelt, anchovies and sardines), but which includes rockfish, greenling, cabezon and other groundfish species. The minimum size limit for cabezon retained in the recreational fishery is 16 in (41 cm) and for greenling is 10 in (26 cm). Taking and retaining canary rockfish and yelloweye rockfish is prohibited.

(3) California. Seaward of California, California law provides that, in times and areas when the recreational fishery is open, there is a 20-fish bag limit for all species of finfish, within which no more than 10 fish of any one species may be taken or possessed by any one person. [Note: There are some exceptions to this rule. The following groundfish species are not subject to a bag limit: petrale sole, Pacific sanddab and starry flounder.] California state law may provide regulations similar to Federal regulations for the following state-managed species: ocean whitefish, California sheephead, and all greenlings of the genus Hexogrammos. Kelp greenling is the only federally-managed greenling. Retention of cowcod, yelloweye rockfish, and canary rockfish is prohibited in the recreational fishery seaward of California all year in all areas. For each person engaged in recreational fishing in the EEZ seaward of California, the following closed areas, seasons, bag limits, and size limits apply:

(i) Recreational Groundfish Conservation Areas off California. A Groundfish Conservation Area (GCA), a type of closed area, is a geographic area defined by coordinates expressed in degrees latitude and longitude. The following GCAs apply to participants in California's recreational fishery.

(A) Recreational Rockfish Conservation Areas. The recreational RCAs are areas that are closed to recreational fishing for groundfish. Fishing for groundfish with recreational gear is prohibited within the recreational RCA, except that recreational fishing for “other flatfish” is permitted within the recreational RCA as specified in paragraph (c)(3)(iv) of this section. It is unlawful to take and retain, possess, or land groundfish taken with recreational gear within the recreational RCA, unless otherwise authorized in this section. A vessel fishing in the recreational RCA may not be in possession of any species prohibited by the restrictions that apply within the recreational RCA. [For example, if a vessel participates in the recreational salmon fishery within the RCA, the vessel cannot be in possession of rockfish while in the RCA. The vessel may, however, on the same trip fish for and retain rockfish shoreward of the RCA on the return trip to port.]

(1) Between 42° N. lat. (California/Oregon border) and 40°10.00′ N. lat., recreational fishing for all groundfish (except “other flatfish” as specified in paragraph (c)(3)(iv) of this section) is prohibited seaward of a boundary line approximating the 40 fm (73 m) depth contour along the mainland coast and along islands and offshore seamounts from July 1 through October 31; and is closed entirely from January 1 through June 30 and from November 1 through December 31 (i.e., prohibited seaward of the shoreline). Recreational fishing for all groundfish may be prohibited inseason seaward of a boundary line approximating the 30 fm (55 m) depth contour. If a closure seaward of the boundary line approximating the 30 fm (55 m) depth contour is implemented inseason, a document will be published in the Federal Register pursuant to § 660.370(c). Coordinates for the boundary line approximating the 30 fm (55 m) and 40 fm (73 m) depth contours are specified in § 660.391.

(2) Between 40°10.00′ N. lat. and 36°N. lat., recreational fishing for all groundfish (except “other flatfish” as specified in paragraph (c)(3)(iv) of this section) is prohibited seaward of the 20 fm (37 m) depth contour along the mainland coast and along islands and offshore seamounts from July 1 through November 30; and is closed entirely from January 1 through June 30 and from December 1 through December 31 (i.e., prohibited seaward of the shoreline). Closures around the Farallon Islands (see paragraph (c)(3)(i)(C) of this section) and Cordell Banks (see paragraph (c)(3)(i)(D) of this section) also apply in this area.

(3) Between 36° N. lat. and 34°27.00′ N. lat., recreational fishing for all groundfish (except “other flatfish” as specified in paragraph (c)(3)(iv) of this section) is prohibited shoreward of the 20 fm (37 m) depth contour and seaward of a boundary line approximating the 40-fm (73-m) depth contour along the mainland coast and along islands and offshore seamounts from May 1 through September 30 (i.e., fishing is permitted only between 20 fm and 40 fm); and is closed entirely from January 1 through April 30 and from October 1 through December 31 (i.e., prohibited seaward of the shoreline). Coordinates for the boundary line approximating the 40-fm (73-m) depth contour are specified in § 660.391.

(4) South of 34°27.00′ N. lat., recreational fishing for all groundfish (except California scorpionfish as specified in this paragraph and in paragraph (c)(3)(v) and “other flatfish” as specified in paragraph (c)(3)(iv) of this section) is prohibited shoreward of a boundary line approximating the 30 fm (55 m) depth contour and seaward of a boundary line approximating the 60-fm (110-m) depth contour along the mainland coast and along islands and offshore seamounts from March 1 through June 30; and is prohibited seaward of a boundary line approximating the 40-fm (73-m) depth contour from July 1 through September 30; except in the CCAs where fishing is prohibited seaward of the 20-fm (37-m) depth contour when the fishing season is open (see paragraph (c)(3)(i)(B) of this section). Recreational fishing for all groundfish (except California scorpionfish and “other flatfish”) is closed entirely from January 1 through February 29 and from October 1 through December 31 (i.e., prohibited seaward of the shoreline). Recreational fishing for California scorpionfish south of 34°27.00′ N. lat. is prohibited seaward of a boundary line approximating the 40-fm (73-m) depth contour from October 1 through November 30, and seaward of the 20-fm (37-m) depth contour from December 1 through December 31, except in the CCAs where fishing is prohibited seaward of the 20-fm (37-m) depth contour when the fishing season is open. Recreational fishing for California scorpionfish south of 34°27.00′ N. lat. is closed entirely from January 1 through September 30 (i.e., prohibited seaward of the shoreline). Coordinates for the boundary line approximating the 30 fm (55 m), 40 fm (73 m), and 60-fm (110-m) depth contours are specified in §§ 660.391 and 660.392.

(B) Cowcod Conservation Areas. The latitude and longitude coordinates of the Cowcod Conservation Areas (CCAs) boundaries are specified at § 660.390. In general, recreational fishing for all groundfish is prohibited within the CCAs, except that fishing for “other flatfish” is permitted within the CCAs as specified in paragraph (c)(3)(iv) of this section. However, recreational fishing for the following species is permitted shoreward of the 20-fm (37-m) depth contour: minor nearshore rockfish, cabezon, kelp greenling, lingcod, California scorpionfish, and “other flatfish” (subject to gear requirements at paragraph (c)(3)(iv) of this section). [NOTE: California state regulations also permit recreational fishing for all greenlings of the genus Hexogrammas shoreward of the 20-fm (37-m) depth contour in the CCAs.] It is unlawful to take and retain, possess, or land groundfish within the CCAs, except for species authorized in this section.

(C) Farallon Islands. Under California state law, recreational fishing for groundfish is prohibited between the shoreline and the 10-fm (18-m) depth contour around the Farallon Islands, except that recreational fishing for “other flatfish” is permitted around the Farallon Islands as specified in paragraph (c)(3)(iv) of this section. (Note: California state regulations also prohibit the retention of other greenlings of the genus Hexagrammos, California sheephead and ocean whitefish.) For a definition of the Farallon Islands, see § 660.390.

(D) Cordell Banks. Recreational fishing for groundfish is prohibited in waters less than 100 fm (183 m) around Cordell Banks as defined by specific latitude and longitude coordinates at § 660.390, except that recreational fishing for “other flatfish” is permitted around Cordell Banks as specified in paragraph (c)(3)(iv) of this section. [Note: California state regulations also prohibit fishing for all greenlings of the genus Hexagrammos, California sheephead and ocean whitefish.]

(ii) RCG Complex. The California rockfish, cabezon, greenling complex (RCG Complex), as defined in state regulations (Section 1.91, Title 14, California Code of Regulations), includes all rockfish, kelp greenling, rock greenling, and cabezon. This category does not include California scorpionfish, also known as “sculpin.

(A) Seasons. When recreational fishing for the RCG Complex is open, it is permitted only outside of the recreational RCAs described in paragraph (c)(3)(i) of this section.

(1) North of 40°10.00′ N. lat., recreational fishing for the RCG Complex is open from July 1 through October 31.

(2) Between 40°10.00′ N. lat. and 36° N. lat., recreational fishing for the RCG Complex is open from July 1 through November 30 (i.e., it's closed from January 1 through June 30 and from December 1 through December 31).

(3) Between 36° N. lat. and 34°27.00′ N. lat., recreational fishing for the RCG Complex is open from May 1 through September 30 (i.e., it's closed from January 1 through April 30 and from October 1 through December 31).

(4) South of 34°27.00′ N. lat., recreational fishing for the RCG Complex is open from March 1 through September 30 (i.e., it's closed from January 1 through February 29 and from October 1 through December 31).

(B) Bag limits, hook limits. In times and areas when the recreational season for the RCG Complex is open, there is a limit of 2 hooks and 1 line when fishing for rockfish. The bag limit is 10 RCG Complex fish per day coastwide. Retention of canary rockfish, yelloweye rockfish and cowcod is prohibited. North of 40°10′ N. lat., within the 10 RCG Complex fish per day limit, no more than 2 may be bocaccio, no more than 2 may be greenling (kelp and/or other greenlings) and no more than 3 may be cabezon. South of 40°10′ N. lat., within the 10 RCG Complex fish per day limit, no more than 1 may be bocaccio, no more than 2 may be greenling (kelp and/or other greenlings) and no more than 3 may be cabezon. Multi-day limits are authorized by a valid permit issued by California and must not exceed the daily limit multiplied by the number of days in the fishing trip.

(C) Size limits. The following size limits apply: bocaccio may be no smaller than 10 in (25 cm) total length; cabezon may be no smaller than 15 in (38 cm) total length; and kelp and other greenling may be no smaller than 12 in (30 cm) total length.

(D) Dressing/Fileting. Cabezon, kelp greenling, and rock greenling taken in the recreational fishery may not be fileted at sea. Rockfish skin may not be removed when fileting or otherwise dressing rockfish taken in the recreational fishery. The following rockfish filet size limits apply: bocaccio filets may be no smaller than 5 in (12.8 cm) and brown-skinned rockfish fillets may be no smaller than 6.5 in (16.6 cm). “Brown-skinned” rockfish include the following species: brown, calico, copper, gopher, kelp, olive, speckled, squarespot, and yellowtail.

(iii) Lingcod—(A) Seasons. When recreational fishing for lingcod is open, it is permitted only outside of the recreational RCAs described in paragraph (c)(3)(i) of this section.

(1) North of 40°10.00′ N. lat., recreational fishing for lingcod is open from July 1 through October 31.

(2) Between 40°10.00′ N. lat. and 36° N. lat., recreational fishing for lingcod is open from July 1 through November 30 (i.e., it's closed from January 1 through June 30 and from December 1 through December 31).

(3) Between 36° N. lat. and 34°27.00' N. lat., recreational fishing for lingcod is open from May 1 through September 30 (i.e., it's closed from January 1 through April 30 and from October 1 through December 31).

(4) South of 34°27.00′ N. lat., recreational fishing for lingcod is open from March 1 through September 30 (i.e., it's closed from January 1 through February 29 and from October 1 through December 31).

(B) Bag limits, hook limits. In times and areas when the recreational season for lingcod is open, there is a limit of 2 hooks and 1 line when fishing for lingcod. The bag limit is 2 lingcod per day. Multi-day limits are authorized by a valid permit issued by California and must not exceed the daily limit multiplied by the number of days in the fishing trip.

(C) Size limits. Lingcod may be no smaller than 24 in (61 cm) total length.

(D) Dressing/Fileting. Lingcod filets may be no smaller than 16 in (41 cm) in length.

(iv) “Other flatfish”. Coastwide off California, recreational fishing for “other flatfish” is permitted both shoreward of and within the closed areas described in paragraph (c)(3)(i) of this section. Recreational fishing for “other flatfish” is permitted within the closed areas, subject to a limit of up to 12 hooks, “Number 2” or smaller, which measure no more than 11 mm (0.44 inches) point to shank, and up to 2 lb (0.91 kg) of weight per line. “Other flatfish,” except Pacific sanddab and starry flounder, are subject to the overall 20-fish bag limit for all species of finfish, of which there may be no more than 10 fish of any one species. There is no season restriction or size limit for “other flatfish;” however, it is prohibited to filet “other flatfish” at sea.

(v) California scorpionfish. California scorpionfish only occur south of 40°10.00′ N. lat.

(A) Seasons. When recreational fishing for California scorpionfish is open, it is permitted only outside of the recreational RCAs described in paragraph (c)(3)(i) of this section.

(1) Between 40°10.00′ N. lat. and 36° N. lat., recreational fishing for California scorpionfish is open from July 1 through November 30 (i.e., it's closed from January 1 through June 30 and from December 1 through December 31).

(2) Between 36° N. lat. and 34°27.00′ N. lat., recreational fishing for California scorpionfish is open from May 1 through September 30 (i.e., it's closed from January 1 through April 30 and from October 1 through December 31).

(3) South of 34°27.00′ N. lat., recreational fishing for California scorpionfish is open from October 1 through December 31 (i.e., it's closed from January 1 through September 30).

(B) Bag limits, hook limits. South of 40°10.00' N. lat., in times and areas where the recreational season for California scorpionfish is open, the bag limit is 5 California scorpionfish per day. California scorpionfish do not count against the 10 RCG Complex fish per day limit. Multi-day limits are authorized by a valid permit issued by California and must not exceed the daily limit multiplied by the number of days in the fishing trip.

(C) Size limits. California scorpionfish may be no smaller than 10 in (25 cm) total length.

(D) Dressing/Fileting. California scorpionfish filets may be no smaller than 5 in (12.8 cm) and must bear an intact 1 in (2.6 cm) square patch of skin.

18. Section 660.385 is added to read as follows:

§ 660.385 Washington coastal tribal fisheries management measures.

In 1994, the United States formally recognized that the four Washington coastal treaty Indian tribes (Makah, Quileute, Hoh, and Quinault) have treaty rights to fish for groundfish in the Pacific Ocean, and concluded that, in general terms, the quantification of those rights is 50 percent of the harvestable surplus of groundfish that pass through the tribes usual and accustomed fishing areas (described at 50 CFR 660.324). Tribal fishery allocations for sablefish and whiting, are provided in paragraphs (a) and (e) of this section, respectively, and the tribal harvest guideline for black rockfish is provided in paragraph (b)(1) of this section. Trip limits for certain species were recommended by the tribes and the Council for 2005-2006 and are specified here with the tribal allocations.

(a) Sablefish. In 2005, the tribal allocation is 731.4 mt and in 2006 the tribal allocation is 719.4 mt. These allocations are, for each year, 10 percent of the total catch OY, less 2.3 percent estimated discard mortality.

(b) Rockfish. (1) For the commercial harvest of black rockfish off Washington State, a harvest guideline of: 20,000 lb (9,072 kg) north of Cape Alava, WA (48°09′30″ N. lat.) and 10,000 lb (4,536 kg) between Destruction Island, WA (47°40′00″ N. lat.) and Leadbetter Point, WA (46°38′10″ N. lat.). There are no tribal harvest restrictions for the area between Cape Alava and Destruction Island.

(2) Thornyheads are subject to a 300-lb (136-kg) trip limit.

(3) Canary rockfish are subject to a 300-lb (136-kg) trip limit.

(4) Yelloweye rockfish are subject to a 100-lb (45-kg) trip limit.

(5) The Makah Tribe will manage the midwater trawl fisheries as follows: yellowtail rockfish taken in the directed tribal mid-water trawl fisheries are subject to a cumulative limit of 180,000 lb (81,647 kg) per 2-month period for the entire fleet. Landings of widow rockfish must not exceed 10 percent of the weight of yellowtail rockfish landed in any two-month period. These limits may be adjusted by the tribe inseason to minimize the incidental catch of canary rockfish and widow rockfish.

(6) Other rockfish, including minor nearshore, minor shelf, and minor slope rockfish groups are subject to a 300-lb (136-kg) trip limit per species or species group, or to the non-tribal limited entry trip limit for those species if those limits are less restrictive than 300 lb (136 kg) per trip.

(7) Rockfish taken during open competition tribal commercial fisheries for Pacific halibut will not be subject to trip limits.

(c) Lingcod. Lingcod are subject to a 600 lb (272 kg) daily trip limit and a 1,800 lb (816 kg) weekly limit, unless taken in the treaty salmon troll fisheries. Lingcod taken in the treaty salmon troll fisheries are subject to a 1,000 lb (454 kg) daily trip limit and a 4,000 lb (1,814 kg) weekly limit.

(d) Flatfish and other fish. Treaty fishing vessels using bottom trawl gear are subject to the limits applicable to the non-tribal limited entry trawl fishery for Pacific cod, English sole, rex sole, arrowtooth flounder, and other flatfish that are published at the beginning of the year. Treaty fishing vessels are restricted to a 50,000 lb (22,680 kg) per 2-month limit for petrale sole for the entire year.

(e) Pacific whiting. Whiting allocations will be announced when the final OY is announced in the Federal Register.

19. Section 660.390 is revised to read as follows:

§ 660.390 Groundfish conservation areas.

In § 660.302, a groundfish conservation area is defined as “a geographic area defined by coordinates expressed in latitude and longitude, created and enforced for the purpose of contributing to the rebuilding of overfished West Coast groundfish species.” While some groundfish conservation areas may be designed with the intent that their shape be determined by ocean bottom depth contours, their shapes are defined in regulation by latitude/longitude coordinates and are enforced by those coordinates. Latitude/longitude coordinates designating the large-scale boundaries for rockfish conservation areas are found in §§ 660.391 through 660.394. Fishing activity that is prohibited or permitted within a particular groundfish conservation area is detailed in Federal Register documents associated with the harvest specifications and management measures process and at § 660.381 through § 660.384.

(a) Yelloweye Rockfish Conservation Area. The Yelloweye Rockfish Conservation Area (YRCA) is a C-shaped area off the northern Washington coast intended to protect yelloweye rockfish. The YRCA is defined by straight lines connecting the following specific latitude and longitude coordinates in the order listed:

48°18.00′ N. lat.; 125°18.00′ W. long.;

48°18.00′ N. lat.; 124°59.00′ W. long.;

48°11.00′ N. lat.; 124°59.00′ W. long.;

48°11.00′ N. lat.; 125°11.00′ W. long.;

48°04.00′ N. lat.; 125°11.00′ W. long.;

48°04.00′ N. lat.; 124°59.00′ W. long.;

48°00.00′ N. lat.; 124°59.00′ W. long.;

48°00.00′ N. lat.; 125°18.00′ W. long.;

and connecting back to 48°18.00′ N. lat.; 125°18.00′ W.long.

(b) Cowcod Conservation Areas. The Cowcod Conservation Areas (CCAs) are two areas off the southern California coast intended to protect cowcod. The Western CCA is an area south of Point Conception defined by the straight lines connecting the following specific latitude and longitude coordinates in the order listed:

33°50.00′ N. lat., 119°30.00′ W. long.;

33°50.00′ N. lat., 118°50.00′ W. long.;

32°20.00′ N. lat., 118°50.00′ W. long.;

32°20.00′ N. lat., 119°37.00′ W. long.;

33°00.00′ N. lat., 119°37.00′ W. long.;

33°00.00′ N. lat., 119°53.00′ W. long.;

33°33.00′ N. lat., 119°53.00′ W. long.;

33°33.00′ N. lat., 119°30.00′ W. long.;

and connecting back to 33°50.00′ N. lat., 119°30.00′ W. long.

The Eastern CCA is an area west of San Diego defined by the straight lines connecting the following specific latitude and longitude coordinates in the order listed:

32°42.00′ N. lat., 118°02.00′ W. long.;

32°42.00′ N. lat., 117°50.00′ W. long.;

32°36.70′ N. lat., 117°50.00′ W. long.;

32°30.00′ N. lat., 117°53.50′ W. long.;

32°30.00′ N. lat., 118°02.00′ W. long.;

and connecting back to 32°42.00′ N. lat., 118°02.00′ W. long.

(c) Farallon Islands. The Farallon Islands, off San Francisco and San Mateo Counties, include Southeast Farallon Island, Middle Farallon Island, North Farallon Island and Noon Day Rock. Generally, the State of California prohibts fishing for groundfish between the shoreline and the 10 fm (18 m) depth contour around the Farallon Islands.

(d) Cordell Banks. Cordell Banks are located offshore of California's Marin County. Generally, fishing for groundfish is prohibited in waters less than 100 fm (183 m) around Cordell Banks as defined by specific latitude and longitude coordinates.The Cordell Banks closed area is defined by straight lines connecting the following specific latitude and longitude coordinates in the order listed:

38°03.18′ N. lat. and 123°20.77′ W. long.;

38°06.29′ N. lat. and 123°25.03′ W. long.;

38°06.34′ N. lat. and 123°29.32′ W. long.;

38°04.57′ N. lat. and 123°31.30′ W. long.;

38°02.32′ N. lat. and 123°31.07′ W. long.;

and connecting back to 37°56.94′ N. lat. and 123°25.48′ W. long.

(e) Rockfish Conservation Areas. RCAs are defined in the Federal Register through the harvest specifications and management measures process. RCAs may apply to a single gear type or to a group of gear types such as “trawl RCAs” or “non-trawl RCAs.” Specific latitude and longitude coordinates for RCA boundaries that approximate the depth contours selected for both trawl, non-trawl, and recreational RCAs are provided in §§ 660.391 through 660.394. Also provided in §§ 660.391 through 660.394 of this subpart are references to islands and rocks that serve as reference points for the RCAs.

(1) Trawl (Limited Entry and Open Access Nongroundfish Trawl Gears) Rockfish Conservation Area. Trawl RCAs are intended to protect a complex of species, such as overfished shelf rockfish species, and have boundaries defined by specific latitude and longitude coordinates intended to approximate particular depth contours. Boundaries for the trawl RCA throughout the year are provided in Tables 3 and 5 (North) and Tables 3 and 5 (South) of this subpart and may be modified by NMFS inseason pursuant to § 660.370(c). Trawl RCA boundaries are defined by specific latitude and longitude coordinates and are provided in §§ 660.391 through 660.394.

(2) Non-Trawl (Limited Entry Fixed Gear and Open Access Non-trawl Gears) Rockfish Conservation Area. Non-trawl RCAs are intended to protect a complex of species, such as overfished shelf rockfish species, and have boundaries defined by specific latitude and longitude coordinates intended to approximate particular depth contours. Boundaries for the non-trawl RCA throughout the year are provided in Tables 4 and 5 (North) and Tables 4 and 5 (South) of this subpart and may be modified by NMFS inseason pursuant to § 660.370(c). Non-trawl RCA boundaries are defined by specific latitude and longitude coordinates and are provided in §§ 660.391 through 660.394.

(3) Recreational Rockfish Conservation Area. Recreational RCAs are closed areas intended to protect overfished rockfish species. Recreational RCAs may either have (1) boundaries defined by general depth contours or (2) boundaries defined by specific latitude and longitude coordinates intended to approximate particular depth contours. Boundaries for the recreational RCAs throughout the year are provided in the text in § 660.384(c) under each state (Washington, Oregon and California) and may be modified by NMFS inseason. Recreational RCA boundaries that are defined by specific latitude and longitude coordinates and are provided in §§ 660.391 through 660.394.

20. Section 660.391 is added to read as follows:

§ 660.391 Latitude/longitude coordinates defining the 27 fm (49 m) through 40 fm (73 m) depth contours.

Boundaries for RCAs are defined by straight lines connecting a series of latitude/longitude coordinates. This section provides coordinates for the 27 fm (49 m) through 40 fm (73 m) depth contours.

(a) The 27 fm (49 m) depth contour used between 46°16′ N. lat. and 40°10′ N. lat. is defined by straight lines connecting all of the following points in the order stated:

(1) 46°16.00′ N. lat., 124°12.39′ W. long.;

(2) 46°14.85′ N. lat., 124°12.39′ W. long.;

(3) 46°03.95′ N. lat., 124°03.64′ W. long.;

(4) 45°43.14′ N. lat., 124°00.17′ W. long.;

(5) 45°23.33′ N. lat., 124°01.99′ W. long.;

(6) 45°09.54′ N. lat., 124°01.65′ W. long.;

(7) 44°39.99′ N. lat., 124°08.67′ W. long.;

(8) 44°20.86′ N. lat., 124°10.31′ W. long.;

(9) 43°37.11′ N. lat., 124°14.91′ W. long.;

(10) 43°27.54′ N. lat., 124°18.98′ W. long.;

(11) 43°20.68′ N. lat., 124°25.53′ W. long.;

(12) 43°15.08′ N. lat., 124°27.17′ W. long.;

(13) 43°06.89′ N. lat., 124°29.65′ W. long.;

(14) 43°01.02′ N. lat., 124°29.70′ W. long.;

(15) 42°52.67′ N. lat., 124°36.10′ W. long.;

(16) 42°45.96′ N. lat., 124°37.95′ W. long.;

(17) 42°45.80′ N. lat., 124°35.41′ W. long.;

(18) 42°38.46′ N. lat., 124°27.49′ W. long.;

(19) 42°35.29′ N. lat., 124°26.85′ W. long.;

(20) 42°31.49′ N. lat., 124°31.40′ W. long.;

(21) 42°29.06′ N. lat., 124°32.24′ W. long.;

(22) 42°14.26′ N. lat., 124°26.27′ W. long.;

(23) 42°04.86′ N. lat., 124°21.94′ W. long.;

(24) 42°00.10′ N. lat., 124°20.99′ W. long.;

(25) 42°00.00′ N. lat., 124°21.03′ W. long.;

(26) 41°56.33′ N. lat., 124°20.34′ W. long.;

(27) 41°50.93′ N. lat., 124°23.74′ W. long.;

(28) 41°41.83′ N. lat., 124°16.99′ W. long.;

(29) 41°35.48′ N. lat., 124°16.35′ W. long.;

(30) 41°23.51′ N. lat., 124°10.48′ W. long.;

(31) 41°04.62′ N. lat., 124°14.44′ W. long.;

(32) 40°54.28′ N. lat., 124°13.90′ W. long.;

(33) 40°40.37′ N. lat., 124°26.21′ W. long.;

(34) 40°34.03′ N. lat., 124°27.36′ W. long.;

(35) 40°28.88′ N. lat., 124°32.41′ W. long.;

(36) 40°24.82′ N. lat., 124°29.56′ W. long.;

(37) 40°22.64′ N. lat., 124°24.05′ W. long.;

(38) 40°18.67′ N. lat., 124°21.90′ W. long.;

(39) 40°14.23′ N. lat., 124°23.72′ W. long.; and

(40) 40°10.00′ N. lat., 124°17.22′ W. long.

(b) The 30 fm (55 m) depth contour between the U.S. border with Canada and the U.S. border with Mexico is defined by straight lines connecting all of the following points in the order stated:

(1) 48°24.79′ N. lat., 124°44.07′ W. long.;

(2) 48°24.80′ N. lat., 124°44.74′ W. long.;

(3) 48°23.94′ N. lat., 124°44.70′ W. long.;

(4) 48°23.51′ N. lat., 124°45.01′ W. long.;

(5) 48°22.59′ N. lat., 124°44.97′ W. long.;

(6) 48°21.75′ N. lat., 124°45.26′ W. long.;

(7) 48°21.23′ N. lat., 124°47.78′ W. long.;

(8) 48°20.32′ N. lat., 124°49.53′ W. long.;

(9) 48°16.72′ N. lat., 124°51.58′ W. long.;

(10) 48°10.00′ N. lat., 124°52.58′ W. long.;

(11) 48°05.63′ N. lat., 124°52.91′ W. long.;

(12) 47°53.37′ N. lat., 124°47.37′ W. long.;

(13) 47°40.28′ N. lat., 124°40.07′ W. long.;

(14) 47°31.70′ N. lat., 124°37.03′ W. long.;

(15) 47°25.67′ N. lat., 124°34.79′ W. long.;

(16) 47°12.82′ N. lat., 124°29.12′ W. long.;

(17) 46°52.94′ N. lat., 124°22.58′ W. long.;

(18) 46°44.18′ N. lat., 124°18.00′ W. long.;

(19) 46°38.17′ N. lat., 124°15.88′ W. long.;

(20) 46°29.53′ N. lat., 124°15.89′ W. long.;

(21) 46°19.27′ N. lat., 124°14.15′ W. long.;

(22) 46°16.00′ N. lat., 124°13.05′ W. long.;

(23) 46°07.00′ N. lat., 124°07.01′ W. long.;

(24) 45°55.95′ N. lat., 124°02.23′ W. long.;

(25) 45°54.53′ N. lat., 124°02.57′ W. long.;

(26) 45°50.65′ N. lat., 124°01.62′ W. long.;

(27) 45°48.20′ N. lat., 124°02.16′ W. long.;

(28) 45°46.00′ N. lat., 124°01.86′ W. long.;

(29) 45°43.47′ N. lat., 124°01.28′ W. long.;

(30) 45°40.48′ N. lat., 124°01.03′ W. long.;

(31) 45°39.04′ N. lat., 124°01.68′ W. long.;

(32) 45°35.48′ N. lat., 124°01.89′ W. long.;

(33) 45°29.81′ N. lat., 124°02.45′ W. long.;

(34) 45°27.96′ N. lat., 124°01.89′ W. long.;

(35) 45°27.22′ N. lat., 124°02.67′ W. long.;

(36) 45°24.20′ N. lat., 124°02.94′ W. long.;

(37) 45°20.60′ N. lat., 124°01.74′ W. long.;

(38) 45°20.25′ N. lat., 124°01.85′ W. long.;

(39) 45°16.44′ N. lat., 124°03.22′ W. long.;

(40) 45°13.63′ N. lat., 124°02.70′ W. long.;

(41) 45°11.04′ N. lat., 124°03.59′ W. long.;

(42) 45°08.55′ N. lat., 124°03.47′ W. long.;

(43) 45°02.82′ N. lat., 124°04.64′ W. long.;

(44) 45°03.38′ N. lat., 124°04.79′ W. long.;

(45) 44°58.06′ N. lat., 124°05.03′ W. long.;

(46) 44°53.97′ N. lat., 124°06.92′ W. long.;

(47) 44°48.89′ N. lat., 124°07.04′ W. long.;

(48) 44°46.94′ N. lat., 124°08.25′ W. long.;

(49) 44°42.72′ N. lat., 124°08.98′ W. long.;

(50) 44°38.16′ N. lat., 124°11.48′ W. long.;

(51) 44°33.38′ N. lat., 124°11.54′ W. long.;

(52) 44°28.51′ N. lat., 124°12.03′ W. long.;

(53) 44°27.65′ N. lat., 124°12.56′ W. long.;

(54) 44°19.67′ N. lat., 124°12.37′ W. long.;

(55) 44°10.79′ N. lat., 124°12.22′ W. long.;

(56) 44°09.22′ N. lat., 124°12.28′ W. long.;

(57) 44°08.30′ N. lat., 124°12.30′ W. long.;

(58) 44°00.22′ N. lat., 124°12.80′ W. long.;

(59) 43°51.56′ N. lat., 124°13.17′ W. long.;

(60) 43°44.26′ N. lat., 124°14.50′ W. long.;

(61) 43°33.82′ N. lat., 124°16.28′ W. long.;

(62) 43°28.66′ N. lat., 124°18.72′ W. long.;

(63) 43°23.12′ N. lat., 124°24.04′ W. long.;

(64) 43°20.83′ N. lat., 124°25.67′ W. long.;

(65) 43°20.49′ N. lat., 124°25.90′ W. long.;

(66) 43°16.41′ N. lat., 124°27.52′ W. long.;

(67) 43°14.23′ N. lat., 124°29.28′ W. long.;

(68) 43°14.03′ N. lat., 124°28.31′ W. long.;

(69) 43°11.92′ N. lat., 124°28.26′ W. long.;

(70) 43°11.02′ N. lat., 124°29.11′ W. long.;

(71) 43°10.13′ N. lat., 124°29.15′ W. long.;

(72) 43°09.27′ N. lat., 124°31.03′ W. long.;

(73) 43°07.73′ N. lat., 124°30.92′ W. long.;

(74) 43°05.93′ N. lat., 124°29.64′ W. long.;

(75) 43°01.59′ N. lat., 124°30.64′ W. long.;

(76) 42°59.73′ N. lat., 124°31.16′ W. long.;

(77) 42°53.75′ N. lat., 124°36.09′ W. long.;

(78) 42°50.00′ N. lat., 124°38.39′ W. long.;

(79) 42°49.37′ N. lat., 124°38.81′ W. long.;

(80) 42°46.42′ N. lat., 124°37.69′ W. long.;

(81) 42°46.07′ N. lat., 124°38.56′ W. long.;

(82) 42°45.29′ N. lat., 124°37.95′ W. long.;

(83) 42°45.61′ N. lat., 124°36.87′ W. long.;

(84) 42°44.28′ N. lat., 124°33.64′ W. long.;

(85) 42°42.75′ N. lat., 124°31.84′ W. long.;

(86) 42°40.50′ N. lat., 124°29.67′ W. long.;

(87) 42°40.04′ N. lat., 124°29.19′ W. long.;

(88) 42°38.09′ N. lat., 124°28.39′ W. long.;

(89) 42°36.72′ N. lat., 124°27.54′ W. long.;

(90) 42°36.56′ N. lat., 124°28.40′ W. long.;

(91) 42°35.76′ N. lat., 124°28.79′ W. long.;

(92) 42°34.03′ N. lat., 124°29.98′ W. long.;

(93) 42°34.19′ N. lat., 124°30.58′ W. long.;

(94) 42°31.27′ N. lat., 124°32.24′ W. long.;

(95) 42°27.07′ N. lat., 124°32.53′ W. long.;

(96) 42°24.21′ N. lat., 124°31.23′ W. long.;

(97) 42°20.47′ N. lat., 124°28.87′ W. long.;

(98) 42°14.60′ N. lat., 124°26.80′ W. long.;

(99) 42°13.67′ N. lat., 124°26.25′ W. long.;

(100) 42°10.90′ N. lat., 124°24.57′ W. long.;

(101) 42°07.04′ N. lat., 124°23.35′ W. long.;

(102) 42°02.16′ N. lat., 124°22.59′ W. long.;

(103) 42°00.00′ N. lat., 124°21.81′ W. long.;

(104) 41°55.75′ N. lat., 124°20.72′ W. long.;

(105) 41°50.93′ N. lat., 124°23.76′ W. long.;

(106) 41°42.53′ N. lat., 124°16.47′ W. long.;

(107) 41°37.20′ N. lat., 124°17.05′ W. long.;

(108) 41°24.58′ N. lat., 124°10.51′ W. long.;

(109) 41°20.73′ N. lat., 124°11.73′ W. long.;

(110) 41°17.59′ N. lat., 124°10.66′ W. long.;

(111) 41°04.54′ N. lat., 124°14.47′ W. long.;

(112) 40°54.26′ N. lat., 124°13.90′ W. long.;

(113) 40°40.31′ N. lat., 124°26.24′ W. long.;

(114) 40°34.00′ N. lat., 124°27.39′ W. long.;

(115) 40°30.00′ N. lat., 124°31.32′ W. long.;

(116) 40°28.89′ N. lat., 124°32.43′ W. long.;

(117) 40°24.77′ N. lat., 124°29.51′ W. long.;

(118) 40°22.47′ N. lat., 124°24.12′ W. long.;

(119) 40°19.73′ N. lat., 124°23.59′ W. long.;

(120) 40°18.64′ N. lat., 124°21.89′ W. long.;

(121) 40°17.67′ N. lat., 124°23.07′ W. long.;

(122) 40°15.58′ N. lat., 124°23.61′ W. long.;

(123) 40°13.42′ N. lat., 124°22.94′ W. long.;

(124) 40°10.00′ N. lat., 124°16.65′ W. long.;

(125) 40°09.46′ N. lat., 124°15.28′ W. long.;

(126) 40°08.89′ N. lat., 124°15.24′ W. long.;

(127) 40°06.40′ N. lat., 124°10.97′ W. long.;

(128) 40°06.08′ N. lat., 124°09.34′ W. long.;

(129) 40°06.64′ N. lat., 124°08.00′ W. long.;

(130) 40°05.08′ N. lat., 124°07.57′ W. long.;

(131) 40°04.29′ N. lat., 124°08.12′ W. long.;

(132) 40°00.61′ N. lat., 124°07.35′ W. long.;

(133) 39°58.60′ N. lat., 124°05.51′ W. long.;

(134) 39°54.89′ N. lat., 124°04.67′ W. long.;

(135) 39°53.01′ N. lat., 124°02.33′ W. long.;

(136) 39°53.20′ N. lat., 123°58.18′ W. long.;

(137) 39°48.45′ N. lat., 123°53.21′ W. long.;

(138) 39°43.89′ N. lat., 123°51.75′ W. long.;

(139) 39°39.60′ N. lat., 123°49.14′ W. long.;

(140) 39°34.43′ N. lat., 123°48.48′ W. long.;

(141) 39°30.63′ N. lat., 123°49.71′ W. long.;

(142) 39°21.25′ N. lat., 123°50.54′ W. long.;

(143) 39°08.87′ N. lat., 123°46.24′ W. long.;

(144) 39°03.79′ N. lat., 123°43.91′ W. long.;

(145) 38°59.65′ N. lat., 123°45.94′ W. long.;

(146) 38°57.50′ N. lat., 123°46.28′ W. long.;

(147) 38°56.80′ N. lat., 123°46.48′ W. long.;

(148) 38°51.16′ N. lat., 123°41.48′ W. long.;

(149) 38°45.77′ N. lat., 123°35.14′ W. long.;

(150) 38°42.21′ N. lat., 123°28.17′ W. long.;

(151) 38°34.05′ N. lat., 123°20.96′ W. long.;

(152) 38°22.47′ N. lat., 123°07.48′ W. long.;

(153) 38°16.52′ N. lat., 123°05.62′ W. long.;

(154) 38°14.42′ N. lat., 123°01.91′ W. long.;

(155) 38°08.24′ N. lat., 122°59.79′ W. long.;

(156) 38°02.69′ N. lat., 123°01.96′ W. long.;

(157) 38°00.00′ N. lat., 123°04.75′ W. long.;

(158) 37°58.41′ N. lat., 123°02.93′ W. long.;

(159) 37°58.25′ N. lat., 122°56.49′ W. long.;

(160) 37°50.30′ N. lat., 122°52.23′ W. long.;

(161) 37°43.36′ N. lat., 123°04.18′ W. long.;

(162) 37°40.77′ N. lat., 123°01.62′ W. long.;

(163) 37°40.13′ N. lat., 122°57.30′ W. long.;

(164) 37°42.59′ N. lat., 122°53.64′ W. long.;

(165) 37°35.67′ N. lat., 122°44.20′ W. long.;

(166) 37°29.62′ N. lat., 122°36.00′ W. long.;

(167) 37°22.38′ N. lat., 122°31.66′ W. long.;

(168) 37°13.86′ N. lat., 122°28.27′ W. long.;

(169) 37°11.00′ N. lat., 122°26.50′ W. long.;

(170) 37°08.01′ N. lat., 122°24.75′ W. long.;

(171) 37°07.00′ N. lat., 122°23.60′ W. long.;

(172) 37°05.84′ N. lat., 122°22.47′ W. long.;

(173) 36°58.77′ N. lat., 122°13.03′ W. long.;

(174) 36°53.74′ N. lat., 122°03.39′ W. long.;

(175) 36°52.71′ N. lat., 122°00.14′ W. long.;

(176) 36°52.51′ N. lat., 121°56.77′ W. long.;

(177) 36°49.44′ N. lat., 121°49.63′ W. long.;

(178) 36°48.01′ N. lat., 121°49.92′ W. long.;

(179) 36°48.25′ N. lat., 121°47.66′ W. long.;

(180) 36°46.26′ N. lat., 121°51.27′ W. long.;

(181) 36°39.14′ N. lat., 121°52.05′ W. long.;

(182) 36°38.00′ N. lat., 121°53.57′ W. long.;

(183) 36°39.14′ N. lat., 121°55.45′ W. long.;

(184) 36°38.50′ N. lat., 121°57.09′ W. long.;

(185) 36°36.75′ N. lat., 121°59.44′ W. long.;

(186) 36°34.97′ N. lat., 121°59.37′ W. long.;

(187) 36°33.07′ N. lat., 121°58.32′ W. long.;

(188) 36°33.27′ N. lat., 121°57.07′ W. long.;

(189) 36°32.68′ N. lat., 121°57.03′ W. long.;

(190) 36°32.04′ N. lat., 121°55.98′ W. long.;

(191) 36°31.61′ N. lat., 121°55.72′ W. long.;

(192) 36°31.59′ N. lat., 121°57.12′ W. long.;

(193) 36°31.52′ N. lat., 121°57.57′ W. long.;

(194) 36°30.88′ N. lat., 121°57.90′ W. long.;

(195) 36°30.25′ N. lat., 121°57.37′ W. long.;

(196) 36°29.47′ N. lat., 121°57.55′ W. long.;

(197) 36°26.72′ N. lat., 121°56.40′ W. long.;

(198) 36°24.33′ N. lat., 121°56.00′ W. long.;

(199) 36°23.36′ N. lat., 121°55.45′ W. long.;

(200) 36°18.86′ N. lat., 121°56.15′ W. long.;

(201) 36°16.21′ N. lat., 121°54.81′ W. long.;

(202) 36°15.30′ N. lat., 121°53.79′ W. long.;

(203) 36°12.04′ N. lat., 121°45.38′ W. long.;

(204) 36°11.87′ N. lat., 121°44.45′ W. long.;

(205) 36°12.13′ N. lat., 121°44.25′ W. long.;

(206) 36°11.89′ N. lat., 121°43.65′ W. long.;

(207) 36°10.56′ N. lat., 121°42.62′ W. long.;

(208) 36°09.90′ N. lat., 121°41.57′ W. long.;

(209) 36°08.14′ N. lat., 121°40.44′ W. long.;

(210) 36°06.69′ N. lat., 121°38.79′ W. long.;

(211) 36°05.85′ N. lat., 121°38.47′ W. long.;

(212) 36°03.08′ N. lat., 121°36.25′ W. long.;

(213) 36°02.92′ N. lat., 121°35.89′ W. long.;

(214) 36°01.53′ N. lat., 121°36.13′ W. long.;

(215) 36°00.59′ N. lat., 121°35.40′ W. long.;

(216) 36°00.00′ N. lat., 121°34.10′ W. long.;

(217) 35°59.93′ N. lat., 121°33.81′ W. long.;

(218) 35°59.69′ N. lat., 121°31.84′ W. long.;

(219) 35°58.59′ N. lat., 121°30.30′ W. long.;

(220) 35°54.02′ N. lat., 121°29.71′ W. long.;

(221) 35°51.54′ N. lat., 121°27.67′ W. long.;

(222) 35°50.42′ N. lat., 121°25.79′ W. long.;

(223) 35°48.37′ N. lat., 121°24.29′ W. long.;

(224) 35°47.02′ N. lat., 121°22.46′ W. long.;

(225) 35°42.28′ N. lat., 121°21.20′ W. long.;

(226) 35°41.57′ N. lat., 121°21.82′ W. long.;

(227) 35°39.24′ N. lat., 121°18.84′ W. long.;

(228) 35°35.14′ N. lat., 121°10.45′ W. long.;

(229) 35°30.11′ N. lat., 121°05.59′ W. long.;

(230) 35°25.86′ N. lat., 121°00.07′ W. long.;

(231) 35°22.82′ N. lat., 120°54.68′ W. long.;

(232) 35°17.96′ N. lat., 120°55.54′ W. long.;

(233) 35°14.83′ N. lat., 120°55.42′ W. long.;

(234) 35°08.87′ N. lat., 120°50.22′ W. long.;

(235) 35°05.55′ N. lat., 120°44.89′ W. long.;

(236) 35°02.91′ N. lat., 120°43.94′ W. long.;

(237) 34°53.80′ N. lat., 120°43.94′ W. long.;

(238) 34°34.89′ N. lat., 120°41.92′ W. long.;

(239) 34°32.48′ N. lat., 120°40.05′ W. long.;

(240) 34°30.12′ N. lat., 120°32.81′ W. long.;

(241) 34°27.00′ N. lat., 120°30.46′ W. long.;

(242) 34°27.00′ N. lat., 120°30.31′ W. long.;

(243) 34°25.84′ N. lat., 120°27.40′ W. long.;

(244) 34°25.16′ N. lat., 120°20.18′ W. long.;

(245) 34°25.88′ N. lat., 120°18.24′ W. long.;

(246) 34°27.26′ N. lat., 120°12.47′ W. long.;

(247) 34°26.27′ N. lat., 120°02.22′ W. long.;

(248) 34°23.41′ N. lat., 119°53.40′ W. long.;

(249) 34°23.33′ N. lat., 119°48.74′ W. long.;

(250) 34°22.31′ N. lat., 119°41.36′ W. long.;

(251) 34°21.72′ N. lat., 119°40.14′ W. long.;

(252) 34°21.25′ N. lat., 119°41.18′ W. long.;

(253) 34°20.25′ N. lat., 119°39.03′ W. long.;

(254) 34°19.87′ N. lat., 119°33.65′ W. long.;

(255) 34°18.67′ N. lat., 119°30.16′ W. long.;

(256) 34°16.95′ N. lat., 119°27.90′ W. long.;

(257) 34°13.02′ N. lat., 119°26.99′ W. long.;

(258) 34°08.62′ N. lat., 119°20.89′ W. long.;

(259) 34°06.95′ N. lat., 119°17.68′ W. long.;

(260) 34°05.93′ N. lat., 119°15.17′ W. long.;

(261) 34°08.42′ N. lat., 119°13.11′ W. long.;

(262) 34°05.23′ N. lat., 119°13.34′ W. long.;

(263) 34°04.98′ N. lat., 119°11.39′ W. long.;

(264) 34°04.55′ N. lat., 119°11.09′ W. long.;

(265) 34°04.15′ N. lat., 119°09.35′ W. long.;

(266) 34°04.89′ N. lat., 119°07.86′ W. long.;

(267) 34°04.08′ N. lat., 119°07.33′ W. long.;

(268) 34°04.10′ N. lat., 119°06.89′ W. long.;

(269) 34°05.08′ N. lat., 119°07.02′ W. long.;

(270) 34°05.27′ N. lat., 119°04.95′ W. long.;

(271) 34°04.51′ N. lat., 119°04.70′ W. long.;

(272) 34°02.26′ N. lat., 118°59.88′ W. long.;

(273) 34°01.08′ N. lat., 118°59.77′ W. long.;

(274) 34°00.94′ N. lat., 118°51.65′ W. long.;

(275) 33°59.77′ N. lat., 118°49.26′ W. long.;

(276) 34°00.04′ N. lat., 118°48.92′ W. long.;

(277) 33°59.65′ N. lat., 118°48.43′ W. long.;

(278) 33°59.46′ N. lat., 118°47.25′ W. long.;

(279) 33°59.80′ N. lat., 118°45.89′ W. long.;

(280) 34°00.21′ N. lat., 118°37.64′ W. long.;

(281) 33°59.26′ N. lat., 118°34.58′ W. long.;

(282) 33°58.07′ N. lat., 118°33.36′ W. long.;

(283) 33°53.76′ N. lat., 118°30.14′ W. long.;

(284) 33°51.00′ N. lat., 118°25.19′ W. long.;

(285) 33°50.07′ N. lat., 118°24.70′ W. long.;

(286) 33°50.16′ N. lat., 118°23.77′ W. long.;

(287) 33°48.80′ N. lat., 118°25.31′ W. long.;

(288) 33°47.07′ N. lat., 118°27.07′ W. long.;

(289) 33°46.12′ N. lat., 118°26.87′ W. long.;

(290) 33°44.15′ N. lat., 118°25.15′ W. long.;

(291) 33°43.54′ N. lat., 118°23.02′ W. long.;

(292) 33°41.35′ N. lat., 118°18.86′ W. long.;

(293) 33°39.96′ N. lat., 118°17.37′ W. long.;

(294) 33°40.12′ N. lat., 118°16.33′ W. long.;

(295) 33°39.28′ N. lat., 118°16.21′ W. long.;

(296) 33°38.04′ N. lat., 118°14.86′ W. long.;

(297) 33°36.57′ N. lat., 118°14.67′ W. long.;

(298) 33°34.93′ N. lat., 118°10.94′ W. long.;

(399) 33°35.14′ N. lat., 118°08.61′ W. long.;

(300) 33°35.69′ N. lat., 118°07.68′ W. long.;

(301) 33°36.21′ N. lat., 118°07.53′ W. long.;

(302) 33°36.43′ N. lat., 118°06.73′ W. long.;

(303) 33°36.05′ N. lat., 118°06.15′ W. long.;

(304) 33°36.32′ N. lat., 118°03.91′ W. long.;

(305) 33°35.69′ N. lat., 118°03.64′ W. long.;

(306) 33°34.62′ N. lat., 118°00.04′ W. long.;

(307) 33°34.80′ N. lat., 117°57.73′ W. long.;

(308) 33°35.57′ N. lat., 117°56.62′ W. long.;

(309) 33°35.46′ N. lat., 117°55.99′ W. long.;

(310) 33°35.98′ N. lat., 117°55.99′ W. long.;

(311) 33°35.46′ N. lat., 117°55.38′ W. long.;

(312) 33°35.21′ N. lat., 117°53.46′ W. long.;

(313) 33°33.61′ N. lat., 117°50.45′ W. long.;

(314) 33°31.41′ N. lat., 117°47.28′ W. long.;

(315) 33°27.54′ N. lat., 117°44.36′ W. long.;

(316) 33°26.63′ N. lat., 117°43.17′ W. long.;

(317) 33°25.21′ N. lat., 117°40.90′ W. long.;

(318) 33°20.33′ N. lat., 117°35.99′ W. long.;

(319) 33°16.35′ N. lat., 117°31.51′ W. long.;

(320) 33°11.53′ N. lat., 117°26.81′ W. long.;

(321) 33°07.59′ N. lat., 117°21.13′ W. long.;

(322) 33°02.21′ N. lat., 117°19.05′ W. long.;

(323) 32°56.55′ N. lat., 117°17.70′ W. long.;

(324) 32°54.61′ N. lat., 117°16.60′ W. long.;

(325) 32°52.32′ N. lat., 117°15.97′ W. long.;

(326) 32°51.48′ N. lat., 117°16.15′ W. long.;

(327) 32°51.85′ N. lat., 117°17.26′ W. long.;

(328) 32°51.55′ N. lat., 117°19.01′ W. long.;

(329) 32°49.55′ N. lat., 117°19.63′ W. long.;

(330) 32°46.71′ N. lat., 117°18.32′ W. long.;

(331) 32°36.35′ N. lat., 117°15.68′ W. long.; and

(332) 32°32.85′ N. lat., 117°15.44′ W. long.

(c) The 30 fm (55 m) depth contour around the Farallon Islands off the state of California is defined by straight lines connecting all of the following points in the order stated:

(1) 37°46.73′ N. lat., 123°6.37′ W. long.;

(2) 37°45.79′ N. lat., 123°07.91′ W. long.;

(3) 37°45.28′ N. lat., 123°07.75′ W. long.;

(4) 37°44.98′ N. lat., 123°07.11′ W. long.;

(5) 37°45.51′ N. lat., 123°06.26′ W. long.;

(6) 37°45.14′ N. lat., 123°05.41′ W. long.;

(7) 37°45.31′ N. lat., 123°04.82′ W. long.;

(8) 37°46.11′ N. lat., 123°05.23′ W. long.;

(9) 37°46.44′ N. lat., 123°05.63′ W. long.; and

(10) 37°46.73′ N. lat., 123°06.37′ W. long.

(d) The 30 fm (55 m) depth contour around Noon Day Rock off the state of California is defined by straight lines connecting all of the following points in the order stated:

(1) 37°47.83′ N. lat., 123°10.83′ W. long.;

(2) 37°47.51′ N. lat., 123°11.19′ W. long.;

(3) 37°47.33′ N. lat., 123°10.68′ W. long.;

(4) 37°47.02′ N. lat., 123°10.59′ W. long.;

(5) 37°47.21′ N. lat., 123°09.85′ W. long.;

(6) 37°47.56′ N. lat., 123°09.72′ W. long.;

(7) 37°47.87′ N. lat., 123°10.26′ W. long.; and

(8) 37°47.83′ N. lat., 123°10.83′ W. long.

(e) The 30 fm (55 m) depth contour around the northern Channel Islands off the state of California is defined by straight lines connecting all of the following points in the order stated:

(1) 34°00.98′ N. lat., 119°20.46′ W. long.;

(2) 34°00.53′ N. lat., 119°20.98′ W. long.;

(3) 34°00.17′ N. lat., 119°21.83′ W. long.;

(4) 33° 59.65′ N. lat., 119°24.45′ W. long.;

(5) 33°59.68′ N. lat., 119°25.20′ W. long.;

(6) 33°59.95′ N. lat., 119°26.25′ W. long.;

(7) 33°59.87′ N. lat., 119°27.27′ W. long.;

(8) 33°59.55′ N. lat., 119°28.02′ W. long.;

(9) 33°58.63′ N. lat., 119°36.48′ W. long.;

(10) 33°57.62′ N. lat., 119°41.13′ W. long.;

(11) 33°57.00′ N. lat., 119°42.20′ W. long.;

(12) 33°56.93′ N. lat., 119°48.00′ W. long.;

(13) 33°56.45′ N. lat., 119°49.12′ W. long.;

(14) 33°58.54′ N. lat., 119°52.80′ W. long.;

(15) 33°59.95′ N. lat., 119°54.49′ W. long.;

(16) 33°59.83′ N. lat., 119°56.00′ W. long.;

(17) 33°59.18′ N. lat., 119°57.17′ W. long.;

(18) 33°57.83′ N. lat., 119°56.74′ W. long.;

(19) 33°55.71′ N. lat., 119°56.89′ W. long.;

(20) 33°53.89′ N. lat., 119°57.68′ W. long.;

(21) 33°52.93′ N. lat., 119°59.80′ W. long.;

(22) 33°52.79′ N. lat., 120°01.81′ W. long.;

(23) 33°52.51′ N. lat., 120°03.08′ W. long.;

(24) 33°53.12′ N. lat., 120°04.88′ W. long.;

(25) 33°53.12′ N. lat., 120°05.80′ W. long.;

(26) 33°52.94′ N. lat., 120°06.50′ W. long.;

(27) 33°54.03′ N. lat., 120°10.00′ W. long.;

(28) 33°54.58′ N. lat., 120°11.82′ W. long.;

(29) 33°57.08′ N. lat., 120°14.58′ W. long.;

(30) 33°59.50′ N. lat., 120°16.72′ W. long.;

(31) 33°59.63′ N. lat., 120°17.88′ W. long.;

(32) 34°00.30′ N. lat., 120°19.14′ W. long.;

(33) 34°00.02′ N. lat., 120°19.68′ W. long.;

(34) 34°00.08′ N. lat., 120°21.73′ W. long.;

(35) 34°00.94′ N. lat., 120°24.82′ W. long.;

(36) 34°01.09′ N. lat., 120°27.29′ W. long.;

(37) 34°00.96′ N. lat., 120°28.09′ W. long.;

(38) 34°01.56′ N. lat., 120°28.71′ W. long.;

(39) 34°01.80′ N. lat., 120°28.31′ W. long.;

(40) 34°03.60′ N. lat., 120°28.87′ W. long.;

(41) 34°05.20′ N. lat., 120°29.38′ W. long.;

(42) 34°05.35′ N. lat., 120°28.20′ W. long.;

(43) 34°05.30′ N. lat., 120°27.33′ W. long.;

(44) 34°05.65′ N. lat., 120°26.79′ W. long.;

(45) 34°05.69′ N. lat., 120°25.82′ W. long.;

(46) 34°07.24′ N. lat., 120°24.98′ W. long.;

(47) 34°06.00′ N. lat., 120°23.30′ W. long.;

(48) 34°05.64′ N. lat., 120°21.44′ W. long.;

(49) 34°03.61′ N. lat., 120°18.40′ W. long.;

(50) 34°03.25′ N. lat., 120°16.64′ W. long.;

(51) 34°04.33′ N. lat., 120°14.22′ W. long.;

(52) 34°04.11′ N. lat., 120°11.17′ W. long.;

(53) 34°03.72′ N. lat., 120°09.93′ W. long.;

(54) 34°03.81′ N. lat., 120°08.96′ W. long.;

(55) 34°03.36′ N. lat., 120°06.52′ W. long.;

(56) 34°04.80′ N. lat., 120°04.00′ W. long.;

(57) 34°03.48′ N. lat., 120°01.75′ W. long.;

(58) 34°04.00′ N. lat., 120°01.00′ W. long.;

(59) 34°03.99′ N. lat., 120°00.15′ W. long.;

(60) 34°03.51′ N. lat., 119°59.42′ W. long.;

(61) 34°03.79′ N. lat., 119°58.15′ W. long.;

(62) 34°04.72′ N. lat., 119°57.61′ W. long.;

(63) 34°05.14′ N. lat., 119°55.17′ W. long.;

(64) 34°04.66′ N. lat., 119°51.60′ W. long.;

(65) 34°03.79′ N. lat., 119°48.86′ W. long.;

(66) 34°03.79′ N. lat., 119°45.46′ W. long.;

(67) 34°03.27′ N. lat., 119°44.17′ W. long.;

(68) 34°03.29′ N. lat., 119°43.30′ W. long.;

(69) 34°01.71′ N. lat., 119°40.83′ W. long.;

(70) 34°01.74′ N. lat., 119°37.92′ W. long.;

(71) 34°02.07′ N. lat., 119°37.17′ W. long.;

(72) 34°02.93′ N. lat., 119°36.52′ W. long.;

(73) 34°03.48′ N. lat., 119°35.50′ W. long.;

(74) 34°03.56′ N. lat., 119°32.80′ W. long.;

(75) 34°02.72′ N. lat., 119°31.84′ W. long.;

(76) 34°02.20′ N. lat., 119°30.53′ W. long.;

(77) 34°01.49′ N. lat., 119°30.20′ W. long.;

(78) 34°00.66′ N. lat., 119°28.62′ W. long.;

(79) 34°00.66′ N. lat., 119°27.57′ W. long.;

(80) 34°01.41′ N. lat., 119°26.91′ W. long.;

(81) 34°00.91′ N. lat., 119°24.28′ W. long.;

(82) 34°01.51′ N. lat., 119°22.06′ W. long.; and

(83) 34°01.41′ N. lat., 119°20.61′ W. long.

(f) The 30 fm (55 m) depth contour around San Clemente Island off the state of California is defined by straight lines connecting all of the following points in the order stated:

(1) 33°03.37′ N. lat., 118°37.76′ W. long.;

(2) 33°02.72′ N. lat., 118°38.12′ W. long.;

(3) 33°02.18′ N. lat., 118°37.46′ W. long.;

(4) 33°00.66′ N. lat., 118°37.36′ W. long.;

(5) 33°00.08′ N. lat., 118°36.94′ W. long.;

(6) 33°00.11′ N. lat., 118°36.00′ W. long.;

(7) 32°58.02′ N. lat., 118°35.41′ W. long.;

(8) 32°56.00′ N. lat., 118°33.59′ W. long.;

(9) 32°54.76′ N. lat., 118°33.58′ W. long.;

(10) 32°53.97′ N. lat., 118°32.45′ W. long.;

(11) 32°51.18′ N. lat., 118°30.83′ W. long.;

(12) 32°50.00′ N. lat., 118°29.68′ W. long.;

(13) 32°49.72′ N. lat., 118°28.33′ W. long.;

(14) 32°47.88′ N. lat., 118°26.90′ W. long.;

(15) 32°47.30′ N. lat., 118°25.73′ W. long.;

(16) 32°47.28′ N. lat., 118°24.83′ W. long.;

(17) 32°48.12′ N. lat., 118°24.33′ W. long.;

(18) 32°48.74′ N. lat., 118°23.39′ W. long.;

(19) 32°48.69′ N. lat., 118°21.75′ W. long.;

(20) 32°49.06′ N. lat., 118°20.53′ W. long.;

(21) 32°50.28′ N. lat., 118°21.90′ W. long.;

(22) 32°51.73′ N. lat., 118°23.86′ W. long.;

(23) 32°52.79′ N. lat., 118°25.08′ W. long.;

(24) 32°54.03′ N. lat., 118°26.83′ W. long.;

(25) 32°54.70′ N. lat., 118°27.55′ W. long.;

(26) 32°55.49′ N. lat., 118°29.04′ W. long.;

(27) 32°59.58′ N. lat., 118°32.51′ W. long.;

(28) 32°59.89′ N. lat., 118°32.52′ W. long.;

(29) 33°00.29′ N. lat., 118°32.73′ W. long.;

(30) 33°00.85′ N. lat., 118°33.50′ W. long.;

(31) 33°01.70′ N. lat., 118°33.64′ W. long.;

(32) 33°02.90′ N. lat., 118°35.35′ W. long.;

(33) 33°02.61′ N. lat., 118°36.96′ W. long.; and

(34) 33°03.37′ N. lat., 118°37.76′ W. long.

(g) The 30 fm (55 m) depth contour around Santa Catalina Island off the state of California is defined by straight lines connecting all of the following points in the order stated:

(1) 33°19.13′ N. lat., 118°18.04′ W. long.;

(2) 33°18.32′ N. lat., 118°18.20′ W. long.;

(3) 33°17.82′ N. lat., 118°18.73′ W. long.;

(4) 33°17.54′ N. lat., 118°19.52′ W. long.;

(5) 33°17.99′ N. lat., 118°21.71′ W. long.;

(6) 33°18.48′ N. lat., 118°22.82′ W. long.;

(7) 33°18.77′ N. lat., 118°26.95′ W. long.;

(8) 33°19.69′ N. lat., 118°28.87′ W. long.;

(9) 33°20.53′ N. lat., 118°30.52′ W. long.;

(10) 33°20.46′ N. lat., 118°31.47′ W. long.;

(11) 33°20.98′ N. lat., 118°31.39′ W. long.;

(12) 33°20.81′ N. lat., 118°30.49′ W. long.;

(13) 33°21.38′ N. lat., 118°30.07′ W. long.;

(14) 33°23.12′ N. lat., 118°29.31′ W. long.;

(15) 33°24.95′ N. lat., 118°29.70′ W. long.;

(16) 33°25.39′ N. lat., 118°30.50′ W. long.;

(17) 33°25.21′ N. lat., 118°30.79′ W. long.;

(18) 33°25.65′ N. lat., 118°31.60′ W. long.;

(19) 33°25.65′ N. lat., 118°32.04′ W. long.;

(20) 33°25.94′ N. lat., 118°32.96′ W. long.;

(21) 33°25.86′ N. lat., 118°33.49′ W. long.;

(22) 33°26.06′ N. lat., 118°34.12′ W. long.;

(23) 33°28.28′ N. lat., 118°36.60′ W. long.;

(24) 33°28.83′ N. lat., 118°36.42′ W. long.;

(25) 33°28.72′ N. lat., 118°34.93′ W. long.;

(26) 33°28.71′ N. lat., 118°33.61′ W. long.;

(27) 33°28.81′ N. lat., 118°32.95′ W. long.;

(28) 33°28.73′ N. lat., 118°32.07′ W. long.;

(29) 33°27.55′ N. lat., 118°30.14′ W. long.;

(30) 33°27.86′ N. lat., 118°29.41′ W. long.;

(31) 33°26.98′ N. lat., 118°29.06′ W. long.;

(32) 33°26.96′ N. lat., 118°28.58′ W. long.;

(33) 33°26.76′ N. lat., 118°28.40′ W. long.;

(34) 33°26.52′ N. lat., 118°27.66′ W. long.;

(35) 33°26.31′ N. lat., 118°27.41′ W. long.;

(36) 33°25.09′ N. lat., 118°23.13′ W. long.;

(37) 33°24.80′ N. lat., 118°22.86′ W. long.;

(38) 33°24.60′ N. lat., 118°22.02′ W. long.;

(39) 33°22.82′ N. lat., 118°21.04′ W. long.;

(40) 33°20.23′ N. lat., 118°18.45′ W. long.; and

(41) 33°19.13′ N. lat., 118°18.04′ W. long.

(h) The 40 fm (73 m) depth contour between 46°16′ N. lat. and the U.S. border with Mexico is defined by straight lines connecting all of the following points in the order stated:

(1) 46°16.00′ N. lat., 124°16.10′ W. long.;

(2) 46°15.29′ N. lat., 124°15.60′ W. long.;

(3) 46°11.90′ N. lat., 124°13.59′ W. long.;

(4) 46°06.93′ N. lat., 124°10.15′ W. long.;

(5) 46°05.33′ N. lat., 124°08.30′ W. long.;

(6) 45°58.69′ N. lat., 124°05.60′ W. long.;

(7) 45°57.71′ N. lat., 124°05.82′ W. long.;

(8) 45°53.97′ N. lat., 124°05.04′ W. long.;

(9) 45°49.75′ N. lat., 124°05.14′ W. long.;

(10) 45°47.88′ N. lat., 124°05.16′ W. long.;

(11) 45°47.07′ N. lat., 124°04.21′ W. long.;

(12) 45°46.00′ N. lat., 124°04.49′ W. long.;

(13) 45°44.34′ N. lat., 124°05.09′ W. long.;

(14) 45°40.64′ N. lat., 124°04.90′ W. long.;

(15) 45°33.00′ N. lat., 124°04.46′ W. long.;

(16) 45°32.27′ N. lat., 124°04.74′ W. long.;

(17) 45°29.26′ N. lat., 124°04.22′ W. long.;

(18) 45°20.25′ N. lat., 124°04.67′ W. long.;

(19) 45°19.99′ N. lat., 124°04.62′ W. long.;

(20) 45°17.50′ N. lat., 124°04.91′ W. long.;

(21) 45°11.29′ N. lat., 124°05.19′ W. long.;

(22) 45°05.79′ N. lat., 124°05.40′ W. long.;

(23) 45°05.07′ N. lat., 124°05.93′ W. long.;

(24) 45°03.83′ N. lat., 124°06.47′ W. long.;

(25) 45°01.70′ N. lat., 124°06.53′ W. long.;

(26) 44°58.75′ N. lat., 124°07.14′ W. long.;

(27) 44°51.28′ N. lat., 124°10.21′ W. long.;

(28) 44°49.49′ N. lat., 124°10.89′ W. long.;

(29) 44°44.96′ N. lat., 124°14.39′ W. long.;

(30) 44°43.44′ N. lat., 124°14.78′ W. long.;

(31) 44°42.27′ N. lat., 124°13.81′ W. long.;

(32) 44°41.68′ N. lat., 124°15.38′ W. long.;

(33) 44°34.87′ N. lat., 124°15.80′ W. long.;

(34) 44°33.74′ N. lat., 124°14.43′ W. long.;

(35) 44°27.66′ N. lat., 124°16.99′ W. long.;

(36) 44°19.13′ N. lat., 124°19.22′ W. long.;

(37) 44°15.35′ N. lat., 124°17.37′ W. long.;

(38) 44°14.38′ N. lat., 124°17.78′ W. long.;

(39) 44°12.80′ N. lat., 124°17.18′ W. long.;

(40) 44°09.23′ N. lat., 124°15.96′ W. long.;

(41) 44°08.38′ N. lat., 124°16.80′ W. long.;

(42) 44°08.30′ N. lat., 124°16.75′ W. long.;

(43) 44°01.18′ N. lat., 124°15.42′ W. long.;

(44) 43°51.60′ N. lat., 124°14.68′ W. long.;

(45) 43°42.66′ N. lat., 124°15.46′ W. long.;

(46) 43°40.49′ N. lat., 124°15.74′ W. long.;

(47) 43°38.77′ N. lat., 124°15.64′ W. long.;

(48) 43°34.52′ N. lat., 124°16.73′ W. long.;

(49) 43°28.82′ N. lat., 124°19.52′ W. long.;

(50) 43°23.91′ N. lat., 124°24.28′ W. long.;

(51) 43°20.83′ N. lat., 124°26.63′ W. long.;

(52) 43°17.96′ N. lat., 124°28.81′ W. long.;

(53) 43°16.75′ N. lat., 124°28.42′ W. long.;

(54) 43°13.98′ N. lat., 124°31.99′ W. long.;

(55) 43°13.71′ N. lat., 124°33.25′ W. long.;

(56) 43°12.26′ N. lat., 124°34.16′ W. long.;

(57) 43°10.96′ N. lat., 124°32.34′ W. long.;

(58) 43°05.65′ N. lat., 124°31.52′ W. long.;

(59) 42°59.66′ N. lat., 124°32.58′ W. long.;

(60) 42°54.97′ N. lat., 124°36.99′ W. long.;

(61) 42°53.81′ N. lat., 124°38.58′ W. long.;

(62) 42°50.00′ N. lat., 124°39.68′ W. long.;

(63) 42°49.14′ N. lat., 124°39.92′ W. long.;

(64) 42°46.47′ N. lat., 124°38.65′ W. long.;

(65) 42°45.60′ N. lat., 124°39.04′ W. long.;

(66) 42°44.79′ N. lat., 124°37.96′ W. long.;

(67) 42°45.00′ N. lat., 124°36.39′ W. long.;

(68) 42°44.14′ N. lat., 124°35.16′ W. long.;

(69) 42°42.15′ N. lat., 124°32.82′ W. long.;

(70) 42°40.50′ N. lat., 124°31.98′ W. long.;

(71) 42°38.82′ N. lat., 124°31.09′ W. long.;

(72) 42°35.91′ N. lat., 124°31.02′ W. long.;

(73) 42°31.34′ N. lat., 124°34.84′ W. long.;

(74) 42°28.13′ N. lat., 124°34.83′ W. long.;

(75) 42°26.73′ N. lat., 124°35.58′ W. long.;

(76) 42°23.85′ N. lat., 124°34.05′ W. long.;

(77) 42°21.68′ N. lat., 124°30.64′ W. long.;

(78) 42°19.62′ N. lat., 124°29.02′ W. long.;

(79) 42°15.01′ N. lat., 124°27.72′ W. long.;

(80) 42°13.67′ N. lat., 124°26.93′ W. long.;

(81) 42°11.38′ N. lat., 124°25.62′ W. long.;

(82) 42°04.66′ N. lat., 124°24.39′ W. long.;

(83) 42°00.00′ N. lat., 124°23.55′ W. long.;

(84) 41°51.35′ N. lat., 124°25.25′ W. long.;

(85) 41°44.10′ N. lat., 124°19.05′ W. long.;

(86) 41°38.00′ N. lat., 124°20.04′ W. long.;

(87) 41°18.43′ N. lat., 124°13.48′ W. long.;

(88) 40°55.12′ N. lat., 124°16.33′ W. long.;

(89) 40°41.00′ N. lat., 124°27.66′ W. long.;

(90) 40°36.71′ N. lat., 124°27.15′ W. long.;

(91) 40°32.81′ N. lat., 124°29.42′ W. long.;

(92) 40°30.00′ N. lat., 124°32.38′ W. long.;

(93) 40°29.13′ N. lat., 124°33.23′ W. long.;

(94) 40°24.55′ N. lat., 124°30.40′ W. long.;

(95) 40°22.32′ N. lat., 124°24.19′ W. long.;

(96) 40°19.67′ N. lat., 124°25.52′ W. long.;

(97) 40°18.63′ N. lat., 124°22.38′ W. long.;

(98) 40°15.21′ N. lat., 124°24.53′ W. long.;

(99) 40°12.56′ N. lat., 124°22.69′ W. long.;

(100) 40°10.00′ N. lat., 124°17.84′ W. long.;

(101) 40°09.30′ N. lat., 124°15.68′ W. long.;

(102) 40°08.31′ N. lat., 124°15.17′ W. long.;

(103) 40°05.62′ N. lat., 124°09.80′ W. long.;

(104) 40°06.57′ N. lat., 124°07.99′ W. long.;

(105) 40°00.86′ N. lat., 124°08.42′ W. long.;

(106) 39°54.79′ N. lat., 124°05.25′ W. long.;

(107) 39°52.75′ N. lat., 124°02.62′ W. long.;

(108) 39°52.51′ N. lat., 123°58.15′ W. long.;

(109) 39°49.64′ N. lat., 123°54.98′ W. long.;

(110) 39°41.46′ N. lat., 123°50.65′ W. long.;

(111) 39°34.57′ N. lat., 123°49.24′ W. long.;

(112) 39°22.62′ N. lat., 123°51.21′ W. long.;

(113) 39°04.58′ N. lat., 123°45.43′ W. long.;

(114) 39°00.45′ N. lat., 123°47.58′ W. long.;

(115) 38°57.50′ N. lat., 123°47.27′ W. long.;

(116) 38°55.82′ N. lat., 123°46.97′ W. long.;

(117) 38°52.26′ N. lat., 123°44.35′ W. long.;

(118) 38°45.41′ N. lat., 123°35.67′ W. long.;

(119) 38°40.60′ N. lat., 123°28.22′ W. long.;

(120) 38°21.64′ N. lat., 123°08.91′ W. long.;

(121) 38°12.01′ N. lat., 123°03.86′ W. long.;

(122) 38°06.16′ N. lat., 123°07.01′ W. long.;

(123) 38°00.00′ N. lat., 123°07.05′ W. long.;

(124) 37°51.73′ N. lat., 122°57.97′ W. long.;

(125) 37°47.96′ N. lat., 122°59.34′ W. long.;

(126) 37°47.37′ N. lat., 123°08.84′ W. long.;

(127) 37°50.00′ N. lat., 123°14.38′ W. long.;

(128) 37°39.91′ N. lat., 123°00.84′ W. long.;

(129) 37°38.75′ N. lat., 122°52.16′ W. long.;

(130) 37°35.67′ N. lat., 122°49.47′ W. long.;

(131) 37°20.24′ N. lat., 122°33.82′ W. long.;

(132) 37°11.00′ N. lat., 122°28.50′ W. long.;

(133) 37°07.00′ N. lat., 122°26.26′ W. long.;

(134) 36°52.04′ N. lat., 122°04.60′ W. long.;

(135) 36°52.00′ N. lat., 121°57.41′ W. long.;

(136) 36°47.87′ N. lat., 121°50.15′ W. long.;

(137) 36°48.07′ N. lat., 121°48.21′ W. long.;

(138) 36°45.93′ N. lat., 121°52.11′ W. long.;

(139) 36°40.55′ N. lat., 121°52.59′ W. long.;

(140) 36°38.93′ N. lat., 121°58.17′ W. long.;

(141) 36°36.54′ N. lat., 122°00.18′ W. long.;

(142) 36°32.87′ N. lat., 121°58.81′ W. long.;

(143) 36°31.90′ N. lat., 121°56.00′ W. long.;

(144) 36°31.51′ N. lat., 121°58.17′ W. long.;

(145) 36°23.28′ N. lat., 121°56.10′ W. long.;

(146) 36°17.52′ N. lat., 121°57.33′ W. long.;

(147) 36°15.90′ N. lat., 121°57.00′ W. long.;

(148) 36°11.06′ N. lat., 121°43.10′ W. long.;

(149) 36°02.85′ N. lat., 121°36.21′ W. long.;

(150) 36°01.22′ N. lat., 121°36.36′ W. long.;

(151) 36°00.00′ N. lat., 121°34.73′ W. long.;

(152) 35°58.67′ N. lat., 121°30.68′ W. long.;

(153) 35°54.16′ N. lat., 121°30.21′ W. long.;

(154) 35°46.98′ N. lat., 121°24.02′ W. long.;

(155) 35°40.75′ N. lat., 121°21.89′ W. long.;

(156) 35°34.36′ N. lat., 121°11.07′ W. long.;

(157) 35°29.30′ N. lat., 121°05.74′ W. long.;

(158) 35°22.15′ N. lat., 120°56.15′ W. long.;

(159) 35°14.93′ N. lat., 120°56.37′ W. long.;

(160) 35°04.06′ N. lat., 120°46.35′ W. long.;

(161) 34°45.85′ N. lat., 120°43.96′ W. long.;

(162) 34°37.80′ N. lat., 120°44.44′ W. long.;

(163) 34°32.82′ N. lat., 120°42.08′ W. long.;

(164) 34°27.00′ N. lat., 120°31.27′ W. long.;

(165) 34°24.25′ N. lat., 120°23.33′ W. long.;

(166) 34°26.48′ N. lat., 120°13.93′ W. long.;

(167) 34°25.12′ N. lat., 120°03.46′ W. long.;

(168) 34°17.58′ N. lat., 119°31.62′ W. long.;

(169) 34°11.49′ N. lat., 119°27.30′ W. long.;

(170) 34°05.59′ N. lat., 119°15.52′ W. long.;

(171) 34°08.60′ N. lat., 119°12.93′ W. long.;

(172) 34°04.81′ N. lat., 119°13.44′ W. long.;

(173) 34°04.26′ N. lat., 119°12.39′ W. long.;

(174) 34°03.89′ N. lat., 119°07.06′ W. long.;

(175) 34°05.14′ N. lat., 119°05.55′ W. long.;

(176) 34°01.27′ N. lat., 118°59.62′ W. long.;

(177) 33°59.56′ N. lat., 118°48.21′ W. long.;

(178) 33°59.30′ N. lat., 118°35.43′ W. long.;

(179) 33°55.14′ N. lat., 118°32.16′ W. long.;

(180) 33°52.95′ N. lat., 118°34.49′ W. long.;

(181) 33°51.07′ N. lat., 118°31.50′ W. long.;

(182) 33°52.45′ N. lat., 118°28.54′ W. long.;

(183) 33°49.86′ N. lat., 118°24.10′ W. long.;

(184) 33°47.14′ N. lat., 118°28.38′ W. long.;

(185) 33°44.14′ N. lat., 118°25.18′ W. long.;

(186) 33°41.54′ N. lat., 118°19.63′ W. long.;

(187) 33°37.86′ N. lat., 118°15.06′ W. long.;

(188) 33°36.58′ N. lat., 118°15.97′ W. long.;

(189) 33°34.78′ N. lat., 118°12.60′ W. long.;

(190) 33°34.46′ N. lat., 118°08.77′ W. long.;

(191) 33°35.92′ N. lat., 118°07.04′ W. long.;

(192) 33°36.06′ N. lat., 118°03.96′ W. long.;

(193) 33°34.98′ N. lat., 118°02.74′ W. long.;

(194) 33°34.03′ N. lat., 117°59.37′ W. long.;

(195) 33°35.46′ N. lat., 117°55.61′ W. long.;

(196) 33°34.97′ N. lat., 117°53.33′ W. long.;

(197) 33°31.20′ N. lat., 117°47.40′ W. long.;

(198) 33°27.26′ N. lat., 117°44.34′ W. long.;

(199) 33°24.84′ N. lat., 117°40.75′ W. long.;

(200) 33°11.45′ N. lat., 117°26.84′ W. long.;

(201) 33°07.59′ N. lat., 117°21.46′ W. long.;

(202) 33°01.74′ N. lat., 117°19.23′ W. long.;

(203) 32°56.44′ N. lat., 117°18.08′ W. long.;

(204) 32°54.63′ N. lat., 117°16.94′ W. long.;

(205) 32°51.67′ N. lat., 117°16.21′ W. long.;

(206) 32°52.16′ N. lat., 117°19.41′ W. long.;

(207) 32°46.91′ N. lat., 117°20.43′ W. long.;

(208) 32°43.49′ N. lat., 117°18.12′ W. long.; and

(209) 32°33.00′ N. lat., 117°16.39′ W. long.

(i) The 40 fm (73 m) depth contour around the northern Channel Islands off the state of California is defined by straight lines connecting all of the following points in the order stated:

(1) 34°07.88′ N. lat., 120°27.79′ W. long.;

(2) 34°07.45′ N. lat., 120°28.26′ W. long.;

(3) 34°07.03′ N. lat., 120°27.29′ W. long.;

(4) 34°06.19′ N. lat., 120°28.81′ W. long.;

(5) 34°06.44′ N. lat., 120°31.17′ W. long.;

(6) 34°05.81′ N. lat., 120°31.97′ W. long.;

(7) 34°03.51′ N. lat., 120°29.61′ W. long.;

(8) 34°01.56′ N. lat., 120°28.83′ W. long.;

(9) 34°00.81′ N. lat., 120°27.94′ W. long.;

(10) 33°59.26′ N. lat., 120°17.95′ W. long.;

(11) 33°54.71′ N. lat., 120°12.72′ W. long.;

(12) 33°51.61′ N. lat., 120°02.49′ W. long.;

(13) 33°51.68′ N. lat., 119°59.41′ W. long.;

(14) 33°52.71′ N. lat., 119°57.25′ W. long.;

(15) 33°55.83′ N. lat., 119°55.92′ W. long.;

(16) 33°59.64′ N. lat., 119°56.03′ W. long.;

(17) 33°56.30′ N. lat., 119°48.63′ W. long.;

(18) 33°56.77′ N. lat., 119°41.87′ W. long.;

(19) 33°58.54′ N. lat., 119°34.98′ W. long.;

(20) 33°59.52′ N. lat., 119°24.69′ W. long.;

(21) 34°00.24′ N. lat., 119°21.00′ W. long.;

(22) 34°02.00′ N. lat., 119°19.57′ W. long.;

(23) 34°01.29′ N. lat., 119°23.92′ W. long.;

(24) 34°01.95′ N. lat., 119°28.94′ W. long.;

(25) 34°03.90′ N. lat., 119°33.43′ W. long.;

(26) 34°03.31′ N. lat., 119°36.51′ W. long.;

(27) 34°02.13′ N. lat., 119°37.99′ W. long.;

(28) 34°01.96′ N. lat., 119°40.35′ W. long.;

(29) 34°03.52′ N. lat., 119°43.22′ W. long.;

(30) 34°04.03′ N. lat., 119°45.66′ W. long.;

(31) 34°04.03′ N. lat., 119°48.13′ W. long.;

(32) 34°05.15′ N. lat., 119°52.97′ W. long.;

(33) 34°05.47′ N. lat., 119°57.55′ W. long.;

(34) 34°04.43′ N. lat., 120°02.29′ W. long.;

(35) 34°05.64′ N. lat., 120°04.05′ W. long.;

(36) 34°04.16′ N. lat., 120°07.60′ W. long.;

(37) 34°05.04′ N. lat., 120°12.78′ W. long.;

(38) 34°04.45′ N. lat., 120°17.78′ W. long.;

(39) 34°07.37′ N. lat., 120°24.14′ W. long.; and

(40) 34°07.88′ N. lat., 120°27.79′ W. long.

(j) The 40 fm (73 m) depth contour around San Clemente Island off the state of California is defined by straight lines connecting all of the following points in the order stated:

(1) 33°02.94′ N. lat., 118°38.42′ W. long.;

(2) 33°01.79′ N. lat., 118°37.67′ W. long.;

(3) 33°00.47′ N. lat., 118°37.65′ W. long.;

(4) 32°59.64′ N. lat., 118°37.04′ W. long.;

(5) 32°59.81′ N. lat., 118°36.37′ W. long.;

(6) 32°57.84′ N. lat., 118°35.67′ W. long.;

(7) 32°55.89′ N. lat., 118°33.88′ W. long.;

(8) 32°54.75′ N. lat., 118°33.57′ W. long.;

(9) 32°53.75′ N. lat., 118°32.47′ W. long.;

(10) 32°50.36′ N. lat., 118°30.50′ W. long.;

(11) 32°49.78′ N. lat., 118°29.65′ W. long.;

(12) 32°49.70′ N. lat., 118°28.96′ W. long.;

(13) 32°46.79′ N. lat., 118°25.60′ W. long.;

(14) 32°45.24′ N. lat., 118°24.55′ W. long.;

(15) 32°45.94′ N. lat., 118°24.12′ W. long.;

(16) 32°46.85′ N. lat., 118°24.79′ W. long.;

(17) 32°48.49′ N. lat., 118°23.25′ W. long.;

(18) 32°48.80′ N. lat., 118°20.52′ W. long.;

(19) 32°49.76′ N. lat., 118°20.98′ W. long.;

(20) 32°55.04′ N. lat., 118°27.97′ W. long.;

(21) 32°55.48′ N. lat., 118°29.01′ W. long.;

(22) 33°00.35′ N. lat., 118°32.61′ W. long.;

(23) 33°01.79′ N. lat., 118°33.66′ W. long.;

(24) 33°02.98′ N. lat., 118°35.40′ W. long.; and

(25) 33°02.94′ N. lat., 118°38.42′ W. long.

(k) The 40 fm (73 m) depth contour around Santa Catalina Island off the state of California is defined by straight lines connecting all of the following points in the order stated:

(1) 33°28.90′ N. lat., 118°36.43′ W. long.;

(2) 33°28.49′ N. lat., 118°36.70′ W. long.;

(3) 33°28.02′ N. lat., 118°36.70′ W. long.;

(4) 33°25.81′ N. lat., 118°33.95′ W. long.;

(5) 33°25.78′ N. lat., 118°32.94′ W. long.;

(6) 33°24.77′ N. lat., 118°29.99′ W. long.;

(7) 33°23.19′ N. lat., 118°29.61′ W. long.;

(8) 33°20.81′ N. lat., 118°30.52′ W. long.;

(9) 33°21.06′ N. lat., 118°31.52′ W. long.;

(10) 33°20.43′ N. lat., 118°31.62′ W. long.;

(11) 33°20.45′ N. lat., 118°30.46′ W. long.;

(12) 33°18.71′ N. lat., 118°27.64′ W. long.;

(13) 33°17.36′ N. lat., 118°18.75′ W. long.;

(14) 33°19.17′ N. lat., 118°17.56′ W. long.;

(15) 33°22.20′ N. lat., 118°20.11′ W. long.;

(16) 33°23.31′ N. lat., 118°20.45′ W. long.;

(17) 33°24.71′ N. lat., 118°22.13′ W. long.;

(18) 33°25.27′ N. lat., 118°23.30′ W. long.;

(19) 33°26.73′ N. lat., 118°28.00′ W. long.;

(20) 33°27.85′ N. lat., 118°29.33′ W. long.;

(21) 33°27.91′ N. lat., 118°29.93′ W. long.;

(22) 33°28.79′ N. lat., 118°32.16′ W. long.; and

(23) 33°28.90′ N. lat., 118°36.40′ W. long.

21. Section 660.392 is added to read as follows:

§ 660.392 Latitude/longitude coordinates defining the 50 fm (91 m) through 75 fm (137 m) depth contours.

Boundaries for RCAs are defined by straight lines connecting a series of latitude/longitude coordinates. This section provides coordinates for the 50 fm (91 m) through 75 fm (137 m) depth contours.

(a) The 50 fm (91 m) depth contour between the U.S. border with Canada and the U.S. border with Mexico is defined by straight lines connecting all of the following points in the order stated:

(1) 48°22.15′ N. lat., 124°43.15′ W. long.;

(2) 48°22.15′ N. lat., 124°49.10′ W. long.;

(3) 48°20.03′ N. lat., 124°51.18′ W. long.;

(4) 48°16.61′ N. lat., 124°53.72′ W. long.;

(5) 48°14.68′ N. lat., 124°54.50′ W. long.;

(6) 48°12.02′ N. lat., 124°55.29′ W. long.;

(7) 48°03.14′ N. lat., 124°57.02′ W. long.;

(8) 47°56.05′ N. lat., 124°55.60′ W. long.;

(9) 47°52.58′ N. lat., 124°54.00′ W. long.;

(10) 47°50.18′ N. lat., 124°52.36′ W. long.;

(11) 47°45.34′ N. lat., 124°51.07′ W. long.;

(12) 47°40.96′ N. lat., 124°48.84′ W. long.;

(13) 47°34.59′ N. lat., 124°46.24′ W. long.;

(14) 47°27.86′ N. lat., 124°42.12′ W. long.;

(15) 47°22.34′ N. lat., 124°39.43′ W. long.;

(16) 47°17.66′ N. lat., 124°38.75′ W. long.;

(17) 47°06.25′ N. lat., 124°39.74′ W. long.;

(18) 47°00.43′ N. lat., 124°38.01′ W. long.;

(19) 46°52.00′ N. lat., 124°32.44′ W. long.;

(20) 46°35.41′ N. lat., 124°25.51′ W. long.;

(21) 46°25.43′ N. lat., 124°23.46′ W. long.;

(22) 46°16.00′ N. lat., 124°17.32′ W. long.;

(23) 45°50.88′ N. lat., 124°09.68′ W. long.;

(24) 45°46.00′ N. lat., 124°09.39′ W. long.;

(25) 45°20.25′ N. lat., 124°07.34′ W. long.;

(26) 45°12.99′ N. lat., 124°06.71′ W. long.;

(27) 45°03.83′ N. lat., 124°09.17′ W. long.;

(28) 44°52.48′ N. lat., 124°11.22′ W. long.;

(29) 44°42.41′ N. lat., 124°19.70′ W. long.;

(30) 44°38.80′ N. lat., 124°26.58′ W. long.;

(31) 44°24.99′ N. lat., 124°31.22′ W. long.;

(32) 44°18.11′ N. lat., 124°43.74′ W. long.;

(33) 44°15.23′ N. lat., 124°40.47′ W. long.;

(34) 44°18.80′ N. lat., 124°35.48′ W. long.;

(35) 44°19.62′ N. lat., 124°27.18′ W. long.;

(36) 44°08.30′ N. lat., 124°22.17′ W. long.;

(37) 43°56.65′ N. lat., 124°16.86′ W. long.;

(38) 43°34.95′ N. lat., 124°17.47′ W. long.;

(39) 43°20.83′ N. lat., 124°29.11′ W. long.;

(40) 43°12.60′ N. lat., 124°35.80′ W. long.;

(41) 43°08.96′ N. lat., 124°33.77′ W. long.;

(42) 42°59.66′ N. lat., 124°34.79′ W. long.;

(43) 42°54.29′ N. lat., 124°39.46′ W. long.;

(44) 42°50.00′ N. lat., 124°39.84′ W. long.;

(45) 42°46.50′ N. lat., 124°39.99′ W. long.;

(46) 42°41.00′ N. lat., 124°34.92′ W. long.;

(47) 42°40.50′ N. lat., 124°34.98′ W. long.;

(48) 42°36.29′ N. lat., 124°34.70′ W. long.;

(49) 42°28.36′ N. lat., 124°37.90′ W. long.;

(50) 42°25.53′ N. lat., 124°37.68′ W. long.;

(51) 42°18.64′ N. lat., 124°29.47′ W. long.;

(52) 42°12.95′ N. lat., 124°27.34′ W. long.;

(53) 42°13.67′ N. lat., 124°27.67′ W. long.;

(54) 42°03.04′ N. lat., 124°25.81′ W. long.;

(55) 42°00.00′ N. lat., 124°26.21′ W. long.;

(56) 41°57.60′ N. lat., 124°27.35′ W. long.;

(57) 41°52.53′ N. lat., 124°26.51′ W. long.;

(58) 41°50.17′ N. lat., 124°25.63′ W. long.;

(59) 41°46.01′ N. lat., 124°22.16′ W. long.;

(60) 41°26.50′ N. lat., 124°21.78′ W. long.;

(61) 41°15.66′ N. lat., 124°16.42′ W. long.;

(62) 41°05.45′ N. lat., 124°16.89′ W. long.;

(63) 40°54.55′ N. lat., 124°19.53′ W. long.;

(64) 40°42.22′ N. lat., 124°28.29′ W. long.;

(65) 40°39.68′ N. lat., 124°28.37′ W. long.;

(66) 40°36.76′ N. lat., 124°27.39′ W. long.;

(67) 40°34.44′ N. lat., 124°28.89′ W. long.;

(68) 40°32.57′ N. lat., 124°32.43′ W. long.;

(69) 40°30.95′ N. lat., 124°33.87′ W. long.;

(70) 40°30.00′ N. lat., 124°34.18′ W. long.;

(71) 40°28.90′ N. lat., 124°34.59′ W. long.;

(72) 40°24.36′ N. lat., 124°31.42′ W. long.;

(73) 40°23.66′ N. lat., 124°28.35′ W. long.;

(74) 40°22.54′ N. lat., 124°24.71′ W. long.;

(75) 40°21.52′ N. lat., 124°24.86′ W. long.;

(76) 40°21.25′ N. lat., 124°25.59′ W. long.;

(77) 40°20.63′ N. lat., 124°26.47′ W. long.;

(78) 40°19.18′ N. lat., 124°25.98′ W. long.;

(79) 40°18.42′ N. lat., 124°24.77′ W. long.;

(80) 40°18.64′ N. lat., 124°22.81′ W. long.;

(81) 40°15.31′ N. lat., 124°25.28′ W. long.;

(82) 40°15.37′ N. lat., 124°26.82′ W. long.;

(83) 40°11.91′ N. lat., 124°22.68′ W. long.;

(84) 40°10.01′ N. lat., 124°19.97′ W. long.;

(85) 40°10.00′ N. lat., 124°19.97′ W. long.;

(86) 40°09.20′ N. lat., 124°15.81′ W. long.;

(87) 40°07.51′ N. lat., 124°15.29′ W. long.;

(88) 40°05.22′ N. lat., 124°10.06′ W. long.;

(89) 40°06.51′ N. lat., 124°08.01′ W. long.;

(90) 40°00.72′ N. lat., 124°08.45′ W. long.;

(91) 39°56.60′ N. lat., 124°07.12′ W. long.;

(92) 39°52.58′ N. lat., 124°03.57′ W. long.;

(93) 39°50.65′ N. lat., 123°57.98′ W. long.;

(94) 39°40.16′ N. lat., 123°52.41′ W. long.;

(95) 39°30.12′ N. lat., 123°52.92′ W. long.;

(96) 39°24.53′ N. lat., 123°55.16′ W. long.;

(97) 39°11.58′ N. lat., 123°50.93′ W. long.;

(98) 38°57.50′ N. lat., 123°51.10′ W. long.;

(99) 38°55.13′ N. lat., 123°51.14′ W. long.;

(100) 38°28.58′ N. lat., 123°22.84′ W. long.;

(101) 38°14.60′ N. lat., 123°09.92′ W. long.;

(102) 38°01.84′ N. lat., 123°09.75′ W. long.;

(103) 38°00.00′ N. lat., 123°09.25′ W. long.;

(104) 37°55.24′ N. lat., 123°08.30′ W. long.;

(105) 37°52.06′ N. lat., 123°09.19′ W. long.;

(106) 37°50.21′ N. lat., 123°14.90′ W. long.;

(107) 37°35.67′ N. lat., 122°55.43′ W. long.;

(108) 37°11.00′ N. lat., 122°31.67′ W. long.;

(109) 37°07.00′ N. lat., 122°28.00′ W. long.;

(110) 37°03.06′ N. lat., 122°24.22′ W. long.;

(111) 36°50.20′ N. lat., 122°03.58′ W. long.;

(112) 36°51.46′ N. lat., 121°57.54′ W. long.;

(113) 36°44.14′ N. lat., 121°58.10′ W. long.;

(114) 36°36.76′ N. lat., 122°01.16′ W. long.;

(115) 36°15.62′ N. lat., 121°57.13′ W. long.;

(116) 36°10.41′ N. lat., 121°42.92′ W. long.;

(117) 36°02.56′ N. lat., 121°36.37′ W. long.;

(118) 36°00.00′ N. lat., 121°35.15′ W. long.;

(119) 35°58.26′ N. lat., 121°32.88′ W. long.;

(120) 35°40.38′ N. lat., 121°22.59′ W. long.;

(121) 35°24.35′ N. lat., 121°02.53′ W. long.;

(122) 35°02.66′ N. lat., 120°51.63′ W. long.;

(123) 34°39.52′ N. lat., 120°48.72′ W. long.;

(124) 34°31.26′ N. lat., 120°44.12′ W. long.;

(125) 34°27.00′ N. lat., 120°33.31′ W. long.;

(126) 34°23.47′ N. lat., 120°24.76′ W. long.;

(127) 34°25.83′ N. lat., 120°17.26′ W. long.;

(128) 34°24.65′ N. lat., 120°04.83′ W. long.;

(129) 34°23.18′ N. lat., 119°56.18′ W. long.;

(130) 34°19.20′ N. lat., 119°41.64′ W. long.;

(131) 34°16.82′ N. lat., 119°35.32′ W. long.;

(132) 34°13.43′ N. lat., 119°32.29′ W. long.;

(133) 34°05.39′ N. lat., 119°15.13′ W. long.;

(134) 34°08.22′ N. lat., 119°13.64′ W. long.;

(135) 34°07.64′ N. lat., 119°13.10′ W. long.;

(136) 34°04.56′ N. lat., 119°13.73′ W. long.;

(137) 34°03.90′ N. lat., 119°12.66′ W. long.;

(138) 34°03.66′ N. lat., 119°06.82′ W. long.;

(139) 34°04.58′ N. lat., 119°04.91′ W. long.;

(140) 34°01.35′ N. lat., 119°00.30′ W. long.;

(141) 34°00.24′ N. lat., 119°03.18′ W. long.;

(142) 33°59.63′ N. lat., 119°03.20′ W. long.;

(143) 33°59.54′ N. lat., 119°00.88′ W. long.;

(144) 34°00.82′ N. lat., 118°59.03′ W. long.;

(145) 33°59.11′ N. lat., 118°47.52′ W. long.;

(146) 33°59.07′ N. lat., 118°36.33′ W. long.;

(147) 33°55.06′ N. lat., 118°32.86′ W. long.;

(148) 33°53.56′ N. lat., 118°37.75′ W. long.;

(149) 33°51.22′ N. lat., 118°36.14′ W. long.;

(150) 33°50.48′ N. lat., 118°32.16′ W. long.;

(151) 33°51.86′ N. lat., 118°28.71′ W. long.;

(152) 33°50.09′ N. lat., 118°27.88′ W. long.;

(153) 33°49.95′ N. lat., 118°26.38′ W. long.;

(154) 33°50.73′ N. lat., 118°26.17′ W. long.;

(155) 33°49.86′ N. lat., 118°24.25′ W. long.;

(156) 33°48.10′ N. lat., 118°26.87′ W. long.;

(157) 33°47.54′ N. lat., 118°29.66′ W. long.;

(158) 33°44.10′ N. lat., 118°25.25′ W. long.;

(159) 33°41.78′ N. lat., 118°20.28′ W. long.;

(160) 33°38.18′ N. lat., 118°15.69′ W. long.;

(161) 33°37.50′ N. lat., 118°16.71′ W. long.;

(162) 33°35.98′ N. lat., 118°16.54′ W. long.;

(163) 33°34.15′ N. lat., 118°11.22′ W. long.;

(164) 33°34.29′ N. lat., 118°08.35′ W. long.;

(165) 33°35.85′ N. lat., 118°07.00′ W. long.;

(166) 33°36.12′ N. lat., 118°04.15′ W. long.;

(167) 33°34.97′ N. lat., 118°02.91′ W. long.;

(168) 33°34.00′ N. lat., 117°59.53′ W. long.;

(169) 33°35.44′ N. lat., 117°55.67′ W. long.;

(170) 33°35.15′ N. lat., 117°53.55′ W. long.;

(171) 33°31.12′ N. lat., 117°47.40′ W. long.;

(172) 33°27.99′ N. lat., 117°45.19′ W. long.;

(173) 33°26.88′ N. lat., 117°43.87′ W. long.;

(174) 33°25.44′ N. lat., 117°41.63′ W. long.;

(175) 33°19.50′ N. lat., 117°36.08′ W. long.;

(176) 33°12.74′ N. lat., 117°28.53′ W. long.;

(177) 33°10.29′ N. lat., 117°25.68′ W. long.;

(178) 33°07.36′ N. lat., 117°21.23′ W. long.;

(179) 32°59.39′ N. lat., 117°18.56′ W. long.;

(180) 32°56.10′ N. lat., 117°18.37′ W. long.;

(181) 32°54.43′ N. lat., 117°16.93′ W. long.;

(182) 32°51.89′ N. lat., 117°16.42′ W. long.;

(183) 32°52.24′ N. lat., 117°19.36′ W. long.;

(184) 32°47.06′ N. lat., 117°21.92′ W. long.;

(185) 32°45.09′ N. lat., 117°20.68′ W. long.;

(186) 32°43.62′ N. lat., 117°18.68′ W. long.; and

(187) 32°33.43′ N. lat., 117°17.00′ W. long.

(b) The 50 fm (91 m) depth contour between the U.S. border with Canada and the Swiftsure Bank is defined by straight lines connecting all of the following points in the order stated:

(1) 48°30.15′ N. lat., 124°56.12′ W. long.;

(2) 48°28.29′ N. lat., 124°56.30′ W. long.;

(3) 48°29.23′ N. lat., 124°53.63′ W. long.; and

(4) 48°30.31′ N. lat., 124°51.73′ W. long.

(c) The 50 fm (91 m) depth contour around the northern Channel Islands off the state of California is defined by straight lines connecting all of the following points in the order stated:

(1) 34°08.40′ N. lat., 120°33.78′ W. long.;

(2) 34°07.80′ N. lat., 120°30.99′ W. long.;

(3) 34°08.68′ N. lat., 120°26.61′ W. long.;

(4) 34°05.85′ N. lat., 120°17.13′ W. long.;

(5) 34°05.57′ N. lat., 119°51.35′ W. long.;

(6) 34°07.08′ N. lat., 119°52.43′ W. long.;

(7) 34°04.49′ N. lat., 119°35.55′ W. long.;

(8) 34°04.73′ N. lat., 119°32.77′ W. long.;

(9) 34°02.02′ N. lat., 119°19.18′ W. long.;

(10) 34°01.03′ N. lat., 119°19.50′ W. long.;

(11) 33°59.45′ N. lat., 119°22.38′ W. long.;

(12) 33°58.68′ N. lat., 119°32.36′ W. long.;

(13) 33°56.43′ N. lat., 119°41.13′ W. long.;

(14) 33°56.04′ N. lat., 119°48.20′ W. long.;

(15) 33°57.32′ N. lat., 119°51.96′ W. long.;

(16) 33°59.32′ N. lat., 119°55.59′ W. long.;

(17) 33°57.52′ N. lat., 119°55.19′ W. long.;

(18) 33°56.26′ N. lat., 119°54.29′ W. long.;

(19) 33°54.30′ N. lat., 119°54.83′ W. long.;

(20) 33°50.97′ N. lat., 119°57.03′ W. long.;

(21) 33°50.03′ N. lat., 120°03.00′ W. long.;

(22) 33°51.14′ N. lat., 120°03.65′ W. long.;

(23) 33°54.49′ N. lat., 120°12.85′ W. long.;

(24) 33°58.48′ N. lat., 120°18.50′ W. long.;

(25) 34°00.71′ N. lat., 120°28.21′ W. long.;

(26) 34°03.60′ N. lat., 120°30.60′ W. long.;

(27) 34°06.96′ N. lat., 120°34.22′ W. long.;

(28) 34°08.01′ N. lat., 120°35.24′ W. long.; and

(29) 34°08.40′ N. lat., 120°33.78′ W. long.

(d) The 50 fm (91 m) depth contour around San Clemente Island off the state of California is defined by straight lines connecting all of the following points in the order stated:

(1) 33°03.73′ N. lat., 118°36.98′ W. long.;

(2) 33°02.56′ N. lat., 118°34.12′ W. long.;

(3) 32°55.54′ N. lat., 118°28.87′ W. long.;

(4) 32°55.02′ N. lat., 118°27.69′ W. long.;

(5) 32°49.73′ N. lat., 118°20.99′ W. long.;

(6) 32°48.55′ N. lat., 118°20.24′ W. long.;

(7) 32°47.92′ N. lat., 118°22.45′ W. long.;

(8) 32°45.25′ N. lat., 118°24.59′ W. long.;

(9) 32°50.23′ N. lat., 118°30.80′ W. long.;

(10) 32°55.28′ N. lat., 118°33.83′ W. long.;

(11) 33°00.45′ N. lat., 118°37.88′ W. long.;

(12) 33°03.27′ N. lat., 118°38.56′ W. long.; and

(13) 33°03.73′ N. lat., 118°36.98′ W. long.

(e) The 50 fm (91 m) depth contour around Santa Catalina Island off the state of California is defined by straight lines connecting all of the following points in the order stated:

(1) 33°28.01′ N. lat., 118°37.42′ W. long.;

(2) 33°29.02′ N. lat., 118°36.33′ W. long.;

(3) 33°28.97′ N. lat., 118°33.16′ W. long.;

(4) 33°28.71′ N. lat., 118°31.22′ W. long.;

(5) 33°26.66′ N. lat., 118°27.48′ W. long.;

(6) 33°25.35′ N. lat., 118°22.83′ W. long.;

(7) 33°22.61′ N. lat., 118°19.18′ W. long.;

(8) 33°20.06′ N. lat., 118°17.35′ W. long.;

(9) 33°17.58′ N. lat., 118°17.42′ W. long.;

(10) 33°17.05′ N. lat., 118°18.72′ W. long.;

(11) 33°17.87′ N. lat., 118°24.47′ W. long.;

(12) 33°18.63′ N. lat., 118°28.16′ W. long.;

(13) 33°20.17′ N. lat., 118°31.69′ W. long.;

(14) 33°20.85′ N. lat., 118°31.82′ W. long.;

(15) 33°23.19′ N. lat., 118°29.78′ W. long.;

(16) 33°24.85′ N. lat., 118°31.22′ W. long.;

(17) 33°25.65′ N. lat., 118°34.11′ W. long.; and

(18) 33°28.01′ N. lat., 118°37.42′ W. long.

(f) The 60 fm (110 m) depth contour used between the U.S. border with Canada and the U.S. border with Mexico is defined by straight lines connecting all of the following points in the order stated:

(1) 48°26.70′ N. lat., 125°09.43′ W. long.;

(2) 48°23.76′ N. lat., 125°06.77′ W. long.;

(3) 48°23.01′ N. lat., 125°03.48′ W. long.;

(4) 48°22.42′ N. lat., 124°57.84′ W. long.;

(5) 48°22.62′ N. lat., 124°48.97′ W. long.;

(6) 48°18.61′ N. lat., 124°52.52′ W. long.;

(7) 48°16.62′ N. lat., 124°54.03′ W. long.;

(8) 48°15.39′ N. lat., 124°54.79′ W. long.;

(9) 48°13.81′ N. lat., 124°55.45′ W. long.;

(10) 48°10.51′ N. lat., 124°56.56′ W. long.;

(11) 48°06.90′ N. lat., 124°57.72′ W. long.;

(12) 48°02.23′ N. lat., 125°00.20′ W. long.;

(13) 48°00.87′ N. lat., 125°00.37′ W. long.;

(14) 47°56.30′ N. lat., 124°59.51′ W. long.;

(15) 47°46.84′ N. lat., 124°57.34′ W. long.;

(16) 47°36.49′ N. lat., 124°50.93′ W. long.;

(17) 47°32.01′ N. lat., 124°48.45′ W. long.;

(18) 47°27.19′ N. lat., 124°46.47′ W. long.;

(19) 47°21.76′ N. lat., 124°43.29′ W. long.;

(20) 47°17.82′ N. lat., 124°42.12′ W. long.;

(21) 47°08.87′ N. lat., 124°43.10′ W. long.;

(22) 47°03.16′ N. lat., 124°42.61′ W. long.;

(23) 46°49.70′ N. lat., 124°36.80′ W. long.;

(24) 46°42.91′ N. lat., 124°33.20′ W. long.;

(25) 46°39.67′ N. lat., 124°30.59′ W. long.;

(26) 46°32.47′ N. lat., 124°26.34′ W. long.;

(27) 46°23.69′ N. lat., 124°25.41′ W. long.;

(28) 46°20.84′ N. lat., 124°24.24′ W. long.;

(29) 46°16.00′ N. lat., 124°19.10′ W. long.;

(30) 46°15.97′ N. lat., 124°18.81′ W. long.;

(31) 46°11.23′ N. lat., 124°19.96′ W. long.;

(32) 46°02.51′ N. lat., 124°19.84′ W. long.;

(33) 45°59.05′ N. lat., 124°16.52′ W. long.;

(34) 45°51.00′ N. lat., 124°12.83′ W. long.;

(35) 45°45.85′ N. lat., 124°11.54′ W. long.;

(36) 45°38.53′ N. lat., 124°11.91′ W. long.;

(37) 45°30.90′ N. lat., 124°10.94′ W. long.;

(38) 45°21.20′ N. lat., 124°09.12′ W. long.;

(39) 45°12.43′ N. lat., 124°08.74′ W. long.;

(40) 44°59.89′ N. lat., 124°11.95′ W. long.;

(41) 44°51.96′ N. lat., 124°15.15′ W. long.;

(42) 44°44.64′ N. lat., 124°20.07′ W. long.;

(43) 44°39.24′ N. lat., 124°28.09′ W. long.;

(44) 44°30.61′ N. lat., 124°31.66′ W. long.;

(45) 44°26.19′ N. lat., 124°35.88′ W. long.;

(46) 44°18.88′ N. lat., 124°45.16′ W. long.;

(47) 44°14.69′ N. lat., 124°45.51′ W. long.;

(48) 44°10.97′ N. lat., 124°38.78′ W. long.;

(49) 44°08.71′ N. lat., 124°33.54′ W. long.;

(50) 44°04.92′ N. lat., 124°24.55′ W. long.;

(51) 43°57.49′ N. lat., 124°20.05′ W. long.;

(52) 43°50.26′ N. lat., 124°21.84′ W. long.;

(53) 43°41.69′ N. lat., 124°21.94′ W. long.;

(54) 43°35.52′ N. lat., 124°21.51′ W. long.;

(55) 43°25.77′ N. lat., 124°28.47′ W. long.;

(56) 43°20.25′ N. lat., 124°31.59′ W. long.;

(57) 43°12.73′ N. lat., 124°36.69′ W. long.;

(58) 43°08.08′ N. lat., 124°36.10′ W. long.;

(59) 43°00.33′ N. lat., 124°37.57′ W. long.;

(60) 42°53.99′ N. lat., 124°41.04′ W. long.;

(61) 42°46.66′ N. lat., 124°41.13′ W. long.;

(62) 42°41.74′ N. lat., 124°37.46′ W. long.;

(63) 42°37.42′ N. lat., 124°37.22′ W. long.;

(64) 42°27.35′ N. lat., 124°39.90′ W. long.;

(65) 42°23.94′ N. lat., 124°38.28′ W. long.;

(66) 42°17.72′ N. lat., 124°31.10′ W. long.;

(67) 42°10.35′ N. lat., 124°29.11′ W. long.;

(68) 42°00.00′ N. lat., 124°28.00′ W. long.;

(69) 41°54.87′ N. lat., 124°28.50′ W. long.;

(70) 41°45.80′ N. lat., 124°23.89′ W. long.;

(71) 41°34.40′ N. lat., 124°24.03′ W. long.;

(72) 41°28.33′ N. lat., 124°25.46′ W. long.;

(73) 41°15.80′ N. lat., 124°18.90′ W. long.;

(74) 41°09.77′ N. lat., 124°17.99′ W. long.;

(75) 41°02.26′ N. lat., 124°18.71′ W. long.;

(76) 40°53.54′ N. lat., 124°21.18′ W. long.;

(77) 40°49.93′ N. lat., 124°23.02′ W. long.;

(78) 40°43.15′ N. lat., 124°28.74′ W. long.;

(79) 40°40.19′ N. lat., 124°29.07′ W. long.;

(80) 40°36.77′ N. lat., 124°27.61′ W. long.;

(81) 40°34.13′ N. lat., 124°29.39′ W. long.;

(82) 40°33.15′ N. lat., 124°33.46′ W. long.;

(83) 40°30.00′ N. lat., 124°35.84′ W. long.;

(84) 40°24.72′ N. lat., 124°33.06′ W. long.;

(85) 40°23.91′ N. lat., 124°31.28′ W. long.;

(86) 40°23.67′ N. lat., 124°28.35′ W. long.;

(87) 40°22.53′ N. lat., 124°24.72′ W. long.;

(88) 40°21.51′ N. lat., 124°24.86′ W. long.;

(89) 40°21.02′ N. lat., 124°27.70′ W. long.;

(90) 40°19.75′ N. lat., 124°27.06′ W. long.;

(91) 40°18.23′ N. lat., 124°25.30′ W. long.;

(92) 40°18.60′ N. lat., 124°22.86′ W. long.;

(93) 40°15.43′ N. lat., 124°25.37′ W. long.;

(94) 40°15.55′ N. lat., 124°28.16′ W. long.;

(95) 40°11.27′ N. lat., 124°22.56′ W. long.;

(96) 40°10.00′ N. lat., 124°19.97′ W. long.;

(97) 40°09.20′ N. lat., 124°15.81′ W. long.;

(98) 40°07.51′ N. lat., 124°15.29′ W. long.;

(99) 40°05.22′ N. lat., 124°10.06′ W. long.;

(100) 40°06.51′ N. lat., 124°08.01′ W. long.;

(101) 40°00.72′ N. lat., 124°08.45′ W. long.;

(102) 39°56.60′ N. lat., 124°07.12′ W. long.;

(103) 39°52.58′ N. lat., 124°03.57′ W. long.;

(104) 39°50.65′ N. lat., 123°57.98′ W. long.;

(105) 39°40.16′ N. lat., 123°52.41′ W. long.;

(106) 39°30.12′ N. lat., 123°52.92′ W. long.;

(107) 39°24.53′ N. lat., 123°55.16′ W. long.;

(108) 39°11.58′ N. lat., 123°50.93′ W. long.;

(109) 38°57.50′ N. lat., 123°51.14′ W. long.;

(110) 38°55.13′ N. lat., 123°51.14′ W. long.;

(111) 38°28.58′ N. lat., 123°22.84′ W. long.;

(112) 38°08.57′ N. lat., 123°14.74′ W. long.;

(113) 38°00.00′ N. lat., 123°15.61′ W. long.;

(114) 37°56.98′ N. lat., 123°21.82′ W. long.;

(115) 37°48.01′ N. lat., 123°15.90′ W. long.;

(116) 37°35.67′ N. lat., 122°58.48′ W. long.;

(117) 37°11.00′ N. lat., 122°40.22′ W. long.;

(118) 37°07.00′ N. lat., 122°37.64′ W. long.;

(119) 37°02.08′ N. lat., 122°25.49′ W. long.;

(120) 36°48.20′ N. lat., 122°03.32′ W. long.;

(121) 36°51.46′ N. lat., 121°57.54′ W. long.;

(122) 36°44.14′ N. lat., 121°58.10′ W. long.;

(123) 36°36.76′ N. lat., 122°01.16′ W. long.;

(124) 36°15.62′ N. lat., 121°57.13′ W. long.;

(125) 36°10.42′ N. lat., 121°42.90′ W. long.;

(126) 36°02.55′ N. lat., 121°36.35′ W. long.;

(127) 36°00.00′ N. lat., 121°35.15′ W. long.;

(128) 35°58.25′ N. lat., 121°32.88′ W. long.;

(129) 35°40.38′ N. lat., 121°22.59′ W. long.;

(130) 35°24.35′ N. lat., 121°02.53′ W. long.;

(131) 35°02.66′ N. lat., 120°51.63′ W. long.;

(132) 34°39.52′ N. lat., 120°48.72′ W. long.;

(133) 34°31.26′ N. lat., 120°44.12′ W. long.;

(134) 34°27.00′ N. lat., 120°36.00′ W. long.;

(135) 34°23.00′ N. lat., 120°25.32′ W. long.;

(136) 34°25.68′ N. lat., 120°17.46′ W. long.;

(137) 34°23.18′ N. lat., 119°56.17′ W. long.;

(138) 34°18.73′ N. lat., 119°41.89′ W. long.;

(139) 34°11.18′ N. lat., 119°31.21′ W. long.;

(140) 34°10.01′ N. lat., 119°25.84′ W. long.;

(141) 34°03.88′ N. lat., 119°12.46′ W. long.;

(142) 34°03.58′ N. lat., 119°06.71′ W. long.;

(143) 34°04.52′ N. lat., 119°04.89′ W. long.;

(144) 34°01.28′ N. lat., 119°00.27′ W. long.;

(145) 34°00.20′ N. lat., 119°03.18′ W. long.;

(146) 33°59.60′ N. lat., 119°03.14′ W. long.;

(147) 33°59.45′ N. lat., 119°00.87′ W. long.;

(148) 34°00.71′ N. lat., 118°59.07′ W. long.;

(149) 33°59.05′ N. lat., 118°47.34′ W. long.;

(150) 33°59.06′ N. lat., 118°36.30′ W. long.;

(151) 33°55.05′ N. lat., 118°32.85′ W. long.;

(152) 33°53.56′ N. lat., 118°37.73′ W. long.;

(153) 33°51.22′ N. lat., 118°36.13′ W. long.;

(154) 33°50.19′ N. lat., 118°32.19′ W. long.;

(155) 33°51.28′ N. lat., 118°29.12′ W. long.;

(156) 33°49.89′ N. lat., 118°28.04′ W. long.;

(157) 33°49.95′ N. lat., 118°26.38′ W. long.;

(158) 33°50.73′ N. lat., 118°26.16′ W. long.;

(159) 33°49.87′ N. lat., 118°24.37′ W. long.;

(160) 33°47.54′ N. lat., 118°29.65′ W. long.;

(161) 33°44.10′ N. lat., 118°25.25′ W. long.;

(162) 33°41.77′ N. lat., 118°20.32′ W. long.;

(163) 33°38.17′ N. lat., 118°15.69′ W. long.;

(164) 33°37.48′ N. lat., 118°16.72′ W. long.;

(165) 33°35.98′ N. lat., 118°16.54′ W. long.;

(166) 33°34.15′ N. lat., 118°11.22′ W. long.;

(167) 33°34.09′ N. lat., 118°08.15′ W. long.;

(168) 33°35.73′ N. lat., 118°05.01′ W. long.;

(169) 33°33.75′ N. lat., 117°59.82′ W. long.;

(170) 33°35.44′ N. lat., 117°55.65′ W. long.;

(171) 33°35.15′ N. lat., 117°53.54′ W. long.;

(172) 33°31.12′ N. lat., 117°47.39′ W. long.;

(173) 33°27.49′ N. lat., 117°44.85′ W. long.;

(174) 33°16.42′ N. lat., 117°32.92′ W. long.;

(175) 33°06.66′ N. lat., 117°21.59′ W. long.;

(176) 33°00.08′ N. lat., 117°19.02′ W. long.;

(177) 32°56.11′ N. lat., 117°18.41′ W. long.;

(178) 32°54.43′ N. lat., 117°16.93′ W. long.;

(179) 32°51.89′ N. lat., 117°16.42′ W. long.;

(180) 32°52.61′ N. lat., 117°19.50′ W. long.;

(181) 32°46.96′ N. lat., 117°22.69′ W. long.;

(182) 32°44.98′ N. lat., 117°21.87′ W. long.;

(183) 32°43.52′ N. lat., 117°19.32′ W. long.; and

(184) 32°33.56′ N. lat., 117°17.72′ W. long.

(g) The 60 fm (110 m) depth contour around the northern Channel Islands off the state of California is defined by straight lines connecting all of the following points in the order stated:

(1) 120°26.31′ N. lat., 34°09.16′ W. long.;

(2) 120°16.43′ N. lat., 34°06.69′ W. long.;

(3) 120°04.00′ N. lat., 34°06.38′ W. long.;

(4) 119°52.06′ N. lat., 34°07.36′ W. long.;

(5) 119°36.94′ N. lat., 34°04.84′ W. long.;

(6) 119°35.50′ N. lat., 34°04.84′ W. long.;

(7) 119°32.80′ N. lat., 34°05.04′ W. long.;

(8) 119°26.70′ N. lat., 34°04.00′ W. long.;

(9) 119°21.40′ N. lat., 34°02.80′ W. long.;

(10) 119°18.97′ N. lat., 34°02.36′ W. long.;

(11) 119°19.42′ N. lat., 34°00.65′ W. long.;

(12) 119°22.38′ N. lat., 33°59.45′ W. long.;

(13) 119°32.36′ N. lat., 33°58.68′ W. long.;

(14) 119°41.09′ N. lat., 33°56.14′ W. long.;

(15) 119°48.00′ N. lat., 33°55.84′ W. long.;

(16) 119°52.09′ N. lat., 33°57.22′ W. long.;

(17) 119°55.59′ N. lat., 33°59.32′ W. long.;

(18) 119°55.19′ N. lat., 33°57.52′ W. long.;

(19) 119°54.25′ N. lat., 33°56.10′ W. long.;

(20) 119°56.02′ N. lat., 33°50.28′ W. long.;

(21) 119°59.67′ N. lat., 33°48.51′ W. long.;

(22) 120°03.58′ N. lat., 33°49.14′ W. long.;

(23) 120°06.50′ N. lat., 33°51.93′ W. long.;

(24) 120°13.06′ N. lat., 33°54.36′ W. long.;

(25) 120°20.46′ N. lat., 33°58.53′ W. long.;

(26) 120°28.12′ N. lat., 34°00.12′ W. long.;

(27) 120°35.85′ N. lat., 34°08.09′ W. long.;

(28) 120°34.58′ N. lat., 34°08.80′ W. long.; and

(29) 120°26.31′ N. lat., 34°09.16′ W. long.;

(h) The 60 fm (110 m) depth contour around San Clemente Island off the state of California is defined by straight lines connecting all of the following points in the order stated:

(1) 33°04.06′ N. lat., 118°37.32′ W. long.;

(2) 33°02.56′ N. lat., 118°34.12′ W. long.;

(3) 32°55.54′ N. lat., 118°28.87′ W. long.;

(4) 32°55.02′ N. lat., 118°27.69′ W. long.;

(5) 32°49.78′ N. lat., 118°20.88′ W. long.;

(6) 32°48.32′ N. lat., 118°19.89′ W. long.;

(7) 32°47.60′ N. lat., 118°22.00′ W. long.;

(8) 32°44.59′ N. lat., 118°24.52′ W. long.;

(9) 32°49.97′ N. lat., 118°31.52′ W. long.;

(10) 32°53.62′ N. lat., 118°32.94′ W. long.;

(11) 32°55.63′ N. lat., 118°34.82′ W. long.;

(12) 33°00.71′ N. lat., 118°38.42′ W. long.;

(13) 33°03.31′ N. lat., 118°38.74′ W. long.; and

(14) 33°04.06′ N. lat., 118°37.32′ W. long.

(i) The 60 fm (110 m) depth contour around Santa Catalina Island off the state of California is defined by straight lines connecting all of the following points in the order stated:

(1) 33°28.15′ N. lat., 118°37.85′ W. long.;

(2) 33°29.23′ N. lat., 118°36.27′ W. long.;

(3) 33°28.85′ N. lat., 118°30.85′ W. long.;

(4) 33°26.69′ N. lat., 118°27.37′ W. long.;

(5) 33°25.35′ N. lat., 118°22.83′ W. long.;

(6) 33°22.60′ N. lat., 118°18.82′ W. long.;

(7) 33°19.49′ N. lat., 118°16.91′ W. long.;

(8) 33°17.13′ N. lat., 118°16.58′ W. long.;

(9) 33°16.72′ N. lat., 118°18.07′ W. long.;

(10) 33°18.35′ N. lat., 118°27.86′ W. long.;

(11) 33°20.03′ N. lat., 118°32.04′ W. long.;

(12) 33°21.86′ N. lat., 118°31.72′ W. long.;

(13) 33°23.15′ N. lat., 118°29.89′ W. long.;

(14) 33°25.13′ N. lat., 118°32.16′ W. long.;

(15) 33°25.73′ N. lat., 118°34.88′ W. long.; and

(16) 33°28.15′ N. lat., 118°37.85′ W. long.

(j) The 75 fm (137 m) depth contour used between the U.S. border with Canada and the U.S. border with Mexico is defined by straight lines connecting all of the following points in the order stated:

(1) 48°16.80′ N. lat., 125°34.90′ W. long.;

(2) 48°14.50′ N. lat., 125°29.50′ W. long.;

(3) 48°12.08′ N. lat., 125°28.00′ W. long.;

(4) 48°09.00′ N. lat., 125°28.00′ W. long.;

(5) 48°07.80′ N. lat., 125°31.70′ W. long.;

(6) 48°04.28′ N. lat., 125°29.00′ W. long.;

(7) 48°02.50′ N. lat., 125°25.70′ W. long.;

(8) 48°10.00′ N. lat., 125°20.19′ W. long.;

(9) 48°21.70′ N. lat., 125°17.56′ W. long.;

(10) 48°23.12′ N. lat., 125°10.25′ W. long.;

(11) 48°21.99′ N. lat., 125°02.59′ W. long.;

(12) 48°23.05′ N. lat., 124°48.80′ W. long.;

(13) 48°17.10′ N. lat., 124°54.82′ W. long.;

(14) 48°05.10′ N. lat., 124°59.40′ W. long.;

(15) 48°04.50′ N. lat., 125°02.00′ W. long.;

(16) 48°04.70′ N. lat., 125°04.08′ W. long.;

(17) 48°05.20′ N. lat., 125°04.90′ W. long.;

(18) 48°06.80′ N. lat., 125°06.15′ W. long.;

(19) 48°05.91′ N. lat., 125°08.30′ W. long.;

(20) 48°07.00′ N. lat., 125°09.80′ W. long.;

(21) 48°06.93′ N. lat., 125°11.48′ W. long.;

(22) 48°04.98′ N. lat., 125°10.02′ W. long.;

(23) 47°54.00′ N. lat., 125°04.98′ W. long.;

(24) 47°44.52′ N. lat., 125°00.00′ W. long.;

(25) 47°42.00′ N. lat., 124°58.98′ W. long.;

(26) 47°35.52′ N. lat., 124°55.50′ W. long.;

(27) 47°22.02′ N. lat., 124°44.40′ W. long.;

(28) 47°16.98′ N. lat., 124°45.48′ W. long.;

(29) 47°10.98′ N. lat., 124°48.48′ W. long.;

(30) 47°04.98′ N. lat., 124°49.02′ W. long.;

(31) 46°57.98′ N. lat., 124°46.50′ W. long.;

(32) 46°54.00′ N. lat., 124°45.00′ W. long.;

(33) 46°48.48′ N. lat., 124°44.52′ W. long.;

(34) 46°40.02′ N. lat., 124°36.00′ W. long.;

(35) 46°34.09′ N. lat., 124°27.03′ W. long.;

(36) 46°24.64′ N. lat., 124°30.33′ W. long.;

(37) 46°19.98′ N. lat., 124°36.00′ W. long.;

(38) 46°18.14′ N. lat., 124°34.26′ W. long.;

(39) 46°18.72′ N. lat., 124°22.68′ W. long.;

(40) 46°16.00′ N. lat., 124°19.49′ W. long.;

(41) 46°14.64′ N. lat., 124°22.54′ W. long.;

(42) 46°11.08′ N. lat., 124°30.74′ W. long.;

(43) 46°04.28′ N. lat., 124°31.49′ W. long.;

(44) 45°55.97′ N. lat., 124°19.95′ W. long.;

(45) 45°46.00′ N. lat., 124°16.41′ W. long.;

(46) 45°44.97′ N. lat., 124°15.96′ W. long.;

(47) 45°43.14′ N. lat., 124°21.86′ W. long.;

(48) 45°34.44′ N. lat., 124°14.44′ W. long.;

(49) 45°20.25′ N. lat., 124°12.23′ W. long.;

(50) 45°15.49′ N. lat., 124°11.49′ W. long.;

(51) 45°03.83′ N. lat., 124°13.75′ W. long.;

(52) 44°57.31′ N. lat., 124°15.03′ W. long.;

(53) 44°43.90′ N. lat., 124°28.88′ W. long.;

(54) 44°28.64′ N. lat., 124°35.67′ W. long.;

(55) 44°25.31′ N. lat., 124°43.08′ W. long.;

(56) 44°17.15′ N. lat., 124°47.98′ W. long.;

(57) 44°13.67′ N. lat., 124°54.41′ W. long.;

(58) 44°08.30′ N. lat., 124°54.75′ W. long.;

(59) 43°56.85′ N. lat., 124°55.32′ W. long.;

(60) 43°57.50′ N. lat., 124°41.23′ W. long.;

(61) 44°01.79′ N. lat., 124°38.00′ W. long.;

(62) 44°02.16′ N. lat., 124°32.62′ W. long.;

(63) 43°58.15′ N. lat., 124°30.39′ W. long.;

(64) 43°53.25′ N. lat., 124°31.39′ W. long.;

(65) 43°35.56′ N. lat., 124°28.17′ W. long.;

(66) 43°21.84′ N. lat., 124°36.07′ W. long.;

(67) 43°20.83′ N. lat., 124°35.49′ W. long.;

(68) 43°19.73′ N. lat., 124°34.86′ W. long.;

(69) 43°09.38′ N. lat., 124°39.30′ W. long.;

(70) 43°07.11′ N. lat., 124°37.66′ W. long.;

(71) 42°56.27′ N. lat., 124°43.29′ W. long.;

(72) 42°50.00′ N. lat., 124°42.30′ W. long.;

(73) 42°45.00′ N. lat., 124°41.50′ W. long.;

(74) 42°40.50′ N. lat., 124°39.46′ W. long.;

(75) 42°39.72′ N. lat., 124°39.11′ W. long.;

(76) 42°32.88′ N. lat., 124°40.13′ W. long.;

(77) 42°32.30′ N. lat., 124°39.04′ W. long.;

(78) 42°26.96′ N. lat., 124°44.31′ W. long.;

(79) 42°24.11′ N. lat., 124°42.16′ W. long.;

(80) 42°21.10′ N. lat., 124°35.46′ W. long.;

(81) 42°14.72′ N. lat., 124°32.30′ W. long.;

(82) 42°13.67′ N. lat., 124°32.29′ W. long.;

(83) 42°09.24′ N. lat., 124°32.04′ W. long.;

(84) 42°01.89′ N. lat., 124°32.70′ W. long.;

(85) 42°00.00′ N. lat., 124°32.02′ W. long.;

(86) 41°46.18′ N. lat., 124°26.60′ W. long.;

(87) 41°29.22′ N. lat., 124°28.04′ W. long.;

(88) 41°09.62′ N. lat., 124°19.75′ W. long.;

(89) 40°50.71′ N. lat., 124°23.80′ W. long.;

(90) 40°43.35′ N. lat., 124°29.30′ W. long.;

(91) 40°40.24′ N. lat., 124°29.86′ W. long.;

(92) 40°37.50′ N. lat., 124°28.68′ W. long.;

(93) 40°34.42′ N. lat., 124°29.65′ W. long.;

(94) 40°34.74′ N. lat., 124°34.61′ W. long.;

(95) 40°31.70′ N. lat., 124°37.13′ W. long.;

(96) 40°30.00′ N. lat., 124°36.50′ W. long.;

(97) 40°25.03′ N. lat., 124°34.77′ W. long.;

(98) 40°23.58′ N. lat., 124°31.49′ W. long.;

(99) 40°23.64′ N. lat., 124°28.35′ W. long.;

(100) 40°22.53′ N. lat., 124°24.76′ W. long.;

(101) 40°21.46′ N. lat., 124°24.86′ W. long.;

(102) 40°21.74′ N. lat., 124°27.63′ W. long.;

(103) 40°19.76′ N. lat., 124°28.15′ W. long.;

(104) 40°18.00′ N. lat., 124°25.38′ W. long.;

(105) 40°18.54′ N. lat., 124°22.94′ W. long.;

(106) 40°15.55′ N. lat., 124°25.75′ W. long.;

(107) 40°16.06′ N. lat., 124°30.48′ W. long.;

(108) 40°15.75′ N. lat., 124°31.69′ W. long.;

(109) 40°10.00′ N. lat., 124°21.28′ W. long.;

(110) 40°08.37′ N. lat., 124°17.99′ W. long.;

(111) 40°09.00′ N. lat., 124°15.77′ W. long.;

(112) 40°06.93′ N. lat., 124°16.49′ W. long.;

(113) 40°03.60′ N. lat., 124°11.60′ W. long.;

(114) 40°06.20′ N. lat., 124°08.23′ W. long.;

(115) 40°00.94′ N. lat., 124°08.57′ W. long.;

(116) 40°00.01′ N. lat., 124°09.84′ W. long.;

(117) 39°57.75′ N. lat., 124°09.53′ W. long.;

(118) 39°55.56′ N. lat., 124°07.67′ W. long.;

(119) 39°52.21′ N. lat., 124°05.54′ W. long.;

(120) 39°48.07′ N. lat., 123°57.48′ W. long.;

(121) 39°41.60′ N. lat., 123°55.12′ W. long.;

(122) 39°30.39′ N. lat., 123°55.03′ W. long.;

(123) 39°29.48′ N. lat., 123°56.12′ W. long.;

(124) 39°13.76′ N. lat., 123°54.65′ W. long.;

(125) 39°05.21′ N. lat., 123°55.38′ W. long.;

(126) 38°57.50′ N. lat., 123°54.50′ W. long.;

(127) 38°55.90′ N. lat., 123°54.35′ W. long.;

(128) 38°48.59′ N. lat., 123°49.61′ W. long.;

(129) 38°28.82′ N. lat., 123°27.44′ W. long.;

(130) 38°09.70′ N. lat., 123°18.66′ W. long.;

(131) 38°01.81′ N. lat., 123°19.22′ W. long.;

(132) 38°00.00′ N. lat., 123°22.19′ W. long.;

(133) 37°57.70′ N. lat., 123°25.98′ W. long.;

(134) 37°56.73′ N. lat., 123°25.22′ W. long.;

(135) 37°55.59′ N. lat., 123°25.62′ W. long.;

(136) 37°52.79′ N. lat., 123°23.85′ W. long.;

(137) 37°49.13′ N. lat., 123°18.83′ W. long.;

(138) 37°46.01′ N. lat., 123°12.28′ W. long.;

(139) 37°35.67′ N. lat., 123°00.33′ W. long.;

(140) 37°11.00′ N. lat., 122°45.48′ W. long.;

(141) 37°07.00′ N. lat., 122°41.60′ W. long.;

(142) 37°24.16′ N. lat., 122°51.96′ W. long.;

(143) 37°23.32′ N. lat., 122°52.38′ W. long.;

(144) 37°04.12′ N. lat., 122°38.94′ W. long.;

(145) 37°00.64′ N. lat., 122°33.26′ W. long.;

(146) 36°59.15′ N. lat., 122°27.84′ W. long.;

(147) 37°01.41′ N. lat., 122°24.41′ W. long.;

(148) 36°58.75′ N. lat., 122°23.81′ W. long.;

(149) 36°59.17′ N. lat., 122°21.44′ W. long.;

(150) 36°57.51′ N. lat., 122°20.69′ W. long.;

(151) 36°51.46′ N. lat., 122°10.01′ W. long.;

(152) 36°48.43′ N. lat., 122°06.47′ W. long.;

(153) 36°48.66′ N. lat., 122°04.99′ W. long.;

(154) 36°47.75′ N. lat., 122°03.33′ W. long.;

(155) 36°51.23′ N. lat., 121°57.79′ W. long.;

(156) 36°49.72′ N. lat., 121°57.87′ W. long.;

(157) 36°48.84′ N. lat., 121°58.68′ W. long.;

(158) 36°47.89′ N. lat., 121°58.53′ W. long.;

(159) 36°48.66′ N. lat., 121°50.49′ W. long.;

(160) 36°45.56′ N. lat., 121°54.11′ W. long.;

(161) 36°45.30′ N. lat., 121°57.62′ W. long.;

(162) 36°38.54′ N. lat., 122°01.13′ W. long.;

(163) 36°35.76′ N. lat., 122°00.87′ W. long.;

(164) 36°32.58′ N. lat., 121°59.12′ W. long.;

(165) 36°32.95′ N. lat., 121°57.62′ W. long.;

(166) 36°31.96′ N. lat., 121°56.27′ W. long.;

(167) 36°31.74′ N. lat., 121°58.24′ W. long.;

(168) 36°30.57′ N. lat., 121°59.66′ W. long.;

(169) 36°27.80′ N. lat., 121°59.30′ W. long.;

(170) 36°26.52′ N. lat., 121°58.09′ W. long.;

(171) 36°23.65′ N. lat., 121°58.94′ W. long.;

(172) 36°20.93′ N. lat., 122°00.28′ W. long.;

(173) 36°18.23′ N. lat., 122°03.10′ W. long.;

(174) 36°14.21′ N. lat., 121°57.73′ W. long.;

(175) 36°14.68′ N. lat., 121°55.43′ W. long.;

(176) 36°10.42′ N. lat., 121°42.90′ W. long.;

(177) 36°02.55′ N. lat., 121°36.35′ W. long.;

(178) 36°01.04′ N. lat., 121°36.47′ W. long.;

(179) 36°00.00′ N. lat., 121°35.15′ W. long.;

(180) 35°58.25′ N. lat., 121°32.88′ W. long.;

(181) 35°39.35′ N. lat., 121°22.63′ W. long.;

(182) 35°24.44′ N. lat., 121°02.23′ W. long.;

(183) 35°10.84′ N. lat., 120°55.90′ W. long.;

(184) 35°04.35′ N. lat., 120°51.62′ W. long.;

(185) 34°55.25′ N. lat., 120°49.36′ W. long.;

(186) 34°47.95′ N. lat., 120°50.76′ W. long.;

(187) 34°39.27′ N. lat., 120°49.16′ W. long.;

(188) 34°31.05′ N. lat., 120°44.71′ W. long.;

(189) 34°27.00′ N. lat., 120°36.54′ W. long.;

(190) 34°22.60′ N. lat., 120°25.41′ W. long.;

(191) 34°25.45′ N. lat., 120°17.41′ W. long.;

(192) 34°22.94′ N. lat., 119°56.40′ W. long.;

(193) 34°18.37′ N. lat., 119°42.01′ W. long.;

(194) 34°11.22′ N. lat., 119°32.47′ W. long.;

(195) 34°09.58′ N. lat., 119°25.94′ W. long.;

(296) 34°03.89′ N. lat., 119°12.47′ W. long.;

(296) 34°03.57′ N. lat., 119°06.72′ W. long.;

(297) 34°04.53′ N. lat., 119°04.90′ W. long.;

(298) 34°02.84′ N. lat., 119°02.37′ W. long.;

(299) 34°01.30′ N. lat., 119°00.26′ W. long.;

(201) 34°00.22′ N. lat., 119°03.20′ W. long.;

(202) 33°59.60′ N. lat., 119°03.16′ W. long.;

(203) 33°59.46′ N. lat., 119°00.88′ W. long.;

(204) 34°00.49′ N. lat., 118°59.08′ W. long.;

(205) 33°59.07′ N. lat., 118°47.34′ W. long.;

(206) 33°58.73′ N. lat., 118°36.45′ W. long.;

(207) 33°55.24′ N. lat., 118°33.42′ W. long.;

(208) 33°53.71′ N. lat., 118°38.01′ W. long.;

(209) 33°51.22′ N. lat., 118°36.17′ W. long.;

(210) 33°49.85′ N. lat., 118°32.31′ W. long.;

(211) 33°49.61′ N. lat., 118°28.07′ W. long.;

(212) 33°49.95′ N. lat., 118°26.38′ W. long.;

(213) 33°50.36′ N. lat., 118°25.84′ W. long.;

(214) 33°49.84′ N. lat., 118°24.78′ W. long.;

(215) 33°47.53′ N. lat., 118°30.12′ W. long.;

(216) 33°44.11′ N. lat., 118°25.25′ W. long.;

(217) 33°41.77′ N. lat., 118°20.32′ W. long.;

(218) 33°38.17′ N. lat., 118°15.70′ W. long.;

(219) 33°37.48′ N. lat., 118°16.73′ W. long.;

(220) 33°36.01′ N. lat., 118°16.55′ W. long.;

(221) 33°33.76′ N. lat., 118°11.37′ W. long.;

(222) 33°33.76′ N. lat., 118°07.94′ W. long.;

(223) 33°35.59′ N. lat., 118°05.05′ W. long.;

(224) 33°33.75′ N. lat., 117°59.82′ W. long.;

(225) 33°35.10′ N. lat., 117°55.68′ W. long.;

(226) 33°34.91′ N. lat., 117°53.76′ W. long.;

(227) 33°30.77′ N. lat., 117°47.56′ W. long.;

(228) 33°27.50′ N. lat., 117°44.87′ W. long.;

(229) 33°16.89′ N. lat., 117°34.37′ W. long.;

(230) 33°06.66′ N. lat., 117°21.59′ W. long.;

(231) 33°03.35′ N. lat., 117°20.92′ W. long.;

(232) 33°00.07′ N. lat., 117°19.02′ W. long.;

(233) 32°55.99′ N. lat., 117°18.60′ W. long.;

(234) 32°54.43′ N. lat., 117°16.93′ W. long.;

(235) 32°52.13′ N. lat., 117°16.55′ W. long.;

(236) 32°52.61′ N. lat., 117°19.50′ W. long.;

(237) 32°46.95′ N. lat., 117°22.81′ W. long.;

(238) 32°45.01′ N. lat., 117°22.07′ W. long.;

(239) 32°43.40′ N. lat., 117°19.80′ W. long.; and

(240) 32°33.74′ N. lat., 117°18.67′ W. long.

(k) The 75 fm (137 m) depth contour around the northern Channel Islands off the state of California is defined by straight lines connecting all of the following points in the order stated:

(1) 34°09.12′ N. lat., 120°35.03′ W. long.;

(2) 34°09.99′ N. lat., 120°27.85′ W. long.;

(3) 34°07.19′ N. lat., 120°16.28′ W. long.;

(4) 34°06.56′ N. lat., 120°04.00′ W. long.;

(5) 34°07.27′ N. lat., 119°57.76′ W. long.;

(6) 34°07.48′ N. lat., 119°52.08′ W. long.;

(7) 34°05.18′ N. lat., 119°37.94′ W. long.;

(8) 34°05.22′ N. lat., 119°35.52′ W. long.;

(9) 34°05.12′ N. lat., 119°32.74′ W. long.;

(10) 34°04.32′ N. lat., 119°27.32′ W. long.;

(11) 34°03.00′ N. lat., 119°21.36′ W. long.;

(12) 34°02.32′ N. lat., 119°18.46′ W. long.;

(13) 34°00.65′ N. lat., 119°19.42′ W. long.;

(14) 33°59.45′ N. lat., 119°22.38′ W. long.;

(15) 33°58.68′ N. lat., 119°32.36′ W. long.;

(16) 33°56.12′ N. lat., 119°41.10′ W. long.;

(17) 33°55.74′ N. lat., 119°48.00′ W. long.;

(18) 33°57.78′ N. lat., 119°53.04′ W. long.;

(19) 33°59.06′ N. lat., 119°55.38′ W. long.;

(20) 33°57.57′ N. lat., 119°54.93′ W. long.;

(21) 33°56.35′ N. lat., 119°53.91′ W. long.;

(22) 33°54.43′ N. lat., 119°54.07′ W. long.;

(23) 33°52.67′ N. lat., 119°54.78′ W. long.;

(24) 33°48.33′ N. lat., 119°55.09′ W. long.;

(25) 33°47.28′ N. lat., 119°57.30′ W. long.;

(26) 33°47.36′ N. lat., 120°00.39′ W. long.;

(27) 33°49.16′ N. lat., 120°05.06′ W. long.;

(28) 33°51.41′ N. lat., 120°06.49′ W. long.;

(29) 33°52.99′ N. lat., 120°10.01′ W. long.;

(30) 33°56.64′ N. lat., 120°18.88′ W. long.;

(31) 33°58.02′ N. lat., 120°21.41′ W. long.;

(32) 33°58.73′ N. lat., 120°25.22′ W. long.;

(33) 33°59.08′ N. lat., 120°26.58′ W. long.;

(34) 33°59.95′ N. lat., 120°28.21′ W. long.;

(35) 34°03.54′ N. lat., 120°32.23′ W. long.;

(36) 34°05.57′ N. lat., 120°34.23′ W. long.;

(37) 34°08.13′ N. lat., 120°36.05′ W. long.; and

(38) 34°09.12′ N. lat., 120°35.03′ W. long.

(l) The 75 fm (137 m) depth contour around San Clemente Island off the state of California is defined by straight lines connecting all of the following points in the order stated:

(1) 33°04.54′ N. lat., 118°37.54′ W. long.;

(2) 33°02.56′ N. lat., 118°34.12′ W. long.;

(3) 32°55.54′ N. lat., 118°28.87′ W. long.;

(4) 32°55.02′ N. lat., 118°27.69′ W. long.;

(5) 32°49.78′ N. lat., 118°20.88′ W. long.;

(6) 32°48.32′ N. lat., 118°19.89′ W. long.;

(7) 32°47.41′ N. lat., 118°21.98′ W. long.;

(8) 32°44.39′ N. lat., 118°24.49′ W. long.;

(9) 32°47.93′ N. lat., 118°29.90′ W. long.;

(10) 32°49.69′ N. lat., 118°31.52′ W. long.;

(11) 32°53.57′ N. lat., 118°33.09′ W. long.;

(12) 32°55.42′ N. lat., 118°35.17′ W. long.;

(13) 33°00.49′ N. lat., 118°38.56′ W. long.;

(14) 33°03.23′ N. lat., 118°39.16′ W. long.; and

(15) 33°04.54′ N. lat., 118°37.54′ W. long.

(m) The 75 fm (137 m) depth contour around Santa Catalina Island off the state of California is defined by straight lines connecting all of the following points in the order stated:

(1) 33°28.17′ N. lat., 118°38.16′ W. long.;

(2) 33°29.35′ N. lat., 118°36.23′ W. long.;

(3) 33°28.85′ N. lat., 118°30.85′ W. long.;

(4) 33°26.69′ N. lat., 118°27.37′ W. long.;

(5) 33°26.31′ N. lat., 118°25.14′ W. long.;

(6) 33°25.35′ N. lat., 118°22.83′ W. long.;

(7) 33°22.47′ N. lat., 118°18.53′ W. long.;

(8) 33°19.51′ N. lat., 118°16.82′ W. long.;

(9) 33°17.07′ N. lat., 118°16.38′ W. long.;

(10) 33°16.58′ N. lat., 118°17.61′ W. long.;

(11) 33°18.35′ N. lat., 118°27.86′ W. long.;

(12) 33°20.07′ N. lat., 118°32.12′ W. long.;

(13) 33°21.77′ N. lat., 118°31.85′ W. long.;

(14) 33°23.15′ N. lat., 118°29.99′ W. long.;

(15) 33°24.96′ N. lat., 118°32.21′ W. long.;

(16) 33°25.67′ N. lat., 118°34.88′ W. long.;

(17) 33°27.80′ N. lat., 118°37.90′ W. long.; and

(18) 33°28.17′ N. lat., 118°38.16′ W. long.

22. Section 660.393 is added to read as follows:

§ 660.393 Latitude/longitude coordinates defining the 100 fm (183 m) through 150 fm (274 m) depth contours.

Boundaries for RCAs are defined by straight lines connecting a series of latitude/longitude coordinates. This section provides coordinates for the 100 fm (183 m) through 150 fm (274 m) depth contours.

(a) The 100 fm (183 m) depth contour used between the U.S. border with Canada and the U.S. border with Mexico is defined by straight lines connecting all of the following points in the order stated:

(1) 48°15.00′ N. lat., 125°41.00′ W. long.;

(2) 48°14.00′ N. lat., 125°36.00′ W. long.;

(3) 48°09.50′ N. lat., 125°40.50′ W. long.;

(4) 48°08.00′ N. lat., 125°38.00′ W. long.;

(5) 48°05.00′ N. lat., 125°37.25′ W. long.;

(6) 48°02.60′ N. lat., 125°34.70′ W. long.;

(7) 47°59.00′ N. lat., 125°34.00′ W. long.;

(8) 47°57.26′ N. lat., 125°29.82′ W. long.;

(9) 47°59.87′ N. lat., 125°25.81′ W. long.;

(10) 48°01.80′ N. lat., 125°24.53′ W. long.;

(11) 48°02.08′ N. lat., 125°22.98′ W. long.;

(12) 48°02.97′ N. lat., 125°22.89′ W. long.;

(13) 48°04.47′ N. lat., 125°21.75′ W. long.;

(14) 48°06.11′ N. lat., 125°19.33′ W. long.;

(15) 48°07.95′ N. lat., 125°18.55′ W. long.;

(16) 48°09.00′ N. lat., 125°18.00′ W. long.;

(17) 48°11.31′ N. lat., 125°17.55′ W. long.;

(18) 48°14.60′ N. lat., 125°13.46′ W. long.;

(19) 48°16.67′ N. lat., 125°14.34′ W. long.;

(20) 48°18.73′ N. lat., 125°14.41′ W. long.;

(21) 48°19.67′ N. lat., 125°13.70′ W. long.;

(22) 48°19.70′ N. lat., 125°11.13′ W. long.;

(23) 48°22.95′ N. lat., 125°10.79′ W. long.;

(24) 48°21.61′ N. lat., 125°02.54′ W. long.;

(25) 48°23.00′ N. lat., 124°49.34′ W. long.;

(26) 48°17.00′ N. lat., 124°56.50′ W. long.;

(27) 48°06.00′ N. lat., 125°00.00′ W. long.;

(28) 48°04.62′ N. lat., 125°01.73′ W. long.;

(29) 48°04.84′ N. lat., 125°04.03′ W. long.;

(30) 48°06.41′ N. lat., 125°06.51′ W. long.;

(31) 48°06.00′ N. lat., 125°08.00′ W. long.;

(32) 48°07.08′ N. lat., 125°09.34′ W. long.;

(33) 48°07.28′ N. lat., 125°11.14′ W. long.;

(34) 48°03.45′ N. lat., 125°16.66′ W. long.;

(35) 47°59.50′ N. lat., 125°18.88′ W. long.;

(36) 47°58.68′ N. lat., 125°16.19′ W. long.;

(37) 47°56.62′ N. lat., 125°13.50′ W. long.;

(38) 47°53.71′ N. lat., 125°11.96′ W. long.;

(39) 47°51.70′ N. lat., 125°09.38′ W. long.;

(40) 47°49.95′ N. lat., 125°06.07′ W. long.;

(41) 47°49.00′ N. lat., 125°03.00′ W. long.;

(42) 47°46.95′ N. lat., 125°04.00′ W. long.;

(43) 47°46.58′ N. lat., 125°03.15′ W. long.;

(44) 47°44.07′ N. lat., 125°04.28′ W. long.;

(45) 47°43.32′ N. lat., 125°04.41′ W. long.;

(46) 47°40.95′ N. lat., 125°04.14′ W. long.;

(47) 47°39.58′ N. lat., 125°04.97′ W. long.;

(48) 47°36.23′ N. lat., 125°02.77′ W. long.;

(49) 47°34.28′ N. lat., 124°58.66′ W. long.;

(50) 47°32.17′ N. lat., 124°57.77′ W. long.;

(51) 47°30.27′ N. lat., 124°56.16′ W. long.;

(52) 47°30.60′ N. lat., 124°54.80′ W. long.;

(53) 47°29.26′ N. lat., 124°52.21′ W. long.;

(54) 47°28.21′ N. lat., 124°50.65′ W. long.;

(55) 47°27.38′ N. lat., 124°49.34′ W. long.;

(56) 47°25.61′ N. lat., 124°48.26′ W. long.;

(57) 47°23.54′ N. lat., 124°46.42′ W. long.;

(58) 47°20.64′ N. lat., 124°45.91′ W. long.;

(59) 47°17.99′ N. lat., 124°45.59′ W. long.;

(60) 47°18.20′ N. lat., 124°49.12′ W. long.;

(61) 47°15.01′ N. lat., 124°51.09′ W. long.;

(62) 47°12.61′ N. lat., 124°54.89′ W. long.;

(63) 47°08.22′ N. lat., 124°56.53′ W. long.;

(64) 47°08.50′ N. lat., 124°57.74′ W. long.;

(65) 47°01.92′ N. lat., 124°54.95′ W. long.;

(66) 47°01.14′ N. lat., 124°59.35′ W. long.;

(67) 46°58.48′ N. lat., 124°57.81′ W. long.;

(68) 46°56.79′ N. lat., 124°56.03′ W. long.;

(69) 46°58.01′ N. lat., 124°55.09′ W. long.;

(70) 46°55.07′ N. lat., 124°54.14′ W. long.;

(71) 46°59.60′ N. lat., 124°49.79′ W. long.;

(72) 46°58.72′ N. lat., 124°48.78′ W. long.;

(73) 46°54.45′ N. lat., 124°48.36′ W. long.;

(74) 46°53.99′ N. lat., 124°49.95′ W. long.;

(75) 46°54.38′ N. lat., 124°52.73′ W. long.;

(76) 46°52.38′ N. lat., 124°52.02′ W. long.;

(77) 46°48.93′ N. lat., 124°49.17′ W. long.;

(78) 46°41.50′ N. lat., 124°43.00′ W. long.;

(79) 46°34.50′ N. lat., 124°28.50′ W. long.;

(80) 46°29.00′ N. lat., 124°30.00′ W. long.;

(81) 46°20.00′ N. lat., 124°36.50′ W. long.;

(82) 46°18.00′ N. lat., 124°38.00′ W. long.;

(83) 46°17.52′ N. lat., 124°35.35′ W. long.;

(84) 46°17.00′ N. lat., 124°22.50′ W. long.;

(85) 46°16.00′ N. lat., 124°20.62′ W. long.;

(86) 46°13.52′ N. lat., 124°25.49′ W. long.;

(87) 46°12.17′ N. lat., 124°30.75′ W. long.;

(88) 46°10.63′ N. lat., 124°37.95′ W. long.;

(89) 46°09.29′ N. lat., 124°39.01′ W. long.;

(90) 46°02.40′ N. lat., 124°40.37′ W. long.;

(91) 45°56.45′ N. lat., 124°38.00′ W. long.;

(92) 45°51.92′ N. lat., 124°38.49′ W. long.;

(93) 45°47.19′ N. lat., 124°35.58′ W. long.;

(94) 45°46.41′ N. lat., 124°32.36′ W. long.;

(95) 45°46.00′ N. lat., 124°32.10′ W. long.;

(96) 45°41.75′ N. lat., 124°28.12′ W. long.;

(97) 45°36.96′ N. lat., 124°24.48′ W. long.;

(98) 45°31.84′ N. lat., 124°22.04′ W. long.;

(99) 45°27.10′ N. lat., 124°21.74′ W. long.;

(100) 45°20.25′ N. lat., 124°18.54′ W. long.;

(101) 45°18.14′ N. lat., 124°17.59′ W. long.;

(102) 45°11.08′ N. lat., 124°16.97′ W. long.;

(103) 45°04.38′ N. lat., 124°18.36′ W. long.;

(104) 45°03.83′ N. lat., 124°18.60′ W. long.;

(105) 44°58.05′ N. lat., 124°21.58′ W. long.;

(106) 44°47.67′ N. lat., 124°31.41′ W. long.;

(107) 44°44.55′ N. lat., 124°33.58′ W. long.;

(108) 44°39.88′ N. lat., 124°35.01′ W. long.;

(109) 44°32.90′ N. lat., 124°36.81′ W. long.;

(110) 44°30.33′ N. lat., 124°38.56′ W. long.;

(111) 44°30.04′ N. lat., 124°42.31′ W. long.;

(112) 44°26.84′ N. lat., 124°44.91′ W. long.;

(113) 44°17.99′ N. lat., 124°51.03′ W. long.;

(114) 44°13.68′ N. lat., 124°56.38′ W. long.;

(115) 44°08.30′ N. lat., 124°55.99′ W. long.;

(116) 43°56.67′ N. lat., 124°55.45′ W. long.;

(117) 43°56.47′ N. lat., 124°34.61′ W. long.;

(118) 43°42.73′ N. lat., 124°32.41′ W. long.;

(119) 43°30.93′ N. lat., 124°34.43′ W. long.;

(120) 43°20.83′ N. lat., 124°39.39′ W. long.;

(121) 43°17.45′ N. lat., 124°41.16′ W. long.;

(122) 43°07.04′ N. lat., 124°41.25′ W. long.;

(123) 43°03.45′ N. lat., 124°44.36′ W. long.;

(124) 43°03.90′ N. lat., 124°50.81′ W. long.;

(125) 42°55.70′ N. lat., 124°52.79′ W. long.;

(126) 42°54.12′ N. lat., 124°47.36′ W. long.;

(127) 42°50.00′ N. lat., 124°45.33′ W. long.;

(128) 42°44.00′ N. lat., 124°42.38′ W. long.;

(129) 42°40.50′ N. lat., 124°41.71′ W. long.;

(130) 42°38.23′ N. lat., 124°41.25′ W. long.;

(131) 42°33.03′ N. lat., 124°42.38′ W. long.;

(132) 42°31.89′ N. lat., 124°42.04′ W. long.;

(133) 42°30.09′ N. lat., 124°42.67′ W. long.;

(134) 42°28.28′ N. lat., 124°47.08′ W. long.;

(135) 42°25.22′ N. lat., 124°43.51′ W. long.;

(136) 42°19.23′ N. lat., 124°37.92′ W. long.;

(137) 42°16.29′ N. lat., 124°36.11′ W. long.;

(138) 42°13.67′ N. lat., 124°35.81′ W. long.;

(139) 42°05.66′ N. lat., 124°34.92′ W. long.;

(140) 42°00.00′ N. lat., 124°35.27′ W. long.;

(141) 41°47.04′ N. lat., 124°27.64′ W. long.;

(142) 41°32.92′ N. lat., 124°28.79′ W. long.;

(143) 41°24.17′ N. lat., 124°28.46′ W. long.;

(144) 41°10.12′ N. lat., 124°20.50′ W. long.;

(145) 40°51.41′ N. lat., 124°24.38′ W. long.;

(146) 40°43.71′ N. lat., 124°29.89′ W. long.;

(147) 40°40.14′ N. lat., 124°30.90′ W. long.;

(148) 40°37.35′ N. lat., 124°29.05′ W. long.;

(149) 40°34.76′ N. lat., 124°29.82′ W. long.;

(150) 40°36.78′ N. lat., 124°37.06′ W. long.;

(151) 40°32.44′ N. lat., 124°39.58′ W. long.;

(152) 40°30.00′ N. lat., 124°38.13′ W. long.;

(153) 40°24.82′ N. lat., 124°35.12′ W. long.;

(154) 40°23.30′ N. lat., 124°31.60′ W. long.;

(155) 40°23.52′ N. lat., 124°28.78′ W. long.;

(156) 40°22.43′ N. lat., 124°25.00′ W. long.;

(157) 40°21.72′ N. lat., 124°24.94′ W. long.;

(158) 40°21.87′ N. lat., 124°27.96′ W. long.;

(159) 40°21.40′ N. lat., 124°28.74′ W. long.;

(160) 40°19.68′ N. lat., 124°28.49′ W. long.;

(161) 40°17.73′ N. lat., 124°25.43′ W. long.;

(162) 40°18.37′ N. lat., 124°23.35′ W. long.;

(163) 40°15.75′ N. lat., 124°26.05′ W. long.;

(164) 40°16.75′ N. lat., 124°33.71′ W. long.;

(165) 40°16.29′ N. lat., 124°34.36′ W. long.;

(166) 40°10.00′ N. lat., 124°21.12′ W. long.;

(167) 40°07.70′ N. lat., 124°18.44′ W. long.;

(168) 40°08.84′ N. lat., 124°15.86′ W. long.;

(169) 40°06.53′ N. lat., 124°17.39′ W. long.;

(170) 40°03.15′ N. lat., 124°14.43′ W. long.;

(171) 40°02.19′ N. lat., 124°12.85′ W. long.;

(172) 40°02.89′ N. lat., 124°11.78′ W. long.;

(173) 40°02.78′ N. lat., 124°10.70′ W. long.;

(174) 40°04.57′ N. lat., 124°10.08′ W. long.;

(175) 40°06.06′ N. lat., 124°08.30′ W. long.;

(176) 40°04.05′ N. lat., 124°08.93′ W. long.;

(177) 40°01.17′ N. lat., 124°08.80′ W. long.;

(179) 40°01.03′ N. lat., 124°10.06′ W. long.;

(179) 39°58.07′ N. lat., 124°11.89′ W. long.;

(180) 39°56.39′ N. lat., 124°08.71′ W. long.;

(181) 39°54.64′ N. lat., 124°07.30′ W. long.;

(182) 39°53.86′ N. lat., 124°07.95′ W. long.;

(183) 39°51.95′ N. lat., 124°07.63′ W. long.;

(184) 39°48.78′ N. lat., 124°03.29′ W. long.;

(185) 39°47.36′ N. lat., 124°03.31′ W. long.;

(186) 39°40.08′ N. lat., 123°58.37′ W. long.;

(187) 39°36.16′ N. lat., 123°56.90′ W. long.;

(188) 39°30.75′ N. lat., 123°55.86′ W. long.;

(189) 39°31.62′ N. lat., 123°57.33′ W. long.;

(190) 39°30.91′ N. lat., 123°57.88′ W. long.;

(191) 39°01.79′ N. lat., 123°56.59′ W. long.;

(192) 38°59.42′ N. lat., 123°55.67′ W. long.;

(193) 38°58.89′ N. lat., 123°56.28′ W. long.;

(194) 38°57.50′ N. lat., 123°56.28′ W. long.;

(195) 38°54.72′ N. lat., 123°55.68′ W. long.;

(196) 38°48.95′ N. lat., 123°51.85′ W. long.;

(197) 38°36.67′ N. lat., 123°40.20′ W. long.;

(198) 38°33.82′ N. lat., 123°39.23′ W. long.;

(199) 38°29.02′ N. lat., 123°33.52′ W. long.;

(200) 38°18.88′ N. lat., 123°25.93′ W. long.;

(201) 38°14.12′ N. lat., 123°23.26′ W. long.;

(202) 38°11.07′ N. lat., 123°22.07′ W. long.;

(203) 38°03.19′ N. lat., 123°20.70′ W. long.;

(204) 38°00.00′ N. lat., 123°23.08′ W. long.;

(205) 37°55.07′ N. lat., 123°26.81′ W. long.;

(206) 37°50.66′ N. lat., 123°23.06′ W. long.;

(207) 37°45.18′ N. lat., 123°11.88′ W. long.;

(208) 37°35.67′ N. lat., 123°01.20′ W. long.;

(209) 37°15.58′ N. lat., 122°48.36′ W. long.;

(210) 37°11.00′ N. lat., 122°44.50′ W. long.;

(211) 37°07.00′ N. lat., 122°41.25′ W. long.;

(212) 37°03.18′ N. lat., 122°38.15′ W. long.;

(213) 37°00.48′ N. lat., 122°33.93′ W. long.;

(214) 36°58.70′ N. lat., 122°27.22′ W. long.;

(215) 37°00.85′ N. lat., 122°24.70′ W. long.;

(216) 36°58.00′ N. lat., 122°24.14′ W. long.;

(217) 36°58.74′ N. lat., 122°21.51′ W. long.;

(218) 36°56.97′ N. lat., 122°21.32′ W. long.;

(219) 36°51.52′ N. lat., 122°10.68′ W. long.;

(220) 36°48.39′ N. lat., 122°07.60′ W. long.;

(221) 36°47.43′ N. lat., 122°03.22′ W. long.;

(222) 36°50.95′ N. lat., 121°58.03′ W. long.;

(223) 36°49.92′ N. lat., 121°58.01′ W. long.;

(224) 36°48.88′ N. lat., 121°58.90′ W. long.;

(225) 36°47.70′ N. lat., 121°58.75′ W. long.;

(226) 36°48.37′ N. lat., 121°51.14′ W. long.;

(227) 36°45.74′ N. lat., 121°54.17′ W. long.;

(228) 36°45.51′ N. lat., 121°57.72′ W. long.;

(229) 36°38.84′ N. lat., 122°01.32′ W. long.;

(230) 36°35.62′ N. lat., 122°00.98′ W. long.;

(231) 36°32.46′ N. lat., 121°59.15′ W. long.;

(232) 36°32.79′ N. lat., 121°57.67′ W. long.;

(233) 36°31.98′ N. lat., 121°56.55′ W. long.;

(234) 36°31.79′ N. lat., 121°58.40′ W. long.;

(235) 36°30.73′ N. lat., 121°59.70′ W. long.;

(236) 36°30.31′ N. lat., 122°00.22′ W. long.;

(237) 36°29.35′ N. lat., 122°00.36′ W. long.;

(238) 36°27.66′ N. lat., 121°59.80′ W. long.;

(239) 36°26.22′ N. lat., 121°58.35′ W. long.;

(240) 36°21.20′ N. lat., 122°00.72′ W. long.;

(241) 36°20.47′ N. lat., 122°02.92′ W. long.;

(242) 36°18.46′ N. lat., 122°04.51′ W. long.;

(243) 36°15.92′ N. lat., 122°01.33′ W. long.;

(244) 36°13.76′ N. lat., 121°57.27′ W. long.;

(245) 36°14.43′ N. lat., 121°55.43′ W. long.;

(246) 36°10.24′ N. lat., 121°43.08′ W. long.;

(247) 36°07.66′ N. lat., 121°40.91′ W. long.;

(248) 36°02.49′ N. lat., 121°36.51′ W. long.;

(249) 36°01.07′ N. lat., 121°36.82′ W. long.;

(250) 36°00.00′ N. lat., 121°35.15′ W. long.;

(251) 35°57.84′ N. lat., 121°33.10′ W. long.;

(252) 35°50.36′ N. lat., 121°29.32′ W. long.;

(253) 35°39.03′ N. lat., 121°22.86′ W. long.;

(254) 35°24.30′ N. lat., 121°02.56′ W. long.;

(255) 35°16.53′ N. lat., 121°00.39′ W. long.;

(256) 35°04.82′ N. lat., 120°53.96′ W. long.;

(257) 34°52.51′ N. lat., 120°51.62′ W. long.;

(258) 34°43.36′ N. lat., 120°52.12′ W. long.;

(259) 34°37.64′ N. lat., 120°49.99′ W. long.;

(260) 34°30.80′ N. lat., 120°45.02′ W. long.;

(261) 34°27.00′ N. lat., 120°39.00′ W. long.;

(262) 34°21.90′ N. lat., 120°25.25′ W. long.;

(263) 34°24.86′ N. lat., 120°16.81′ W. long.;

(264) 34°22.80′ N. lat., 119°57.06′ W. long.;

(265) 34°18.59′ N. lat., 119°44.84′ W. long.;

(266) 34°15.04′ N. lat., 119°40.34′ W. long.;

(267) 34°14.40′ N. lat., 119°45.39′ W. long.;

(268) 34°12.32′ N. lat., 119°42.41′ W. long.;

(269) 34°09.71′ N. lat., 119°28.85′ W. long.;

(270) 34°04.70′ N. lat., 119°15.38′ W. long.;

(271) 34°03.33′ N. lat., 119°12.93′ W. long.;

(272) 34°02.72′ N. lat., 119°07.01′ W. long.;

(273) 34°03.90′ N. lat., 119°04.64′ W. long.;

(274) 34°01.80′ N. lat., 119°03.23′ W. long.;

(275) 33°59.32′ N. lat., 119°03.50′ W. long.;

(276) 33°59.00′ N. lat., 118°59.55′ W. long.;

(277) 33°59.51′ N. lat., 118°57.25′ W. long.;

(278) 33°58.82′ N. lat., 118°52.47′ W. long.;

(279) 33°58.54′ N. lat., 118°41.86′ W. long.;

(280) 33°55.07′ N. lat., 118°34.25′ W. long.;

(281) 33°54.28′ N. lat., 118°38.68′ W. long.;

(282) 33°51.00′ N. lat., 118°36.66′ W. long.;

(283) 33°39.77′ N. lat., 118°18.41′ W. long.;

(284) 33°35.50′ N. lat., 118°16.85′ W. long.;

(285) 33°32.68′ N. lat., 118°09.82′ W. long.;

(286) 33°34.09′ N. lat., 117°54.06′ W. long.;

(287) 33°31.60′ N. lat., 117°49.28′ W. long.;

(288) 33°16.07′ N. lat., 117°34.74′ W. long.;

(289) 33°07.06′ N. lat., 117°22.71′ W. long.;

(290) 32°59.28′ N. lat., 117°19.69′ W. long.;

(291) 32°55.36′ N. lat., 117°19.54′ W. long.;

(292) 32°53.35′ N. lat., 117°17.05′ W. long.;

(293) 32°53.34′ N. lat., 117°19.13′ W. long.;

(294) 32°46.39′ N. lat., 117°23.45′ W. long.;

(295) 32°42.79′ N. lat., 117°21.16′ W. long.; and

(296) 32°34.22′ N. lat., 117°21.20′ W. long.

(b) The 100 fm (183 m) depth contour around San Clemente Island off the state of California is defined by straight lines connecting all of the following points in the order stated:

(1) 33°04.73′ N. lat., 118°37.98′ W. long.;

(2) 33°02.67′ N. lat., 118°34.06′ W. long.;

(3) 32°55.80′ N. lat., 118°28.92′ W. long.;

(4) 32°49.78′ N. lat., 118°20.88′ W. long.;

(5) 32°48.01′ N. lat., 118°19.49′ W. long.;

(6) 32°47.53′ N. lat., 118°21.76′ W. long.;

(7) 32°44.03′ N. lat., 118°24.70′ W. long.;

(8) 32°49.75′ N. lat., 118°32.10′ W. long.;

(9) 32°53.36′ N. lat., 118°33.23′ W. long.;

(10) 32°55.17′ N. lat., 118°34.64′ W. long.;

(11) 32°55.13′ N. lat., 118°35.31′ W. long.;

(12) 33°00.22′ N. lat., 118°38.68′ W. long.;

(13) 33°03.13′ N. lat., 118°39.59′ W. long.; and

(14) 33°04.73′ N. lat., 118°37.98′ W. long.

(c) The 100 fm (183 m) depth contour around Santa Catalina Island off the state of California is defined by straight lines connecting all of the following points in the order stated:

(1) 33°28.23′ N. lat., 118°39.38′ W. long.;

(2) 33°29.60′ N. lat., 118°36.11′ W. long.;

(3) 33°29.14′ N. lat., 118°30.81′ W. long.;

(4) 33°26.97′ N. lat., 118°27.57′ W. long.;

(5) 33°25.68′ N. lat., 118°23.00′ W. long.;

(6) 33°22.67′ N. lat., 118°18.41′ W. long.;

(7) 33°19.72′ N. lat., 118°16.25′ W. long.;

(8) 33°17.14′ N. lat., 118°14.96′ W. long.;

(9) 33°16.09′ N. lat., 118°15.46′ W. long.;

(10) 33°18.10′ N. lat., 118°27.95′ W. long.;

(11) 33°19.84′ N. lat., 118°32.16′ W. long.;

(12) 33°20.83′ N. lat., 118°32.83′ W. long.;

(13) 33°21.91′ N. lat., 118°31.98′ W. long.;

(14) 33°23.05′ N. lat., 118°30.11′ W. long.;

(15) 33°24.87′ N. lat., 118°32.45′ W. long.;

(16) 33°25.30′ N. lat., 118°34.32′ W. long.; and

(17) 33°28.23′ N. lat., 118°39.38′ W. long.

(d) The 125 fm (229 m) depth contour used between the U.S. border with Canada and the U.S. border with Mexico is defined by straight lines connecting all of the following points in the order stated:

(1) 48°15.00′ N. lat., 125°41.13′ W. long.;

(2) 48°13.05′ N. lat., 125°37.43′ W. long.;

(3) 48°08.62′ N. lat., 125°41.68′ W. long.;

(4) 48°07.42′ N. lat., 125°42.38′ W. long.;

(5) 48°04.20′ N. lat., 125°36.57′ W. long.;

(6) 48°02.79′ N. lat., 125°35.55′ W. long.;

(7) 48°00.48′ N. lat., 125°37.84′ W. long.;

(8) 47°54.90′ N. lat., 125°34.79′ W. long.;

(9) 47°58.37′ N. lat., 125°26.58′ W. long.;

(10) 47°59.84′ N. lat., 125°25.20′ W. long.;

(11) 48°01.85′ N. lat., 125°24.12′ W. long.;

(12) 48°02.13′ N. lat., 125°22.80′ W. long.;

(13) 48°03.31′ N. lat., 125°22.46′ W. long.;

(14) 48°06.83′ N. lat., 125°17.73′ W. long.;

(15) 48°10.08′ N. lat., 125°15.56′ W. long.;

(16) 48°11.24′ N. lat., 125°13.72′ W. long.;

(17) 48°12.41′ N. lat., 125°14.48′ W. long.;

(18) 48°13.01′ N. lat., 125°13.77′ W. long.;

(19) 48°13.59′ N. lat., 125°12.83′ W. long.;

(20) 48°12.22′ N. lat., 125°12.28′ W. long.;

(21) 48°11.15′ N. lat., 125°12.26′ W. long.;

(22) 48°10.18′ N. lat., 125°10.44′ W. long.;

(23) 48°10.18′ N. lat., 125°06.32′ W. long.;

(24) 48°15.39′ N. lat., 125°02.83′ W. long.;

(25) 48°18.32′ N. lat., 125°01.00′ W. long.;

(26) 48°21.67′ N. lat., 125°01.86′ W. long.;

(27) 48°25.70′ N. lat., 125°00.10′ W. long.;

(28) 48°26.43′ N. lat., 124°56.65′ W. long.;

(29) 48°24.28′ N. lat., 124°56.48′ W. long.;

(30) 48°23.27′ N. lat., 124°59.12′ W. long.;

(31) 48°21.79′ N. lat., 124°59.30′ W. long.;

(32) 48°20.71′ N. lat., 124°58.74′ W. long.;

(33) 48°19.84′ N. lat., 124°57.09′ W. long.;

(34) 48°22.06′ N. lat., 124°54.78′ W. long.;

(35) 48°22.45′ N. lat., 124°53.35′ W. long.;

(36) 48°22.74′ N. lat., 124°50.96′ W. long.;

(37) 48°21.04′ N. lat., 124°52.60′ W. long.;

(38) 48°18.07′ N. lat., 124°55.85′ W. long.;

(39) 48°15.03′ N. lat., 124°58.16′ W. long.;

(40) 48°11.31′ N. lat., 124°58.53′ W. long.;

(41) 48°06.25′ N. lat., 125°00.06′ W. long.;

(42) 48°04.70′ N. lat., 125°01.80′ W. long.;

(43) 48°04.93′ N. lat., 125°03.92′ W. long.;

(44) 48°06.44′ N. lat., 125°06.50′ W. long.;

(45) 48°07.34′ N. lat., 125°09.35′ W. long.;

(46) 48°07.62′ N. lat., 125°11.37′ W. long.;

(47) 48°03.71′ N. lat., 125°17.63′ W. long.;

(48) 48°01.35′ N. lat., 125°18.66′ W. long.;

(49) 48°00.05′ N. lat., 125°19.66′ W. long.;

(50) 47°59.51′ N. lat., 125°18.90′ W. long.;

(51) 47°58.29′ N. lat., 125°16.64′ W. long.;

(52) 47°54.67′ N. lat., 125°13.20′ W. long.;

(53) 47°53.15′ N. lat., 125°12.53′ W. long.;

(54) 47°48.46′ N. lat., 125°04.72′ W. long.;

(55) 47°46.10′ N. lat., 125°04.00′ W. long.;

(56) 47°44.60′ N. lat., 125°04.49′ W. long.;

(57) 47°42.90′ N. lat., 125°04.72′ W. long.;

(58) 47°40.71′ N. lat., 125°04.68′ W. long.;

(59) 47°39.02′ N. lat., 125°05.63′ W. long.;

(60) 47°34.86′ N. lat., 125°02.11′ W. long.;

(61) 47°31.64′ N. lat., 124°58.11′ W. long.;

(62) 47°29.69′ N. lat., 124°55.71′ W. long.;

(63) 47°29.35′ N. lat., 124°53.23′ W. long.;

(64) 47°28.56′ N. lat., 124°51.34′ W. long.;

(65) 47°25.31′ N. lat., 124°48.20′ W. long.;

(66) 47°23.92′ N. lat., 124°47.15′ W. long.;

(67) 47°18.09′ N. lat., 124°45.74′ W. long.;

(68) 47°18.65′ N. lat., 124°51.51′ W. long.;

(69) 47°18.12′ N. lat., 124°52.58′ W. long.;

(70) 47°17.64′ N. lat., 124°50.45′ W. long.;

(71) 47°16.31′ N. lat., 124°50.92′ W. long.;

(72) 47°15.60′ N. lat., 124°52.62′ W. long.;

(73) 47°14.25′ N. lat., 124°52.49′ W. long.;

(74) 47°11.32′ N. lat., 124°57.19′ W. long.;

(75) 47°09.14′ N. lat., 124°57.46′ W. long.;

(76) 47°08.83′ N. lat., 124°58.47′ W. long.;

(77) 47°05.88′ N. lat., 124°58.26′ W. long.;

(78) 47°03.60′ N. lat., 124°55.84′ W. long.;

(79) 47°02.91′ N. lat., 124°56.15′ W. long.;

(80) 47°01.08′ N. lat., 124°59.46′ W. long.;

(81) 46°58.13′ N. lat., 124°58.83′ W. long.;

(82) 46°57.44′ N. lat., 124°57.78′ W. long.;

(83) 46°55.98′ N. lat., 124°54.60′ W. long.;

(84) 46°54.90′ N. lat., 124°54.14′ W. long.;

(85) 46°58.47′ N. lat., 124°49.65′ W. long.;

(86) 46°54.44′ N. lat., 124°48.79′ W. long.;

(87) 46°54.41′ N. lat., 124°52.87′ W. long.;

(88) 46°49.36′ N. lat., 124°52.77′ W. long.;

(89) 46°40.06′ N. lat., 124°45.34′ W. long.;

(90) 46°39.64′ N. lat., 124°42.21′ W. long.;

(91) 46°34.27′ N. lat., 124°34.63′ W. long.;

(92) 46°33.58′ N. lat., 124°29.10′ W. long.;

(93) 46°25.64′ N. lat., 124°32.57′ W. long.;

(94) 46°21.33′ N. lat., 124°36.36′ W. long.;

(95) 46°20.59′ N. lat., 124°36.15′ W. long.;

(96) 46°19.38′ N. lat., 124°38.21′ W. long.;

(97) 46°17.94′ N. lat., 124°38.10′ W. long.;

(98) 46°16.00′ N. lat., 124°22.17′ W. long.;

(99) 46°13.37′ N. lat., 124°30.70′ W. long.;

(100) 46°12.20′ N. lat., 124°36.04′ W. long.;

(101) 46°11.01′ N. lat., 124°38.68′ W. long.;

(102) 46°09.73′ N. lat., 124°39.91′ W. long.;

(103) 46°03.23′ N. lat., 124°42.03′ W. long.;

(104) 46°01.17′ N. lat., 124°42.06′ W. long.;

(105) 46°00.35′ N. lat., 124°42.26′ W. long.;

(106) 45°52.81′ N. lat., 124°41.62′ W. long.;

(107) 45°49.70′ N. lat., 124°41.14′ W. long.;

(108) 45°46.00′ N. lat., 124°38.92′ W. long.;

(109) 45°45.18′ N. lat., 124°38.39′ W. long.;

(110) 45°43.24′ N. lat., 124°37.77′ W. long.;

(111) 45°34.75′ N. lat., 124°28.59′ W. long.;

(112) 45°20.25′ N. lat., 124°21.52′ W. long.;

(113) 45°19.90′ N. lat., 124°21.34′ W. long.;

(114) 45°12.44′ N. lat., 124°19.35′ W. long.;

(115) 45°07.48′ N. lat., 124°19.73′ W. long.;

(116) 45°03.83′ N. lat., 124°21.20′ W. long.;

(117) 44°59.96′ N. lat., 124°22.91′ W. long.;

(118) 44°54.72′ N. lat., 124°26.84′ W. long.;

(119) 44°51.15′ N. lat., 124°31.41′ W. long.;

(120) 44°49.97′ N. lat., 124°32.37′ W. long.;

(121) 44°47.06′ N. lat., 124°34.43′ W. long.;

(122) 44°41.37′ N. lat., 124°36.51′ W. long.;

(123) 44°32.78′ N. lat., 124°37.86′ W. long.;

(124) 44°29.44′ N. lat., 124°44.25′ W. long.;

(125) 44°27.95′ N. lat., 124°45.13′ W. long.;

(126) 44°24.73′ N. lat., 124°47.42′ W. long.;

(127) 44°19.67′ N. lat., 124°51.17′ W. long.;

(128) 44°17.96′ N. lat., 124°52.53′ W. long.;

(129) 44°13.70′ N. lat., 124°56.45′ W. long.;

(130) 44°12.26′ N. lat., 124°57.53′ W. long.;

(131) 44°08.30′ N. lat., 124°57.17′ W. long.;

(132) 44°07.57′ N. lat., 124°57.19′ W. long.;

(133) 44°04.78′ N. lat., 124°56.31′ W. long.;

(134) 44°01.14′ N. lat., 124°56.07′ W. long.;

(135) 43°57.39′ N. lat., 124°57.01′ W. long.;

(136) 43°54.58′ N. lat., 124°52.18′ W. long.;

(137) 43°53.18′ N. lat., 124°47.41′ W. long.;

(138) 43°53.60′ N. lat., 124°37.45′ W. long.;

(139) 43°53.04′ N. lat., 124°36.00′ W. long.;

(140) 43°47.93′ N. lat., 124°35.18′ W. long.;

(141) 43°39.32′ N. lat., 124°35.14′ W. long.;

(142) 43°32.38′ N. lat., 124°35.26′ W. long.;

(143) 43°30.32′ N. lat., 124°36.79′ W. long.;

(144) 43°27.81′ N. lat., 124°36.42′ W. long.;

(145) 43°23.73′ N. lat., 124°39.66′ W. long.;

(146) 43°20.83′ N. lat., 124°41.18′ W. long.;

(147) 43°10.48′ N. lat., 124°43.54′ W. long.;

(148) 43°04.77′ N. lat., 124°45.51′ W. long.;

(149) 43°05.94′ N. lat., 124°49.77′ W. long.;

(150) 43°03.38′ N. lat., 124°51.86′ W. long.;

(151) 42°59.32′ N. lat., 124°51.93′ W. long.;

(152) 42°56.80′ N. lat., 124°53.38′ W. long.;

(153) 42°54.54′ N. lat., 124°52.72′ W. long.;

(154) 42°52.89′ N. lat., 124°47.45′ W. long.;

(155) 42°50.00′ N. lat., 124°47.03′ W. long.;

(156) 42°48.10′ N. lat., 124°46.75′ W. long.;

(157) 42°46.34′ N. lat., 124°43.53′ W. long.;

(158) 42°41.66′ N. lat., 124°42.70′ W. long.;

(159) 42°40.50′ N. lat., 124°42.69′ W. long.;

(160) 42°32.53′ N. lat., 124°42.77′ W. long.;

(161) 42°29.74′ N. lat., 124°43.81′ W. long.;

(162) 42°28.07′ N. lat., 124°47.65′ W. long.;

(163) 42°21.58′ N. lat., 124°41.41′ W. long.;

(164) 42°15.17′ N. lat., 124°36.25′ W. long.;

(165) 42°13.67′ N. lat., 124°36.20′ W. long.;

(166) 42°08.28′ N. lat., 124°36.08′ W. long.;

(167) 42°00.00′ N. lat., 124°35.46′ W. long.;

(168) 41°47.67′ N. lat., 124°28.67′ W. long.;

(169) 41°32.91′ N. lat., 124°29.01′ W. long.;

(170) 41°22.57′ N. lat., 124°28.66′ W. long.;

(171) 41°13.38′ N. lat., 124°22.88′ W. long.;

(172) 41°06.42′ N. lat., 124°22.02′ W. long.;

(173) 40°50.19′ N. lat., 124°25.58′ W. long.;

(174) 40°44.08′ N. lat., 124°30.43′ W. long.;

(175) 40°40.54′ N. lat., 124°31.75′ W. long.;

(176) 40°37.36′ N. lat., 124°29.17′ W. long.;

(177) 40°35.30′ N. lat., 124°30.03′ W. long.;

(178) 40°37.02′ N. lat., 124°37.10′ W. long.;

(179) 40°35.82′ N. lat., 124°39.58′ W. long.;

(180) 40°31.70′ N. lat., 124°39.97′ W. long.;

(181) 40°30.00′ N. lat., 124°38.50′ W. long.;

(182) 40°24.77′ N. lat., 124°35.39′ W. long.;

(183) 40°23.22′ N. lat., 124°31.87′ W. long.;

(184) 40°23.40′ N. lat., 124°28.65′ W. long.;

(185) 40°22.30′ N. lat., 124°25.27′ W. long.;

(186) 40°21.91′ N. lat., 124°25.18′ W. long.;

(187) 40°21.91′ N. lat., 124°27.97′ W. long.;

(188) 40°21.37′ N. lat., 124°29.03′ W. long.;

(189) 40°19.74′ N. lat., 124°28.71′ W. long.;

(190) 40°18.52′ N. lat., 124°27.26′ W. long.;

(191) 40°17.57′ N. lat., 124°25.49′ W. long.;

(192) 40°18.20′ N. lat., 124°23.63′ W. long.;

(193) 40°15.89′ N. lat., 124°26.00′ W. long.;

(194) 40°17.00′ N. lat., 124°35.01′ W. long.;

(195) 40°15.97′ N. lat., 124°35.91′ W. long.;

(196) 40°10.00′ N. lat., 124°22.00′ W. long.;

(197) 40°07.35′ N. lat., 124°18.64′ W. long.;

(198) 40°08.46′ N. lat., 124°16.24′ W. long.;

(199) 40°06.26′ N. lat., 124°17.54′ W. long.;

(200) 40°03.26′ N. lat., 124°15.30′ W. long.;

(201) 40°02.00′ N. lat., 124°12.97′ W. long.;

(202) 40°02.60′ N. lat., 124°10.61′ W. long.;

(203) 40°03.63′ N. lat., 124°09.12′ W. long.;

(204) 40°02.18′ N. lat., 124°09.07′ W. long.;

(205) 40°01.26′ N. lat., 124°09.86′ W. long.;

(206) 39°58.05′ N. lat., 124°11.87′ W. long.;

(207) 39°56.39′ N. lat., 124°08.70′ W. long.;

(208) 39°54.64′ N. lat., 124°07.31′ W. long.;

(209) 39°53.87′ N. lat., 124°07.95′ W. long.;

(210) 39°52.42′ N. lat., 124°08.18′ W. long.;

(211) 39°42.50′ N. lat., 124°00.60′ W. long.;

(212) 39°34.23′ N. lat., 123°56.82′ W. long.;

(213) 39°33.00′ N. lat., 123°56.44′ W. long.;

(214) 39°30.96′ N. lat., 123°56.00′ W. long.;

(215) 39°32.03′ N. lat., 123°57.44′ W. long.;

(216) 39°31.43′ N. lat., 123°58.16′ W. long.;

(217) 39°05.56′ N. lat., 123°57.24′ W. long.;

(218) 39°01.75′ N. lat., 123°56.83′ W. long.;

(219) 38°59.52′ N. lat., 123°55.95′ W. long.;

(220) 38°58.98′ N. lat., 123°56.57′ W. long.;

(221) 38°57.50′ N. lat., 123°56.57′ W. long.;

(222) 38°53.91′ N. lat., 123°56.00′ W. long.;

(223) 38°42.57′ N. lat., 123°46.60′ W. long.;

(224) 38°28.72′ N. lat., 123°35.61′ W. long.;

(225) 38°28.01′ N. lat., 123°36.47′ W. long.;

(226) 38°20.94′ N. lat., 123°31.26′ W. long.;

(227) 38°15.94′ N. lat., 123°25.33′ W. long.;

(228) 38°10.95′ N. lat., 123°23.19′ W. long.;

(229) 38°05.52′ N. lat., 123°22.90′ W. long.;

(230) 38°08.46′ N. lat., 123°26.23′ W. long.;

(231) 38°06.95′ N. lat., 123°28.03′ W. long.;

(232) 38°06.34′ N. lat., 123°29.80′ W. long.;

(233) 38°04.57′ N. lat., 123°31.24′ W. long.;

(234) 38°02.33′ N. lat., 123°31.02′ W. long.;

(235) 38°00.00′ N. lat., 123°28.23′ W. long.;

(236) 37°58.10′ N. lat., 123°26.69′ W. long.;

(237) 37°55.46′ N. lat., 123°27.05′ W. long.;

(238) 37°51.51′ N. lat., 123°24.86′ W. long.;

(239) 37°45.01′ N. lat., 123°12.09′ W. long.;

(240) 37°35.67′ N. lat., 123°01.56′ W. long.;

(241) 37°26.62′ N. lat., 122°56.21′ W. long.;

(242) 37°14.41′ N. lat., 122°49.07′ W. long.;

(243) 37°11.00′ N. lat., 122°45.87′ W. long.;

(244) 37°07.00′ N. lat., 122°41.97′ W. long.;

(245) 37°03.19′ N. lat., 122°38.31′ W. long.;

(246) 37°00.99′ N. lat., 122°35.51′ W. long.;

(247) 36°58.23′ N. lat., 122°27.36′ W. long.;

(248) 37°00.54′ N. lat., 122°24.74′ W. long.;

(249) 36°57.81′ N. lat., 122°24.65′ W. long.;

(250) 36°58.54′ N. lat., 122°21.67′ W. long.;

(251) 36°56.52′ N. lat., 122°21.70′ W. long.;

(252) 36°55.37′ N. lat., 122°18.45′ W. long.;

(253) 36°52.16′ N. lat., 122°12.17′ W. long.;

(244) 36°51.53′ N. lat., 122°10.67′ W. long.;

(255) 36°48.05′ N. lat., 122°07.59′ W. long.;

(256) 36°47.35′ N. lat., 122°03.27′ W. long.;

(257) 36°50.71′ N. lat., 121°58.17′ W. long.;

(258) 36°48.89′ N. lat., 121°58.90′ W. long.;

(259) 36°47.70′ N. lat., 121°58.76′ W. long.;

(260) 36°48.37′ N. lat., 121°51.15′ W. long.;

(261) 36°45.74′ N. lat., 121°54.18′ W. long.;

(262) 36°45.50′ N. lat., 121°57.73′ W. long.;

(263) 36°44.02′ N. lat., 121°58.55′ W. long.;

(264) 36°38.84′ N. lat., 122°01.32′ W. long.;

(265) 36°35.63′ N. lat., 122°00.98′ W. long.;

(266) 36°32.47′ N. lat., 121°59.17′ W. long.;

(267) 36°32.52′ N. lat., 121°57.62′ W. long.;

(268) 36°30.16′ N. lat., 122°00.55′ W. long.;

(269) 36°24.56′ N. lat., 121°59.19′ W. long.;

(270) 36°22.19′ N. lat., 122°00.30′ W. long.;

(271) 36°20.62′ N. lat., 122°02.93′ W. long.;

(272) 36°18.89′ N. lat., 122°05.18′ W. long.;

(273) 36°14.45′ N. lat., 121°59.44′ W. long.;

(274) 36°13.73′ N. lat., 121°57.38′ W. long.;

(275) 36°14.41′ N. lat., 121°55.45′ W. long.;

(276) 36°10.25′ N. lat., 121°43.08′ W. long.;

(277) 36°07.67′ N. lat., 121°40.92′ W. long.;

(278) 36°02.51′ N. lat., 121°36.76′ W. long.;

(279) 36°00.00′ N. lat., 121°35.15′ W. long.;

(280) 35°57.84′ N. lat., 121°33.10′ W. long.;

(281) 35°45.57′ N. lat., 121°27.26′ W. long.;

(282) 35°39.02′ N. lat., 121°22.86′ W. long.;

(283) 35°25.92′ N. lat., 121°05.52′ W. long.;

(284) 35°16.26′ N. lat., 121°01.50′ W. long.;

(285) 35°07.60′ N. lat., 120°56.49′ W. long.;

(286) 34°57.77′ N. lat., 120°53.87′ W. long.;

(287) 34°42.30′ N. lat., 120°53.42′ W. long.;

(288) 34°37.69′ N. lat., 120°50.04′ W. long.;

(289) 34°30.13′ N. lat., 120°44.45′ W. long.;

(290) 34°27.00′ N. lat., 120°39.24′ W. long.;

(291) 34°24.71′ N. lat., 120°35.37′ W. long.;

(292) 34°21.63′ N. lat., 120°24.86′ W. long.;

(293) 34°24.39′ N. lat., 120°16.65′ W. long.;

(294) 34°22.48′ N. lat., 119°56.42′ W. long.;

(295) 34°18.54′ N. lat., 119°46.26′ W. long.;

(296) 34°16.37′ N. lat., 119°45.12′ W. long.;

(297) 34°15.91′ N. lat., 119°47.29′ W. long.;

(298) 34°13.80′ N. lat., 119°45.40′ W. long.;

(299) 34°11.69′ N. lat., 119°41.80′ W. long.;

(300) 34°09.98′ N. lat., 119°31.87′ W. long.;

(301) 34°08.12′ N. lat., 119°27.71′ W. long.;

(302) 34°06.35′ N. lat., 119°32.65′ W. long.;

(303) 34°06.80′ N. lat., 119°40.08′ W. long.;

(304) 34°07.48′ N. lat., 119°47.54′ W. long.;

(305) 34°08.21′ N. lat., 119°54.90′ W. long.;

(306) 34°06.85′ N. lat., 120°05.60′ W. long.;

(307) 34°06.99′ N. lat., 120°10.37′ W. long.;

(308) 34°08.53′ N. lat., 120°17.89′ W. long.;

(309) 34°10.00′ N. lat., 120°23.05′ W. long.;

(310) 34°12.53′ N. lat., 120°29.82′ W. long.;

(311) 34°09.02′ N. lat., 120°37.47′ W. long.;

(312) 34°01.01′ N. lat., 120°31.17′ W. long.;

(313) 33°58.07′ N. lat., 120°28.33′ W. long.;

(314) 33°53.37′ N. lat., 120°14.43′ W. long.;

(315) 33°50.53′ N. lat., 120°07.20′ W. long.;

(316) 33°45.88′ N. lat., 120°04.26′ W. long.;

(317) 33°38.19′ N. lat., 119°57.85′ W. long.;

(318) 33°38.19′ N. lat., 119°50.42′ W. long.;

(319) 33°42.36′ N. lat., 119°49.60′ W. long.;

(320) 33°53.95′ N. lat., 119°53.81′ W. long.;

(321) 33°55.85′ N. lat., 119°43.34′ W. long.;

(322) 33°58.48′ N. lat., 119°27.90′ W. long.;

(323) 34°00.34′ N. lat., 119°19.22′ W. long.;

(324) 34°04.48′ N. lat., 119°15.32′ W. long.;

(325) 34°02.80′ N. lat., 119°12.95′ W. long.;

(326) 34°02.39′ N. lat., 119°07.17′ W. long.;

(327) 34°03.75′ N. lat., 119°04.72′ W. long.;

(328) 34°01.82′ N. lat., 119°03.24′ W. long.;

(329) 33°59.33′ N. lat., 119°03.49′ W. long.;

(330) 33°59.01′ N. lat., 118°59.56′ W. long.;

(331) 33°59.51′ N. lat., 118°57.25′ W. long.;

(332) 33°58.83′ N. lat., 118°52.50′ W. long.;

(333) 33°58.55′ N. lat., 118°41.86′ W. long.;

(334) 33°55.10′ N. lat., 118°34.25′ W. long.;

(335) 33°54.30′ N. lat., 118°38.71′ W. long.;

(336) 33°50.88′ N. lat., 118°37.02′ W. long.;

(337) 33°39.78′ N. lat., 118°18.40′ W. long.;

(338) 33°35.50′ N. lat., 118°16.85′ W. long.;

(339) 33°32.46′ N. lat., 118°10.90′ W. long.;

(340) 33°34.11′ N. lat., 117°54.07′ W. long.;

(341) 33°31.61′ N. lat., 117°49.30′ W. long.;

(342) 33°16.36′ N. lat., 117°35.48′ W. long.;

(343) 33°06.81′ N. lat., 117°22.93′ W. long.;

(344) 32°59.28′ N. lat., 117°19.69′ W. long.;

(345) 32°55.37′ N. lat., 117°19.55′ W. long.;

(346) 32°53.35′ N. lat., 117°17.05′ W. long.;

(347) 32°53.36′ N. lat., 117°19.12′ W. long.;

(348) 32°46.42′ N. lat., 117°23.45′ W. long.;

(349) 32°42.71′ N. lat., 117°21.45′ W. long.; and

(350) 32°34.54′ N. lat., 117°23.04′ W. long.

(e) The 125 fm (229 m) depth contour around San Clemente Island off the state of California is defined by straight lines connecting all of the following points in the order stated:

(1) 33°04.73′ N. lat., 118°37.99′ W. long.;

(2) 33°02.67′ N. lat., 118°34.07′ W. long.;

(3) 32°55.97′ N. lat., 118°28.95′ W. long.;

(4) 32°49.79′ N. lat., 118°20.89′ W. long.;

(5) 32°48.02′ N. lat., 118°19.49′ W. long.;

(6) 32°47.37′ N. lat., 118°21.72′ W. long.;

(7) 32°43.58′ N. lat., 118°24.54′ W. long.;

(8) 32°49.74′ N. lat., 118°32.11′ W. long.;

(9) 32°53.36′ N. lat., 118°33.44′ W. long.;

(10) 32°55.03′ N. lat., 118°34.64′ W. long.;

(11) 32°54.89′ N. lat., 118°35.37′ W. long.;

(12) 33°00.20′ N. lat., 118°38.72′ W. long.;

(13) 33°03.15′ N. lat., 118°39.80′ W. long.; and

(14) 33°04.73′ N. lat., 118°37.99′ W. long.

(f) The 125 fm (229 m) depth contour around Santa Catalina Island off the state of California is defined by straight lines connecting all of the following points in the order stated:

(1) 33°28.42′ N. lat., 118°39.85′ W. long.;

(2) 33°29.99′ N. lat., 118°36.14′ W. long.;

(3) 33°29.47′ N. lat., 118°33.66′ W. long.;

(4) 33°29.31′ N. lat., 118°30.53′ W. long.;

(5) 33°27.24′ N. lat., 118°27.71′ W. long.;

(6) 33°25.77′ N. lat., 118°22.57′ W. long.;

(7) 33°23.76′ N. lat., 118°19.27′ W. long.;

(8) 33°17.61′ N. lat., 118°13.61′ W. long.;

(9) 33°16.16′ N. lat., 118°13.98′ W. long.;

(10) 33°15.86′ N. lat., 118°15.27′ W. long.;

(11) 33°18.11′ N. lat., 118°27.96′ W. long.;

(12) 33°19.83′ N. lat., 118°32.16′ W. long.;

(13) 33°20.81′ N. lat., 118°32.94′ W. long.;

(14) 33°21.99′ N. lat., 118°32.04′ W. long.;

(15) 33°23.09′ N. lat., 118°30.37′ W. long.;

(16) 33°24.78′ N. lat., 118°32.46′ W. long.;

(17) 33°25.43′ N. lat., 118°34.93′ W. long.; and

(18) 33°28.42′ N. lat., 118°39.85′ W. long.

(g) The 125 fm (229 m) depth contour around Lasuen Knoll off the state of California is defined by straight lines connecting all of the following points in the order stated:

(1) 33°24.57′ N. lat., 118°00.15′ W. long.;

(2) 33°23.42′ N. lat., 117°59.43′ W. long.;

(3) 33°23.69′ N. lat., 117°58.72′ W. long.;

(4) 33°24.72′ N. lat., 117°59.51′ W. long.; and

(5) 33°24.57′ N. lat., 118°00.15′ W. long.

(h) The 150 fm (274 m) depth contour used between the U.S. border with Canada and the U.S. border with Mexico is defined by straight lines connecting all of the following points in the order stated:

(1) 48°14.96′ N. lat., 125°41.24′ W. long.;

(2) 48°12.89′ N. lat., 125°37.83′ W. long.;

(3) 48°11.49′ N. lat., 125°39.27′ W. long.;

(4) 48°08.72′ N. lat., 125°41.84′ W. long.;

(5) 48°07.00′ N. lat., 125°45.00′ W. long.;

(6) 48°06.13′ N. lat., 125°41.57′ W. long.;

(7) 48°05.00′ N. lat., 125°39.00′ W. long.;

(8) 48°04.15′ N. lat., 125°36.71′ W. long.;

(9) 48°03.00′ N. lat., 125°36.00′ W. long.;

(10) 48°01.65′ N. lat., 125°36.96′ W. long.;

(11) 48°01.00′ N. lat., 125°38.50′ W. long.;

(12) 47°57.50′ N. lat., 125°36.50′ W. long.;

(13) 47°56.53′ N. lat., 125°30.33′ W. long.;

(14) 47°57.28′ N. lat., 125°27.89′ W. long.;

(15) 47°59.00′ N. lat., 125°25.50′ W. long.;

(16) 48°01.77′ N. lat., 125°24.05′ W. long.;

(17) 48°02.13′ N. lat., 125°22.80′ W. long.;

(18) 48°03.00′ N. lat., 125°22.50′ W. long.;

(19) 48°03.46′ N. lat., 125°22.10′ W. long.;

(20) 48°04.29′ N. lat., 125°20.37′ W. long.;

(21) 48°02.00′ N. lat., 125°18.50′ W. long.;

(22) 48°00.01′ N. lat., 125°19.90′ W. long.;

(23) 47°58.75′ N. lat., 125°17.54′ W. long.;

(24) 47°53.50′ N. lat., 125°13.50′ W. long.;

(25) 47°48.88′ N. lat., 125°05.91′ W. long.;

(26) 47°48.50′ N. lat., 125°05.00′ W. long.;

(27) 47°45.98′ N. lat., 125°04.26′ W. long.;

(28) 47°45.00′ N. lat., 125°05.50′ W. long.;

(29) 47°42.11′ N. lat., 125°04.74′ W. long.;

(30) 47°39.00′ N. lat., 125°06.00′ W. long.;

(31) 47°35.53′ N. lat., 125°04.55′ W. long.;

(32) 47°30.90′ N. lat., 124°57.31′ W. long.;

(33) 47°29.54′ N. lat., 124°56.50′ W. long.;

(34) 47°29.50′ N. lat., 124°54.50′ W. long.;

(35) 47°28.57′ N. lat., 124°51.50′ W. long.;

(36) 47°25.00′ N. lat., 124°48.00′ W. long.;

(37) 47°23.95′ N. lat., 124°47.24′ W. long.;

(38) 47°23.00′ N. lat., 124°47.00′ W. long.;

(39) 47°21.00′ N. lat., 124°46.50′ W. long.;

(40) 47°18.20′ N. lat., 124°45.84′ W. long.;

(41) 47°18.50′ N. lat., 124°49.00′ W. long.;

(42) 47°19.17′ N. lat., 124°50.86′ W. long.;

(43) 47°18.07′ N. lat., 124°53.29′ W. long.;

(44) 47°17.78′ N. lat., 124°51.39′ W. long.;

(45) 47°16.81′ N. lat., 124°50.85′ W. long.;

(46) 47°15.96′ N. lat., 124°53.15′ W. long.;

(47) 47°14.31′ N. lat., 124°52.62′ W. long.;

(48) 47°11.87′ N. lat., 124°56.90′ W. long.;

(49) 47°12.39′ N. lat., 124°58.09′ W. long.;

(50) 47°09.50′ N. lat., 124°57.50′ W. long.;

(51) 47°09.00′ N. lat., 124°59.00′ W. long.;

(52) 47°06.06′ N. lat., 124°58.80′ W. long.;

(53) 47°03.62′ N. lat., 124°55.96′ W. long.;

(54) 47°02.89′ N. lat., 124°56.89′ W. long.;

(55) 47°01.04′ N. lat., 124°59.54′ W. long.;

(56) 46°58.47′ N. lat., 124°59.08′ W. long.;

(57) 46°58.29′ N. lat., 125°00.28′ W. long.;

(58) 46°56.30′ N. lat., 125°00.75′ W. long.;

(59) 46°57.09′ N. lat., 124°58.86′ W. long.;

(60) 46°55.95′ N. lat., 124°54.88′ W. long.;

(61) 46°54.79′ N. lat., 124°54.14′ W. long.;

(62) 46°58.00′ N. lat., 124°50.00′ W. long.;

(63) 46°54.50′ N. lat., 124°49.00′ W. long.;

(64) 46°54.53′ N. lat., 124°52.94′ W. long.;

(65) 46°49.52′ N. lat., 124°53.41′ W. long.;

(66) 46°42.24′ N. lat., 124°47.86′ W. long.;

(67) 46°39.50′ N. lat., 124°42.50′ W. long.;

(68) 46°37.50′ N. lat., 124°41.00′ W. long.;

(69) 46°36.50′ N. lat., 124°38.00′ W. long.;

(70) 46°33.85′ N. lat., 124°36.99′ W. long.;

(71) 46°33.50′ N. lat., 124°29.50′ W. long.;

(72) 46°32.00′ N. lat., 124°31.00′ W. long.;

(73) 46°30.53′ N. lat., 124°30.55′ W. long.;

(74) 46°25.50′ N. lat., 124°33.00′ W. long.;

(75) 46°23.00′ N. lat., 124°35.00′ W. long.;

(76) 46°21.05′ N. lat., 124°37.00′ W. long.;

(77) 46°20.64′ N. lat., 124°36.21′ W. long.;

(78) 46°20.36′ N. lat., 124°37.85′ W. long.;

(79) 46°19.48′ N. lat., 124°38.35′ W. long.;

(80) 46°18.09′ N. lat., 124°38.30′ W. long.;

(81) 46°16.15′ N. lat., 124°25.20′ W. long.;

(82) 46°16.00′ N. lat., 124°23.00′ W. long.;

(83) 46°14.87′ N. lat., 124°26.15′ W. long.;

(84) 46°13.38′ N. lat., 124°31.36′ W. long.;

(85) 46°12.09′ N. lat., 124°38.39′ W. long.;

(86) 46°09.46′ N. lat., 124°40.64′ W. long.;

(87) 46°07.30′ N. lat., 124°40.68′ W. long.;

(88) 46°02.76′ N. lat., 124°44.01′ W. long.;

(89) 46°01.22′ N. lat., 124°43.47′ W. long.;

(90) 45°51.82′ N. lat., 124°42.89′ W. long.;

(91) 45°46.00′ N. lat., 124°40.88′ W. long.;

(92) 45°45.95′ N. lat., 124°40.72′ W. long.;

(93) 45°44.11′ N. lat., 124°43.09′ W. long.;

(94) 45°34.50′ N. lat., 124°30.27′ W. long.;

(95) 45°21.10′ N. lat., 124°23.11′ W. long.;

(96) 45°20.25′ N. lat., 124°22.92′ W. long.;

(97) 45°09.69′ N. lat., 124°20.45′ W. long.;

(98) 45°03.83′ N. lat., 124°23.30′ W. long.;

(99) 44°56.25′ N. lat., 124°27.03′ W. long.;

(100) 44°44.47′ N. lat., 124°37.85′ W. long.;

(101) 44°31.81′ N. lat., 124°39.60′ W. long.;

(102) 44°31.48′ N. lat., 124°43.30′ W. long.;

(103) 44°12.04′ N. lat., 124°58.16′ W. long.;

(104) 44°08.30′ N. lat., 124°57.84′ W. long.;

(105) 44°07.38′ N. lat., 124°57.87′ W. long.;

(106) 43°57.06′ N. lat., 124°57.20′ W. long.;

(107) 43°52.52′ N. lat., 124°49.00′ W. long.;

(108) 43°51.55′ N. lat., 124°37.49′ W. long.;

(109) 43°47.83′ N. lat., 124°36.43′ W. long.;

(110) 43°31.79′ N. lat., 124°36.80′ W. long.;

(111) 43°29.34′ N. lat., 124°36.77′ W. long.;

(112) 43°26.46′ N. lat., 124°40.02′ W. long.;

(113) 43°20.83′ N. lat., 124°42.39′ W. long.;

(114) 43°16.15′ N. lat., 124°44.37′ W. long.;

(115) 43°09.33′ N. lat., 124°45.35′ W. long.;

(116) 43°08.85′ N. lat., 124°48.92′ W. long.;

(117) 43°03.23′ N. lat., 124°52.41′ W. long.;

(118) 43°00.25′ N. lat., 124°51.93′ W. long.;

(119) 42°56.62′ N. lat., 124°53.93′ W. long.;

(120) 42°54.84′ N. lat., 124°54.01′ W. long.;

(121) 42°52.31′ N. lat., 124°50.76′ W. long.;

(122) 42°50.00′ N. lat., 124°48.97′ W. long.;

(123) 42°47.78′ N. lat., 124°47.27′ W. long.;

(124) 42°46.32′ N. lat., 124°43.59′ W. long.;

(125) 42°41.63′ N. lat., 124°44.07′ W. long.;

(126) 42°40.50′ N. lat., 124°43.52′ W. long.;

(127) 42°38.83′ N. lat., 124°42.77′ W. long.;

(128) 42°35.37′ N. lat., 124°43.22′ W. long.;

(129) 42°32.78′ N. lat., 124°44.68′ W. long.;

(130) 42°32.19′ N. lat., 124°42.40′ W. long.;

(131) 42°30.28′ N. lat., 124°44.30′ W. long.;

(132) 42°28.16′ N. lat., 124°48.38′ W. long.;

(133) 42°18.34′ N. lat., 124°38.77′ W. long.;

(134) 42°13.67′ N. lat., 124°36.80′ W. long.;

(135) 42°13.65′ N. lat., 124°36.82′ W. long.;

(136) 42°00.00′ N. lat., 124°35.99′ W. long.;

(137) 41°47.80′ N. lat., 124°29.41′ W. long.;

(138) 41°23.51′ N. lat., 124°29.50′ W. long.;

(139) 41°13.29′ N. lat., 124°23.31′ W. long.;

(140) 41°06.23′ N. lat., 124°22.62′ W. long.;

(141) 40°55.60′ N. lat., 124°26.04′ W. long.;

(142) 40°49.62′ N. lat., 124°26.57′ W. long.;

(143) 40°45.72′ N. lat., 124°30.00′ W. long.;

(144) 40°40.56′ N. lat., 124°32.11′ W. long.;

(145) 40°37.33′ N. lat., 124°29.27′ W. long.;

(146) 40°35.60′ N. lat., 124°30.49′ W. long.;

(147) 40°37.38′ N. lat., 124°37.14′ W. long.;

(148) 40°36.03′ N. lat., 124°39.97′ W. long.;

(149) 40°30.00′ N. lat., 124°38.50′ W. long.;

(150) 40°29.76′ N. lat., 124°38.13′ W. long.;

(151) 40°28.22′ N. lat., 124°37.23′ W. long.;

(152) 40°24.86′ N. lat., 124°35.71′ W. long.;

(153) 40°23.01′ N. lat., 124°31.94′ W. long.;

(154) 40°23.39′ N. lat., 124°28.64′ W. long.;

(155) 40°22.29′ N. lat., 124°25.25′ W. long.;

(156) 40°21.90′ N. lat., 124°25.18′ W. long.;

(157) 40°22.02′ N. lat., 124°28.00′ W. long.;

(158) 40°21.34′ N. lat., 124°29.53′ W. long.;

(159) 40°19.74′ N. lat., 124°28.95′ W. long.;

(160) 40°18.13′ N. lat., 124°27.08′ W. long.;

(161) 40°17.45′ N. lat., 124°25.53′ W. long.;

(162) 40°17.97′ N. lat., 124°24.12′ W. long.;

(163) 40°15.96′ N. lat., 124°26.05′ W. long.;

(164) 40°17.00′ N. lat., 124°35.01′ W. long.;

(165) 40°15.97′ N. lat., 124°35.90′ W. long.;

(166) 40°10.00′ N. lat., 124°22.96′ W. long.;

(167) 40°07.00′ N. lat., 124°19.00′ W. long.;

(168) 40°08.10′ N. lat., 124°16.70′ W. long.;

(169) 40°05.90′ N. lat., 124°17.77′ W. long.;

(170) 40°02.99′ N. lat., 124°15.55′ W. long.;

(171) 40°02.00′ N. lat., 124°12.97′ W. long.;

(172) 40°02.60′ N. lat., 124°10.61′ W. long.;

(173) 40°03.63′ N. lat., 124°09.12′ W. long.;

(174) 40°02.18′ N. lat., 124°09.07′ W. long.;

(175) 39°58.25′ N. lat., 124°12.56′ W. long.;

(176) 39°57.03′ N. lat., 124°11.34′ W. long.;

(177) 39°56.30′ N. lat., 124°08.96′ W. long.;

(178) 39°54.82′ N. lat., 124°07.66′ W. long.;

(179) 39°52.57′ N. lat., 124°08.55′ W. long.;

(180) 39°45.34′ N. lat., 124°03.30′ W. long.;

(181) 39°34.75′ N. lat., 123°58.50′ W. long.;

(182) 39°34.22′ N. lat., 123°56.82′ W. long.;

(183) 39°32.98′ N. lat., 123°56.43′ W. long.;

(184) 39°31.47′ N. lat., 123°58.73′ W. long.;

(185) 39°05.68′ N. lat., 123°57.81′ W. long.;

(186) 39°00.24′ N. lat., 123°56.74′ W. long.;

(187) 38°57.50′ N. lat., 123°56.74′ W. long.;

(188) 38°54.31′ N. lat., 123°56.73′ W. long.;

(189) 38°41.42′ N. lat., 123°46.75′ W. long.;

(190) 38°39.61′ N. lat., 123°46.48′ W. long.;

(191) 38°37.52′ N. lat., 123°43.78′ W. long.;

(192) 38°35.25′ N. lat., 123°42.00′ W. long.;

(193) 38°28.79′ N. lat., 123°37.07′ W. long.;

(194) 38°19.88′ N. lat., 123°32.54′ W. long.;

(195) 38°14.43′ N. lat., 123°25.56′ W. long.;

(196) 38°08.75′ N. lat., 123°24.48′ W. long.;

(197) 38°10.10′ N. lat., 123°27.20′ W. long.;

(198) 38°07.16′ N. lat., 123°28.18′ W. long.;

(199) 38°06.42′ N. lat., 123°30.18′ W. long.;

(200) 38°04.28′ N. lat., 123°31.70′ W. long.;

(201) 38°01.88′ N. lat., 123°30.98′ W. long.;

(202) 38°00.75′ N. lat., 123°29.72′ W. long.;

(203) 38°00.00′ N. lat., 123°28.60′ W. long.;

(204) 37°58.23′ N. lat., 123°26.90′ W. long.;

(205) 37°55.32′ N. lat., 123°27.19′ W. long.;

(206) 37°51.47′ N. lat., 123°24.92′ W. long.;

(207) 37°44.47′ N. lat., 123°11.57′ W. long.;

(208) 37°35.67′ N. lat., 123°01.76′ W. long.;

(209) 37°15.16′ N. lat., 122°51.64′ W. long.;

(210) 37°11.00′ N. lat., 122°47.20′ W. long.;

(211) 37°07.00′ N. lat., 122°42.90′ W. long.;

(212) 37°01.68′ N. lat., 122°37.28′ W. long.;

(213) 36°59.70′ N. lat., 122°33.71′ W. long.;

(214) 36°58.00′ N. lat., 122°27.80′ W. long.;

(215) 37°00.25′ N. lat., 122°24.85′ W. long.;

(216) 36°57.50′ N. lat., 122°24.98′ W. long.;

(217) 36°58.38′ N. lat., 122°21.85′ W. long.;

(218) 36°55.85′ N. lat., 122°21.95′ W. long.;

(219) 36°52.02′ N. lat., 122°12.10′ W. long.;

(220) 36°47.63′ N. lat., 122°07.37′ W. long.;

(221) 36°47.26′ N. lat., 122°03.22′ W. long.;

(222) 36°50.34′ N. lat., 121°58.40′ W. long.;

(223) 36°48.83′ N. lat., 121°59.14′ W. long.;

(224) 36°44.81′ N. lat., 121°58.28′ W. long.;

(225) 36°39.00′ N. lat., 122°01.71′ W. long.;

(226) 36°29.60′ N. lat., 122°00.49′ W. long.;

(227) 36°23.43′ N. lat., 121°59.76′ W. long.;

(228) 36°18.90′ N. lat., 122°05.32′ W. long.;

(229) 36°15.38′ N. lat., 122°01.40′ W. long.;

(230) 36°13.79′ N. lat., 121°58.12′ W. long.;

(231) 36°10.12′ N. lat., 121°43.33′ W. long.;

(232) 36°02.57′ N. lat., 121°37.02′ W. long.;

(233) 36°00.00′ N. lat., 121°35.15′ W. long.;

(234) 35°57.74′ N. lat., 121°33.45′ W. long.;

(235) 35°51.32′ N. lat., 121°30.08′ W. long.;

(236) 35°45.84′ N. lat., 121°28.84′ W. long.;

(237) 35°38.94′ N. lat., 121°23.16′ W. long.;

(238) 35°26.00′ N. lat., 121°08.00′ W. long.;

(239) 35°07.42′ N. lat., 120°57.08′ W. long.;

(240) 34°42.76′ N. lat., 120°55.09′ W. long.;

(241) 34°37.75′ N. lat., 120°51.96′ W. long.;

(242) 34°29.29′ N. lat., 120°44.19′ W. long.;

(243) 34°27.00′ N. lat., 120°40.42′ W. long.;

(244) 34°21.89′ N. lat., 120°31.36′ W. long.;

(245) 34°20.79′ N. lat., 120°21.58′ W. long.;

(246) 34°23.97′ N. lat., 120°15.25′ W. long.;

(247) 34°22.11′ N. lat., 119°56.63′ W. long.;

(248) 34°19.00′ N. lat., 119°48.00′ W. long.;

(249) 34°15.00′ N. lat., 119°48.00′ W. long.;

(250) 34°08.00′ N. lat., 119°37.00′ W. long.;

(251) 34°08.39′ N. lat., 119°54.78′ W. long.;

(252) 34°07.10′ N. lat., 120°10.37′ W. long.;

(253) 34°10.08′ N. lat., 120°22.98′ W. long.;

(254) 34°13.16′ N. lat., 120°29.40′ W. long.;

(255) 34°09.41′ N. lat., 120°37.75′ W. long.;

(256) 34°03.15′ N. lat., 120°34.71′ W. long.;

(257) 33°57.09′ N. lat., 120°27.76′ W. long.;

(258) 33°51.00′ N. lat., 120°09.00′ W. long.;

(259) 33°38.16′ N. lat., 119°59.23′ W. long.;

(260) 33°37.04′ N. lat., 119°50.17′ W. long.;

(261) 33°42.28′ N. lat., 119°48.85′ W. long.;

(262) 33°53.96′ N. lat., 119°53.77′ W. long.;

(263) 33°59.94′ N. lat., 119°19.57′ W. long.;

(264) 34°03.12′ N. lat., 119°15.51′ W. long.;

(265) 34°01.97′ N. lat., 119°07.28′ W. long.;

(266) 34°03.60′ N. lat., 119°04.71′ W. long.;

(267) 33°59.30′ N. lat., 119°03.73′ W. long.;

(268) 33°58.87′ N. lat., 118°59.37′ W. long.;

(269) 33°58.08′ N. lat., 118°41.14′ W. long.;

(270) 33°50.93′ N. lat., 118°37.65′ W. long.;

(271) 33°39.54′ N. lat., 118°18.70′ W. long.;

(272) 33°35.42′ N. lat., 118°17.14′ W. long.;

(273) 33°32.15′ N. lat., 118°10.84′ W. long.;

(274) 33°33.71′ N. lat., 117°53.72′ W. long.;

(275) 33°31.17′ N. lat., 117°49.11′ W. long.;

(276) 33°16.53′ N. lat., 117°36.13′ W. long.;

(277) 33°06.77′ N. lat., 117°22.92′ W. long.;

(278) 32°58.94′ N. lat., 117°20.05′ W. long.;

(279) 32°55.83′ N. lat., 117°20.15′ W. long.;

(280) 32°46.29′ N. lat., 117°23.89′ W. long.;

(281) 32°42.00′ N. lat., 117°22.16′ W. long.;

(282) 32°39.47′ N. lat., 117°27.78′ W. long.; and

(283) 32°34.83′ N. lat., 117°24.69′ W. long.

(i) The 150 fm (274 m) depth contour used around San Clemente Island off the state of California is defined by straight lines connecting all of the following points in the order stated:

(1) 32°47.95′ N. lat., 118°19.31′ W. long.;

(2) 32°49.79′ N. lat., 118°20.82′ W. long.;

(3) 32°55.99′ N. lat., 118°28.80′ W. long.;

(4) 33°03.00′ N. lat., 118°34.00′ W. long.;

(5) 33°05.00′ N. lat., 118°38.00′ W. long.;

(6) 33°03.21′ N. lat., 118°39.85′ W. long.;

(7) 33°01.93′ N. lat., 118°39.85′ W. long.;

(8) 32°54.69′ N. lat., 118°35.45′ W. long.;

(9) 32°53.28′ N. lat., 118°33.58′ W. long.;

(10) 32°48.26′ N. lat., 118°31.62′ W. long.;

(11) 32°43.03′ N. lat., 118°24.21′ W. long.;

(12) 32°47.15′ N. lat., 118°21.53′ W. long.; and

(13) 32°47.95′ N. lat., 118°19.31′ W. long.

(j) The 150 fm (274 m) depth contour used around Santa Catalina Island off the state of California is defined by straight lines connecting all of the following points in the order stated:

(1) 33°17.24′ N. lat., 118°12.94′ W. long.;

(2) 33°23.60′ N. lat., 118°18.79′ W. long.;

(3) 33°26.00′ N. lat., 118°22.00′ W. long.;

(4) 33°27.57′ N. lat., 118°27.69′ W. long.;

(5) 33°29.78′ N. lat., 118°31.01′ W. long.;

(6) 33°30.46′ N. lat., 118°36.52′ W. long.;

(7) 33°28.65′ N. lat., 118°41.07′ W. long.;

(8) 33°23.23′ N. lat., 118°30.69′ W. long.;

(9) 33°20.97′ N. lat., 118°33.29′ W. long.;

(10) 33°19.81′ N. lat., 118°32.24′ W. long.;

(11) 33°18.00′ N. lat., 118°28.00′ W. long.;

(12) 33°15.62′ N. lat., 118°14.74′ W. long.;

(13) 33°16.00′ N. lat., 118°13.00′ W. long.; and

(14) 33°17.24′ N. lat., 118°12.94′ W. long.

(k) The 150 fm (274 m) depth contour used around Lasuen Knoll off the state of California is defined by straight lines connecting all of the following points in the order stated:

(1) 33°24.99′ N. lat., 117°59.32′ W. long.;

(2) 33°23.66′ N. lat., 117°58.28′ W. long.;

(3) 33°23.21′ N. lat., 117°59.55′ W. long.;

(4) 33°24.74′ N. lat., 118°00.61′ W. long.; and

(5) 33°24.99′ N. lat., 117°59.32′ W. long.

23. Section 660.394 is added to read as follows:

§ 660.394 Latitude/longitude coordinates defining the 180 fm (329 m) through 250 fm (457 m) depth contours.

Boundaries for RCAs are defined by straight lines connecting a series of latitude/longitude coordinates. This section provides coordinates for the 180 fm (329 m) through 250 fm (457 m) depth contours.

(a) The 180 fm (329 m) depth contour used between the U.S. border with Canada and the U.S. border with Mexico is defined by straight lines connecting all of the following points in the order stated:

(1) 48°14.82′ N. lat., 125°41.61′ W. long.;

(2) 48°12.86′ N. lat., 125°37.95′ W. long.;

(3) 48°11.28′ N. lat., 125°39.67′ W. long.;

(4) 48°10.13′ N. lat., 125°42.62′ W. long.;

(5) 48°08.86′ N. lat., 125°41.92′ W. long.;

(6) 48°08.15′ N. lat., 125°44.95′ W. long.;

(7) 48°07.18′ N. lat., 125°45.67′ W. long.;

(8) 48°05.79′ N. lat., 125°44.64′ W. long.;

(9) 48°06.04′ N. lat., 125°41.84′ W. long.;

(10) 48°04.26′ N. lat., 125°40.09′ W. long.;

(11) 48°04.18′ N. lat., 125°36.94′ W. long.;

(12) 48°03.02′ N. lat., 125°36.24′ W. long.;

(13) 48°01.75′ N. lat., 125°37.42′ W. long.;

(14) 48°01.39′ N. lat., 125°39.42′ W. long.;

(15) 47°57.08′ N. lat., 125°36.51′ W. long.;

(16) 47°55.20′ N. lat., 125°36.62′ W. long.;

(17) 47°54.33′ N. lat., 125°34.98′ W. long.;

(18) 47°54.73′ N. lat., 125°31.95′ W. long.;

(19) 47°56.39′ N. lat., 125°30.22′ W. long.;

(20) 47°55.86′ N. lat., 125°28.54′ W. long.;

(21) 47°58.07′ N. lat., 125°25.72′ W. long.;

(22) 48°00.81′ N. lat., 125°24.39′ W. long.;

(23) 48°01.81′ N. lat., 125°23.76′ W. long.;

(24) 48°02.16′ N. lat., 125°22.71′ W. long.;

(25) 48°03.46′ N. lat., 125°22.01′ W. long.;

(26) 48°04.21′ N. lat., 125°20.40′ W. long.;

(27) 48°03.15′ N. lat., 125°19.50′ W. long.;

(28) 48°01.92′ N. lat., 125°18.69′ W. long.;

(29) 48°00.85′ N. lat., 125°20.02′ W. long.;

(30) 48°00.12′ N. lat., 125°20.04′ W. long.;

(31) 47°58.18′ N. lat., 125°18.78′ W. long.;

(32) 47°58.24′ N. lat., 125°17.26′ W. long.;

(33) 47°52.47′ N. lat., 125°15.30′ W. long.;

(34) 47°52.13′ N. lat., 125°12.95′ W. long.;

(35) 47°50.60′ N. lat., 125°10.65′ W. long.;

(36) 47°49.39′ N. lat., 125°10.59′ W. long.;

(37) 47°48.74′ N. lat., 125°06.07′ W. long.;

(38) 47°47.03′ N. lat., 125°06.95′ W. long.;

(39) 47°47.46′ N. lat., 125°05.20′ W. long.;

(40) 47°45.88′ N. lat., 125°04.50′ W. long.;

(41) 47°44.51′ N. lat., 125°06.64′ W. long.;

(42) 47°42.22′ N. lat., 125°04.86′ W. long.;

(43) 47°38.49′ N. lat., 125°06.32′ W. long.;

(44) 47°34.93′ N. lat., 125°04.34′ W. long.;

(45) 47°30.85′ N. lat., 124°57.42′ W. long.;

(46) 47°28.80′ N. lat., 124°56.51′ W. long.;

(47) 47°29.25′ N. lat., 124°53.92′ W. long.;

(48) 47°28.29′ N. lat., 124°51.32′ W. long.;

(49) 47°24.04′ N. lat., 124°47.38′ W. long.;

(50) 47°18.24′ N. lat., 124°45.97′ W. long.;

(51) 47°19.36′ N. lat., 124°50.96′ W. long.;

(52) 47°18.07′ N. lat., 124°53.38′ W. long.;

(53) 47°17.73′ N. lat., 124°52.83′ W. long.;

(54) 47°17.77′ N. lat., 124°51.56′ W. long.;

(55) 47°16.84′ N. lat., 124°50.94′ W. long.;

(56) 47°16.01′ N. lat., 124°53.36′ W. long.;

(57) 47°14.32′ N. lat., 124°52.73′ W. long.;

(58) 47°11.97′ N. lat., 124°56.81′ W. long.;

(59) 47°12.93′ N. lat., 124°58.47′ W. long.;

(60) 47°09.43′ N. lat., 124°57.99′ W. long.;

(61) 47°09.36′ N. lat., 124°59.29′ W. long.;

(62) 47°05.88′ N. lat., 124°59.06′ W. long.;

(63) 47°03.64′ N. lat., 124°56.07′ W. long.;

(64) 47°01.00′ N. lat., 124°59.69′ W. long.;

(65) 46°58.72′ N. lat., 124°59.17′ W. long.;

(66) 46°58.30′ N. lat., 125°00.60′ W. long.;

(67) 46°55.61′ N. lat., 125°01.19′ W. long.;

(68) 46°56.96′ N. lat., 124°58.85′ W. long.;

(69) 46°55.91′ N. lat., 124°54.98′ W. long.;

(70) 46°54.55′ N. lat., 124°54.21′ W. long.;

(71) 46°56.80′ N. lat., 124°50.55′ W. long.;

(72) 46°54.87′ N. lat., 124°49.59′ W. long.;

(73) 46°54.63′ N. lat., 124°53.48′ W. long.;

(74) 46°52.33′ N. lat., 124°54.75′ W. long.;

(75) 46°45.12′ N. lat., 124°51.82′ W. long.;

(76) 46°39.20′ N. lat., 124°47.02′ W. long.;

(77) 46°33.45′ N. lat., 124°36.61′ W. long.;

(78) 46°33.37′ N. lat., 124°30.21′ W. long.;

(79) 46°31.67′ N. lat., 124°31.41′ W. long.;

(80) 46°27.87′ N. lat., 124°32.04′ W. long.;

(81) 46°21.01′ N. lat., 124°37.63′ W. long.;

(82) 46°18.58′ N. lat., 124°38.92′ W. long.;

(83) 46°16.00′ N. lat., 124°23.57′ W. long.;

(84) 46°12.85′ N. lat., 124°35.52′ W. long.;

(85) 46°12.27′ N. lat., 124°38.69′ W. long.;

(86) 46°08.71′ N. lat., 124°41.27′ W. long.;

(87) 46°05.79′ N. lat., 124°42.12′ W. long.;

(88) 46°02.84′ N. lat., 124°48.05′ W. long.;

(89) 46°02.41′ N. lat., 124°48.15′ W. long.;

(90) 45°58.96′ N. lat., 124°43.98′ W. long.;

(91) 45°47.05′ N. lat., 124°43.25′ W. long.;

(92) 45°46.00′ N. lat., 124°43.31′ W. long.;

(93) 45°44.00′ N. lat., 124°45.37′ W. long.;

(94) 45°34.97′ N. lat., 124°31.95′ W. long.;

(95) 45°20.25′ N. lat., 124°25.18′ W. long.;

(96) 45°13.01′ N. lat., 124°21.71′ W. long.;

(97) 45°09.59′ N. lat., 124°22.78′ W. long.;

(98) 45°03.83′ N. lat., 124°26.21′ W. long.;

(99) 45°00.22′ N. lat., 124°28.31′ W. long.;

(100) 44°53.53′ N. lat., 124°32.98′ W. long.;

(101) 44°40.25′ N. lat., 124°46.34′ W. long.;

(102) 44°28.83′ N. lat., 124°47.09′ W. long.;

(103) 44°22.97′ N. lat., 124°49.38′ W. long.;

(104) 44°13.07′ N. lat., 124°58.34′ W. long.;

(105) 44°08.30′ N. lat., 124°58.23′ W. long.;

(106) 43°57.99′ N. lat., 124°57.84′ W. long.;

(107) 43°51.43′ N. lat., 124°52.02′ W. long.;

(108) 43°50.72′ N. lat., 124°39.23′ W. long.;

(109) 43°39.04′ N. lat., 124°37.82′ W. long.;

(110) 43°27.76′ N. lat., 124°39.76′ W. long.;

(111) 43°20.83′ N. lat., 124°42.70′ W. long.;

(112) 43°20.22′ N. lat., 124°42.92′ W. long.;

(113) 43°13.07′ N. lat., 124°46.03′ W. long.;

(114) 43°10.43′ N. lat., 124°50.27′ W. long.;

(115) 43°03.47′ N. lat., 124°52.80′ W. long.;

(116) 42°56.93′ N. lat., 124°53.95′ W. long.;

(117) 42°54.74′ N. lat., 124°54.19′ W. long.;

(118) 42°50.00′ N. lat., 124°52.36′ W. long.;

(119) 42°49.43′ N. lat., 124°52.03′ W. long.;

(120) 42°47.68′ N. lat., 124°47.72′ W. long.;

(121) 42°46.17′ N. lat., 124°44.05′ W. long.;

(122) 42°41.67′ N. lat., 124°44.36′ W. long.;

(123) 42°40.50′ N. lat., 124°43.86′ W. long.;

(124) 42°38.79′ N. lat., 124°42.87′ W. long.;

(125) 42°32.39′ N. lat., 124°45.38′ W. long.;

(126) 42°32.07′ N. lat., 124°43.44′ W. long.;

(127) 42°30.98′ N. lat., 124°43.84′ W. long.;

(128) 42°28.37′ N. lat., 124°48.91′ W. long.;

(129) 42°20.07′ N. lat., 124°41.59′ W. long.;

(130) 42°15.05′ N. lat., 124°38.07′ W. long.;

(131) 42°13.67′ N. lat., 124°37.77′ W. long.;

(132) 42°07.37′ N. lat., 124°37.25′ W. long.;

(133) 42°04.93′ N. lat., 124°36.79′ W. long.;

(134) 42°00.00′ N. lat., 124°36.26′ W. long.;

(135) 41°47.60′ N. lat., 124°29.75′ W. long.;

(136) 41°22.07′ N. lat., 124°29.55′ W. long.;

(137) 41°13.58′ N. lat., 124°24.17′ W. long.;

(138) 41°06.51′ N. lat., 124°23.07′ W. long.;

(139) 40°55.20′ N. lat., 124°27.46′ W. long.;

(140) 40°49.76′ N. lat., 124°27.17′ W. long.;

(141) 40°45.79′ N. lat., 124°30.37′ W. long.;

(142) 40°40.31′ N. lat., 124°32.47′ W. long.;

(143) 40°37.42′ N. lat., 124°37.20′ W. long.;

(144) 40°36.03′ N. lat., 124°39.97′ W. long.;

(145) 40°31.48′ N. lat., 124°40.95′ W. long.;

(146) 40°30.00′ N. lat., 124°38.50′ W. long.;

(147) 40°24.81′ N. lat., 124°35.82′ W. long.;

(148) 40°22.00′ N. lat., 124°30.01′ W. long.;

(149) 40°16.84′ N. lat., 124°29.87′ W. long.;

(150) 40°17.06′ N. lat., 124°35.51′ W. long.;

(151) 40°16.41′ N. lat., 124°39.10′ W. long.;

(152) 40°10.00′ N. lat., 124°23.56′ W. long.;

(153) 40°06.67′ N. lat., 124°19.08′ W. long.;

(154) 40°08.10′ N. lat., 124°16.71′ W. long.;

(155) 40°05.90′ N. lat., 124°17.77′ W. long.;

(156) 40°02.80′ N. lat., 124°16.28′ W. long.;

(157) 40°01.98′ N. lat., 124°12.99′ W. long.;

(158) 40°01.53′ N. lat., 124°09.82′ W. long.;

(159) 39°58.28′ N. lat., 124°12.93′ W. long.;

(160) 39°57.06′ N. lat., 124°12.03′ W. long.;

(161) 39°56.31′ N. lat., 124°08.98′ W. long.;

(162) 39°55.20′ N. lat., 124°07.98′ W. long.;

(163) 39°52.57′ N. lat., 124°09.04′ W. long.;

(164) 39°42.78′ N. lat., 124°02.11′ W. long.;

(165) 39°34.76′ N. lat., 123°58.51′ W. long.;

(166) 39°34.22′ N. lat., 123°56.82′ W. long.;

(167) 39°32.98′ N. lat., 123°56.43′ W. long.;

(168) 39°32.14′ N. lat., 123°58.83′ W. long.;

(169) 39°07.79′ N. lat., 123°58.72′ W. long.;

(170) 39°00.99′ N. lat., 123°57.56′ W. long.;

(171) 39°00.05′ N. lat., 123°56.83′ W. long.;

(172) 38°57.50′ N. lat., 123°57.22′ W. long.;

(173) 38°56.28′ N. lat., 123°57.53′ W. long.;

(174) 38°56.01′ N. lat., 123°58.72′ W. long.;

(175) 38°52.41′ N. lat., 123°56.38′ W. long.;

(176) 38°46.81′ N. lat., 123°51.46′ W. long.;

(177) 38°45.56′ N. lat., 123°51.32′ W. long.;

(178) 38°43.24′ N. lat., 123°49.91′ W. long.;

(179) 38°41.42′ N. lat., 123°47.22′ W. long.;

(180) 38°40.97′ N. lat., 123°47.80′ W. long.;

(181) 38°38.58′ N. lat., 123°46.07′ W. long.;

(182) 38°37.38′ N. lat., 123°43.80′ W. long.;

(183) 38°33.86′ N. lat., 123°41.51′ W. long.;

(184) 38°29.45′ N. lat., 123°38.42′ W. long.;

(185) 38°28.20′ N. lat., 123°38.17′ W. long.;

(186) 38°24.09′ N. lat., 123°35.26′ W. long.;

(187) 38°16.72′ N. lat., 123°31.42′ W. long.;

(188) 38°15.32′ N. lat., 123°29.33′ W. long.;

(189) 38°14.45′ N. lat., 123°26.15′ W. long.;

(190) 38°10.26′ N. lat., 123°25.43′ W. long.;

(191) 38°12.61′ N. lat., 123°28.08′ W. long.;

(192) 38°11.98′ N. lat., 123°29.35′ W. long.;

(193) 38°08.23′ N. lat., 123°28.04′ W. long.;

(194) 38°06.39′ N. lat., 123°30.59′ W. long.;

(195) 38°04.25′ N. lat., 123°31.81′ W. long.;

(196) 38°02.08′ N. lat., 123°31.27′ W. long.;

(197) 38°00.17′ N. lat., 123°29.43′ W. long.;

(198) 38°00.00′ N. lat., 123°28.55′ W. long.;

(199) 37°58.24′ N. lat., 123°26.91′ W. long.;

(200) 37°55.32′ N. lat., 123°27.19′ W. long.;

(201) 37°51.52′ N. lat., 123°25.01′ W. long.;

(202) 37°44.21′ N. lat., 123°11.38′ W. long.;

(203) 37°35.67′ N. lat., 123°01.86′ W. long.;

(204) 37°14.29′ N. lat., 122°52.99′ W. long.;

(205) 37°11.00′ N. lat., 122°49.28′ W. long.;

(206) 37°07.00′ N. lat., 122°44.65′ W. long.;

(207) 37°00.86′ N. lat., 122°37.55′ W. long.;

(208) 36°59.71′ N. lat., 122°33.73′ W. long.;

(209) 36°57.98′ N. lat., 122°27.80′ W. long.;

(210) 36°59.83′ N. lat., 122°25.17′ W. long.;

(211) 36°57.21′ N. lat., 122°25.17′ W. long.;

(212) 36°57.79′ N. lat., 122°22.28′ W. long.;

(213) 36°55.86′ N. lat., 122°21.99′ W. long.;

(214) 36°52.06′ N. lat., 122°12.12′ W. long.;

(215) 36°47.63′ N. lat., 122°07.40′ W. long.;

(216) 36°47.26′ N. lat., 122°03.23′ W. long.;

(217) 36°49.53′ N. lat., 121°59.35′ W. long.;

(218) 36°44.81′ N. lat., 121°58.29′ W. long.;

(219) 36°38.95′ N. lat., 122°02.02′ W. long.;

(220) 36°23.43′ N. lat., 121°59.76′ W. long.;

(221) 36°19.66′ N. lat., 122°06.25′ W. long.;

(222) 36°14.78′ N. lat., 122°01.52′ W. long.;

(223) 36°13.64′ N. lat., 121°57.83′ W. long.;

(224) 36°09.99′ N. lat., 121°43.48′ W. long.;

(225) 36°00.00′ N. lat., 121°36.95′ W. long.;

(226) 35°57.09′ N. lat., 121°34.16′ W. long.;

(227) 35°52.71′ N. lat., 121°32.32′ W. long.;

(228) 35°51.23′ N. lat., 121°30.54′ W. long.;

(229) 35°46.07′ N. lat., 121°29.75′ W. long.;

(230) 35°34.08′ N. lat., 121°19.83′ W. long.;

(231) 35°31.41′ N. lat., 121°14.80′ W. long.;

(232) 35°15.42′ N. lat., 121°03.47′ W. long.;

(233) 35°07.70′ N. lat., 120°59.31′ W. long.;

(234) 34°57.27′ N. lat., 120°56.93′ W. long.;

(235) 34°44.27′ N. lat., 120°57.65′ W. long.;

(236) 34°32.75′ N. lat., 120°50.08′ W. long.;

(237) 34°27.00′ N. lat., 120°41.50′ W. long.;

(238) 34°20.00′ N. lat., 120°30.99′ W. long.;

(239) 34°19.15′ N. lat., 120°19.78′ W. long.;

(240) 34°23.24′ N. lat., 120°14.17′ W. long.;

(241) 34°21.35′ N. lat., 119°54.89′ W. long.;

(242) 34°09.79′ N. lat., 119°44.51′ W. long.;

(243) 34°07.34′ N. lat., 120°06.71′ W. long.;

(244) 34°09.74′ N. lat., 120°19.78′ W. long.;

(245) 34°13.95′ N. lat., 120°29.78′ W. long.;

(246) 34°09.41′ N. lat., 120°37.75′ W. long.;

(247) 34°03.39′ N. lat., 120°35.26′ W. long.;

(248) 33°56.82′ N. lat., 120°28.30′ W. long.;

(249) 33°50.71′ N. lat., 120°09.24′ W. long.;

(250) 33°38.21′ N. lat., 119°59.90′ W. long.;

(251) 33°35.35′ N. lat., 119°51.95′ W. long.;

(252) 33°35.99′ N. lat., 119°49.13′ W. long.;

(253) 33°42.74′ N. lat., 119°47.80′ W. long.;

(254) 33°53.65′ N. lat., 119°53.29′ W. long.;

(255) 33°57.85′ N. lat., 119°31.05′ W. long.;

(256) 33°56.78′ N. lat., 119°27.44′ W. long.;

(257) 33°58.03′ N. lat., 119°27.82′ W. long.;

(258) 33°59.31′ N. lat., 119°20.02′ W. long.;

(259) 34°02.91′ N. lat., 119°15.38′ W. long.;

(260) 33°59.04′ N. lat., 119°03.02′ W. long.;

(261) 33°57.88′ N. lat., 118°41.69′ W. long.;

(262) 33°50.89′ N. lat., 118°37.78′ W. long.;

(263) 33°39.54′ N. lat., 118°18.70′ W. long.;

(264) 33°35.42′ N. lat., 118°17.15′ W. long.;

(265) 33°31.26′ N. lat., 118°10.84′ W. long.;

(266) 33°32.71′ N. lat., 117°52.05′ W. long.;

(267) 32°58.94′ N. lat., 117°20.05′ W. long.;

(268) 32°46.45′ N. lat., 117°24.37′ W. long.;

(269) 32°42.25′ N. lat., 117°22.87′ W. long.;

(270) 32°39.50′ N. lat., 117°27.80′ W. long.; and

(271) 32°34.83′ N. lat., 117°24.67′ W. long.

(b) The 180 fm (329 m) depth contour used around San Clemente Island off the state of California is defined by straight lines connecting all of the following points in the order stated:

(1) 33°01.90′ N. lat., 118°40.17′ W. long.;

(2) 33°03.23′ N. lat., 118°40.05′ W. long.;

(3) 33°05.07′ N. lat., 118°39.01′ W. long.;

(4) 33°05.00′ N. lat., 118°38.01′ W. long.;

(5) 33°03.00′ N. lat., 118°34.00′ W. long.;

(6) 32°55.92′ N. lat., 118°28.39′ W. long.;

(7) 32°49.78′ N. lat., 118°20.82′ W. long.;

(8) 32°47.32′ N. lat., 118°18.30′ W. long.;

(9) 32°47.46′ N. lat., 118°20.29′ W. long.;

(10) 32°46.21′ N. lat., 118°21.96′ W. long.;

(11) 32°42.25′ N. lat., 118°24.07′ W. long.;

(12) 32°47.73′ N. lat., 118°31.74′ W. long.;

(13) 32°53.16′ N. lat., 118°33.85′ W. long.;

(14) 32°54.51′ N. lat., 118°35.56′ W. long.; and

(15) 33°01.90′ N. lat., 118°40.17′ W. long.

(c) The 180 fm (329 m) depth contour used around Santa Catalina Island off the state of California is defined by straight lines connecting all of the following points in the order stated:

(1) 33°30.00′ N. lat., 118°44.18′ W. long.;

(2) 33°30.65′ N. lat., 118°35.07′ W. long.;

(3) 33°29.88′ N. lat., 118°30.89′ W. long.;

(4) 33°27.54′ N. lat., 118°26.91′ W. long.;

(5) 33°26.11′ N. lat., 118°21.97′ W. long.;

(6) 33°24.20′ N. lat., 118°19.05′ W. long.;

(7) 33°14.58′ N. lat., 118°10.35′ W. long.;

(8) 33°17.91′ N. lat., 118°28.20′ W. long.;

(9) 33°19.14′ N. lat., 118°31.34′ W. long.;

(10) 33°20.79′ N. lat., 118°33.75′ W. long.;

(11) 33°23.14′ N. lat., 118°30.80′ W. long.;and

(12) 33°30.00′ N. lat., 118°44.18′ W. long.

(d) The 180 fm (329 m) depth contour used around Lasuen Knoll off the state of California is defined by straight lines connecting all of the following points in the order stated:

(1) 33°25.12′ N. lat., 118°01.09′ W. long.;

(2) 33°25.41′ N. lat., 117°59.36′ W. long.;

(3) 33°23.49′ N. lat., 117°57.47′ W. long.;

(4) 33°23.02′ N. lat., 117°59.58′ W. long.; and

(5) 33°25.12′ N. lat., 118°01.09′ W. long.

(e) The 180 fm (329 m) depth contour used around San Diego Rise off the state of California is defined by straight lines connecting all of the following points in the order stated:

(1) 32°49.98′ N. lat., 117°50.19′ W. long.;

(2) 32°44.10′ N. lat., 117°45.34′ W. long.;

(3) 32°42.01′ N. lat., 117°46.01′ W. long.;

(4) 32°44.42′ N. lat., 117°48.69′ W. long.;

(5) 32°49.86′ N. lat., 117°50.50′ W. long.; and

(6) 32°49.98′ N. lat., 117°50.19′ W. long.

(f) The 200 fm (366 m) depth contour between the U.S. border with Canada and the U.S. border with Mexico is defined by straight lines connecting all of the following points in the order stated:

(1) 48°14.75′ N. lat., 125°41.73′ W. long.;

(2) 48°12.85′ N. lat., 125°38.06′ W. long.;

(3) 48°11.52′ N. lat., 125°39.45′ W. long.;

(4) 48°10.14′ N. lat., 125°42.81′ W. long.;

(5) 48°08.96′ N. lat., 125°42.08′ W. long.;

(6) 48°08.33′ N. lat., 125°44.91′ W. long.;

(7) 48°07.19′ N. lat., 125°45.87′ W. long.;

(8) 48°05.66′ N. lat., 125°44.79′ W. long.;

(9) 48°05.91′ N. lat., 125°42.16′ W. long.;

(10) 48°04.11′ N. lat., 125°40.17′ W. long.;

(11) 48°04.07′ N. lat., 125°36.96′ W. long.;

(12) 48°03.05′ N. lat., 125°36.38′ W. long.;

(13) 48°01.98′ N. lat., 125°37.41′ W. long.;

(14) 48°01.46′ N. lat., 125°39.61′ W. long.;

(15) 47°57.28′ N. lat., 125°36.87′ W. long.;

(16) 47°55.11′ N. lat., 125°36.92′ W. long.;

(17) 47°54.09′ N. lat., 125°34.98′ W. long.;

(18) 47°54.50′ N. lat., 125°32.01′ W. long.;

(19) 47°56.07′ N. lat., 125°30.17′ W. long.;

(20) 47°55.65′ N. lat., 125°28.46′ W. long.;

(21) 47°57.88′ N. lat., 125°25.61′ W. long.;

(22) 48°01.63′ N. lat., 125°23.75′ W. long.;

(23) 48°02.21′ N. lat., 125°22.43′ W. long.;

(24) 48°03.60′ N. lat., 125°21.84′ W. long.;

(25) 48°03.98′ N. lat., 125°20.65′ W. long.;

(26) 48°03.26′ N. lat., 125°19.76′ W. long.;

(27) 48°01.49′ N. lat., 125°18.80′ W. long.;

(28) 48°01.03′ N. lat., 125°20.12′ W. long.;

(29) 48°00.04′ N. lat., 125°20.26′ W. long.;

(30) 47°58.10′ N. lat., 125°18.91′ W. long.;

(31) 47°58.17′ N. lat., 125°17.50′ W. long.;

(32) 47°52.28′ N. lat., 125°16.06′ W. long.;

(33) 47°51.92′ N. lat., 125°13.89′ W. long.;

(34) 47°49.20′ N. lat., 125°10.67′ W. long.;

(35) 47°48.69′ N. lat., 125°06.50′ W. long.;

(36) 47°46.54′ N. lat., 125°07.68′ W. long.;

(37) 47°47.24′ N. lat., 125°05.38′ W. long.;

(38) 47°45.95′ N. lat., 125°04.61′ W. long.;

(39) 47°44.58′ N. lat., 125°07.12′ W. long.;

(40) 47°42.24′ N. lat., 125°05.15′ W. long.;

(41) 47°38.54′ N. lat., 125°06.76′ W. long.;

(42) 47°34.86′ N. lat., 125°04.67′ W. long.;

(43) 47°30.75′ N. lat., 124°57.52′ W. long.;

(44) 47°28.51′ N. lat., 124°56.69′ W. long.;

(45) 47°29.15′ N. lat., 124°54.10′ W. long.;

(46) 47°28.43′ N. lat., 124°51.58′ W. long.;

(47) 47°24.13′ N. lat., 124°47.51′ W. long.;

(48) 47°18.31′ N. lat., 124°46.17′ W. long.;

(49) 47°19.57′ N. lat., 124°51.01′ W. long.;

(50) 47°18.12′ N. lat., 124°53.66′ W. long.;

(51) 47°17.59′ N. lat., 124°52.94′ W. long.;

(52) 47°17.71′ N. lat., 124°51.63′ W. long.;

(53) 47°16.90′ N. lat., 124°51.23′ W. long.;

(54) 47°16.10′ N. lat., 124°53.67′ W. long.;

(55) 47°14.24′ N. lat., 124°53.02′ W. long.;

(56) 47°12.16′ N. lat., 124°56.77′ W. long.;

(57) 47°13.35′ N. lat., 124°58.70′ W. long.;

(58) 47°09.53′ N. lat., 124°58.32′ W. long.;

(59) 47°09.54′ N. lat., 124°59.50′ W. long.;

(60) 47°05.87′ N. lat., 124°59.29′ W. long.;

(61) 47°03.65′ N. lat., 124°56.26′ W. long.;

(62) 47°00.91′ N. lat., 124°59.73′ W. long.;

(63) 46°58.74′ N. lat., 124°59.40′ W. long.;

(64) 46°58.55′ N. lat., 125°00.70′ W. long.;

(65) 46°55.57′ N. lat., 125°01.61′ W. long.;

(66) 46°55.77′ N. lat., 124°55.04′ W. long.;

(67) 46°53.16′ N. lat., 124°53.69′ W. long.;

(68) 46°52.39′ N. lat., 124°55.24′ W. long.;

(69) 46°44.88′ N. lat., 124°51.97′ W. long.;

(70) 46°33.28′ N. lat., 124°36.96′ W. long.;

(71) 46°33.20′ N. lat., 124°30.64′ W. long.;

(72) 46°27.85′ N. lat., 124°31.95′ W. long.;

(73) 46°18.16′ N. lat., 124°39.39′ W. long.;

(74) 46°16.48′ N. lat., 124°27.41′ W. long.;

(75) 46°16.73′ N. lat., 124°23.20′ W. long.;

(76) 46°16.00′ N. lat., 124°24.88′ W. long.;

(77) 46°14.22′ N. lat., 124°26.28′ W. long.;

(78) 46°11.53′ N. lat., 124°39.58′ W. long.;

(79) 46°08.77′ N. lat., 124°41.71′ W. long.;

(80) 46°05.86′ N. lat., 124°42.27′ W. long.;

(81) 46°03.85′ N. lat., 124°48.20′ W. long.;

(82) 46°02.34′ N. lat., 124°48.51′ W. long.;

(83) 45°58.99′ N. lat., 124°44.42′ W. long.;

(84) 45°46.90′ N. lat., 124°43.50′ W. long.;

(85) 45°46.00′ N. lat., 124°44.27′ W. long.;

(86) 45°44.98′ N. lat., 124°44.93′ W. long.;

(87) 45°43.47′ N. lat., 124°44.93′ W. long.;

(88) 45°34.88′ N. lat., 124°32.58′ W. long.;

(89) 45°20.25′ N. lat., 124°25.47′ W. long.;

(90) 45°13.04′ N. lat., 124°21.92′ W. long.;

(91) 45°03.83′ N. lat., 124°27.13′ W. long.;

(92) 45°00.17′ N. lat., 124°29.28′ W. long.;

(93) 44°55.41′ N. lat., 124°31.84′ W. long.;

(94) 44°48.25′ N. lat., 124°40.62′ W. long.;

(95) 44°41.34′ N. lat., 124°49.20′ W. long.;

(96) 44°23.30′ N. lat., 124°50.17′ W. long.;

(97) 44°13.19′ N. lat., 124°58.66′ W. long.;

(98) 46°08.30′ N. lat., 124°58.50′ W. long.;

(99) 43°57.89′ N. lat., 124°58.13′ W. long.;

(100) 43°50.59′ N. lat., 124°52.80′ W. long.;

(101) 43°50.10′ N. lat., 124°40.27′ W. long.;

(102) 43°39.06′ N. lat., 124°38.55′ W. long.;

(103) 43°28.85′ N. lat., 124°39.99′ W. long.;

(104) 43°20.83′ N. lat., 124°42.84′ W. long.;

(105) 43°20.22′ N. lat., 124°43.05′ W. long.;

(106) 43°13.29′ N. lat., 124°47.00′ W. long.;

(107) 43°13.14′ N. lat., 124°52.61′ W. long.;

(108) 43°04.26′ N. lat., 124°53.05′ W. long.;

(109) 42°53.93′ N. lat., 124°54.60′ W. long.;

(110) 42°50.00′ N. lat., 124°53.31′ W. long.;

(111) 42°49.52′ N. lat., 124°53.16′ W. long.;

(112) 42°47.46′ N. lat., 124°50.24′ W. long.;

(113) 42°47.57′ N. lat., 124°48.12′ W. long.;

(114) 42°46.19′ N. lat., 124°44.52′ W. long.;

(115) 42°41.75′ N. lat., 124°44.69′ W. long.;

(116) 42°40.50′ N. lat., 124°44.02′ W. long.;

(117) 42°38.81′ N. lat., 124°43.09′ W. long.;

(118) 42°31.83′ N. lat., 124°46.23′ W. long.;

(119) 42°32.08′ N. lat., 124°43.58′ W. long.;

(120) 42°30.96′ N. lat., 124°43.84′ W. long.;

(121) 42°28.41′ N. lat., 124°49.17′ W. long.;

(122) 42°24.80′ N. lat., 124°45.93′ W. long.;

(123) 42°19.71′ N. lat., 124°41.60′ W. long.;

(124) 42°15.12′ N. lat., 124°38.34′ W. long.;

(125) 42°13.67′ N. lat., 124°38.22′ W. long.;

(126) 42°12.35′ N. lat., 124°38.09′ W. long.;

(127) 42°04.38′ N. lat., 124°36.83′ W. long.;

(128) 42°00.00′ N. lat., 124°36.80′ W. long.;

(129) 41°47.85′ N. lat., 124°30.41′ W. long.;

(130) 41°43.34′ N. lat., 124°29.89′ W. long.;

(131) 41°23.47′ N. lat., 124°30.29′ W. long.;

(132) 41°21.30′ N. lat., 124°29.36′ W. long.;

(133) 41°13.53′ N. lat., 124°24.41′ W. long.;

(134) 41°06.72′ N. lat., 124°23.30′ W. long.;

(135) 40°54.67′ N. lat., 124°28.13′ W. long.;

(136) 40°49.02′ N. lat., 124°28.52′ W. long.;

(137) 40°40.45′ N. lat., 124°32.74′ W. long.;

(138) 40°37.11′ N. lat., 124°38.03′ W. long.;

(139) 40°34.22′ N. lat., 124°41.13′ W. long.;

(140) 40°32.90′ N. lat., 124°41.83′ W. long.;

(141) 40°31.30′ N. lat., 124°40.97′ W. long.;

(142) 40°30.00′ N. lat., 124°38.04′ W. long.;

(143) 40°24.99′ N. lat., 124°36.37′ W. long.;

(144) 40°22.23′ N. lat., 124°31.78′ W. long.;

(145) 40°16.95′ N. lat., 124°31.93′ W. long.;

(146) 40°17.59′ N. lat., 124°45.23′ W. long.;

(147) 40°13.25′ N. lat., 124°32.36′ W. long.;

(148) 40°10.16′ N. lat., 124°24.57′ W. long.;

(149) 40°06.43′ N. lat., 124°19.19′ W. long.;

(150) 40°07.07′ N. lat., 124°17.75′ W. long.;

(151) 40°05.53′ N. lat., 124°18.02′ W. long.;

(152) 40°04.71′ N. lat., 124°18.10′ W. long.;

(153) 40°02.35′ N. lat., 124°16.57′ W. long.;

(154) 40°01.53′ N. lat., 124°09.82′ W. long.;

(155) 39°58.28′ N. lat., 124°13.51′ W. long.;

(156) 39°56.60′ N. lat., 124°12.02′ W. long.;

(157) 39°55.20′ N. lat., 124°07.96′ W. long.;

(158) 39°52.55′ N. lat., 124°09.40′ W. long.;

(159) 39°42.68′ N. lat., 124°02.52′ W. long.;

(160) 39°35.96′ N. lat., 123°59.49′ W. long.;

(161) 39°34.62′ N. lat., 123°59.59′ W. long.;

(162) 39°33.78′ N. lat., 123°56.82′ W. long.;

(163) 39°33.02′ N. lat., 123°57.07′ W. long.;

(164) 39°32.21′ N. lat., 123°59.13′ W. long.;

(165) 39°07.85′ N. lat., 123°59.07′ W. long.;

(166) 39°00.90′ N. lat., 123°57.88′ W. long.;

(167) 38°59.95′ N. lat., 123°56.99′ W. long.;

(168) 38°57.50′ N. lat., 123°57.50′ W. long.;

(169) 38°56.82′ N. lat., 123°57.74′ W. long.;

(170) 38°56.40′ N. lat., 123°59.41′ W. long.;

(171) 38°50.23′ N. lat., 123°55.48′ W. long.;

(172) 38°46.77′ N. lat., 123°51.49′ W. long.;

(173) 38°45.28′ N. lat., 123°51.56′ W. long.;

(174) 38°42.76′ N. lat., 123°49.76′ W. long.;

(175) 38°41.54′ N. lat., 123°47.76′ W. long.;

(176) 38°40.98′ N. lat., 123°48.07′ W. long.;

(177) 38°38.03′ N. lat., 123°45.78′ W. long.;

(178) 38°37.20′ N. lat., 123°44.01′ W. long.;

(179) 38°33.44′ N. lat., 123°41.75′ W. long.;

(180) 38°29.45′ N. lat., 123°38.42′ W. long.;

(181) 38°27.89′ N. lat., 123°38.38′ W. long.;

(182) 38°23.68′ N. lat., 123°35.40′ W. long.;

(183) 38°19.63′ N. lat., 123°33.98′ W. long.;

(184) 38°16.23′ N. lat., 123°31.83′ W. long.;

(185) 38°14.79′ N. lat., 123°29.91′ W. long.;

(186) 38°14.12′ N. lat., 123°26.29′ W. long.;

(187) 38°10.85′ N. lat., 123°25.77′ W. long.;

(188) 38°13.15′ N. lat., 123°28.18′ W. long.;

(189) 38°12.28′ N. lat., 123°29.81′ W. long.;

(190) 38°10.19′ N. lat., 123°29.04′ W. long.;

(191) 38°07.94′ N. lat., 123°28.45′ W. long.;

(192) 38°06.51′ N. lat., 123°30.89′ W. long.;

(193) 38°04.21′ N. lat., 123°31.96′ W. long.;

(194) 38°02.07′ N. lat., 123°31.30′ W. long.;

(195) 38°00.00′ N. lat., 123°29.55′ W. long.;

(196) 37°58.13′ N. lat., 123°27.21′ W. long.;

(197) 37°55.01′ N. lat., 123°27.46′ W. long.;

(198) 37°51.40′ N. lat., 123°25.18′ W. long.;

(199) 37°43.97′ N. lat., 123°11.49′ W. long.;

(200) 37°35.67′ N. lat., 123°02.25′ W. long.;

(201) 37°13.65′ N. lat., 122°54.18′ W. long.;

(202) 37°11.00′ N. lat., 122°50.90′ W. long.;

(203) 37°07.00′ N. lat., 122°45.83′ W. long.;

(204) 37°00.66′ N. lat., 122°37.84′ W. long.;

(205) 36°57.40′ N. lat., 122°28.25′ W. long.;

(206) 36°59.25′ N. lat., 122°25.54′ W. long.;

(207) 36°56.88′ N. lat., 122°25.42′ W. long.;

(208) 36°57.40′ N. lat., 122°22.62′ W. long.;

(209) 36°55.43′ N. lat., 122°22.43′ W. long.;

(210) 36°52.29′ N. lat., 122°13.18′ W. long.;

(211) 36°47.12′ N. lat., 122°07.56′ W. long.;

(212) 36°47.10′ N. lat., 122°02.11′ W. long.;

(213) 36°43.76′ N. lat., 121°59.11′ W. long.;

(214) 36°38.85′ N. lat., 122°02.20′ W. long.;

(215) 36°23.41′ N. lat., 122°00.11′ W. long.;

(216) 36°19.68′ N. lat., 122°06.93′ W. long.;

(217) 36°14.75′ N. lat., 122°01.51′ W. long.;

(218) 36°09.74′ N. lat., 121°45.00′ W. long.;

(219) 36°06.67′ N. lat., 121°41.06′ W. long.;

(220) 36°00.00′ N. lat., 121°36.95′ W. long.;

(221) 35°52.31′ N. lat., 121°32.45′ W. long.;

(222) 35°51.21′ N. lat., 121°30.91′ W. long.;

(223) 35°46.32′ N. lat., 121°30.30′ W. long.;

(224) 35°33.74′ N. lat., 121°20.10′ W. long.;

(225) 35°31.37′ N. lat., 121°15.23′ W. long.;

(226) 35°23.32′ N. lat., 121°11.44′ W. long.;

(227) 35°15.28′ N. lat., 121°04.45′ W. long.;

(228) 35°07.08′ N. lat., 121°00.30′ W. long.;

(229) 34°57.46′ N. lat., 120°58.23′ W. long.;

(230) 34°44.25′ N. lat., 120°58.29′ W. long.;

(231) 34°32.30′ N. lat., 120°50.22′ W. long.;

(232) 34°27.00′ N. lat., 120°42.55′ W. long.;

(233) 34°19.08′ N. lat., 120°31.21′ W. long.;

(234) 34°17.72′ N. lat., 120°19.26′ W. long.;

(235) 34°22.45′ N. lat., 120°12.81′ W. long.;

(236) 34°21.36′ N. lat., 119°54.88′ W. long.;

(237) 34°09.95′ N. lat., 119°46.18′ W. long.;

(238) 34°09.08′ N. lat., 119°57.53′ W. long.;

(239) 34°07.53′ N. lat., 120°06.35′ W. long.;

(240) 34°10.54′ N. lat., 120°19.07′ W. long.;

(241) 34°14.68′ N. lat., 120°29.48′ W. long.;

(242) 34°09.51′ N. lat., 120°38.32′ W. long.;

(243) 34°03.06′ N. lat., 120°35.54′ W. long.;

(244) 33°56.39′ N. lat., 120°28.47′ W. long.;

(245) 33°50.25′ N. lat., 120°09.43′ W. long.;

(246) 33°37.96′ N. lat., 120°00.08′ W. long.;

(247) 33°34.52′ N. lat., 119°51.84′ W. long.;

(248) 33°35.51′ N. lat., 119°48.49′ W. long.;

(249) 33°42.76′ N. lat., 119°47.77′ W. long.;

(250) 33°53.62′ N. lat., 119°53.28′ W. long.;

(251) 33°57.61′ N. lat., 119°31.26′ W. long.;

(252) 33°56.34′ N. lat., 119°26.40′ W. long.;

(253) 33°57.79′ N. lat., 119°26.85′ W. long.;

(254) 33°58.88′ N. lat., 119°20.06′ W. long.;

(255) 34°02.65′ N. lat., 119°15.11′ W. long.;

(256) 33°59.02′ N. lat., 119°02.99′ W. long.;

(257) 33°57.61′ N. lat., 118°42.07′ W. long.;

(258) 33°50.76′ N. lat., 118°37.98′ W. long.;

(259) 33°38.41′ N. lat., 118°17.03′ W. long.;

(260) 33°37.14′ N. lat., 118°18.39′ W. long.;

(261) 33°35.51′ N. lat., 118°18.03′ W. long.;

(262) 33°30.68′ N. lat., 118°10.35′ W. long.;

(263) 33°32.49′ N. lat., 117°51.85′ W. long.;

(264) 32°58.87′ N. lat., 117°20.36′ W. long.; and

(265) 32°35.53′ N. lat., 117°29.67′ W. long.

(g) The 200 fm (366 m) depth contour used around San Clemente Island is defined by straight lines connecting all of the following points in the order stated:

(1) 33°05.89′ N. lat., 118°39.45′ W. long.;

(2) 33°02.68′ N. lat., 118°33.14′ W. long.;

(3) 32°57.32′ N. lat., 118°29.12′ W. long.;

(4) 32°47.51′ N. lat., 118°17.88′ W. long.;

(5) 32°41.22′ N. lat., 118°23.78′ W. long.;

(6) 32°46.83′ N. lat., 118°32.10′ W. long.;

(7) 33°01.61′ N. lat., 118°40.64′ W. long.; and

(8) 33°5.89′ N. lat., 118°39.45′ W. long.

(h) The 200 fm (366 m) depth contour used around Santa Catalina Island off the state of California is defined by straight lines connecting all of the following points in the order stated:

(1) 33°32.06′ N. lat., 118°44.52′ W. long.;

(2) 33°31.36′ N. lat., 118°35.28′ W. long.;

(3) 33°30.10′ N. lat., 118°30.82′ W. long.;

(4) 33°27.91′ N. lat., 118°26.83′ W. long.;

(5) 33°26.27′ N. lat., 118°21.35′ W. long.;

(6) 33°21.34′ N. lat., 118°15.24′ W. long.;

(7) 33°13.66′ N. lat., 118°08.98′ W. long.;

(8) 33°17.15′ N. lat., 118°28.35′ W. long.;

(9) 33°20.94′ N. lat., 118°34.34′ W. long.;

(10) 33°23.32′ N. lat., 118°32.60′ W. long.;

(11) 33°28.68′ N. lat., 118°44.93′ W. long.; and

(12) 33°32.06′ N. lat., 118°44.52′ W. long.

(i) The 200 fm (366 m) depth contour used around Lasuen Knoll off the state of California is defined by straight lines connecting all of the following points in the order stated:

(1) 33°25.91′ N. lat., 117°59.44′ W. long.;

(2) 33°23.37′ N. lat., 117°56.97′ W. long.;

(3) 33°22.82′ N. lat., 117°59.50′ W. long.;

(4) 33°25.24′ N. lat., 118°01.68′ W. long.; and

(5) 33°25.91′ N. lat., 117°59.44′ W. long.

(j) The 200 fm (366 m) depth contour used around San Diego Rise off the state of California is defined by straight lines connecting all of the following points in the order stated:

(1) 32°50.30′ N. lat., 117°50.18′ W. long.;

(2) 32°44.01′ N. lat., 117°44.46′ W. long.;

(3) 32°41.34′ N. lat., 117°45.86′ W. long.;

(4) 32°45.45′ N. lat., 117°50.09′ W. long.;

(5) 32°50.10′ N. lat., 117°50.76′ W. long.; and

(6) 32°50.30′ N. lat., 117°50.18′ W. long.

(k) The 200 fm (366 m) depth contour used between the U.S. border with Canada and the U.S. border with Mexico, modified to allow fishing in petrale sole areas, is defined by straight lines connecting all of the following points in the order stated:

(1) 48°14.75′ N. lat., 125°41.73′ W. long.;

(2) 48°12.85′ N. lat., 125°38.06′ W. long.;

(3) 48°11.52′ N. lat., 125°39.45′ W. long.;

(4) 48°10.14′ N. lat., 125°42.81′ W. long.;

(5) 48°08.96′ N. lat., 125°42.08′ W. long.;

(6) 48°08.33′ N. lat., 125°44.91′ W. long.;

(7) 48°07.19′ N. lat., 125°45.87′ W. long.;

(8) 48°05.66′ N. lat., 125°44.79′ W. long.;

(9) 48°05.91′ N. lat., 125°42.16′ W. long.;

(10) 48°04.11′ N. lat., 125°40.17′ W. long.;

(11) 48°04.07′ N. lat., 125°36.96′ W. long.;

(12) 48°03.05′ N. lat., 125°36.38′ W. long.;

(13) 48°01.98′ N. lat., 125°37.41′ W. long.;

(14) 48°01.46′ N. lat., 125°39.61′ W. long.;

(15) 47°57.00′ N. lat., 125°37.00′ W. long.;

(16) 47°55.50′ N. lat., 125°28.50′ W. long.;

(17) 47°57.88′ N. lat., 125°25.61′ W. long.;

(18) 48°01.63′ N. lat., 125°23.75′ W. long.;

(19) 48°02.21′ N. lat., 125°22.43′ W. long.;

(20) 48°03.60′ N. lat., 125°21.84′ W. long.;

(21) 48°03.98′ N. lat., 125°20.65′ W. long.;

(22) 48°03.26′ N. lat., 125°19.76′ W. long.;

(23) 48°01.49′ N. lat., 125°18.80′ W. long.;

(24) 48°01.03′ N. lat., 125°20.12′ W. long.;

(25) 48°00.04′ N. lat., 125°20.26′ W. long.;

(26) 47°58.10′ N. lat., 125°18.91′ W. long.;

(27) 47°58.17′ N. lat., 125°17.50′ W. long.;

(28) 47°52.28′ N. lat., 125°16.06′ W. long.;

(29) 47°51.92′ N. lat., 125°13.89′ W. long.;

(30) 47°49.20′ N. lat., 125°10.67′ W. long.;

(31) 47°48.69′ N. lat., 125°06.50′ W. long.;

(32) 47°46.54′ N. lat., 125°07.68′ W. long.;

(33) 47°47.24′ N. lat., 125°05.38′ W. long.;

(34) 47°45.95′ N. lat., 125°04.61′ W. long.;

(35) 47°44.58′ N. lat., 125°07.12′ W. long.;

(36) 47°42.24′ N. lat., 125°05.15′ W. long.;

(37) 47°38.54′ N. lat., 125°06.76′ W. long.;

(38) 47°34.86′ N. lat., 125°04.67′ W. long.;

(39) 47°30.75′ N. lat., 124°57.52′ W. long.;

(40) 47°28.51′ N. lat., 124°56.69′ W. long.;

(41) 47°29.15′ N. lat., 124°54.10′ W. long.;

(42) 47°28.43′ N. lat., 124°51.58′ W. long.;

(43) 47°24.13′ N. lat., 124°47.51′ W. long.;

(44) 47°18.31′ N. lat., 124°46.17′ W. long.;

(45) 47°19.57′ N. lat., 124°51.01′ W. long.;

(46) 47°18.12′ N. lat., 124°53.66′ W. long.;

(47) 47°17.59′ N. lat., 124°52.94′ W. long.;

(48) 47°17.71′ N. lat., 124°51.63′ W. long.;

(49) 47°16.90′ N. lat., 124°51.23′ W. long.;

(50) 47°16.10′ N. lat., 124°53.67′ W. long.;

(51) 47°14.24′ N. lat., 124°53.02′ W. long.;

(52) 47°12.16′ N. lat., 124°56.77′ W. long.;

(53) 47°13.35′ N. lat., 124°58.70′ W. long.;

(54) 47°09.53′ N. lat., 124°58.32′ W. long.;

(55) 47°09.54′ N. lat., 124°59.50′ W. long.;

(56) 47°05.87′ N. lat., 124°59.29′ W. long.;

(57) 47°03.65′ N. lat., 124°56.26′ W. long.;

(58) 47°00.91′ N. lat., 124°59.73′ W. long.;

(59) 46°58.74′ N. lat., 124°59.40′ W. long.;

(60) 46°58.55′ N. lat., 125°00.70′ W. long.;

(61) 46°55.57′ N. lat., 125°01.61′ W. long.;

(62) 46°55.77′ N. lat., 124°55.04′ W. long.;

(63) 46°53.16′ N. lat., 124°53.69′ W. long.;

(64) 46°52.39′ N. lat., 124°55.24′ W. long.;

(65) 46°44.88′ N. lat., 124°51.97′ W. long.;

(66) 46°33.28′ N. lat., 124°36.96′ W. long.;

(67) 46°33.20′ N. lat., 124°30.64′ W. long.;

(68) 46°27.85′ N. lat., 124°31.95′ W. long.;

(69) 46°18.16′ N. lat., 124°39.39′ W. long.;

(70) 46°16.48′ N. lat., 124°27.41′ W. long.;

(71) 46°16.73′ N. lat., 124°23.20′ W. long.;

(72) 46°16.00′ N. lat., 124°24.88′ W. long.;

(73) 46°14.22′ N. lat., 124°26.28′ W. long.;

(74) 46°11.53′ N. lat., 124°39.58′ W. long.;

(75) 46°08.77′ N. lat., 124°41.71′ W. long.;

(76) 46°05.86′ N. lat., 124°42.27′ W. long.;

(77) 46°03.85′ N. lat., 124°48.20′ W. long.;

(78) 46°02.34′ N. lat., 124°48.51′ W. long.;

(79) 45°58.99′ N. lat., 124°44.42′ W. long.;

(80) 45°46.00′ N. lat., 124°41.82′ W. long.;

(81) 45°49.74′ N. lat., 124°43.69′ W. long.;

(82) 45°49.68′ N. lat., 124°42.37′ W. long.;

(83) 45°40.83′ N. lat., 124°40.90′ W. long.;

(84) 45°34.88′ N. lat., 124°32.58′ W. long.;

(85) 45°20.25′ N. lat., 124°25.47′ W. long.;

(86) 45°13.04′ N. lat., 124°21.92′ W. long.;

(87) 45°03.83′ N. lat., 124°27.13′ W. long.;

(88) 45°00.17′ N. lat., 124°29.28′ W. long.;

(89) 44°50.99′ N. lat., 124°35.40′ W. long.;

(90) 44°46.87′ N. lat., 124°38.20′ W. long.;

(91) 44°48.25′ N. lat., 124°40.62′ W. long.;

(92) 44°41.34′ N. lat., 124°49.20′ W. long.;

(93) 44°23.30′ N. lat., 124°50.17′ W. long.;

(94) 44°13.19′ N. lat., 124°58.66′ W. long.;

(95) 44°08.30′ N. lat., 124°58.72′ W. long.;

(96) 43°57.37′ N. lat., 124°58.71′ W. long.;

(97) 43°52.32′ N. lat., 124°49.43′ W. long.;

(98) 43°51.35′ N. lat., 124°37.94′ W. long.;

(99) 43°49.73′ N. lat., 124°40.26′ W. long.;

(100) 43°39.06′ N. lat., 124°38.55′ W. long.;

(101) 43°28.85′ N. lat., 124°39.99′ W. long.;

(102) 43°20.83′ N. lat., 124°42.89′ W. long.;

(103) 43°20.22′ N. lat., 124°43.05′ W. long.;

(104) 43°13.29′ N. lat., 124°47.00′ W. long.;

(105) 43°10.64′ N. lat., 124°49.95′ W. long.;

(106) 43°04.26′ N. lat., 124°53.05′ W. long.;

(107) 42°53.93′ N. lat., 124°54.60′ W. long.;

(108) 42°50.00′ N. lat., 124°50.60′ W. long.;

(109) 42°47.57′ N. lat., 124°48.12′ W. long.;

(110) 42°46.19′ N. lat., 124°44.52′ W. long.;

(111) 42°41.75′ N. lat., 124°44.69′ W. long.;

(112) 42°40.50′ N. lat., 124°44.02′ W. long.;

(113) 42°38.81′ N. lat., 124°43.09′ W. long.;

(114) 42°31.83′ N. lat., 124°46.23′ W. long.;

(115) 42°32.08′ N. lat., 124°43.58′ W. long.;

(116) 42°30.96′ N. lat., 124°43.84′ W. long.;

(117) 42°28.41′ N. lat., 124°49.17′ W. long.;

(118) 42°24.80′ N. lat., 124°45.93′ W. long.;

(119) 42°19.71′ N. lat., 124°41.60′ W. long.;

(120) 42°15.12′ N. lat., 124°38.34′ W. long.;

(121) 42°13.67′ N. lat., 124°38.28′ W. long.;

(122) 42°12.35′ N. lat., 124°38.09′ W. long.;

(123) 42°00.00′ N. lat., 124°36.83′ W. long.;

(124) 41°47.79′ N. lat., 124°29.48′ W. long.;

(125) 41°21.01′ N. lat., 124°29.01′ W. long.;

(126) 41°13.50′ N. lat., 124°24.40′ W. long.;

(127) 41°11.00′ N. lat., 124°22.99′ W. long.;

(128) 41°06.69′ N. lat., 124°23.30′ W. long.;

(129) 40°54.73′ N. lat., 124°28.15′ W. long.;

(130) 40°53.95′ N. lat., 124°26.04′ W. long.;

(131) 40°49.96′ N. lat., 124°26.04′ W. long.;

(132) 40°44.49′ N. lat., 124°30.81′ W. long.;

(133) 40°40.58′ N. lat., 124°32.06′ W. long.;

(134) 40°36.09′ N. lat., 124°40.11′ W. long.;

(135) 40°34.19′ N. lat., 124°41.20′ W. long.;

(136) 40°32.93′ N. lat., 124°41.86′ W. long.;

(137) 40°31.28′ N. lat., 124°40.98′ W. long.;

(138) 40°30.00′ N. lat., 124°38.50′ W. long.;

(139) 40°25.01′ N. lat., 124°36.36′ W. long.;

(140) 40°22.28′ N. lat., 124°31.83′ W. long.;

(141) 40°16.96′ N. lat., 124°31.91′ W. long.;

(142) 40°17.59′ N. lat., 124°45.28′ W. long.;

(143) 40°13.23′ N. lat., 124°32.40′ W. long.;

(144) 40°10.00′ N. lat., 124°24.55′ W. long.;

(145) 40°06.45′ N. lat., 124°19.24′ W. long.;

(146) 40°07.08′ N. lat., 124°17.80′ W. long.;

(147) 40°05.55′ N. lat., 124°18.11′ W. long.;

(148) 40°04.74′ N. lat., 124°18.11′ W. long.;

(149) 40°02.35′ N. lat., 124°16.53′ W. long.;

(150) 40°01.13′ N. lat., 124°12.98′ W. long.;

(151) 40°01.55′ N. lat., 124°09.80′ W. long.;

(152) 39°58.54′ N. lat., 124°12.43′ W. long.;

(153) 39°55.72′ N. lat., 124°07.44′ W. long.;

(154) 39°42.64′ N. lat., 124°02.52′ W. long.;

(155) 39°35.96′ N. lat., 123°59.47′ W. long.;

(156) 39°34.61′ N. lat., 123°59.58′ W. long.;

(157) 39°34.79′ N. lat., 123°58.47′ W. long.;

(158) 39°33.79′ N. lat., 123°56.77′ W. long.;

(159) 39°33.03′ N. lat., 123°57.06′ W. long.;

(160) 39°32.20′ N. lat., 123°59.12′ W. long.;

(161) 39°07.81′ N. lat., 123°59.06′ W. long.;

(162) 39°03.06′ N. lat., 123°57.77′ W. long.;

(163) 38°57.50′ N. lat., 123°57.00′ W. long.;

(164) 38°52.26′ N. lat., 123°56.18′ W. long.;

(165) 38°50.21′ N. lat., 123°55.48′ W. long.;

(166) 38°46.81′ N. lat., 123°51.49′ W. long.;

(167) 38°45.28′ N. lat., 123°51.55′ W. long.;

(168) 38°42.76′ N. lat., 123°49.73′ W. long.;

(169) 38°41.53′ N. lat., 123°47.80′ W. long.;

(170) 38°41.41′ N. lat., 123°46.74′ W. long.;

(171) 38°38.01′ N. lat., 123°45.74′ W. long.;

(172) 38°37.19′ N. lat., 123°43.98′ W. long.;

(173) 38°35.26′ N. lat., 123°41.99′ W. long.;

(174) 38°33.38′ N. lat., 123°41.76′ W. long.;

(175) 38°19.95′ N. lat., 123°32.90′ W. long.;

(176) 38°14.38′ N. lat., 123°25.51′ W. long.;

(177) 38°09.39′ N. lat., 123°24.39′ W. long.;

(178) 38°10.09′ N. lat., 123°27.21′ W. long.;

(179) 38°03.76′ N. lat., 123°31.90′ W. long.;

(180) 38°02.06′ N. lat., 123°31.26′ W. long.;

(181) 38°00.01′ N. lat., 123°29.56′ W. long.;

(182) 37°58.07′ N. lat., 123°27.21′ W. long.;

(183) 37°55.02′ N. lat., 123°27.44′ W. long.;

(184) 37°51.39′ N. lat., 123°25.22′ W. long.;

(185) 37°43.94′ N. lat., 123°11.49′ W. long.;

(186) 37°35.67′ N. lat., 123°02.23′ W. long.;

(187) 37°23.48′ N. lat., 122°57.76′ W. long.;

(188) 37°23.23′ N. lat., 122°53.78′ W. long.;

(189) 37°13.97′ N. lat., 122°49.91′ W. long.;

(190) 37°11.00′ N. lat., 122°45.61′ W. long.;

(191) 37°07.00′ N. lat., 122°46.38′ W. long.;

(192) 37°00.64′ N. lat., 122°37.70′ W. long.;

(193) 36°57.40′ N. lat., 122°28.36′ W. long.;

(194) 36°59.21′ N. lat., 122°25.64′ W. long.;

(195) 36°56.90′ N. lat., 122°25.42′ W. long.;

(196) 36°57.43′ N. lat., 122°22.55′ W. long.;

(197) 36°55.43′ N. lat., 122°22.43′ W. long.;

(198) 36°52.27′ N. lat., 122°13.16′ W. long.;

(199) 36°47.10′ N. lat., 122°07.53′ W. long.;

(200) 36°47.10′ N. lat., 122°02.08′ W. long.;

(201) 36°43.76′ N. lat., 121°59.15′ W. long.;

(202) 36°38.84′ N. lat., 122°02.20′ W. long.;

(203) 36°30.82′ N. lat., 122°01.13′ W. long.;

(204) 36°30.94′ N. lat., 122°00.54′ W. long.;

(205) 36°25.99′ N. lat., 121°59.50′ W. long.;

(206) 36°26.43′ N. lat., 121°59.76′ W. long.;

(207) 36°22.00′ N. lat., 122°01.02′ W. long.;

(208) 36°19.01′ N. lat., 122°05.01′ W. long.;

(209) 36°14.73′ N. lat., 122°01.55′ W. long.;

(210) 36°14.03′ N. lat., 121°58.09′ W. long.;

(211) 36°09.74′ N. lat., 121°45.01′ W. long.;

(212) 36°06.75′ N. lat., 121°40.73′ W. long.;

(213) 36°00.00′ N. lat., 121°35.96′ W. long.;

(214) 35°58.19′ N. lat., 121°34.63′ W. long.;

(215) 35°52.21′ N. lat., 121°32.46′ W. long.;

(216) 35°51.21′ N. lat., 121°30.94′ W. long.;

(217) 35°46.28′ N. lat., 121°30.29′ W. long.;

(218) 35°33.67′ N. lat., 121°20.09′ W. long.;

(219) 35°31.33′ N. lat., 121°15.22′ W. long.;

(220) 35°23.29′ N. lat., 121°11.41′ W. long.;

(221) 35°15.26′ N. lat., 121°04.49′ W. long.;

(222) 35°07.05′ N. lat., 121°00.26′ W. long.;

(223) 35°07.46′ N. lat., 120°57.10′ W. long.;

(224) 34°44.29′ N. lat., 120°54.28′ W. long.;

(225) 34°44.23′ N. lat., 120°58.27′ W. long.;

(226) 34°32.33′ N. lat., 120°50.23′ W. long.;

(227) 34°27.00′ N. lat., 120°42.55′ W. long.;

(228) 34°19.08′ N. lat., 120°31.21′ W. long.;

(229) 34°17.72′ N. lat., 120°19.26′ W. long.;

(230) 34°22.45′ N. lat., 120°12.81′ W. long.;

(231) 34°21.36′ N. lat., 119°54.88′ W. long.;

(232) 34°09.95′ N. lat., 119°46.18′ W. long.;

(233) 34°09.08′ N. lat., 119°57.53′ W. long.;

(234) 34°07.53′ N. lat., 120°06.35′ W. long.;

(235) 34°10.54′ N. lat., 120°19.07′ W. long.;

(236) 34°14.68′ N. lat., 120°29.48′ W. long.;

(237) 34°09.51′ N. lat., 120°38.32′ W. long.;

(238) 34°03.06′ N. lat., 120°35.54′ W. long.;

(239) 33°56.39′ N. lat., 120°28.47′ W. long.;

(240) 33°50.25′ N. lat., 120°09.43′ W. long.;

(241) 33°37.96′ N. lat., 120°00.08′ W. long.;

(242) 33°34.52′ N. lat., 119°51.84′ W. long.;

(243) 33°35.51′ N. lat., 119°48.49′ W. long.;

(244) 33°42.76′ N. lat., 119°47.77′ W. long.;

(245) 33°53.62′ N. lat., 119°53.28′ W. long.;

(246) 33°57.61′ N. lat., 119°31.26′ W. long.;

(247) 33°56.34′ N. lat., 119°26.40′ W. long.;

(248) 33°57.79′ N. lat., 119°26.85′ W. long.;

(249) 33°58.88′ N. lat., 119°20.06′ W. long.;

(250) 34°02.65′ N. lat., 119°15.11′ W. long.;

(251) 33°59.02′ N. lat., 119°02.99′ W. long.;

(252) 33°57.61′ N. lat., 118°42.07′ W. long.;

(253) 33°50.76′ N. lat., 118°37.98′ W. long.;

(254) 33°39.54′ N. lat., 118°18.70′ W. long.;

(255) 33°37.14′ N. lat., 118°18.39′ W. long.;

(256) 33°35.51′ N. lat., 118°18.03′ W. long.;

(257) 33°30.68′ N. lat., 118°10.35′ W. long.;

(258) 33°32.49′ N. lat., 117°51.85′ W. long.;

(259) 32°58.87′ N. lat., 117°20.36′ W. long.; and

(260) 32°35.53′ N. lat., 117°29.67′ W. long.

(l) The 250 fm (457 m) depth contour used between the U.S. border with Canada and 38° N. lat. is defined by straight lines connecting all of the following points in the order stated:

(1) 48°14.68′ N. lat., 125°42.10′ W. long.;

(2) 48°13.00′ N. lat., 125°39.00′ W. long.;

(3) 48°12.73′ N. lat., 125°38.87′ W. long.;

(4) 48°12.43′ N. lat., 125°39.12′ W. long.;

(5) 48°11.83′ N. lat., 125°40.01′ W. long.;

(6) 48°11.78′ N. lat., 125°41.70′ W. long.;

(7) 48°10.62′ N. lat., 125°43.41′ W. long.;

(8) 48°09.23′ N. lat., 125°42.80′ W. long.;

(9) 48°08.79′ N. lat., 125°43.79′ W. long.;

(10) 48°08.50′ N. lat., 125°45.00′ W. long.;

(11) 48°07.43′ N. lat., 125°46.36′ W. long.;

(12) 48°06.00′ N. lat., 125°46.50′ W. long.;

(13) 48°05.38′ N. lat., 125°42.82′ W. long.;

(14) 48°04.19′ N. lat., 125°40.40′ W. long.;

(15) 48°03.50′ N. lat., 125°37.00′ W. long.;

(16) 48°01.50′ N. lat., 125°40.00′ W. long.;

(17) 47°57.00′ N. lat., 125°37.00′ W. long.;

(18) 47°55.21′ N. lat., 125°37.22′ W. long.;

(19) 47°54.02′ N. lat., 125°36.57′ W. long.;

(20) 47°53.67′ N. lat., 125°35.06′ W. long.;

(21) 47°54.14′ N. lat., 125°32.35′ W. long.;

(22) 47°55.50′ N. lat., 125°28.56′ W. long.;

(23) 47°57.03′ N. lat., 125°26.52′ W. long.;

(24) 47°57.98′ N. lat., 125°25.08′ W. long.;

(25) 48°00.54′ N. lat., 125°24.38′ W. long.;

(26) 48°01.45′ N. lat., 125°23.70′ W. long.;

(27) 48°01.97′ N. lat., 125°22.34′ W. long.;

(28) 48°03.68′ N. lat., 125°21.20′ W. long.;

(29) 48°01.96′ N. lat., 125°19.56′ W. long.;

(30) 48°00.98′ N. lat., 125°20.43′ W. long.;

(31) 48°00.00′ N. lat., 125°20.68′ W. long.;

(32) 47°58.00′ N. lat., 125°19.50′ W. long.;

(33) 47°57.65′ N. lat., 125°19.18′ W. long.;

(34) 47°58.00′ N. lat., 125°18.00′ W. long.;

(35) 47°56.59′ N. lat., 125°18.15′ W. long.;

(36) 47°51.30′ N. lat., 125°18.32′ W. long.;

(37) 47°49.88′ N. lat., 125°14.49′ W. long.;

(38) 47°49.00′ N. lat., 125°11.00′ W. long.;

(39) 47°47.99′ N. lat., 125°07.31′ W. long.;

(40) 47°46.47′ N. lat., 125°08.63′ W. long.;

(41) 47°46.00′ N. lat., 125°06.00′ W. long.;

(42) 47°44.50′ N. lat., 125°07.50′ W. long.;

(43) 47°43.39′ N. lat., 125°06.57′ W. long.;

(44) 47°42.37′ N. lat., 125°05.74′ W. long.;

(45) 47°40.61′ N. lat., 125°06.48′ W. long.;

(46) 47°37.43′ N. lat., 125°07.33′ W. long.;

(47) 47°33.68′ N. lat., 125°04.80′ W. long.;

(48) 47°30.00′ N. lat., 125°00.00′ W. long.;

(49) 47°28.00′ N. lat., 124°58.50′ W. long.;

(50) 47°28.88′ N. lat., 124°54.71′ W. long.;

(51) 47°27.70′ N. lat., 124°51.87′ W. long.;

(52) 47°24.84′ N. lat., 124°48.45′ W. long.;

(53) 47°21.76′ N. lat., 124°47.42′ W. long.;

(54) 47°18.84′ N. lat., 124°46.75′ W. long.;

(55) 47°19.82′ N. lat., 124°51.43′ W. long.;

(56) 47°18.13′ N. lat., 124°54.25′ W. long.;

(57) 47°13.50′ N. lat., 124°54.69′ W. long.;

(58) 47°15.00′ N. lat., 125°00.00′ W. long.;

(59) 47°08.00′ N. lat., 124°59.83′ W. long.;

(60) 47°05.79′ N. lat., 125°01.00′ W. long.;

(61) 47°03.34′ N. lat., 124°57.49′ W. long.;

(62) 47°01.00′ N. lat., 125°00.00′ W. long.;

(63) 46°55.00′ N. lat., 125°02.00′ W. long.;

(64) 46°51.00′ N. lat., 124°57.00′ W. long.;

(65) 46°47.00′ N. lat., 124°55.00′ W. long.;

(66) 46°34.00′ N. lat., 124°38.00′ W. long.;

(67) 46°30.50′ N. lat., 124°41.00′ W. long.;

(68) 46°33.00′ N. lat., 124°32.00′ W. long.;

(69) 46°29.00′ N. lat., 124°32.00′ W. long.;

(70) 46°20.00′ N. lat., 124°39.00′ W. long.;

(71) 46°18.16′ N. lat., 124°40.00′ W. long.;

(72) 46°16.00′ N. lat., 124°27.01′ W. long.;

(73) 46°15.00′ N. lat., 124°30.96′ W. long.;

(74) 46°13.17′ N. lat., 124°37.87′ W. long.;

(75) 46°13.17′ N. lat., 124°38.75′ W. long.;

(76) 46°10.50′ N. lat., 124°42.00′ W. long.;

(77) 46°06.21′ N. lat., 124°41.85′ W. long.;

(78) 46°03.02′ N. lat., 124°50.27′ W. long.;

(79) 45°57.00′ N. lat., 124°45.52′ W. long.;

(80) 45°46.85′ N. lat., 124°45.91′ W. long.;

(81) 45°45.81′ N. lat., 124°47.05′ W. long.;

(82) 45°44.87′ N. lat., 124°45.98′ W. long.;

(83) 45°43.44′ N. lat., 124°46.03′ W. long.;

(84) 45°35.82′ N. lat., 124°45.72′ W. long.;

(85) 45°35.70′ N. lat., 124°42.89′ W. long.;

(86) 45°24.45′ N. lat., 124°38.21′ W. long.;

(87) 45°11.68′ N. lat., 124°39.38′ W. long.;

(88) 44°57.94′ N. lat., 124°37.02′ W. long.;

(89) 44°44.28′ N. lat., 124°50.79′ W. long.;

(90) 44°32.63′ N. lat., 124°54.21′ W. long.;

(91) 44°23.20′ N. lat., 124°49.87′ W. long.;

(92) 44°13.17′ N. lat., 124°58.81′ W. long.;

(93) 43°57.92′ N. lat., 124°58.29′ W. long.;

(94) 43°50.12′ N. lat., 124°53.36′ W. long.;

(95) 43°49.53′ N. lat., 124°43.96′ W. long.;

(96) 43°42.76′ N. lat., 124°41.40′ W. long.;

(97) 43°24.00′ N. lat., 124°42.61′ W. long.;

(98) 43°19.74′ N. lat., 124°45.12′ W. long.;

(99) 43°19.62′ N. lat., 124°52.95′ W. long.;

(100) 43°17.41′ N. lat., 124°53.02′ W. long.;

(101) 42°49.15′ N. lat., 124°54.93′ W. long.;

(102) 42°46.74′ N. lat., 124°53.39′ W. long.;

(103) 42°43.76′ N. lat., 124°51.64′ W. long.;

(104) 42°45.41′ N. lat., 124°49.35′ W. long.;

(105) 42°43.92′ N. lat., 124°45.92′ W. long.;

(106) 42°38.87′ N. lat., 124°43.38′ W. long.;

(107) 42°34.78′ N. lat., 124°46.56′ W. long.;

(108) 42°31.47′ N. lat., 124°46.89′ W. long.;

(109) 42°31.00′ N. lat., 124°44.28′ W. long.;

(110) 42°29.22′ N. lat., 124°46.93′ W. long.;

(111) 42°28.39′ N. lat., 124°49.94′ W. long.;

(112) 42°26.28′ N. lat., 124°47.60′ W. long.;

(113) 42°19.58′ N. lat., 124°43.21′ W. long.;

(114) 42°13.75′ N. lat., 124°40.06′ W. long.;

(115) 42°05.12′ N. lat., 124°39.06′ W. long.;

(116) 42°00.00′ N. lat., 124°37.76′ W. long.;

(117) 41°47.93′ N. lat., 124°31.79′ W. long.;

(118) 41°21.35′ N. lat., 124°30.35′ W. long.;

(119) 41°07.11′ N. lat., 124°25.25′ W. long.;

(120) 40°57.37′ N. lat., 124°30.25′ W. long.;

(121) 40°48.77′ N. lat., 124°30.69′ W. long.;

(122) 40°41.03′ N. lat., 124°33.21′ W. long.;

(123) 40°37.40′ N. lat., 124°38.96′ W. long.;

(124) 40°33.70′ N. lat., 124°42.50′ W. long.;

(125) 40°31.31′ N. lat., 124°41.59′ W. long.;

(126) 40°30.00′ N. lat., 124°40.50′ W. long.;

(127) 40°25.00′ N. lat., 124°36.65′ W. long.;

(128) 40°22.42′ N. lat., 124°32.19′ W. long.;

(129) 40°17.17′ N. lat., 124°32.21′ W. long.;

(130) 40°18.68′ N. lat., 124°50.44′ W. long.;

(131) 40°13.55′ N. lat.,124°34.26′ W. long.;

(132) 40°10.00′ N. lat., 124°28.25′ W. long.;

(133) 40°06.72′ N. lat.,124°21.40′ W. long.;

(134) 40°01.63′ N. lat.,124°17.25′ W. long.;

(135) 40°00.68′ N. lat.,124°11.19′ W. long.;

(136) 39°59.09′ N. lat., 124°14.92′ W. long.;

(137) 39°51.85′ N. lat.,124°10.33′ W. long.;

(138) 39°36.90′ N. lat.,124°00.63′ W. long.;

(139) 39°32.41′ N. lat.,124°00.01′ W. long.;

(140) 39°05.40′ N. lat.,124°00.52′ W. long.;

(141) 39°04.32′ N. lat.,123°59.00′ W. long.;

(142) 38°58.02′ N. lat.,123°58.18′ W. long.;

(143) 38°57.50′ N. lat., 124°01.90′ W. long.;

(144) 38°50.27′ N. lat.,123°56.26′ W. long.;

(145) 38°46.73′ N. lat.,123°51.93′ W. long.;

(146) 38°44.64′ N. lat.,123°51.77′ W. long.;

(147) 38°32.97′ N. lat.,123°41.84′ W. long.;

(148) 38°14.56′ N. lat.,123°32.18′ W. long.;

(149) 38°13.85′ N. lat.,123°29.94′ W. long.;

(150) 38°11.88′ N. lat.,123°30.57′ W. long.;

(151) 38°08.72′ N. lat.,123°29.56′ W. long.;

(152) 38°05.62′ N. lat.,123°32.38′ W. long.;

(153) 38°01.90′ N. lat.,123°32.00′ W. long.; and

(154) 38°00.00′ N. lat., 123°30.00′ W. long.

(m) The 250 fm (457 m) depth contour used between the U.S. border with Canada and 38° N. lat., modified to allow fishing in petrale sole areas, is defined by straight lines connecting all of the following points in the order stated:

(1) 48°14.71′ N. lat., 125°41.95′ W. long.;

(2) 48°13.00′ N. lat., 125°39.00′ W. long.;

(3) 48°08.50′ N. lat., 125°45.00′ W. long.;

(4) 48°06.00′ N. lat., 125°46.50′ W. long.;

(5) 48°03.50′ N. lat., 125°37.00′ W. long.;

(6) 48°01.50′ N. lat., 125°40.00′ W. long.;

(7) 47°57.00′ N. lat., 125°37.00′ W. long.;

(8) 47°55.50′ N. lat., 125°28.50′ W. long.;

(9) 47°58.00′ N. lat., 125°25.00′ W. long.;

(10) 48°00.50′ N. lat., 125°24.50′ W. long.;

(11) 48°03.50′ N. lat., 125°21.00′ W. long.;

(12) 48°02.00′ N. lat., 125°19.50′ W. long.;

(13) 48°00.00′ N. lat., 125°21.00′ W. long.;

(14) 47°58.00′ N. lat., 125°20.00′ W. long.;

(15) 47°58.00′ N. lat., 125°18.00′ W. long.;

(16) 47°52.00′ N. lat., 125°16.50′ W. long.;

(17) 47°49.00′ N. lat., 125°11.00′ W. long.;

(18) 47°46.00′ N. lat., 125°06.00′ W. long.;

(19) 47°44.50′ N. lat., 125°07.50′ W. long.;

(20) 47°42.00′ N. lat., 125°06.00′ W. long.;

(21) 47°38.00′ N. lat., 125°07.00′ W. long.;

(22) 47°30.00′ N. lat., 125°00.00′ W. long.;

(23) 47°28.00′ N. lat., 124°58.50′ W. long.;

(24) 47°28.88′ N. lat., 124°54.71′ W. long.;

(25) 47°27.70′ N. lat., 124°51.87′ W. long.;

(26) 47°24.84′ N. lat., 124°48.45′ W. long.;

(27) 47°21.76′ N. lat., 124°47.42′ W. long.;

(28) 47°18.84′ N. lat., 124°46.75′ W. long.;

(29) 47°19.82′ N. lat., 124°51.43′ W. long.;

(30) 47°18.13′ N. lat., 124°54.25′ W. long.;

(31) 47°13.50′ N. lat., 124°54.69′ W. long.;

(32) 47°15.00′ N. lat., 125°00.00′ W. long.;

(33) 47°08.00′ N. lat., 124°59.82′ W. long.;

(34) 47°05.79′ N. lat., 125°01.00′ W. long.;

(35) 47°03.34′ N. lat., 124°57.49′ W. long.;

(36) 47°01.00′ N. lat., 125°00.00′ W. long.;

(37) 46°55.00′ N. lat., 125°02.00′ W. long.;

(38) 46°51.00′ N. lat., 124°57.00′ W. long.;

(39) 46°47.00′ N. lat., 124°55.00′ W. long.;

(40) 46°34.00′ N. lat., 124°38.00′ W. long.;

(41) 46°30.50′ N. lat., 124°41.00′ W. long.;

(42) 46°33.00′ N. lat., 124°32.00′ W. long.;

(43) 46°29.00′ N. lat., 124°32.00′ W. long.;

(44) 46°20.00′ N. lat., 124°39.00′ W. long.;

(45) 46°18.16′ N. lat., 124°40.00′ W. long.;

(46) 46°16.00′ N. lat., 124°27.01′ W. long.;

(47) 46°15.00′ N. lat., 124°30.96′ W. long.;

(48) 46°13.17′ N. lat., 124°38.76′ W. long.;

(49) 46°10.51′ N. lat., 124°41.99′ W. long.;

(50) 46°06.24′ N. lat., 124°41.81′ W. long.;

(51) 46°03.04′ N. lat., 124°50.26′ W. long.;

(52) 45°56.99′ N. lat., 124°45.45′ W. long.;

(53) 45°49.94′ N. lat., 124°45.75′ W. long.;

(54) 45°49.94′ N. lat., 124°42.33′ W. long.;

(55) 45°45.73′ N. lat., 124°42.18′ W. long.;

(56) 45°45.73′ N. lat., 124°43.82′ W. long.;

(57) 45°41.94′ N. lat., 124°43.61′ W. long.;

(58) 45°41.58′ N. lat., 124°39.86′ W. long.;

(59) 45°38.45′ N. lat., 124°39.94′ W. long.;

(60) 45°35.75′ N. lat., 124°42.91′ W. long.;

(61) 45°24.49′ N. lat., 124°38.20′ W. long.;

(62) 45°14.43′ N. lat., 124°39.05′ W. long.;

(63) 45°14.30′ N. lat., 124°34.19′ W. long.;

(64) 45°08.98′ N. lat., 124°34.26′ W. long.;

(65) 45°09.02′ N. lat., 124°38.81′ W. long.;

(66) 44°57.98′ N. lat., 124°36.98′ W. long.;

(67) 44°56.62′ N. lat., 124°38.32′ W. long.;

(68) 44°50.82′ N. lat., 124°35.52′ W. long.;

(69) 44°46.89′ N. lat., 124°38.32′ W. long.;

(70) 44°50.78′ N. lat., 124°44.24′ W. long.;

(71) 44°44.27′ N. lat., 124°50.78′ W. long.;

(72) 44°32.63′ N. lat., 124°54.24′ W. long.;

(73) 44°23.25′ N. lat., 124°49.78′ W. long.;

(74) 44°13.16′ N. lat., 124°58.81′ W. long.;

(75) 43°57.88′ N. lat., 124°58.25′ W. long.;

(76) 43°56.89′ N. lat., 124°57.33′ W. long.;

(77) 43°53.41′ N. lat., 124°51.95′ W. long.;

(78) 43°51.56′ N. lat., 124°47.38′ W. long.;

(79) 43°51.49′ N. lat., 124°37.77′ W. long.;

(80) 43°48.02′ N. lat., 124°43.31′ W. long.;

(81) 43°42.77′ N. lat., 124°41.39′ W. long.;

(82) 43°24.09′ N. lat., 124°42.57′ W. long.;

(83) 43°19.73′ N. lat., 124°45.09′ W. long.;

(84) 43°15.98′ N. lat., 124°47.76′ W. long.;

(85) 43°04.14′ N. lat., 124°52.55′ W. long.;

(86) 43°04.00′ N. lat., 124°53.88′ W. long.;

(87) 42°54.69′ N. lat., 124°54.54′ W. long.;

(88) 42°45.46′ N. lat., 124°49.37′ W. long.;

(89) 42°43.91′ N. lat., 124°45.90′ W. long.;

(90) 42°38.84′ N. lat., 124°43.36′ W. long.;

(91) 42°34.82′ N. lat., 124°46.56′ W. long.;

(92) 42°31.57′ N. lat., 124°46.86′ W. long.;

(93) 42°30.98′ N. lat., 124°44.27′ W. long.;

(94) 42°29.21′ N. lat., 124°46.93′ W. long.;

(95) 42°28.52′ N. lat., 124°49.40′ W. long.;

(96) 42°26.06′ N. lat., 124°46.61′ W. long.;

(97) 42°21.82′ N. lat., 124°43.76′ W. long.;

(98) 42°17.47′ N. lat., 124°38.89′ W. long.;

(99) 42°13.67′ N. lat., 124°37.51′ W. long.;

(100) 42°13.76′ N. lat., 124°40.03′ W. long.;

(101) 42°05.12′ N. lat., 124°39.06′ W. long.;

(102) 42°02.67′ N. lat., 124°38.41′ W. long.;

(103) 42°02.67′ N. lat., 124°35.95′ W. long.;

(104) 42°00.00′ N. lat., 124°35.88′ W. long.;

(105) 41°59.99′ N. lat., 124°35.92′ W. long.;

(106) 41°56.38′ N. lat., 124°34.96′ W. long.;

(107) 41°53.98′ N. lat., 124°32.50′ W. long.;

(108) 41°50.69′ N. lat., 124°30.46′ W. long.;

(109) 41°47.79′ N. lat., 124°29.52′ W. long.;

(110) 41°21.00′ N. lat., 124°29.00′ W. long.;

(111) 41°11.00′ N. lat., 124°23.00′ W. long.;

(112) 41°05.00′ N. lat., 124°23.00′ W. long.;

(113) 40°54.00′ N. lat., 124°26.00′ W. long.;

(114) 40°50.00′ N. lat., 124°26.00′ W. long.;

(115) 40°44.51′ N. lat., 124°30.83′ W. long.;

(116) 40°40.61′ N. lat., 124°32.06′ W. long.;

(117) 40°37.36′ N. lat., 124°29.41′ W. long.;

(118) 40°35.64′ N. lat., 124°30.47′ W. long.;

(119) 40°37.43′ N. lat., 124°37.10′ W. long.;

(120) 40°36.00′ N. lat., 124°40.00′ W. long.;

(121) 40°31.59′ N. lat., 124°40.72′ W. long.;

(122) 40°24.64′ N. lat., 124°35.62′ W. long.;

(123) 40°23.00′ N. lat., 124°32.00′ W. long.;

(124) 40°23.39′ N. lat., 124°28.70′ W. long.;

(125) 40°22.28′ N. lat., 124°25.25′ W. long.;

(126) 40°21.90′ N. lat., 124°25.17′ W. long.;

(127) 40°22.00′ N. lat., 124°28.00′ W. long.;

(128) 40°21.35′ N. lat., 124°29.53′ W. long.;

(129) 40°19.75′ N. lat., 124°28.98′ W. long.;

(130) 40°18.15′ N. lat., 124°27.01′ W. long.;

(131) 40°17.45′ N. lat., 124°25.49′ W. long.;

(132) 40°18.00′ N. lat., 124°24.00′ W. long.;

(133) 40°16.00′ N. lat., 124°26.00′ W. long.;

(134) 40°17.00′ N. lat., 124°35.00′ W. long.;

(135) 40°16.00′ N. lat., 124°36.00′ W. long.;

(136) 40°10.00′ N. lat., 124°22.75′ W. long.;

(137) 40°03.00′ N. lat., 124°14.75′ W. long.;

(138) 39°49.25′ N. lat., 124°06.00′ W. long.;

(139) 39°34.75′ N. lat., 123°58.50′ W. long.;

(140) 39°03.07′ N. lat., 123°57.81′ W. long.;

(141) 38°52.25′ N. lat., 123°56.25′ W. long.;

(142) 38°41.42′ N. lat., 123°46.75′ W. long.;

(143) 38°39.47′ N. lat., 123°46.59′ W. long.;

(144) 38°35.25′ N. lat., 123°42.00′ W. long.;

(145) 38°19.97′ N. lat., 123°32.95′ W. long.;

(146) 38°15.00′ N. lat., 123°26.50′ W. long.;

(147) 38°08.09′ N. lat., 123°23.39′ W. long.;

(148) 38°10.08′ N. lat., 123°26.82′ W. long.;

(149) 38°04.08′ N. lat., 123°32.12′ W. long.; and

(150) 38°00.00′ N. lat., 123°29.85′ W. long.

24. In part 660, subpart G, Tables 1-5 are added to read as follows:

BILLING CODE 3510-22-S

25. In part 660, subpart G, Figure 1, “Diagram of SElective Flatfish Trawl” is added to read as follows:

[FR Doc. 04-20888 Filed 9-20-04; 8:45 am]

BILLING CODE 3510-22-C